DEPARTMENT OF HOUSING AND URBAN DEVELOPMENT

[Docket Nos. FR-4723-FA-24, FR-4800-FA-13, and FR-4900-FA-29]

Announcement of Funding Awards for the Continuum of Care Program; Fiscal Years 2002, 2003, and 2004

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Continuum of Care (CoC) program. This announcement contains the names of the awardees and the amounts of the awards made available by HUD.

FOR FURTHER INFORMATION CONTACT: Robyn Raysor, Deputy Director, Office of Special Needs Assistance Programs, Office of Community Planning and Development, 451 Seventh Street, SW., Room 7262, Washington, DC 20410-7000; telephone (202) 708-4300 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The purpose of the Continuum of Care (CoC) Homeless Assistance Programs is to fund projects that will fill gaps in locally developed Continuum of Care systems to assist homeless persons to move to self-sufficiency and permanent housing. An important element of meeting this objective is to fund projects that will meet the Department's goal of ending chronic homelessness. The Continuum of Care Homeless Assistance Programs are the Supportive Housing Program (SHP), Shelter Plus Care (S+C), and section 8 Moderate Rehabilitation Single Room Occupancy Program for Homeless Individuals (SRO).

The Fiscal Year 2002 competition was announced in the SuperNOFA published March 26, 2002 (67 FR 14361) and appropriated approximately $950,000,000 for CoC grants. The Fiscal Year 2003 competition was announced in the SuperNOFA published April 25, 2003 (68 FR 21579) and appropriated approximately $1,060,000,000 for CoC grants. The Fiscal Year 2004 competition was announced in the SuperNOFA published May 14, 2004 (69 FR 27495) and appropriated approximately $1,000,000,000 for CoC grants. Applications were rated and selected for funding on the basis of selection criteria contained in that Notice.

Any unobligated funds from previous competitions or additional funds that may become available as a result of deobligations or recaptures from previous awards or budget transfers may be used in addition to the respective Fiscal Year's appropriations.

$979,771,512 was awarded to 3051 recipients in the Fiscal Year 2002 competition. $1,116,599,114 was awarded to 3790 recipients in the Fiscal Year 2003 competition. $1,243,178,671 was awarded to 4406 recipients in the Fiscal Year 2004 competition.

In accordance with section 102(a)(4)(C) of the Department of Housing and Urban Development Reform Act of 1989 (103 Stat. 1987, 42 U.S.C. 3545), the Department is publishing the grantees and amounts of the awards in Appendix A to this document.

Dated: December 20, 2007.
William H. Eargle, Jr.,
Deputy Assistant Secretary for Operations, Office of Community Planning and Development.

Fiscal Year 2002 Funding Awards for the Continuum of Care Program
Grantee name | Location | Grant amount
Rural Alaska Community Action Program Incorporated | Anchorage, AK | $357,474
State of Alaska | Anchorage, AK | $22,560
State of Alaska | Anchorage, AK | $119,268
Municipality of Anchorage | Anchorage, AK | $296,714
Rural Alaska Community Action Program Incorporated | Anchorage, AK | $141,168
Anchorage Community Mental Health Services, Incorporated | Anchorage, AK | $215,854
Mat-Su Community Mental Health Services, Incorporated, d/b/a | Wasilla, AK | $102,500
Mat-Su Community Mental Health Services, Incorporated, d/b/a | Wasilla, AK | $46,464
Saint Vincent de Paul Society | Juneau, AK | $48,450
Women's Resource and Crisis Center | Kenai, AK | $147,582
Alaska State Housing Finance Corp. | Anchorage, AK | $348,480
Covenant House Alaska | Anchorage, AK | $245,629
Anchorage Housing Initiatives | Anchorage, AK | $81,886
Alaskan AIDS Assistance Association | Anchorage, AK | $112,875
Lighthouse Counseling Center, Incorporated | Montgomery, AL | $584,378
City of Huntsville, Alabama | Huntsville, AL | $252,756
YWCA of Birmingham | Birmingham, AL | $64,688
Jefferson County Housing Authority | Birmingham, AL | $701,736
Jefferson County Housing Authority | Birmingham, AL | $160,680
Montgomery Area Mental Health Authority, Incorporated | Montgomery, AL | $359,712
Homeless Coalition of the Gulf Coast, Incorporated | Mobile, AL | $189,863
The Community Kitchens of Birmingham, Incorporated | Birmingham, AL | $99,133
AIDS Alabama, Incorporated | Birmingham, AL | $186,874
Birmingham Health Care for the Homeless Coalition, Inc. | Birmingham, AL | $271,689
Homeless Coalition of the Gulf Coast, Incorporated | Mobile, AL | $398,492
Homeless Coalition of the Gulf Coast, Incorporated | Mobile, AL | $166,514
Bread and Roses Hospitality, Incorporated | Birmingham, AL | $128,182
The Cooperative Downtown Ministries | Birmingham, AL | $379,279
Jefferson County Housing Authority | Birmingham, AL | $136,080
Homeless Coalition of the Gulf Coast, Incorporated | Mobile, AL | $143,430
Birmingham Health Care for the Homeless Coalition, Inc. | Birmingham, AL | $189,126
Aletheia House | Birmingham, AL | $108,858
Chessie Harris Foundation, Incorporated | Huntsville, AL | $21,000
Homeless Coalition of the Gulf Coast, Incorporated | Mobile, AL | $101,830
Safeplace, Incorporated | Florence, AL | $520,531
Homeless Coalition of the Gulf Coast, Incorporated | Mobile, AL | $75,786
Mid-Alabama Chapter of the Alabama Coalition | Birmingham, AL | $27,562
Homeless Coalition of the Gulf Coast, Incorporated | Mobile, AL | $499,800
AIDS Alabama, Incorporated | Birmingham, AL | $149,301
New Futures, Incorporated | Huntsville, AL | $232,344
Interfaith Hospitality House | Birmingham, AL | $320,477
Homeless Coalition of the Gulf Coast, Incorporated | Mobile, AL | $161,316
YWCA of Birmingham | Birmingham, AL | $303,477
AIDS Alabama, Incorporated | Birmingham, AL | $258,591
Jefferson County Housing Authority | Birmingham, AL | $287,400
Interfaith Mission Service, Incorporated | Huntsville, AL | $105,976
Homeless Coalition of the Gulf Coast, Incorporated | Mobile, AL | $189,512
Birmingham Health Care for the Homeless Coalition, Inc. | Birmingham, AL | $504,240
Aletheia House | Birmingham, AL | $314,705
Jefferson County Housing Authority | Birmingham, AL | $1,039,896
The King's Ranch and Hannah Homes | Chelsea, AL | $56,666
The Salvation Army A Georgia Corporation | Birmingham, AL | $160,991
Montgomery Area Mental Health Authority | Montgomery, AL | $627,127
Counseling Associates, Inc. | Conway, AR | $200,000
Department of Human Services | Little Rock, AR | $432,492
Little Rock Community Mental Health Center, Inc. | Little Rock, AR | $142,436
Little Rock Community Mental Health Center, Inc. | Little Rock, AR | $114,378
North Arkansas Human Services System, Inc. | Batesville, AR | $490,954
AIDS Outreach of Arkansas, Inc. | North Little Rock, AR | $273,108
Woman and Children First | Little Rock, AR | $271,170
Department of Human Services | Little Rock, AR | $492,600
Women Living Free | Phoenix, AZ | $269,958
Governor's Office of Housing Development | Phoenix, AZ | $1,657,056
Save the Family Foundation of Arizona | Mesa, AZ | $211,412
Governor's Office of Housing Development | Phoenix, AZ | $786,384
Mesa Community Action Network, Inc. | Mesa, AZ | $56,075
Pima County | South Tucson, AZ | $438,640
Governor's Office of Housing Development | Phoenix, AZ | $506,560
City of Phoenix | Phoenix, AZ | $437,698
City of Phoenix | Phoenix, AZ | $163,178
Save the Family Foundation of Arizona | Mesa, AZ | $411,726
City of Phoenix | Phoenix, AZ | $151,200
City of Phoenix | Phoenix, AZ | $77,553
United States Veterans Initiative, Incorporated | Inglewood, AZ | $496,557
The Excel Group | Yuma, AZ | $167,496
Pima County | South Tucson, AZ | $454,348
Women In New Recovery (WINR) | Mesa, AZ | $46,862
City of Phoenix | Phoenix, AZ | $69,199
City of Phoenix | Phoenix, AZ | $91,043
Governor's Office of Housing Development | Phoenix, AZ | $128,625
Southwest Behavioral Health Services, Inc. | Phoenix, AZ | $205,977
Governor's Office of Housing Development | Phoenix, AZ | $64,999
Governor's Office of Housing Development | Phoenix, AZ | $96,495
Governor's Office of Housing Development | Phoenix, AZ | $160,569
Governor's Office of Housing Development | Phoenix, AZ | $78,176
Governor's Office of Housing Development | Phoenix, AZ | $91,050
Old Pueblo Community Foundation | Tucson, AZ | $436,044
Arizona Behavioral Health Corporation | Phoenix, AZ | $499,972
Governor's Office of Housing Development | Phoenix, AZ | $350,368
Governor's Office of Housing Development | Phoenix, AZ | $76,685
Information and Referral Services, Incorporated | Tucson, AZ | $276,179
Governor's Office of Housing Development | Phoenix, AZ | $98,771
City of Tucson | Tucson, AZ | $180,289
Chicanos Por La Causa, Incorporated | Phoenix, AZ | $203,473
Governor's Office of Housing Development | Phoenix, AZ | $77,700
City of Phoenix | Phoenix, AZ | $114,261
The Excel Group | Yuma, AZ | $133,488
City of Phoenix | Phoenix, AZ | $60,735
City of Phoenix | Phoenix, AZ | $318,730
City of Phoenix | Phoenix, AZ | $333,371
Governor's Office of Housing Development | Phoenix, AZ | $59,304
Governor's Office of Housing Development | Phoenix, AZ | $108,701
City of Phoenix | Phoenix, AZ | $199,500
Governor's Office of Housing Development | Phoenix, AZ | $711,912
Arizona Behavioral Health Corporation | Phoenix, AZ | $1,114,796
City of Phoenix | Phoenix, AZ | $971,973
City of Tucson | Tucson, AZ | $1,302,885
City of Phoenix | Phoenix, AZ | $176,753
CODAC Behavioral Health Services, Inc. | Tucson, AZ | $499,530
Arizona Behavioral Health Corporation | Phoenix, AZ | $903,424
Governor's Office of Housing Development | Phoenix, AZ | $81,385
City of Phoenix | Phoenix, AZ | $52,500
Many Mansions | Thousands Oaks, CA | $185,341
San Francisco Department of Human Services | San Francisco, CA | $417,082
Many Mansions | Thousands Oaks, CA | $313,113
Orange County Housing Authority | Santa Ana, CA | $1,961,460
San Francisco Department of Human Services | San Francisco, CA | $567,521
San Francisco Department of Human Services | San Francisco, CA | $118,575
County of Ventura Human Services Agency | San Buenaventura, CA | $147,253
County of Orange/Housing and Community Development | Santa Ana, CA | $1,128,600
Lompoc Housing Assistance Corporation | Lompoc, CA | $405,000
Women's Center-High Desert, Incorporation | Ridgecrest, CA | $339,397
San Francisco Department of Human Services | San Francisco, CA | $1,303,278
San Francisco Department of Human Services | San Francisco, CA | $323,273
Alliance Against Family Violence and Sexual Assault | Bakersfield, CA | $241,942
San Francisco Department of Human Services | San Francisco, CA | $344,576
San Francisco Department of Human Services | San Francisco, CA | $398,225
San Francisco Department of Human Services | San Francisco, CA | $146,082
Housing Authority of the City of Santa Barbara | Santa Barbara, CA | $560,280
Domestic Violence Solutions for Santa Barbara County | Santa Barbara, CA | $250,000
San Francisco Department of Human Services | San Francisco, CA | $287,685
County of San Joaquin | Stockton, CA | $618,472
Orange County Housing Authority | Santa Ana, CA | $553,068
San Francisco Department of Human Services | San Francisco, CA | $301,027
San Francisco Department of Human Services | San Francisco, CA | $477,958
Clinica Sierra Vista Incorporation | Bakersfield, CA | $231,435
Greater Bakersfield Legal Assistance, Incorporation | Bakersfield, CA | $360,240
Restoration Community Project, Incorporation | Bakersfield, CA | $600,000
San Francisco Department of Human Services | San Francisco, CA | $395,319
San Francisco Department of Human Services | San Francisco, CA | $407,729
San Francisco Department of Human Services | San Francisco, CA | $214,360
San Francisco Department of Human Services | San Francisco, CA | $198,917
San Francisco Department of Human Services | San Francisco, CA | $309,346
Transition House | Santa Barbara, CA | $185,290
Housing Authority of the County of Contra Costa | Martinez, CA | $1,155,900
Housing Authority of the County of Santa Clara | San Jose, CA | $46,000
Phoenix Programs Inc. | Concord, CA | $509,906
Emergency Housing Consortium, Inc. | San Jose, CA | $92,011
Housing For Independent People, Inc. | San Jose, CA | $24,816
Emergency Housing Consortium, Inc. | San Jose, CA | $162,872
Second Start Learning Disabilities, Inc. | San Jose, CA | $96,790
Clara-Mateo Alliance, Inc. | Menlo Park, CA | $211,613
Concern for the Poor | San Jose, CA | $197,077
Berkeley Emergency Food and Housing Project | Berkeley, CA | $242,217
Emergency Housing Consortium, Inc. | San Jose, CA | $56,275
The Unity Care Group | San Jose, CA | $375,000
Clara-Mateo Alliance, Inc. | Menlo Park, CA | $179,794
Emergency Housing Consortium, Inc. | San Jose, CA | $415,548
Emergency Housing Consortium, Inc. | San Jose, CA | $277,439
County of Riverside Department of Public Social Services | Riverside, CA | $250,000
Housing Authority of the County of Contra Costa | Martinez, CA | $1,458,984
Contra Costa County Health Services | Martinez, CA | $298,547
Rubicon Programs, Inc. | Richmond, CA | $304,279
United Christian Centers | West Sacramento, CA | $46,527
Santa Cruz Community Counseling Ctr. | Santa Cruz, CA | $387,643
Alameda County Community Development Agency | Hayward, CA | $157,189
Pajaro Valley Shelter Services | Watsonville, CA | $40,869
SHELTER, Incorporated of Contra Costa County | Martinez, CA | $724,504
Greater Richmond Interfaith Program | Richmond, CA | $168,099
Los Angeles Homeless Services Authority | Los Angeles, CA | $1,199,627
Resources for Community Development | Alameda, CA | $75,529
Bill Wilson Marriage and Family Counseling Center | Santa Clara, CA | $298,645
Rubicon Programs, Inc. | Richmond, CA | $204,120
The City of Oakland | Oakland, CA | $259,432
Resources for Community Development | Alameda, CA | $56,424
Los Angeles Homeless Services Authority | Los Angeles, CA | $2,447,325
Alameda County Community Development Agency | Hayward, CA | $85,161
Clara-Mateo Alliance, Inc. | Menlo Park, CA | $221,399
Fred Finch Children's Home, Inc | Oakland, CA | $649,864
City of Long Beach | Long Beach, CA | $237,582
Pasadena Community Development Commission | Pasadena, CA | $952,750
Pasadena Community Development Commission | Pasadena, CA | $122,097
Pasadena Community Development Commission | Pasadena, CA | $163,700
Pasadena Community Development Commission | Pasadena, CA | $155,417
Pasadena Community Development Commission | Pasadena, CA | $248,884
Pasadena Community Development Commission | Pasadena, CA | $499,981
Foothill Family Shelter, Incorporated | Upland, CA | $68,250
City of Long Beach | Long Beach, CA | $168,684
Alameda County Community Development Agency | Hayward, CA | $244,786
City of Long Beach | Long Beach, CA | $668,169
City of Long Beach | Long Beach, CA | $161,070
Samaritan House | San Mateo, CA | $105,000
City of Long Beach | Long Beach, CA | $126,000
City of Long Beach | Long Beach, CA | $362,805
City of Long Beach | Long Beach, CA | $421,924
City of Long Beach | Long Beach, CA | $735,000
Santa Clara County | San Jose, CA | $884,664
John XXIII AIDS Ministry | Monterey, CA | $498,532
Interim, Incorporated | Monterey, CA | $414,510
Emergency Housing Consortium, Inc. | San Jose, CA | $354,018
Housing Authority of the County of Santa Clara | San Jose, CA | $432,000
Children's Services International | Salinas, CA | $497,658
Victor Valley Domestic Violence, Incorporated | Victoriville, CA | $559,166
Alameda County Community Development Agency | Hayward, CA | $79,800
Santa Clara County | San Jose, CA | $529,392
County of Riverside Department of Public Social Services | Riverside, CA | $525,000
Building Opportunities for Self-Sufficiency | Berkeley, CA | $114,997
County of Riverside Department of Public Social Services | Riverside, CA | $874,961
County of Riverside Department of Public Social Services | Riverside, CA | $48,414
San Francisco Department of Human Services | San Francisco, CA | $950,976
County of Riverside Department of Public Social Services | Riverside, CA | $87,914
YWCA of Central Orange County | Orange, CA | $296,257
Turning Point Foundation | Ventura, CA | $664,042
Santa Clara County | San Jose, CA | $585,996
Los Angeles Homeless Services Authority | Los Angeles, CA | $420,000
Los Angeles Homeless Services Authority | Los Angeles, CA | $420,000
Housing Authority of the City of Los Angeles | Los Angeles, CA | $196,812
Housing Authority of the City of Los Angeles | Los Angeles, CA | $459,840
Housing Authority of the City of Los Angeles | Los Angeles, CA | $172,440
Housing Authority of the City of Los Angeles | Los Angeles, CA | $287,400
Los Angeles Homeless Services Authority | Los Angeles, CA | $270,827
Housing Authority of the City of Los Angeles | Los Angeles, CA | $122,304
Los Angeles Homeless Services Authority | Los Angeles, CA | $378,244
Housing Authority of the City of Los Angeles | Los Angeles, CA | $103,464
Los Angeles Homeless Services Authority | Los Angeles, CA | $313,269
Los Angeles Homeless Services Authority | Los Angeles, CA | $570,675
Los Angeles Homeless Services Authority | Los Angeles, CA | $243,749
Los Angeles Homeless Services Authority | Los Angeles, CA | $286,864
Los Angeles Homeless Services Authority | Los Angeles, CA | $338,837
Los Angeles Homeless Services Authority | Los Angeles, CA | $526,802
San Diego Housing Commission | San Diego, CA | $215,268
Los Angeles Homeless Services Authority | Los Angeles, CA | $210,000
Housing Authority of the City of Los Angeles | Los Angeles, CA | $2,479,680
Berkeley Emergency Food and Housing Project | Berkeley, CA | $139,981
Catholic Charities of the Archdiocese of San Francisco | San Francisco, CA | $121,089
Shelter Network of San Mateo County | Burlingame, CA | $559,497
Walden House, Incorporated | San Francisco, CA | $258,471
Community Awareness & Treatment Services, Inc. | San Francisco, CA | $371,342
Los Angeles Homeless Services Authority | Los Angeles, CA | $557,052
Housing Authority of the County of San Mateo | Belmont, CA | $499,288
Compass Community Services | San Francisco, CA | $320,782
Los Angeles Homeless Services Authority | Los Angeles, CA | $224,900
St. Vincent de Paul Society-SF | San Francisco, CA | $144,380
Catholic Charities of the Archdiocese of San Francisco | San Francisco, CA | $157,550
Housing Authority of the City of Los Angeles | Los Angeles, CA | $2,155,500
Larkin Street Youth Services | San Francisco, CA | $55,587
Housing Authority of the City of Los Angeles | Los Angeles, CA | $2,824,080
Jobs for Homeless Consortium | Oakland, CA | $648,344
Housing Authority of the City of Los Angeles | Los Angeles, CA | $382,800
Swords to Plowshares | San Francisco, CA | $282,594
Los Angeles Homeless Services Authority | Los Angeles, CA | $565,337
Los Angeles Homeless Services Authority | Los Angeles, CA | $500,000
County of Napa | Napa, CA | $123,439
Los Angeles Homeless Services Authority | Los Angeles, CA | $1,363,944
Asian Pacific Women's Center, Incorporation (APWC) | Los Angeles, CA | $149,380
Los Angeles Homeless Services Authority | Los Angeles, CA | $724,500
Los Angeles Homeless Services Authority | Los Angeles, CA | $248,824
Los Angeles Homeless Services Authority | Los Angeles, CA | $354,631
Buckelew Programs | San Rafael, CA | $149,385
Housing Authority of the City of Napa | Napa, CA | $15,000
The City of Oakland | Oakland, CA | $245,146
Department of Public Health | Alameda, CA | $73,877
The City of Oakland | Oakland, CA | $1,825,154
Los Angeles Homeless Services Authority | Los Angeles, CA | $350,397
Los Angeles Homeless Services Authority | Los Angeles, CA | $61,041
Los Angeles Homeless Services Authority | Los Angeles, CA | $244,335
County of San Joaquin | Stockton, CA | $544,008
County of San Joaquin | Stockton, CA | $1,063,933
Los Angeles Homeless Services Authority | Los Angeles, CA | $365,908
Los Angeles Homeless Services Authority | Los Angeles, CA | $299,692
FaithWORKS Community Coalition Incorporated | Redding, CA | $424,624
Los Angeles Homeless Services Authority | Los Angeles, CA | $721,001
Los Angeles Homeless Services Authority | Los Angeles, CA | $195,353
Los Angeles Homeless Services Authority | Los Angeles, CA | $400,709
Los Angeles Homeless Services Authority | Los Angeles, CA | $394,825
Los Angeles Homeless Services Authority | Los Angeles, CA | $421,397
Los Angeles Homeless Services Authority | Los Angeles, CA | $400,000
Los Angeles Homeless Services Authority | Los Angeles, CA | $1,039,766
Los Angeles Homeless Services Authority | Los Angeles, CA | $133,371
Sonoma County Community Development Commission | Santa Rosa, CA | $101,040
County of Napa-Health and Human Service Agency | Napa, CA | $19,950
Los Angeles Homeless Services Authority | Los Angeles, CA | $355,525
County of San Joaquin | Stockton, CA | $1,166,360
Jobs for Homeless Consortium | Oakland, CA | $1,016,786
Resources for Community Development | Alameda, CA | $70,188
Los Angeles Homeless Services Authority | Los Angeles, CA | $354,325
Saint Vincent de Paul Village, Incorporation | San Diego, CA | $402,182
Shelter Network of San Mateo County | Burlingame, CA | $200,000
Supportive Housing for Senior Adults | Anaheim, CA | $836,700
Shelter, Hunger and Health Partnership of Orange Country | Tustin, CA | $941,000
San Francisco Department of Human Services | San Francisco, CA | $960,120
San Diego Housing Commission | San Diego, CA | $156,384
San Diego Housing Commission | San Diego, CA | $141,804
San Francisco Department of Human Services | San Francisco, CA | $577,500
San Diego Housing Commission | San Diego, CA | $133,944
The Eli Home, Incorporation | Orange, CA | $1,650,984
Santa Barbara Community Housing Corporation | Santa Barbara, CA | $99,444
Saint Vincent de Paul Village, Incorporation | San Diego, CA | $513,713
City of Davis | Davis, CA | $106,752
Saint Vincent de Paul Village, Incorporation | San Diego, CA | $619,024
Building Opportunities for Self-Sufficiency | Berkeley, CA | $523,088
Volunteers of America | La Mesa, CA | $590,306
Alameda County Community Development Agency | Hayward, CA | $1,090,393
Corporation for Supportive Housing | Oakland, CA | $539,398
San Francisco Department of Human Services | San Francisco, CA | $475,843
San Francisco Department of Human Services | San Francisco, CA | $87,551
Los Angeles Homeless Services Authority | Los Angeles, CA | $1,459,710
San Francisco Department of Human Services | San Francisco, CA | $131,683
San Francisco Department of Human Services | San Francisco, CA | $1,060,899
Fred Finch Children's Home, Inc | Oakland, CA | $719,667
The John Henry Foundation | Garden Grove, CA | $157,500
County of Orange/Housing and Community Development | Santa Ana, CA | $103,824
WTLC | Orange, CA | $313,412
Los Angeles Homeless Services Authority | Los Angeles, CA | $2,083,300
Building Opportunities for Self-Sufficiency | Berkeley, CA | $96,147
Human Options | Irvine, CA | $100,245
Interval House Crisis Shelter | Seal Beach, CA | $238,500
San Francisco Department of Human Services | San Francisco, CA | $853,440
CA City of Fremont | Fremont, CA | $269,790
San Francisco Department of Human Services | San Francisco, CA | $192,024
Orange County Association for Mental Health | Orange, CA | $388,628
Families Forward | Irvine, CA | $406,926
Service League of San Mateo County | Redwood City, CA | $91,000
Episcopal Community Services (ECS) | San Diego, CA | $509,328
TACHS | San Diego, CA | $420,000
Vietnam Veterans of California, Incorporated | Santa Rosa, CA | $166,215
San Francisco Network Ministries Housing Corporation | San Francisco, CA | $76,228
Solano County | Solano, CA | $204,414
The Lord's Fellowship Center | Mare Island, Vallejo, CA | $63,000
Alameda County Community Development Agency | Hayward, CA | $59,325
Mental Health Association of San Mateo County | Redwood City, CA | $146,542
Vietnam Veterans of San Diego | San Diego, CA | $405,700
Community Action Agency of Butte County, Inc. | Oroville, CA | $143,312
Community Action Agency of Butte County, Inc. | Oroville, CA | $161,840
Los Angeles Homeless Services Authority | Los Angeles, CA | $2,250,000
Los Angeles Homeless Services Authority | Los Angeles, CA | $680,429
Shelter Network of San Mateo County | Burlingame, CA | $185,740
Alameda Point Collaborative, Incorporated | Alameda, CA | $500,000
Olive Crest Treatment Centers, Incorporation | Santa Ana, CA | $257,250
Fairfield-Suisun Community Action Council | Fairfield, CA | $194,250
Alameda County Community Development Agency | Hayward, CA | $676,632
Los Angeles Homeless Services Authority | Los Angeles, CA | $560,869
YMCA of San Diego County | Oceanside, CA | $178,739
The Ark of Refuge, Inc. | San Francisco, CA | $208,502
Alameda County Community Development Agency | Hayward, CA | $42,170
Building Opportunities for Self-Sufficiency | Berkeley, CA | $107,850
Placer County Health and Human Services Adult System of Care | Auburn, CA | $293,282
Building Opportunities for Self-Sufficiency | Berkeley, CA | $553,947
Saint Vincent de Paul Village, Incorporation | San Diego, CA | $935,898
Housing Authority of the County of San Mateo | Belmont, CA | $1,008,960
YWCA of San Diego County | San Diego, CA | $553,475
Los Angeles Homeless Services Authority | Los Angeles, CA | $600,000
Housing Authority of the County of San Mateo | Belmont, CA | $1,098,228
Housing Authority of the City of Fresno | Fresno, CA | $2,159,160
Fresno County Economic Opportunities Commission | Fresno, CA | $855,126
Poverello House | Fresno, CA | $1,182,101
Housing Authority of the City of Fresno | Fresno, CA | $295,281
TACHS | San Diego, CA | $147,000
Placer Women's Center | Auburn, CA | $212,298
InterFaith Shelter Network, Incorporated | Santa Rosa, CA | $160,670
Committee on the Shelterless | Petaluma, CA | $59,489
City of Glendale, CA/Housing Authority | Glendale, CA | $53,164
City of Glendale, CA/Housing Authority | Glendale, CA | $177,399
Serra Ancillary Care Corporation d.b.a. The Serra Project | Los Angeles, CA | $295,362
New Economics for Women | Los Angeles, CA | $310,508
Filipino American Services Group, Incorporation | Los Angeles, CA | $380,898
P.A.T.H. | Los Angeles, CA | $200,550
P.A.T.H. | Los Angeles, CA | $229,060
Single Room Occupancy Housing Corporation | Los Angeles, CA | $185,220
Los Angeles Youth Network | Los Angeles, CA | $81,057
City of Glendale, CA/Housing Authority | Glendale, CA | $109,734
County of Sacramento | Sacramento, CA | $154,734
City of Glendale, CA/Housing Authority | Glendale, CA | $93,000
Marin Housing Authority | San Rafael, CA | $463,644
Marin Housing Authority | San Rafael, CA | $448,560
Catholic Charities of the Archdiocese of San Francisco | San Francisco, CA | $319,136
Center Point, Incorporated | San Rafael, CA | $474,247
Community Action Marin | San Rafael, CA | $50,148
County of Sacramento | Sacramento, CA | $123,496
San Francisco Network Ministries Housing Corporation | San Francisco, CA | $449,412
County of Sacramento | Sacramento, CA | $497,424
Emergency Housing Consortium, Inc. | San Jose, CA | $93,866
Catholic Charities of the Diocese of Santa Rosa | Santa Rosa, CA | $82,399
Catholic Charities of Los Angeles, Incorporation | Los Angeles, CA | $142,901
Housing Authority of the County of Stanislaus | Modesto, CA | $512,100
San Diego County Consortium | San Diego, CA | $499,995
North County Interfaith Council | Escondido, CA | $310,246
Inland Temporary Homes | Loma Linda, CA | $512,694
San Diego County Consortium | San Diego, CA | $886,219
Mary's Mercy Center, Incorporated | San Bernardino, CA | $1,070,927
San Diego County Consortium | San Diego, CA | $693,378
Community Resource Center | Encinitas, CA | $165,000
San Diego County Consortium | San Diego, CA | $560,000
Hope Through Housing Foundation | Rancho Cucamonga, CA | $258,451
San Diego County Consortium | San Diego, CA | $290,533
City of Glendale, CA/Housing Authority | Glendale, CA | $91,525
San Diego County Consortium | San Diego, CA | $193,920
Shelter For the Homeless | Midway City, CA | $394,900
City of Glendale, CA/Housing Authority | Glendale, CA | $453,832
Harbor Interfaith Services, Incorporation | San Pedro, CA | $255,345
City of Glendale, CA/Housing Authority | Glendale, CA | $116,740
A Community of Friends | Los Angeles, CA | $104,500
City of Glendale, CA/Housing Authority | Glendale, CA | $129,596
City of Glendale, CA/Housing Authority | Glendale, CA | $84,528
City of Glendale, CA/Housing Authority | Glendale, CA | $217,292
City of Glendale, CA/Housing Authority | Glendale, CA | $81,534
Serra Ancillary Care Corporation d.b.a. The Serra Project | Los Angeles, CA | $637,703
City of Glendale, CA/Housing Authority | Glendale, CA | $85,464
Housing Authority of the County of San Bernardino | San Bernardino, CA | $2,727,000
Building Opportunities for Self-Sufficiency | Berkeley, CA | $844,024
University Housing Inc. | Alameda, CA | $44,122
San Jose Cathedral Foundation | San Jose, CA | $90,000
Los Angeles Homeless Services Authority | Los Angeles, CA | $378,000
Alameda County Community Development Agency | Hayward, CA | $26,280
County of Sacramento | Sacramento, CA | $3,591,192
Center Point, Incorporated | San Rafael, CA | $42,210
Alameda County Community Development Agency | Hayward, CA | $60,348
Transitional Living and Community Support, Inc. | Sacramento, CA | $305,666
Veterans Transition Center of Monterey County | Marina, CA | $389,048
Alameda County Community Development Agency | Hayward, CA | $22,596
Alameda County Community Development Agency | Hayward, CA | $118,176
Alameda County Community Development Agency | Hayward, CA | $39,084
Marin Abused Women Services | San Rafael, CA | $65,540
Alameda County Community Development Agency | Hayward, CA | $49,464
Alameda County Community Development Agency | Hayward, CA | $67,788
Alameda County Community Development Agency | Hayward, CA | $59,256
Community Action Marin | San Rafael, CA | $56,642
Transitional Living and Community Support, Inc. | Sacramento, CA | $250,985
Santa Clara Unified School District | Santa Clara, CA | $200,534
Transitional Living and Community Support, Inc. | Sacramento, CA | $157,716
City of Berkeley | Berkeley, CA | $1,745,160
Alameda County Community Development Agency | Hayward, CA | $90,420
Alameda County Community Development Agency | Hayward, CA | $39,420
Alameda County Community Development Agency | Hayward, CA | $48,876
County of Sacramento | Sacramento, CA | $86,712
InnVision, The Way Home | San Jose, CA | $210,000
San Diego Youth and Community Services | San Diego, CA | $175,142
Transitional Living and Community Support, Inc. | Sacramento, CA | $88,114
County of Santa Cruz | Santa Cruz, CA | $142,591
InnVision, The Way Home | San Jose, CA | $104,030
Community Action Marin | San Rafael, CA | $27,476
Bethany Services | Bakersfield, CA | $570,696
SHELTER, Incorporated of Contra Costa County | Martinez, CA | $457,371
County of Sacramento | Sacramento, CA | $110,250
County of Sacramento | Sacramento, CA | $104,399
Mendocino County | Ukiah, CA | $152,016
STAND! Against Domestic Violence | Concord, CA | $141,973
San Luis Obispo Nonprofit Housing Corporation | San Luis, CA | $473,981
County of Sacramento | Sacramento, CA | $83,324
County of Sacramento | Sacramento, CA | $42,999
Buckelew Community Housing Development Organization | San Rafael, CA | $190,000
InnVision, The Way Home | San Jose, CA | $628,875
Alameda County Community Development Agency | Hayward, CA | $3,327,852
Alameda County Community Development Agency | Hayward, CA | $200,700
Community Technology Alliance | San Jose, CA | $607,438
Alameda County Community Development Agency | Hayward, CA | $81,852
Alameda County Community Development Agency | Hayward, CA | $29,628
Housing Authority of the County of Contra Costa | Martinez, CA | $203,124
County of Sacramento | Sacramento, CA | $89,932
Housing Authority of the County of Stanislaus | Modesto, CA | $40,968
Vietnam Veterans of California, Inc. | Santa Rosa, CA | $265,807
County of Sacramento | Sacramento, CA | $215,255
County of Sacramento | Sacramento, CA | $206,936
Housing Community Development Commission Housing Authority | Los Angeles, CA | $1,641,000
City of Woodland | Woodland, CA | $175,151
Housing Community Development Commission Housing Authority | Los Angeles, CA | $4,358,640
County of Sacramento | Sacramento, CA | $228,426
Resources for Community Development | Alameda, CA | $40,285
Building Opportunities for Self-Sufficiency | Berkeley, CA | $185,727
Community Support Network | Santa Rosa, CA | $60,715
Families in Transition of Santa Cruz County, Inc. | Santa Cruz, CA | $185,186
Nirvana Drug and Alcohol | Modesto, CA | $84,000
STAND! Against Domestic Violence | Concord, CA | $100,571
SHELTER, Incorporated of Contra Costa County | Martinez, CA | $80,797
The Salvation Army | Los Angeles, CA | $552,080
Rainbow Services, Ltd. (Applicant) | San Pedro, CA | $510,023
The Salvation Army | Los Angeles, CA | $339,898
County of Ventura Behavioral Health Department | Ventura, CA | $523,680
Building Opportunities for Self-Sufficiency | Berkeley, CA | $164,038
County of Sacramento | Sacramento, CA | $175,786
County of Ventura | Camarillo, CA | $676,500
City of Oxnard | Oxnard, CA | $167,325
County of Sacramento | Sacramento, CA | $229,107
County of Ventura Human Service Agency | San Buenaventura, CA | $93,643
Resources for Independent Living, (RIL) | Sacramento, CA | $97,876
County of Sacramento | Sacramento, CA | $490,071
City of Santa Monica | Santa Monica, CA | $1,323,828
Building Opportunities for Self-Sufficiency | Berkeley, CA | $74,500
Center for Human Services | Modesto, CA | $230,984
Contra Costa County Health Services | Martinez, CA | $699,841
Tarzana Treatment Centers, Incorporation | Tarzana, CA | $376,263
County of Sacramento | Sacramento, CA | $3,061,636
Sonoma County People for Economic Opportunity | Santa Rosa, CA | $214,000
Jobs for Homeless Consortium | Oakland, CA | $859,669
Project Understanding | Ventura, CA | $160,930
SHELTER, Incorporated of Contra Costa County | Martinez, CA | $273,584
Community Support Network | Santa Rosa, CA | $500,000
Rubicon Programs, Inc. | Richmond, CA | $653,005
Su Casa Family Crisis and Support Center | Artesia, CA | $104,926
County of Los Angeles | Los Angeles, CA | $546,089
Community Housing and Shelter Services | Modesto, CA | $95,314
County of Los Angeles | Los Angeles, CA | $177,335
Housing Authority of the County of Kern | Bakersfield, CA | $690,900
Resources for Community Development | Berkeley, CA | $400,000
County of Sacramento | Sacramento, CA | $191,523
Denver Department of Human Services | Denver, CO | $511,200
Interfaith Hospitality Network of Colorado Springs | Colorado Springs, CO | $29,820
Posada | Pueblo, CO | $749,700
Colorado Coalition for the Homeless | Denver, CO | $58,247
Colorado Coalition for the Homeless | Denver, CO | $147,643
Colorado Coalition for the Homeless | Denver, CO | $388,107
Colorado Coalition for the Homeless | Denver, CO | $120,960
Greeley Center for Independence, Incorporated | Greenley, CO | $499,911
Partners In Housing, Incorporated | El Paso, CO | $36,341
Partners In Housing, Incorporated | El Paso, CO | $52,444
Partners In Housing, Incorporated | El Paso, CO | $17,543
Colorado Department of Human Services | Denver, CO | $342,312
Partners In Housing, Incorporated | El Paso, CO | $24,149
Community Housing Services, Incorporated | Denver, CO | $2,829,231
Catholic Charities of Colorado Springs, Incorporated | Colorado Springs, CO | $38,961
Grand Valley Catholic Outreach | Grand Junction, CO | $283,966
Colorado Coalition for the Homeless | Denver, CO | $286,686
Colorado Department of Human Services | Denver, CO | $91,920
Colorado Coalition for the Homeless | Denver, CO | $639,221
Colorado Department of Human Services | Denver, CO | $148,536
Volunteers of America Colorado Branch | Denver, CO | $487,195
Colorado Coalition for the Homeless | Denver, CO | $1,015,255
Pikes Peak Mental Health Center | Colorado Springs, CO | $158,500
Colorado Department of Human Services | Denver, CO | $1,103,316
Denver Department of Human Services | Denver, CO | $272,304
Denver Department of Human Services | Denver, CO | $349,320
Denver Department of Human Services | Denver, CO | $343,860
Partners In Housing, Incorporated | El Paso, CO | $47,998
City of Bridgeport | Bridgeport, CT | $229,862
Mutual Housing Association of SW CT, Inc. | Stanford, CT | $446,880
St. Vincent DePaul Society of Bristol, Incorporated | Bristol, CT | $321,830
Mid Fairfield AIDS Project, Incorporated | Norwalk, CT | $120,000
State of Connecticut | Hartford, CT | $184,303
YWCA of the Hartford Region | Hartford, CT | $500,000
State of Connecticut | Hartford, CT | $428,222
State of Connecticut | Hartford, CT | $95,004
Family and Children's Agency, Incorporated | Norwalk, CT | $145,513
State of Connecticut | Hartford, CT | $270,940
Friendship Service Center of New Britain | New Britain (Hartford), CT | $674,751
Friendship Service Center of New Britain | New Britain (Hartford), CT | $210,007
Thames River Community Services Inc. | Norwich, CT | $587,951
Community Renewal Team, Incorporated | Hartford, CT | $621,354
Community Renewal Team, Incorporated | Hartford, CT | $565,000
City of Bridgeport | Bridgeport, CT | $372,973
State of Connecticut | Hartford, CT | $537,480
Windham Regional Community Council, Incorporated | Willimantic, CT | $802,500
Applied Behavioral Rehabilitation Institute, Inc. | Bridgeport, CT | $407,676
State of Connecticut | Hartford, CT | $458,220
State of Connecticut | Hartford, CT | $89,424
State of Connecticut | Hartford, CT | $201,420
Youth Continuum Inc. | New Haven, CT | $301,568
HACD Corporation | Danbury, CT | $654,500
St. Vincent DePaul Society of Bristol, Incorporated | Bristol, CT | $27,019
American Red Cross Middlesex Central Connecticut Chapter | Middletown, CT | $133,000
Hall-Brooke Behavioral Health Services | Westport, CT | $354,858
State of Connecticut | Hartford, CT | $169,008
The Salvation Army | Hartford County, CT | $219,450
United Way of Stamford, Incorporated | Stamford, CT | $52,500
State of Connecticut | Hartford, CT | $481,980
United Way of Eastern Fairfield County | Bridgeport, CT | $121,000
Chrysalis Center, Incorporated | Hartford, CT | $636,552
Mercy Housing and Shelter Corporation | Hartford, CT | $241,190
United Way of Norwalk and Wilton | Norwalk, CT | $125,000
Regional Network of Programs, Inc. | Bridgeport, CT | $522,392
Connecticut Coalition to End Homelessness | Hartford, CT | $290,920
City of Danbury | Danbury, CT | $142,000
Liberty Community Services, Inc. | New Haven, CT | $292,500
State of Connecticut | Hartford, CT | $321,156
Community Renewal Team, Incorporated | Hartford, CT | $111,720
Immaculate Conception Shelter and Housing Corporation | Hartford, CT | $789,695
The Connection Fund, Inc. | Middletown, CT | $147,000
Community Connections | Washington, DC | $98,175
The Community Partnership for the Prevention of Homelessness | Washington, DC | $204,748
The Community Partnership for the Prevention of Homelessness | Washington, DC | $220,508
The Community Partnership for the Prevention of Homelessness | Washington, DC | $232,880
Coalition for the Homeless | Washington, DC | $171,453
The Community Partnership for the Prevention of Homelessness | Washington, DC | $257,404
Sasha Bruce Youthwork | Washington, DC | $129,593
Community Family Life Services | Washington, DC | $364,761
Hannah House, Inc. | Washington, DC | $148,115
The Community Partnership for the Prevention of Homelessness | Washington, DC | $134,835
The Community Partnership for the Prevention of Homelessness | Washington, DC | $141,957
JHP Incorporated | Washington, DC | $136,761
The Community Partnership for the Prevention of Homelessness | Washington, DC | $86,003
The Community Partnership for the Prevention of Homelessness | Washington, DC | $293,914
The Community Partnership for the Prevention of Homelessness | Washington, DC | $42,303
The Community Partnership for the Prevention of Homelessness | Washington, DC | $266,084
The Community Partnership for the Prevention of Homelessness | Washington, DC | $121,728
The Community Partnership for the Prevention of Homelessness | Washington, DC | $190,522
The Community Partnership for the Prevention of Homelessness | Washington, DC | $132,300
The Community Partnership for the Prevention of Homelessness | Washington, DC | $245,422
The Community Partnership for the Prevention of Homelessness | Washington, DC | $333,913
The Community Partnership for the Prevention of Homelessness | Washington, DC | $189,000
Coalition for the Homeless | Washington, DC | $113,825
So Others Might Eat (SOME), Incorporated | Washington, DC | $323,673
The Community Partnership for the Prevention of Homelessness | Washington, DC | $176,226
The Community Partnership for the Prevention of Homelessness | Washington, DC | $109,725
House of Ruth | Washington, DC | $204,916
The Community Partnership for the Prevention of Homelessness | Washington, DC | $175,219
Sasha Bruce Youthwork | Washington, DC | $67,628
So Others Might Eat (SOME), Incorporated | Washington, DC | $101,333
The Community Partnership for the Prevention of Homelessness | Washington, DC | $142,306
Transitional Housing Corporation | Washington, DC | $127,385
So Others Might Eat (SOME), Incorporated | Washington, DC | $513,941
Catholic Charities | Washington, DC | $168,641
Green Door | Washington, DC | $47,894
House of Ruth | Washington, DC | $34,657
House of Ruth | Washington, DC | $79,929
The Community Partnership for the Prevention of Homelessness | Washington, DC | $83,511
House of Ruth | Washington, DC | $84,383
House of Ruth | Washington, DC | $202,832
The Community Partnership for the Prevention of Homelessness | Washington, DC | $149,203
The Community Partnership for the Prevention of Homelessness | Washington, DC | $358,073
The Community Partnership for the Prevention of Homelessness | Washington, DC | $87,850
Community Connections | Washington, DC | $106,864
The Community Partnership for the Prevention of Homelessness | Washington, DC | $196,569
The Community Partnership for the Prevention of Homelessness | Washington, DC | $583,578
Department of Health | Washington, DC | $330,984
The Community Partnership for the Prevention of Homelessness | Washington, DC | $141,214
The Community Partnership for the Prevention of Homelessness | Washington, DC | $100,906
The Community Partnership for the Prevention of Homelessness | Washington, DC | $899,866
House of Ruth | Washington, DC | $144,083
The Community Partnership for the Prevention of Homelessness | Washington, DC | $484,683
Community Family Life Services | Washington, DC | $140,205
House of Ruth | Washington, DC | $321,806
Connections CSP, Inc. | Wilmington, DE | $499,372
Ministry of Caring, Inc. | Wilmington, DE | $129,874
People's Place II, Inc. | Milford, DE | $39,158
SBM Housing, Inc. | Wilmington, DE | $65,444
Delaware Health and Social Services | New Castle, DE | $1,282,950
Delaware Health and Social Services | New Castle, DE | $79,788
Connections CSP, Inc. | Wilmington, DE | $153,421
Ministry of Caring, Inc. | Wilmington, DE | $200,408
Ministry of Caring, Inc. | Wilmington, DE | $136,836
Ministry of Caring, Inc. | Wilmington, DE | $66,467
Ministry of Caring, Inc. | Wilmington, DE | $374,174
The Young Women's Christian Association of New Castle County | Wilmington, DE | $318,095
CareLink Community Support Services | Wilmington, DE | $75,456
Agency for Community Treatment Services, Inc. | Tampa, FL | $128,991
Family Renew Community, Inc. | Holly Hill, FL | $21,164
Homeless Services Network of Central Florida, Inc. | Orlando, FL | $124,371
The Salvation Army, a Georgia Corporation | Fort Lauderdale, FL | $202,878
City of Gainesville | Gainesville, FL | $106,215
Gateway Community Services | Jacksonville, FL | $198,706
Family Renew Community, Inc. | Holly Hill, FL | $26,490
City of Gainesville | Gainesville, FL | $102,565
Alachua County Housing Authority | Gainesville, FL | $104,420
Mental Health Resource Center, Inc. | Jacksonville, FL | $293,979
Lakeview Center, Incorporated | Pensacola, FL | $472,018
United Way Of Northeast Florida | Jacksonville, FL | $64,374
Gainesville Housing Authority | Gainesville, FL | $332,100
Coalition for the Homeless of Pasco County, Incorporated | Port Richey, FL | $1,003,373
Miami-Dade County | Miami, FL | $178,172
Serenity House of Volusia, Inc. | Daytona Beach, FL | $171,921
Serenity House of Volusia, Inc. | Daytona Beach, FL | $129,273
Miami-Dade County | Miami, FL | $311,679
Lakeview Center, Incorporated | Pensacola, FL | $314,606
Tallahassee Coalition for the Homeless | Tallahassee, FL | $14,350
Bridgeway Center, Inc. | Fort Walton Beach, FL | $498,750
Family Renew Community, Inc. | Holly Hill, FL | $10,582
Peaceful Paths Domestic Abuse Network | Gainesville, FL | $84,974
Family Renew Community, Inc. | Holly Hill, FL | $52,980
Miami-Dade County | Miami, FL | $500,000
The Salvation Army, A Georgia Corporation | Sarasota, FL | $77,750
Goodwill of North Florida, Inc. | Jacksonville, FL | $412,500
AIDS Coalition of Volusia/Flagler, Inc. | Daytona Beach, FL | $72,928
Miami-Dade County | Miami, FL | $285,343
Broward County Board of County Commissioners | Fort Lauderdale, FL | $500,000
Tallahassee Coalition for the Homeless | Tallahassee, FL | $21,873
United Way of Sarasota County, Inc. | Sarasota, FL | $160,372
The Salvation Army, a Georgia Corporation | Sarasota, FL | $132,840
Homeless Services Network of Central Florida, Inc. | Orlando, FL | $78,352
Housing Authority of the City of Tampa | Tampa, FL | $513,480
Domestic Abuse Council, Inc. | Daytona Beach, FL | $69,386
United Way of Marion County | Ocala, FL | $150,749
Mental Health Care, Inc. | Tampa, FL | $2,068,548
Homeless Services Network of Central Florida, Inc. | Orlando, FL | $27,550
Mental Health Care, Inc. | Tampa, FL | $436,089
Serenity House of Volusia, Inc. | Daytona Beach, FL | $129,273
The Salvation Army, a Georgia Corporation | Fort Lauderdale, FL | $187,053
Renaissance Manor | Sarasota, FL | $483,000
Miami-Dade County | Miami, FL | $425,392
Miami-Dade County | Miami, FL | $250,000
Homeless Services Network of Central Florida, Inc. | Orlando, FL | $92,301
Brookwood Florida-Central, Inc. | Saint Petersburg, FL | $161,412
Miami-Dade County | Miami, FL | $334,392
Boley Centers for Behavioral Health Care, Inc. | Saint Petersburg, FL | $247,662
Volunteers of America of Florida, Inc. | Jacksonville, FL | $325,651
Miami-Dade County | Miami, FL | $171,354
Miami-Dade County | Miami, FL | $124,621
Miami-Dade County | Miami, FL | $364,854
Miami-Dade County | Miami, FL | $158,095
Agency for Community Treatment Services, Inc. | Tampa, FL | $48,000
Miami-Dade County | Miami, FL | $696,028
River Region Human Services | Jacksonville, FL | $264,970
Polk, Hardee, Highlands Aids Services and Education, Inc. | Lakeland, FL | $47,374
Homeless Emergency Project, Inc. | Clearwater, FL | $149,100
Miami-Dade County | Miami, FL | $126,003
Miami-Dade County | Miami, FL | $433,408
Gulfcoast Legal Services, Inc. | Saint Petersburg, FL | $86,862
Miami-Dade County | Miami, FL | $726,961
Miami-Dade County | Miami, FL | $33,957
Coalition of Saint John's County, Incorporated | Saint Augustine, FL | $152,610
Miami-Dade County | Miami, FL | $84,000
Community Connection of Jacksonville | Jacksonville, FL | $531,637
The Salvation Army, A Georgia Corporation | Ocala, FL | $215,697
Serenity House of Volusia, Inc. | Daytona Beach, FL | $171,921
I.M. Sulzbacher Center for the Homeless | Jacksonville, FL | $235,288
Homeless Emergency Project, Inc. | Clearwater, FL | $161,700
Talbot House Ministries of Lakeland, Inc. | Lakeland, FL | $511,852
Tri-County Human Services, Inc. (TCHS) | Lakeland, FL | $75,000
Directions for Mental Health, Inc. | Clearwater, FL | $1,069,315
Day Nursery Association of Lakeland | Lakeland, FL | $264,216
New Life Outreach Ministry, Inc. | Lakeland, FL | $143,586
Brookwood Florida-Central, Inc. | Saint Petersburg, FL | $133,888
Peace River Center | Bartow, FL | $400,000
Miami-Dade County | Miami, FL | $551,388
Miami-Dade County | Miami, FL | $285,343
Miami-Dade County | Miami, FL | $1,056,125
Miami-Dade County | Miami, FL | $500,000
Volunteers of America of Florida, Incorporated | Jacksonville, FL | $343,033
Miami-Dade County | Miami, FL | $127,020
Clara White Mission, Inc. | Jacksonville, FL | $175,000
Miami-Dade County | Miami, FL | $392,952
Miami-Dade County | Miami, FL | $148,010
Miami-Dade County | Miami, FL | $224,772
Miami-Dade County | Miami, FL | $248,448
Indian River County Commission | Vero Beach, FL | $224,280
Brothers Keeper/Blessed Trinity | Ocala, FL | $275,900
Broward County Board of County Commissioners | Fort Lauderdale, FL | $621,262
Miami-Dade County | Miami, FL | $136,752
Miami-Dade County | Miami, FL | $177,264
Miami-Dade County | Miami, FL | $526,869
Volunteers of America of Florida, Inc. | Jacksonville, FL | $421,331
Miami-Dade County | Miami, FL | $256,662
Miami-Dade County | Miami, FL | $227,325
Volunteers of America of Florida, Inc. | Jacksonville, FL | $500,000
Broward County Board of County Commissioners | Fort Lauderdale, FL | $226,180
Miami-Dade County | Miami, FL | $1,069,663
United Way of Sarasota County, Incorporated | Sarasota, FL | $142,655
Miami-Dade County | Miami, FL | $1,445,573
The Salvation Army, a Georgia Corporation | Fort Lauderdale, FL | $259,038
Miami-Dade County | Miami, FL | $299,786
Miami-Dade County | Miami, FL | $339,721
Miami-Dade County | Miami, FL | $68,376
Miami-Dade County | Miami, FL | $357,791
Volunteers of America of Florida, Inc. | Jacksonville, FL | $407,862
Miami-Dade County | Miami, FL | $860,114
Miami-Dade County | Miami, FL | $249,992
The Center for Information and Crisis Services, Incorporated | Lantana, FL | $158,724
Lee County Board of County Commissioners | North Fort Myers, FL | $90,508
Lee County Board of County Commissioners | North Fort Myers, FL | $1,064,138
Palm Beach County Board of County Commissioners | West Palm Beach, FL | $438,254
Adopt-A-Family of Palm Beaches, Inc. | West Palm Beach, FL | $207,813
Broward County Housing Authority | Lauderhill, FL | $832,716
Martin County Board of County Commissioners | Stuart, FL | $390,180
Lee County Board of County Commissioners | North Fort Myers, FL | $119,722
Florida Keys Outreach Coalition, Incorporated | Key West City, FL | $175,879
Florida Housing Corporation | West Palm Beach, FL | $500,000
Revitalax Victorian Resort, Incorporated | West Palm Beach, FL | $165,260
SAWCC, Incorporated | Naples, FL | $339,000
Saint Mathew's House | Naples, FL | $227,000
Catholic Charities of the Arch of Miami, Inc. | Miami, FL | $180,000
Lee County Board of County Commissioners | North Fort Myers, FL | $386,000
Covenant House Florida | Fort Lauderdale, FL | $191,713
Aid to Victims of Domestic Abuse, Inc. | Delray Beach, FL | $134,725
Gulfstream Goodwill Industries, Incorporated | West Palm Beach, FL | $194,419
Florida Housing Corporation | West Palm Beach, FL | $86,415
Lee County Board of County Commissioners | North Fort Myers, FL | $222,069
Broward County Board of County Commissioners | Fort Lauderdale, FL | $996,917
Florida Housing Corporation | West Palm Beach, FL | $257,191
Cobb Family Resources | Marietta, GA | $85,323
Augusta Richmond County | Augusta, GA | $67,517
Georgia Department of Community Affairs | Atlanta, GA | $412,380
Goodwill Industries of Mid-Georgia | Macon, GA | $296,197
Georgia Department of Community Affairs | Atlanta, GA | $215,400
Board of Commissioners of Fulton County, Georgia | Atlanta, GA | $702,814
Progressive Redevelopment Incorporated | Decatur, GA | $563,246
Alternate Life Paths Program, Incorporated | Atlanta, GA | $48,572
Georgia Department of Community Affairs | Atlanta, GA | $514,560
Unified Government of Athens-Clarke County | Athens, GA | $34,604
House of T.I.M.E., Incorporated | Columbus, GA | $259,461
Atlanta Enterprise Center, Incorporated | Atlanta, GA | $190,955
Genesis Shelter, Incorporated | Atlanta, GA | $136,500
Gwinnet Housing Resource Partnership, Incorporated | Norcross, GA | $293,790
Economic Opportunity Authority for Savannah-Chatham County | Savannah, GA | $220,500
Jewish Family and Career Services, Incorporated | Atlanta, GA | $157,729
Open Door Community House, Incorporated | Columbus, GA | $267,745
Hope House Incorporated | Augusta, GA | $58,842
Saint Jude's Recovery Center, Incorporated | Atlanta, GA | $715,311
The Salvation Army, A Georgia Corporation | Atlanta, GA | $622,944
Cobb Family Resources | Marietta, GA | $96,701
Saint Jude's Recovery Center, Incorporated | Atlanta, GA | $141,842
Cobb Family Resources | Marietta, GA | $208,097
HODAC, Incorporated | Warner Robins, GA | $42,891
Georgia Department of Community Affairs | Atlanta, GA | $192,960
Loaves and Fishes Ministry of Macon, Incorporated | Macon, GA | $470,777
Loaves and Fishes Ministry of Macon, Incorporated | Macon, GA | $46,460
The Salvation Army, a Georgia Corporation | Atlanta, GA | $475,935
Hall Family Initiative Residences | Gainsville, GA | $174,808
South Central Georgia Task Force for the Homeless | Valdosta, GA | $717,360
Georgia Department of Community Affairs | Atlanta, GA | $1,787,604
Unified Government of Athens-Clarke County | Athens, GA | $243,482
Greenbriar Children's Center, Incorporated | Savannah, GA | $398,424
CSRA Economic Opportunity Authority, Incorporated | Augusta, GA | $262,038
Chatham-Savannah Authority for the Homeless | Savannah, GA | $223,469
Saint Joseph's Mercy Care Services, Incorporated | Atlanta, GA | $36,823
Nicholas House, Incorporated | Atlanta, GA | $36,141
Saint Jude's Recovery Center, Incorporated | Atlanta, GA | $278,342
Housing Initiative of North Fulton | Roswell, GA | $23,646
Jerusalem House, Incorporated | Atlanta, GA | $193,704
Georgia Department of Community Affairs | Atlanta, GA | $660,480
Georgia Department of Community Affairs | Atlanta, GA | $498,960
Goodwill Industries of Mid-Georgia | Augusta, GA | $97,836
The Salvation Army, A Georgia Corporation | Atlanta, GA | $662,785
Our Common Welfare, Incorporated | Decatur, GA | $158,033
Georgia Department of Community Affairs | Atlanta, GA | $439,800
Saint Jude's Recovery Center, Incorporated | Atlanta, GA | $328,898
Georgia Law Center on Homelessness and Poverty Incorporated | Atlanta, GA | $294,000
Unified Government of Athens-Clarke County | Athens, GA | $79,800
Board of Commissioners of Fulton County, Georgia | Atlanta, GA | $373,951
Goodwill Industries of Mid-Georgia | Macon, GA | $220,620
Action Ministries, Incorporated | Atlanta, GA | $70,000
Chatham-Savannah Authority for the Homeless | Savannah, GA | $179,256
Community Advanced Practice Nurses, Incorporated | Atlanta, GA | $46,423
Phoenix Alliance, Incorporated | Decatur, GA | $58,371
Buckhead Christian Ministry, Incorporated | Atlanta, GA | $80,000
Initiative for Affordable Housing DeKalb, Incorporated | Decatur, GA | $320,938
Community Advanced Practice Nurses, Incorporated | Atlanta, GA | $18,517
Union Mission, Incorporated | Savannah, GA | $218,876
Families First Incorporated | Atlanta, GA | $184,013
City of Savannah | Savannah, GA | $249,024
The Salvation Army, a Georgia Corporation | Atlanta, GA | $397,350
The CSRA Economic Opportunity Authority, Incorporated | Augusta, GA | $162,071
Community Advanced Practice Nurses, Incorporated | Atlanta, GA | $39,039
House of T.I.M.E., Incorporated | Columbus, GA | $134,343
Citizens Against Violence, Incorporated | Statesboro, GA | $120,000
Travelers Aid of Metropolitan Atlanta, Incorporated | Atlanta, GA | $169,441
Stewart Community Home, Incorporated | Columbus, GA | $733,758
Furniture Bank of Metro Atlanta | Atlanta, GA | $70,291
Cobb County, Georgia | Marietta, GA | $492,135
Samaritan House of Atlanta, Incorporated | Fulton, GA | $78,820
Augusta Richmond County | Augusta, GA | $227,021
Achor Center, Incorporated | Atlanta, GA | $378,311
Government of Guam | Sinajana, GU | $84,672
Government of Guam | Sinajana, GU | $936,489
Government of Guam | Sinajana, GU | $99,146
Steadfast Housing Development Corporation | Honolulu, HI | $110,880
State of Hawaii | Honolulu, HI | $400,000
City and County of Honolulu | Honolulu, HI | $790,680
City and County of Honolulu | Honolulu, HI | $267,217
City and County of Honolulu | Honolulu, HI | $860,142
Mental Health Kokua | Honolulu, HI | $870,274
City and County of Honolulu | Honolulu, HI | $454,260
State of Hawaii | Honolulu, HI | $350,000
Steadfast Housing Development Corporation | Honolulu, HI | $94,799
City and County of Honolulu | Honolulu, HI | $575,812
Steadfast Housing Development Corporation | Honolulu, HI | $88,962
Emergency Housing Project, Inc. | Iowa, IA | $448,318
Hawkeye Area Community Action Program, Inc. | Hiawatha, IA | $215,072
John Lewis Coffee Shop, Inc. | Davenport, IA | $450,000
Youth and Shelter Services, Inc. | Ames, IA | $128,457
City of Des Moines | Des Moines, IA | $701,976
New Directions/Area Substance Abuse Council | Clinton, IA | $104,223
Family Service League | Waterloo, IA | $133,495
Crittendon Center | Sioux City, IA | $184,527
Youth and Shelter Services, Inc. | Ames, IA | $189,670
Cedar Valley Friends of the Family, Inc. | Waverly, IA | $254,249
Hawkeye Area Community Action Program, Inc. | Hiawatha, IA | $87,216
John Lewis Coffee Shop, Inc. | Davenport, IA | $212,139
City of Des Moines | Des Moines, IA | $261,975
Hawkeye Area Community Action Program, Inc. | Hiawatha, IA | $329,499
City of Des Moines | Des Moines, IA | $768,327
City of Des Moines | Des Moines, IA | $921,907
Idaho Housing and Finance Association | Boise, ID | $40,740
Idaho Housing and Finance Association | Boise, ID | $60,076
Idaho Housing and Finance Association | Boise, ID | $96,495
Boise City Housing Authority | Boise, ID | $15,743
Idaho Housing and Finance Association | Boise, ID | $57,072
Idaho Housing and Finance Association | Boise, ID | $72,502
Idaho Housing and Finance Association | Boise, ID | $174,308
Idaho Housing and Finance Association | Boise, ID | $96,967
Idaho Housing and Finance Association | Boise, ID | $88,989
Idaho Housing and Finance Association | Boise, ID | $41,577
Idaho Housing and Finance Association | Boise, ID | $66,990
Boise City Housing Authority | Boise, ID | $211,582
Women's and Children's Alliance | Boise, ID | $119,123
Idaho Housing and Finance Association | Boise, ID | $95,747
Boise City Housing Authority | Boise, ID | $64,514
Idaho Housing and Finance Association | Boise, ID | $187,929
Idaho Housing and Finance Association | Boise, ID | $85,116
Idaho Housing and Finance Association | Boise, ID | $73,925
Idaho Housing and Finance Association | Boise, ID | $452,820
Idaho Housing and Finance Association | Boise, ID | $82,363
Idaho Housing and Finance Association | Boise, ID | $85,037
Casa Central Social Services Corporation | Chicago, IL | $259,669
Housing Opportunities for Women, Inc. | Chicago, IL | $142,758
City of Chicago | Chicago, IL | $421,800
Southwest Women Working Together | Chicago, IL | $1,177,488
Deborah's Place | Chicago, IL | $414,750
West Englewood United Organization | Chicago, IL | $208,451
Project NOW, Inc. | Rock Island, IL | $119,445
Deborah's Place | Chicago, IL | $300,288
The Employment Project | Chicago, IL | $247,072
New Phoenix Assistance Center | Chicago, IL | $240,500
Lakefront SRO Corporation | Chicago, IL | $246,141
Travelers & Immigrants Aid/ Chicago Connections | Chicago, IL | $48,612
Community Crisis Center | Elgin, IL | $64,981
Western Egyptian Economic Opportunity Council, Inc. | Steeleville, IL | $24,913
Community Mental Health Council, Inc. | Chicago, IL | $217,915
City of Chicago | Chicago, IL | $326,760
Inspiration Corporation | Chicago, IL | $185,472
Lakefront SRO Corporation | Chicago, IL | $228,876
Southwest Women Working Together | Chicago, IL | $1,443,909
Community Mental Health Council, Inc. | Chicago, IL | $159,803
Franciscan Outreach Association | Chicago, IL | $105,840
World Relief DuPage | Wheaton, IL | $386,339
Bethel New Life Inc. | Chicago, IL | $193,966
City of Chicago | Chicago, IL | $38,940
City of Chicago | Chicago, IL | $98,760
City of Bloomington | Bloomington, IL | $169,239
City of Chicago | Chicago, IL | $41,760
City of Bloomington | Bloomington, IL | $15,652
City of Chicago | Chicago, IL | $175,320
City of Chicago | Chicago, IL | $41,760
City of Chicago | Chicago, IL | $568,524
City of Chicago | Chicago, IL | $448,020
City of Chicago | Chicago, IL | $185,066
The Thresholds Inc. | Chicago, IL | $489,838
Embarras River Basin Agency, Inc. | Greenup, IL | $499,691
City of Bloomington | Bloomington, IL | $75,733
The Salvation Army | Kankakee, IL | $330,113
Kankakee County Housing Authority | Kankakee, IL | $429,300
City of Chicago | Chicago, IL | $136,500
Saint Clair County, Illinois | Belleville, IL | $537,177
City of Chicago | Chicago, IL | $427,680
Chicago Christian Industrial League | Chicago, IL | $536,550
Catholic Charities, Diocese of Joliet | Joliet, IL | $500,000
Fifth Street Renaissance | Springfield, IL | $23,000
Abundant Faith Ministries | Springfield, IL | $48,825
Youth Service Bureau | Springfield, IL | $91,899
The Night Ministry | Chicago, IL | $723,172
Aids Foundation of Chicago | Chicago, IL | $762,498
Unity Parenting & Counseling Inc. | Chicago, IL | $869,515
City of Bloomington | Bloomington, IL | $63,865
Chicago Connections | Chicago, IL | $207,936
H.O.P.E. of East Central Illinois | Charleston, IL | $229,320
City of Chicago | Chicago, IL | $233,640
City of Chicago | Chicago, IL | $489,696
Helping Hands of Springfield, Inc. | Springfield, IL | $149,567
DuPage County Human Resources | Wheaton, IL | $106,649
DuPage County Health Department | Wheaton, IL | $385,000
Prairie State Legal Services, Inc. | Rockford, IL | $206,340
City of Bloomington | Bloomington, IL | $36,734
City of Bloomington | Bloomington, IL | $23,184
Chicago Connections | Chicago, Suite 1818, IL | $50,164
South Side Office of Concern | Peoria, IL | $45,324
C.E.F.S. Economic Opportunity Corporation | Effingham, IL | $133,350
Association for Individual Development | Aurora, IL | $50,874
Saint Clair County, Illinois | Belleville, IL | $330,000
Saint Clair County, Illinois | Belleville, IL | $711,198
Saint Clair County, Illinois | Belleville, IL | $548,040
City of Peoria, Planning & Growth Management | Peoria, IL | $109,080
The Center for Prevention of Abuse | Peoria, IL | $582,545
Hope Haven of DeKalb County, Inc. | DeKalb, IL | $95,270
YWCA of Peoria, IL | Peoria, IL | $196,216
Public Action to Deliver Shelter, Inc. | Aurora, IL | $234,302
Community Crisis Center | Elgin, IL | $30,135
Goodwill Industries of Central Illinois, Inc. | Peoria, IL | $654,508
Family Counseling Center, Inc. | Golconda, IL | $559,548
Renaissance Social Services, Inc. | Chicago, IL | $119,492
New Moms, Inc. | Chicago, IL | $105,837
Renaissance Social Services, Inc. | Chicago, IL | $46,114
Traveler's & Immigrants Aid /Chicago Connections | Chicago, IL | $490,040
The Women's Center, Inc. | Carbondale, IL | $20,866
Association for Individual Development | Aurora, IL | $71,349
Decatur Housing Authority | Decatur, IL | $215,760
The Inner Voice, Inc. | Chicago, IL | $78,073
Travelers and Immigrants Aid/ Chicago Connections | Chicago, IL | $886,882
City of Chicago | Chicago, IL | $878,524
Community Supportive Living Systems, Inc. | Chicago, IL | $164,712
City of Chicago | Chicago, IL | $840,720
City of Chicago | Chicago, IL | $54,075
Home of the Sparrow, Inc./Michael Joseph Foundation | McHenry, IL | $246,309
Deborah's Place | Chicago, IL | $376,127
Bethel New Life, Inc. | Chicago, IL | $219,276
Featherfist | Chicago, IL | $636,260
Dove, Inc. | Decatur, IL | $365,928
Dove, Inc. | Decatur, IL | $89,581
South Suburban PADS | Homewood, IL | $838,433
Community and Economic Development Association of Cook County | Chicago, IL | $400,848
Miller Beach Foundation, Inc. | Chicago, IL | $339,150
WINGS Program, Inc. | Palatine, IL | $136,218
Larkin Center | Elgin, IL | $372,000
Miller Beach Foundation, Inc. | Chicago, IL | $225,750
City of Chicago | Chicago, IL | $1,336,304
Catholic Charities, Diocese of Joliet | Joliet, IL | $754,500
City of Chicago | Chicago, IL | $350,697
Chicago Health Outreach | Chicago, IL | $736,440
AIDS Foundation of Chicago | Chicago, IL | $558,358
City of Urbana | Urbana, IL | $130,176
City of Rockford, Illinois | Rockford, IL | $33,764
Chicago Health Outreach | Chicago, IL | $122,240
Lake County, IL | Waukegan, IL | $70,704
PADS to HOPE | Palatine, IL | $550,993
Lake County, IL | Waukegan, IL | $63,000
City of Rockford, Illinois | Rockford, IL | $483,928
Jane Addams Hull House Association | Chicago, IL | $778,052
City of Rockford, Illinois | Rockford, IL | $175,896
WilPower, Inc. | Northfield, IL | $247,968
M.E.R.C.Y. Communities, Inc. | Springfield, IL | $167,923
Cornerstone Services, Inc. | Joliet, IL | $327,000
AIDSCARE, Inc. | Chicago, IL | $1,159,462
Mental Health Center of Champaign County, Inc. | Champaign, IL | $129,129
Community Mental Health Council, Inc. | Chicago, IL | $286,889
Lake County, IL | Waukegan, IL | $504,810
Serenity House, Inc. | Addison, IL | $215,000
City of Rockford, Illinois | Rockford, IL | $466,704
Home of the Sparrow, Inc. | McHenry, IL | $26,250
Lake County, IL | Waukegan, IL | $531,480
Lake County, IL | Waukegan, IL | $272,502
Transitional Living Services | Woodstock, IL | $141,734
Champaign County Regional Planning Commission | Urbana, IL | $32,500
The Night Ministry | Chicago, IL | $156,027
Interfaith House | Chicago, IL | $189,889
Teen Living Programs | Chicago, IL | $388,754
Chicago Christian Industrial League | Chicago, IL | $317,278
Embarras River Basin Agency, Inc. | Greenup, IL | $464,166
Chicago Christian Industrial League | Chicago, IL | $375,375
City of Chicago | Chicago, IL | $1,050,000
Chicago Health Outreach | Chicago, IL | $488,341
Connections for the Homeless | Evanston, IL | $553,181
Chicago Health Outreach | Chicago, IL | $1,897,443
Housing Options for the Mentally Ill, Inc. | Evanston, IL | $331,289
City of Chicago | Chicago, IL | $136,599
Madison County Community Development | Edwardsville, IL | $320,460
Project NOW, Inc. | Rock Island, IL | $25,809
City of Rockford, Illinois | Rockford, IL | $535,680
Community Counseling Center of Northern Madison County | Alton, IL | $1,220,270
Chicago Health Outreach | Chicago, IL | $711,710
City of Chicago | Chicago, IL | $2,870,820
City of Rockford, Illinois | Rockford, IL | $93,083
Lake County, IL | Waukegan, IL | $46,433
Chicago Christian Industrial League | Chicago, IL | $485,830
Chicago Health Outreach, Inc. | Chicago, IL | $212,417
Center for Women in Transition | Champaign, IL | $102,000
Lake County, IL | Waukegan, IL | $100,000
Interfaith Council for the Homeless | Chicago, IL | $624,483
City of Evansville, Indiana | Evansville, IN | $248,459
State of Indiana | Indianapolis, IN | $2,269,320
Lafayette Transitional Housing Center | Lafayette, IN | $312,559
Family & Children's Center Counseling and Development Service | South Bend, IN | $95,063
City of Indianapolis | Indianapolis, IN | $206,038
City of Indianapolis | Indianapolis, IN | $242,466
City of Anderson | Anderson, IN | $306,951
Bridges Community Services, Inc. | Muncie, IN | $277,742
Evansville Goodwill Industries, Inc. | Evansville, IN | $660,400
City of Indianapolis | Indianapolis, IN | $41,076
St. Elizabeth's Regional Maternity Center | New Albany, IN | $561,695
Housing Opportunities, Inc. | Valparaiso, IN | $148,351
City of South Bend Indiana | South Bend, IN | $43,128
Amethyst House | Bloomington, IN | $261,163
City of Bloomington | Bloomington, IN | $353,940
City of Gary d/b/a Edgewater Systems | Gary, IN | $357,068
The Center for the Homeless | South Bend, IN | $295,250
Brothers' Keeper, Inc. | Gary, IN | $225,750
City of Indianapolis | Indianapolis, IN | $204,678
Hope House, Inc. | Ft. Wayne, IN | $64,890
Vincent House, Inc. | Ft. Wayne, IN | $48,451
YWCA of St. Joseph County | South Bend, IN | $165,390
The Center for the Homeless | South Bend, IN | $236,292
City of Indianapolis | Indianapolis, IN | $166,599
City of Indianapolis | Indianapolis, IN | $599,999
Family and Social Services Administration | Indianapolis, IN | $252,000
City of Evansville, Indiana | Evansville, IN | $168,396
City of Indianapolis | Indianapolis, IN | $99,756
City of Gary d/b/a Gary Commission for Women | Gary, IN | $414,200
City of Indianapolis | Indianapolis, IN | $144,664
City of Indianapolis | Indianapolis, IN | $150,860
City of Indianapolis | Indianapolis, IN | $74,550
YWCA of St. Joseph County | South Bend, IN | $36,208
City of Indianapolis | Indianapolis, IN | $180,761
City of Indianapolis | Indianapolis, IN | $293,400
State of Indiana | Indianapolis, IN | $59,400
State of Indiana | Indianapolis, IN | $95,880
Family Services of Delaware Co. Inc. | Muncie, IN | $438,367
Cedars Hope, Inc. | Ft. Wayne, IN | $35,700
City of South Bend Indiana | South Bend, IN | $89,076
City of Indianapolis | Indianapolis, IN | $368,550
City of Indianapolis | Indianapolis, IN | $267,300
City of Indianapolis | Indianapolis, IN | $127,186
City of Indianapolis | Indianapolis, IN | $101,461
United Community Services of Johnson County | Lenexa, KS | $138,555
Housing Authority of Wichita, KS | Wichita, KS | $626,568
Inter-Faith Ministries Wichita, Inc. | Wichita, KS | $414,595
United Methodist Urban Ministry of Wichita, Inc. | Wichita, KS | $269,422
Unified Gov. of Wyandotte County/KC, KS | Kansas City, KS | $56,467
Kansas Legal Services, Inc. | Topeka, KS | $571,824
Unified Gov. of Wyandotte County/KC, KS | Kansas City, KS | $460,125
The Salvation Army, an Illinois Corporation | Lawrence, KS | $66,667
United Methodist Urban Ministry of Wichita, Inc. | Wichita, KS | $168,714
Bert Nash Community Mental Health Center | Lawrence, KS | $31,794
Bert Nash Community Mental Health Center, Inc. | Lawrence, KS | $102,228
Wichita Children's Home | Wichita, KS | $303,658
Inter-Faith Ministries Wichita, Inc. | Wichita, KS | $484,260
Commonwealth of Kentucky | Frankfort, KY | $140,537
Transitions, Incorporated | Bellevue, KY | $710,312
Commonwealth of Kentucky | Frankfort, KY | $90,636
Seven Counties Services, Incorporated | Louisville, KY | $489,178
Choices, Incorporated | Louisville, KY | $105,903
Commonwealth of Kentucky | Frankfort, KY | $500,000
Commonwealth of Kentucky | Frankfort, KY | $312,997
Goodwill Industries of Kentucky | Louisville, KY | $511,195
Interlink Counseling Services, Incorporated | Louisville, KY | $77,868
Commonwealth of Kentucky | Frankfort, KY | $118,992
Jefferson County Fiscal Court, Jefferson County, Kentucky | Louisville, KY | $198,035
Commonwealth of Kentucky | Frankfort, KY | $65,149
Commonwealth of Kentucky | Frankfort, KY | $18,384
Transitions, Incorporated | Bellevue, KY | $500,000
Commonwealth of Kentucky | Frankfort, KY | $570,000
The Center for Women and Families, Incorporated | Louisville, KY | $210,000
Jefferson County Fiscal Court, Jefferson County, Kentucky | Louisville, KY | $465,048
Wayside Christian Mission | Louisville, KY | $75,351
Wayside Christian Mission | Louisville, KY | $444,848
Home of The Innocents | Louisville, KY | $261,500
Commonwealth of Kentucky | Frankfort, KY | $775,000
Commonwealth of Kentucky | Frankfort, KY | $190,744
Commonwealth of Kentucky | Frankfort, KY | $567,787
House of Ruth, Incorporated | Louisville, KY | $213,780
Interlink Counseling Services, Incorporated | Louisville, KY | $119,070
Kentucky Housing Corporation | Frankfort, KY | $252,000
Commonwealth of Kentucky | Frankfort, KY | $235,927
Chrysalis House, Incorporated | Lexington, KY | $201,369
Commonwealth of Kentucky | Frankfort, KY | $90,636
House of Ruth, Incorporated | Louisville, KY | $149,508
Community Action Council for Lexington Fayette | Lexington, KY | $193,226
Commonwealth of Kentucky | Frankfort, KY | $265,991
Commonwealth of Kentucky | Frankfort, KY | $10,862
Kentucky Housing Corporation | Frankfort, KY | $32,057
Commonwealth of Kentucky | Frankfort, KY | $279,795
The Salvation Army | Lexington, KY | $495,639
Commonwealth of Kentucky | Frankfort, KY | $821,802
Interlink Counseling Services, Incorporated | Louisville, KY | $102,816
YWCA of Northeast Louisiana | Monroe, LA | $175,268
Volunteers of America Greater New Orleans, Inc. | New Orleans, LA | $52,500
Southeast Louisiana Hospital | Mandeville, LA | $71,854
Volunteers of America Greater New Orleans, Inc. | New Orleans, LA | $114,754
Lafayette Catholic Service Centers, Incorporated | Lafayette, LA | $107,100
UNITY for the Homeless | New Orleans, LA | $756,506
Southeast Louisiana Hospital | Mandeville, LA | $171,420
Southeast Louisiana Hospital | Mandeville, LA | $499,490
Community Support Programs, Inc. | Shreveport, LA | $301,902
Caddo Parish School Board | Shreveport, LA | $89,237
Iberia Homeless Shelter, Incorporated | New Iberia, LA | $217,245
Volunteers of America of N. LA | Shreveport, LA | $100,736
Catholic Charities Archdiocese of New Orleans | New Orleans, LA | $246,849
Southwest Louisiana Legal Services Society Incorporated | Lake Charles, LA | $36,196
Community Directions, Incorporated | Opelousas, LA | $194,762
Community Directions, Incorporated | Opelousas, LA | $211,999
Shreveport SRO, Inc. | Shreveport, LA | $142,712
Lafayette Catholic Service Centers, Incorporated | Lafayette, LA | $92,925
Grace House of Louisiana, Incorporated | New Orleans, LA | $563,771
St. Mary Community Action Agency, Incorporated | Franklin, LA | $44,652
St. Mary Community Action Agency, Incorporated | Franklin, LA | $64,496
Shreveport SRO, Inc. | Shreveport, LA | $227,816
UNITY for the Homeless | New Orleans, LA | $173,756
START Corporation | Houma, LA | $514,574
Northlake Community Development Corporation | Hammond, LA | $16,170
Gulf Coast Teaching Family Services, Inc. | Gretna, LA | $512,169
YWCA of NorthWest Louisiana, Inc. | Shreveport, LA | $96,394
St. Francis Foundation, Incorporated | Lafayette, LA | $63,000
Hope House of Central Louisiana | Alexandria, LA | $58,245
UNITY for the Homeless | New Orleans, LA | $134,684
Volunteers of America of N. LA | Shreveport, LA | $103,775
UNITY for the Homeless | New Orleans, LA | $567,401
Southeastern Louisiana University | Hammond, LA | $311,028
Gatehouse Foundation, Inc. | Lafayette, LA | $430,574
City of Baton Rouge & Parish of East Baton Rouge | Baton Rouge, LA | $96,642
UNITY for the Homeless | New Orleans, LA | $280,326
UNITY for the Homeless | New Orleans, LA | $383,733
City of Baton Rouge & Parish of East Baton Rouge | Baton Rouge, LA | $96,769
Providence House | Shreveport, LA | $155,555
City of Baton Rouge & Parish of East Baton Rouge | Baton Rouge, LA | $102,558
UNITY for the Homeless | New Orleans, LA | $356,942
UNITY for the Homeless | New Orleans, LA | $320,937
Volunteers of America North Louisiana | Shreveport, LA | $166,993
Providence House | Shreveport, LA | $91,536
Responsibility House | Kenner, LA | $611,717
City of Baton Rouge & Parish of East Baton Rouge | Baton Rouge, LA | $181,648
Community Support Programs, Inc. | Shreveport, LA | $263,209
Lafayette Catholic Service Centers, Incorporated | Lafayette, LA | $168,000
City of Baton Rouge & Parish of East Baton Rouge | Baton Rouge, LA | $82,151
The Lodge, Incorporated of Pennsylvania | Lancaster, LA | $1,103,097
UNITY for the Homeless | New Orleans, LA | $394,598
UNITY for the Homeless | New Orleans, LA | $196,452
UNITY for the Homeless | New Orleans, LA | $209,114
Our Father's Arms | Rayville, LA | $474,715
Housing Authority of the Town of Delhi | Delhi, LA | $134,220
YWCA of Northeast Louisiana | Monroe, LA | $209,052
Louisiana State Department of Health and Hospitals | New Orleans, LA | $777,072
UNITY for the Homeless | New Orleans, LA | $839,267
UNITY for the Homeless | New Orleans, LA | $104,255
Community Support Programs, Inc. | Shreveport, LA | $77,075
City of New Orleans | New Orleans, LA | $396,252
UNITY for the Homeless | New Orleans, LA | $168,261
Shreveport SRO, Inc. | Shreveport, LA | $65,240
City of Springfield, Massachusetts | Springfield, MA | $513,600
Barnestable Housing Authority | Hyannis, MA | $299,040
City of Havenhill | Havenhill, MA | $420,000
Central Massachusetts Housing Alliance | Worcester, MA | $199,399
Massachusetts Department of Mental Health | Hyannis, MA | $170,880
City of Springfield, Massachusetts | Springfield, MA | $265,500
City of New Bedford | New Bedford, MA | $265,079
City of New Bedford | New Bedford, MA | $359,768
City of Worcester | Worcester, MA | $936,453
City of Worcester | Worcester, MA | $228,312
Lynn Housing Authority and Neighborhood Development | Lynn, MA | $498,036
City of Springfield, Massachusetts | Springfield, MA | $64,200
Turner House Living Center for Veterans, Incorporated | Williamstown, MA | $358,266
Community Healthlink, Incorporated | Worcester, MA | $727,859
City of Springfield, Massachusetts | Springfield, MA | $199,846
Construct, Incorporated | Great Barrington, MA | $42,045
City of Springfield, Massachusetts | Springfield, MA | $586,712
City of Springfield, Massachusetts | Springfield, MA | $187,277
Community Healthlink, Incorporated | Worcester, MA | $493,958
Lynn Housing Authority and Neighborhood Development | Lynn, MA | $286,694
Lynn Housing Authority and Neighborhood Development | Lynn, MA | $731,791
City of New Bedford | New Bedford, MA | $817,469
Lynn Housing Authority and Neighborhood Development | Lynn, MA | $591,684
City of Springfield, Massachusetts | Springfield, MA | $188,788
Central Massachusetts Housing Alliance | Worcester, MA | $499,800
Family Life Support Center, Incorporated | North Adams, MA | $136,487
City of Boston | Boston, MA | $509,617
City of Northampton | Northampton, MA | $242,300
City of Boston | Boston, MA | $334,551
City of Boston | Boston, MA | $297,006
City of Boston | Boston, MA | $114,988
City of Boston | Boston, MA | $228,522
City of Boston | Boston, MA | $259,141
City of Boston | Boston, MA | $281,553
City of Boston | Boston, MA | $237,130
City of Boston | Boston, MA | $74,775
City of Boston | Boston, MA | $113,558
City of Boston | Boston, MA | $364,419
City of Boston | Boston, MA | $37,765
City of Boston | Boston, MA | $441,713
City of Boston | Boston, MA | $238,109
City of Boston | Boston, MA | $228,739
City of Boston | Boston, MA | $99,293
City of Boston | Boston, MA | $523,501
City of Boston | Boston, MA | $173,726
City of Boston | Boston, MA | $208,357
City of Boston | Boston, MA | $69,774
City of Boston | Boston, MA | $209,977
City of Boston | Boston, MA | $227,607
City of Northampton | Northampton, MA | $199,569
City of Northampton | Northampton, MA | $104,996
City of Northampton | Northampton, MA | $68,775
City of Northampton | Northampton, MA | $72,450
City of Northampton | Northampton, MA | $80,352
City of Boston | Boston, MA | $83,333
City of Boston | Boston, MA | $145,273
City of Boston | Boston, MA | $101,302
City of Boston | Boston, MA | $232,987
City of Boston | Boston, MA | $528,179
City of Boston | Boston, MA | $50,400
City of Boston | Boston, MA | $233,009
City of Boston | Boston, MA | $126,899
City of Boston | Boston, MA | $183,825
City of Boston | Boston, MA | $88,733
City of Boston | Boston, MA | $141,053
City of Boston | Boston, MA | $40,788
City of Boston | Boston, MA | $49,357
City of Boston | Boston, MA | $271,842
City of Boston | Boston, MA | $123,633
City of Boston | Boston, MA | $114,692
Cambridge Housing Authority | Cambridge, MA | $156,384
City of Cambridge, Massachusetts | Cambridge, MA | $134,280
City of Cambridge, Massachusetts | Cambridge, MA | $58,585
City of Cambridge, Massachusetts | Cambridge, MA | $40,731
City of Cambridge, Massachusetts | Cambridge, MA | $156,885
The City of Quincy | Quincy, MA | $239,497
Quincy Housing Authority | Quincy, MA | $386,640
The City of Quincy | Quincy, MA | $236,250
Quincy Housing Authority | Quincy, MA | $515,520
City of Boston | Boston, MA | $120,342
Central Massachusetts Housing Alliance | Worcester, MA | $266,832
City of Cambridge, Massachusetts | Cambridge, MA | $495,600
City of Cambridge, Massachusetts | Cambridge, MA | $129,492
City of Cambridge, Massachusetts | Cambridge, MA | $102,085
City of Cambridge, Massachusetts | Cambridge, MA | $70,828
City of Cambridge, Massachusetts | Cambridge, MA | $67,200
City of Cambridge, Massachusetts | Cambridge, MA | $32,553
City of Cambridge, Massachusetts | Cambridge, MA | $28,772
City of Cambridge, Massachusetts | Cambridge, MA | $65,281
City of Cambridge, Massachusetts | Cambridge, MA | $73,920
City of Cambridge, Massachusetts | Cambridge, MA | $54,075
City of Boston | Boston, MA | $500,000
City of Boston | Boston, MA | $1,605,828
City of Boston | Boston, MA | $339,016
City of Boston | Boston, MA | $487,502
City of Boston | Boston, MA | $276,067
City of Boston | Boston, MA | $190,575
City of Boston | Boston, MA | $363,384
City of Boston | Boston, MA | $522,779
City of Boston | Boston, MA | $73,500
City of Boston | Boston, MA | $390,379
City of Boston | Boston, MA | $205,920
City of Cambridge, Massachusetts | Cambridge, MA | $83,656
City of Boston | Boston, MA | $1,050,600
City of Cambridge, Massachusetts | Cambridge, MA | $93,916
City of Boston | Boston, MA | $369,336
City of Boston | Boston, MA | $171,600
City of Boston | Boston, MA | $128,928
City of Lowell, Massachusetts | Lowell, MA | $203,747
City of Lowell, Massachusetts | Lowell, MA | $75,717
City of Lowell, Massachusetts | Lowell, MA | $426,345
City of Lowell, Massachusetts | Lowell, MA | $42,341
City of Lowell, Massachusetts | Lowell, MA | $101,640
City of Boston | Boston, MA | $371,971
City of Boston | Boston, MA | $683,148
Wayside Youth and Family Support Network, Incorporated | Framingham, MA | $701,615
Commonwealth of Massachusetts | Boston, MA | $509,284
Commonwealth of Massachusetts | Boston, MA | $441,336
Commonwealth of Massachusetts | Boston, MA | $201,894
Commonwealth of Massachusetts | Boston, MA | $478,652
Commonwealth of Massachusetts | Boston, MA | $183,052
Commonwealth of Massachusetts | Boston, MA | $826,500
Commonwealth of Massachusetts | Boston, MA | $169,560
Brockton Housing Authority | Brockton, MA | $195,000
Somerville Homeless Coalition | Somerville, MA | $496,894
Commonwealth of Massachusetts | Boston, MA | $42,000
CASPAR, Incorporated | Somerville, MA | $242,191
Advocates, Incorporated | Framingham, MA | $495,008
The Second Step, Incorporated | Newtonville, MA | $190,035
The Second Step, Incorporated | Newtonville, MA | $196,982
Brookline Community Mental Health Center | Brookline, MA | $386,208
Turning Point, Incorporated | Newburyport, MA | $338,567
Community Counseling of Bristol County, Incorporated | Taunton, MA | $491,662
Commonwealth of Massachusetts | Boston, MA | $683,904
Advocates, Incorporated | Framingham, MA | $346,168
YWCA of Greater Lawrence | Lawrence, MA | $190,041
Tri-City Housing Task Force for Homeless Families, Incorporated | Malden, MA | $500,000
Tri-City Mental Health and Retardation Center, Incorporated | Medford, MA | $115,670
Tri-City Community Action Program, Incorporated | Malden, MA | $351,928
Tri-City Community Action Program, Incorporated | Malden, MA | $6,730
Emmaus, Incorporated | Haverhill, MA | $67,542
Merrimack Valley YWCA, Incorporated | Lawrence, MA | $162,456
Commonwealth of Massachusetts | Boston, MA | $1,049,999
City of Lawrence | Lawrence, MA | $57,151
Commonwealth of Massachusetts | Boston, MA | $195,004
Advocates, Incorporated | Framingham, MA | $64,497
Advocates, Incorporated | Framingham, MA | $82,215
South Middlesex Legal Services, Incorporated | Framingham, MA | $97,013
Steppingstone, Incorporated | Fall River, MA | $652,953
Residential Care Consortium, Incorporated | Fall River, MA | $186,050
Commonwealth of Massachusetts | Boston, MA | $525,000
Commonwealth of Massachusetts | Boston, MA | $852,297
City of Fall River, Massachusetts | Fall River, MA | $293,376
The Psychological Center | Lawrence, MA | $141,720
City of Northampton | Northampton, MA | $341,250
Action, Incorporated | Gloucester, MA | $240,240
Brockton Coalition for the Homeless, Incorporated | Brockton, MA | $42,169
City of Northampton | Northampton, MA | $94,500
City of Northampton | Northampton, MA | $99,250
City of Northampton | Northampton, MA | $109,453
Emmaus Incorporated | Haverhill, MA | $102,100
Latin American Health Institute, Incorporated | Boston, MA | $123,691
North Shore Community Action Programs | Peabody, MA | $284,821
Brockton Coalition for the Homeless, Incorporated | Brockton, MA | $93,371
Board of Garrett County Commissioners | Oakland, MD | $40,485
Mental Hygiene Administration | Baltimore, MD | $118,080
Washington County Community Action Council Incorporated | Hagerstown, MD | $175,455
Baltimore County Maryland | Baltimore, MD | $327,600
Baltimore County Maryland | Baltimore, MD | $506,743
Advocates for Homeless Families Incorporated | Frederick, MD | $14,772
City of Frederick | Frederick, MD | $135,536
Mental Hygiene Administration | Catonsville, MD | $960,492
Angel's Watch Regional Shelter | Hughesville, MD | $82,391
Somerset County Health Department | Westover, MD | $325,956
Mid-Shore Mental Health Systems Incorporated | Easton, MD | $343,320
National Center for Children and Families | Bethesda, MD | $623,191
Volunteers of America Chesapeake, Inc. | Lanham, MD | $162,225
St. Mary's County Housing Authority | Leonardtown, MD | $107,336
Baltimore City Maryland | Baltimore, MD | $1,177,800
Baltimore City Maryland | Baltimore, MD | $503,489
Mental Hygiene Administration | Catonsville, MD | $87,084
Baltimore City Maryland | Baltimore, MD | $329,200
Harford County Government | Bel Air, MD | $54,930
Allegany Co. HRDC, Inc. | Cumberland, MD | $198,132
Mental Hygiene Administration | Catonsville, MD | $53,664
Mental Hygiene Administration | Catonsville, MD | $103,224
Baltimore County Maryland | Baltimore, MD | $218,400
Mental Hygiene Administration | Catonsville, MD | $76,464
Mental Hygiene Administration | Catonsville, MD | $133,560
Mental Hygiene Administration | Catonsville, MD | $143,688
Mental Hygiene Administration | Catonsville, MD | $122,472
Mental Hygiene Administration | Catonsville, MD | $679,620
Mental Hygiene Administration | Catonsville, MD | $62,556
Laurel Advocacy and Referral Services | Laurel, MD | $119,776
Anne Arundel County, MD | Annapolis, MD | $212,362
Prince George's County Dept. of Soc. Services | Landover, MD | $449,617
Prince George's County Dept. of Soc. Services | Landover, MD | $116,193
St. Mary's County Housing Authority | Leonardtown, MD | $43,192
Nehemiah House Incorporated | Baltimore, MD | $151,473
Rehabilitation System Incorporated | Lanham, MD | $459,285
Harford County Government | Bel Air, MD | $120,441
Baltimore City Maryland | Baltimore, MD | $311,096
Laurel Advocacy and Referral Services | Laurel, MD | $47,265
Baltimore City Maryland | Baltimore, MD | $617,009
Baltimore City Maryland | Baltimore, MD | $110,695
Mental Hygiene Administration | Baltimore, MD | $76,968
Volunteers of America Chesapeake Incorporated | Lanham, MD | $225,114
Young Men's Christian Association of Cumberland Maryland Inc | Cumberland, MD | $223,745
Rehabilitation System Incorporated | Lanham, MD | $64,494
United Communities Against Poverty Incorporated | Capitol Heights, MD | $190,459
Laurel Advocacy and Referral Services | Laurel, MD | $61,963
Montgomery County Coalition for the Homeless | Rockville, MD | $500,961
Baltimore City Maryland | Baltimore, MD | $92,471
Baltimore City Maryland | Baltimore, MD | $273,636
Baltimore City Maryland | Baltimore, MD | $82,920
Howard County Maryland | Columbia, MD | $43,043
Baltimore City Maryland | Baltimore, MD | $33,168
Anne Arundel County, MD | Annapolis, MD | $113,531
City of Gaithersburg | Gaithersburg, MD | $128,247
Baltimore City Maryland | Baltimore, MD | $70,686
Mental Hygiene Administration | Catonsville, MD | $159,732
Mental Hygiene Administration | Catonsville, MD | $610,440
Baltimore City Maryland | Baltimore, MD | $292,089
Mental Hygiene Administration | Catonsville, MD | $185,916
Baltimore City Maryland | Baltimore, MD | $306,804
Catholic Charities of the Archdiocese of Washington | Washington, MD | $235,903
City of Frederick | Frederick, MD | $65,899
Housing Opportunities Commission of Maryland County | Kensington, MD | $79,533
Baltimore City Maryland | Baltimore, MD | $47,040
Baltimore City Maryland | Baltimore, MD | $294,682
Montgomery County Coalition for the Homeless | Rockville, MD | $359,231
Baltimore City Maryland | Baltimore, MD | $290,220
Howard County Maryland | Columbia, MD | $68,736
Baltimore City Maryland | Baltimore, MD | $165,840
Baltimore City Maryland | Baltimore, MD | $90,758
Baltimore City Maryland | Baltimore, MD | $102,606
Baltimore City Maryland | Baltimore, MD | $135,109
Baltimore City Maryland | Baltimore, MD | $300,065
Baltimore City Maryland | Baltimore, MD | $402,120
Housing Opportunities Commission of Maryland County | Kensington, MD | $535,450
Baltimore City Maryland | Baltimore, MD | $117,066
Howard County Maryland | Columbia, MD | $142,796
Anne Arundel County, MD | Annapolis, MD | $502,046
Baltimore City Maryland | Baltimore, MD | $333,312
Howard County Maryland | Columbia, MD | $84,962
Baltimore City Maryland | Baltimore, MD | $248,760
Baltimore City Maryland | Baltimore, MD | $2,842,473
Montgomery County Coalition for the Homeless | Rockville, MD | $823,853
Mental Hygiene Administration | Catonsville, MD | $218,532
Anne Arundel County, MD | Annapolis, MD | $188,940
Baltimore City Maryland | Baltimore, MD | $411,852
Baltimore City Maryland | Baltimore, MD | $265,344
Baltimore City Maryland | Baltimore, MD | $200,088
Anne Arundel County, MD | Annapolis, MD | $258,999
Baltimore City Maryland | Baltimore, MD | $82,920
State of Maine Dept. of Behavioral & Developmental Services | Augusta, ME | $565,320
State of Maine Dept. of Behavioral & Developmental Services | Augusta, ME | $565,680
Creative Housing for Maine People | Sanford, ME | $503,000
Maine Street Housing Authority | Augusta, ME | $161,148
Bread of Life Ministries | Augusta, ME | $200,000
State of Maine, Dept. of Behavioral & Developmental Services | Bangor, ME | $125,580
York County Shelter, Incorporated | Alfred, ME | $449,138
State of Maine, Dept. of Behavioral & Development Services | Augusta, ME | $140,688
City of Bangor Maine | Bangor, ME | $72,678
State of Maine, Dept. of Behavioral & Development Services | Augusta, ME | $243,300
Randall Place Ingraham, Inc. | Portland, ME | $320,242
Portland West, Incorporated | Portland, ME | $70,652
YWCA of Greater Portland Maine, Incorporated | Portland, ME | $130,001
City of Portland, Maine | Portland, ME | $71,640
City of Portland, Maine | Portland, ME | $69,927
City of Bangor Maine | Bangor, ME | $56,448
York-Cumberland Housing Development Corporation | Gorham, ME | $500,000
City of Bangor Maine | Bangor, ME | $144,900
State of Maine Dept. of Behavioral & Developmental Services | Augusta, ME | $705,408
City of Portland, Maine | Portland, ME | $26,639
City of Portland, Maine | Portland, ME | $343,716
City of Portland, Maine | Portland, ME | $84,268
City of Portland, Maine | Portland, ME | $158,032
Maine Street Housing Authority | Augusta, ME | $102,756
State of Maine Dept. of Behavioral & Developmental Services | Augusta, ME | $274,020
City of Bangor Maine | Bangor, ME | $118,422
OHI | Hermon, ME | $135,450
County of Wayne | Detroit, MI | $443,940
Michigan Family Independence Agency | Lansing, MI | $217,208
Siren/Eaton Shelter, Inc. | Charlotte, MI | $200,000
Detroit Central City C.M.H., Incorporated | Detroit, MI | $1,981,134
Housing Services for Eaton County | Charlotte, MI | $282,814
Center for Women in Transition | Holland, MI | $160,428
Good Samaritan Ministries | Holland, MI | $788,220
Community Mental Health Board of Clinton, Eaton and Ingham Counties | Lansing, MI | $99,750
Bay Area Women's Center | Bay City, MI | $106,488
City Of Detroit | Detroit, MI | $87,550
Northpointe Behavioral Healthcare Systems | Kingsford, MI | $63,052
Travelers Aid Society of Metropolitan Detroit | Detroit, MI | $918,428
Mariner's Inn | Detroit, MI | $289,004
City of Detroit | Detroit, MI | $1,057,722
City of Detroit | Detroit, MI | $146,930
City of Detroit | Detroit, MI | $570,820
Washtenaw County, Michigan | Ann Arbor, MI | $234,912
Grand Rapids Housing Commission | Grand Rapids, MI | $119,520
Charlevoix-Emmet Housing Coalition | Walloon Lake, MI | $26,533
County of Wayne | Detroit, MI | $70,875
The Salvation Army | Detroit, MI | $108,743
County of Wayne | Detroit, MI | $142,015
Detroit Rescue Mission Ministries | Detroit, MI | $760,329
Detroit Rescue Mission Ministries | Detroit, MI | $448,503
Coalition on Temporary Shelter | Detroit, MI | $660,686
Travelers Aid Society of Metropolitan Detroit | Detroit, MI | $89,617
American Red Cross Mid-Michigan Chapter | Lansing, MI | $187,618
Detroit Rescue Mission Ministries | Detroit, MI | $625,469
The Salvation Army | Detroit, MI | $1,036,250
Michigan Family Independence Agency | Lansing, MI | $430,684
Freedom House | Detroit, MI | $166,363
Travelers Aid Society of Metropolitan Detroit | Detroit, MI | $854,082
Travelers Aid Society of Metropolitan Detroit | Detroit, MI | $218,768
Travelers Aid Society of Metropolitan Detroit | Detroit, MI | $209,811
Michigan Family Independence Agency | Lansing, MI | $124,142
Coalition on Temporary Shelter | Detroit, MI | $105,546
Wayne-Metropolitan Community Action Agency | Wyandotte, MI | $836,850
Inner City Christian Federation | Grand Rapids, MI | $38,810
Community Rebuilders, Incorporated | Grand Rapids, MI | $260,310
Community Rebuilders, Incorporated | Grand Rapids, MI | $252,840
Dwelling Place of Grand Rapids, Incorporated | Grand Rapids, MI | $52,660
The Recuperation Center, Incorporated | Grand Rapids, MI | $21,315
Community Rebuilders, Incorporated | Grand Rapids, MI | $598,575
The Salvation Army | Grand Rapids, MI | $249,855
YWCA of Grand Rapids | Grand Rapids, MI | $386,579
The Salvation Army | Grand Rapids, MI | $228,488
Heartside Nonprofit Housing Corporation | Grand Rapids, MI | $63,000
Ozone House, Incorporated | Ann Arbor, MI | $329,795
Metro Housing Partnership | Flint, MI | $271,740
Washtenaw County, Michigan | Ann Arbor, MI | $58,920
Wayne-Metropolitan Community Action Agency | Wyandotte, MI | $364,234
Lutheran Social Services of Michigan | Detroit, MI | $33,632
Metro Housing Partnership | Flint, MI | $618,744
Metro Housing Partnership | Flint, MI | $127,833
Metro Housing Partnership | Flint, MI | $136,660
Metro Housing Partnership | Flint, MI | $697,839
Metro Housing Partnership | Flint, MI | $667,800
Community Housing Network, Incorporated | Troy, MI | $635,036
Lighthouse of Oakland County, Incorporated | Pontiac, MI | $294,509
Lighthouse of Oakland County, Incorporated | Pontiac, MI | $608,477
Creative Housing Resources | Clawson, MI | $335,548
Genesis Non-Profit Housing Corporation | Grand Rapids, MI | $26,250
Saginaw Housing Commission | Saginaw, MI | $174,790
Michigan State Housing Development Authority | Lansing, MI | $1,921,500
Livingston County Community Mental Health Services Board | Howell, MI | $200,000
Branch County Coalition Against Domestic Violence | Coldwater, MI | $14,422
Branch County Coalition Against Domestic Violence | Coldwater, MI | $20,700
Community Action Agency | Jackson, MI | $164,800
Florence Crittenton Services | Jackson, MI | $190,182
Homeless Housing Assistance Project of Summit Pointe | Battle Creek, MI | $71,333
Lutheran Social Services of Wisconsin & Upper Michigan, Inc. | Marquette, MI | $104,205
Lutheran Social Services of Wisconsin & Upper Michigan, Inc. | Marquette, MI | $110,112
Goodwill Industries of Northern Michigan, Incorporated | Traverse City, MI | $329,000
Northern Living Non Profit Housing Corporation | Traverse City, MI | $150,850
City of Lansing | Lansing, MI | $856,184
Saginaw Housing Commission | Saginaw, MI | $134,823
City of Lansing | Lansing, MI | $118,003
Saginaw Housing Commission | Saginaw, MI | $189,000
Saginaw Housing Commission | Saginaw, MI | $244,800
SOS Crisis Center, Incorporated | Ypsilanti, MI | $394,732
SOS Crisis Center, Incorporated | Ypsilanti, MI | $1,181,940
SOS Crisis Center, Incorporated | Ypsilanti, MI | $248,415
Avalon Housing, Incorporated | Ann Arbor, MI | $86,534
Michigan Ability Partners | Ann Arbor, MI | $262,500
Michigan Ability Partners | Ann Arbor, MI | $401,552
Washtenaw County, Michigan | Ann Arbor, MI | $193,860
Training and Treatment Innovations | Clawson, MI | $315,554
Michigan State Housing Development Authority | Lansing, MI | $504,000
Lenawee Emergency and Affordable Housing Corporation (LEAHC) | Adrian, MI | $86,511
Arrowhead Economic Opportunity Agency | Virginia, MN | $25,856
Housing Coalition of the Saint Cloud Area | Saint Cloud, MN | $25,965
Cabrini House | Minneapolis, MN | $365,953
Dakota County Community Services | West Saint Paul, MN | $395,767
Dakota County Community Development Agency | Rosemount, MN | $73,224
Pillsbury United Communities | Minneapolis, MN | $1,122,842
Freeport West, Incorporated | Minneapolis, MN | $451,425
Minnesota Department of Children, Families and Learning | Roseville, MN | $45,108
Hennepin County | Minnetonka, MN | $347,549
Resource, Incorporated | Minneapolis, MN | $264,240
Resource, Incorporated | Minneapolis, MN | $321,044
Housing Coalition of the Saint Cloud Area | Saint Cloud, MN | $108,000
Simpson Housing Services, Incorporated | Minneapolis, MN | $88,722
Mental Health Resources, Incorporated | Saint Paul, MN | $198,299
East Metro Women's Council | White Bear Lake, MN | $516,000
Freeport West, Incorporated | Minneapolis, MN | $289,151
Southern Minnesota Legal Services | Saint Paul, MN | $98,960
New Foundations, Incorporated | Saint Paul, MN | $125,000
Amherst H. Wilder Foundation | Saint Paul, MN | $1,061,677
Catholic Charities of the Archdiocese of Saint Paul and Minn | Minneapolis, MN | $584,242
New Foundations, Incorporated | Saint Paul, MN | $195,946
Central Community Housing Trust of Minneapolis | Minneapolis, MN | $285,305
Mental Health Resources, Incorporated | Saint Paul, MN | $200,123
Central Community Housing Trust of Minneapolis | Minneapolis, MN | $77,005
Mental Health Resources, Incorporated | Saint Paul, MN | $152,410
Theresa Living Center | Saint Paul, MN | $96,193
Zion Originated Outreach Ministry | Minneapolis, MN | $260,111
Face to Face Health and Counseling Services, Incorporated | Saint Paul, MN | $109,126
Ramsey County | Saint Paul, MN | $513,360
Metropolitan Council | Saint Paul, MN | $122,244
Minnesota Department of Children, Families and Learning | Roseville, MN | $186,942
Emma Norton Services | Saint Paul, MN | $81,171
Housing and Redevelopment Authority of Duluth | Duluth, MN | $64,176
Minnesota Department of Children, Families and Learning | Roseville, MN | $424,610
Arrowhead Economic Opportunity Agency | Virginia, MN | $153,429
Human Development Center | Duluth, MN | $129,780
Range Transitional Housing, Incorporated | Virginia, MN | $269,532
Women's Transitional Housing Coalition, Incorporated | Duluth, MN | $263,284
Worthington Housing and Redevelopment Authority, Western Co | Worthington, MN | $205,800
American Indian Community Housing Organization | Duluth, MN | $122,862
Human Services, Incorporated, in Washington County | Oakdale, MN | $250,000
Three Rivers Community Action, Incorporated | Zumbrota, MN | $158,912
Renville County HRA/EDA | Olivia, MN | $439,779
American Indian Housing & Community Development Corporation | Minneapolis, MN | $81,111
Bi-County Community Action Programs, Incorporated | Bemidji, MN | $56,167
People, Inc. | St. Paul, MN | $126,000
Metropolitan Council | Saint Paul, MN | $767,484
Range Transitional Housing, Incorporated | Virginia, MN | $199,201
Lutheran Social Service of Minnesota | Minneapolis, MN | $32,272
Housing Coalition of the Saint Cloud Area | Saint Cloud, MN | $247,088
Tri-Valley Opportunity Council, Incorporated | Crookston, MN | $308,868
Northwoods Coalition for Battered Women | Bemidji, MN | $215,967
Hennepin County | Minnetonka, MN | $489,873
Alliance Housing Incorporated | Minneapolis, MN | $664,860
Housing and Redevelopment Authority of Virginia Minnesota | Virginia, MN | $443,280
Elim Transitional Housing, Incorporated | Columbia Heights, MN | $87,488
Churches United in Ministry | Duluth, MN | $90,300
Elim Transitional Housing, Incorporated | Columbia Heights, MN | $35,781
Rise, Incorporated | Spring Lake Park, MN | $58,004
Metropolitan Council | Saint Paul, MN | $95,292
Minnesota Department of Children, Families and Learning | Roseville, MN | $285,997
Scott-Carver-Dakota CAP Agency | Shakopee, MN | $93,608
Scott-Carver-Dakota CAP Agency | Shakopee, MN | $104,018
Lutheran Social Service of Minnesota | Minneapolis, MN | $500,000
SAVE, Incorporated | Kansas City, MO | $603,461
City of St. Louis | St. Louis, MO | $1,305,906
The Salvation Army | Springfield, MO | $148,882
City of St. Louis | St. Louis, MO | $219,345
City of St. Louis | St. Louis, MO | $303,268
City of St. Louis | St. Louis, MO | $523,285
City of St. Louis | St. Louis, MO | $609,445
Economic Security Corporation of Southwest Area | Joplin, MO | $37,426
City of St. Louis | St. Louis, MO | $478,107
Housing Authority of the City of Springfield | Springfield, MO | $35,112
City of St. Louis | St. Louis, MO | $659,789
City of St. Louis | St. Louis, MO | $168,875
City of St. Joseph | St. Joseph, MO | $141,509
City of St. Louis | St. Louis, MO | $1,294,165
City of St. Louis | St. Louis, MO | $401,173
City of St. Louis | St. Louis, MO | $634,019
City of St. Louis | St. Louis, MO | $543,567
City of St. Louis | St. Louis, MO | $160,604
Model Cities Health Corporation of K.C. | Kansas City, MO | $615,331
Family Self-Help Center, Incorporated | Joplin, MO | $63,000
Jasper County Public Housing Authority | Jasper, MO | $197,460
The Salvation Army | Joplin, MO | $80,000
Economic Security Corporation of Southwest Area | Joplin, MO | $68,603
Budget and Financial Management Assistance | Kansas City, MO | $365,000
Mid America Assistance Coalition | Kansas City, MO | $24,000
The Kitchen Incorporated | Springfield, MO | $393,750
reStart Incorporated | Kansas City, MO | $679,000
Saint Louis County Government | Clayton, MO | $215,572
Housing Authority of the City of Columbia, Missouri | Columbia, MO | $225,528
Saint Louis County Government | Clayton, MO | $105,083
Saint Louis County Government | Clayton, MO | $152,174
Saint Louis County Government | Clayton, MO | $195,568
Saint Louis County Government | Clayton, MO | $153,262
Mental Health Association of the Heartland | Kansas City, MO | $192,299
Rose Brooks Center, Incorporated | Kansas City, MO | $610,830
The Kansas City Metropolitan Lutheran Ministry | Kansas City, MO | $761,000
City of St. Louis | St. Louis, MO | $723,033
Community Services League | Independence, MO | $169,491
Families Assisted in Transitional Housing (F.A.I.T.H., Inc.) | Clinton, MO | $43,648
City of Natchez | Natchez, MS | $937,666
The Salvation Army, A Georgia Corporation | Jackson, MS | $157,600
Hinds County, MS | Jackson, MS | $277,860
Hinds County Human Resource Agency | Jackson, MS | $118,650
New Dimensions Development Foundation | Jackson, MS | $345,000
Recovery House, Inc. | Columbus, MS | $367,500
Bolivar County Community Action Program, Inc. | Cleveland, MS | $1,575,000
Sanctuary Hospice House, Incorporated | Tupelo, MS | $918,750
New Life For Women, Incorporated | Jackson, MS | $400,000
Lett & Associates Cross, Incorporated | Moss Point, MS | $88,032
South Mississippi Aids Task Force | Biloxi, MS | $385,497
Supporters of Abuse Free Environments, Incorporated | Hamilton, MT | $107,100
District XII Human Resources Council | Butte, MT | $272,878
Missoula Housing Authority | Missoula, MT | $577,800
County of Missoula | Missoula, MT | $184,737
God's Love Incorporated | Helena, MT | $451,411
Sanders County Coalition for Families | Thompson Falls, MT | $113,927
Missoula Housing Authority | Missoula, MT | $259,680
Helena Housing Authority | Helena, MT | $70,056
City of Winston-Salem | Winston-Salem, NC | $90,511
City of Winston-Salem | Winston-Salem, NC | $98,123
City of Winston-Salem | Winston-Salem, NC | $70,206
The Carying Place, Incorporated | Cary, Wake, NC | $92,000
Community Link Programs of Travelers Aid | Charlotte, NC | $70,341
Pan Lutheran Ministries of Wake County, Incorporated | Raleigh, NC | $51,264
City of Winston-Salem | Winston-Salem, NC | $56,829
City of Winston-Salem | Winston-Salem, NC | $49,614
Wake County Human Services | Raleigh, NC | $103,296
City of Winston-Salem | Winston-Salem, NC | $37,309
Passage Home, Incorporated | Raleigh, NC | $220,615
City of Winston-Salem | Winston-Salem, NC | $46,475
The Servant Center, Incorporated | Greensboro, NC | $225,750
Genesis Home | Durham, NC | $349,999
Mecklenburg County Area MH, DD and SA Authority | Charlotte, NC | $759,120
City of Winston-Salem | Winston-Salem, NC | $14,663
Community Alternatives for Supportive Abodes | Raleigh, NC | $499,989
City of Winston-Salem | Winston-Salem, NC | $31,500
OASIS, Incorporated | Boone, NC | $10,150
The High Point Housing Coalition, Incorporated | High Point, NC | $41,250
City of Winston-Salem | Winston-Salem, NC | $47,545
Affordable Housing Coalition of Asheville/Buncombe County, | Asheville, NC | $263,137
Family Service of the Piedmont, Incorporated | High Point, NC | $47,293
Telamon Corporation | Raleigh, NC | $78,994
Neuse Center Area MH/DD/SAS Authority | New Bern, NC | $107,064
Mary's House, Incorporated | Greensboro, NC | $135,982
Greensboro Urban Ministry | Greensboro, NC | $42,000
Greensboro Urban Ministry | Greensboro, NC | $36,750
The Salvation Army, A Georgia Corporation | Charlotte, NC | $226,646
Inter-Faith Council for Social Services | Carrboro, NC | $525,000
Wake County Human Services | Raleigh, NC | $47,808
The Servant Center, Incorporated | Greensboro, NC | $59,481
Haven House, Incorporated | Raleigh, NC | $31,147
City of Winston-Salem | Winston-Salem, NC | $57,750
Blue Ridge Authority | Asheville, NC | $180,408
The Christian Counseling and Wellness Group, Incorporated | Greensboro, NC | $88,007
Orange-Person-Chatham MH, DD & SA Authority | Carrboro, NC | $103,296
Community Alternatives for Supportive Abodes | Raleigh, NC | $376,496
Passage Home, Incorporated | Raleigh, NC | $190,890
Cumberland County, North Carolina | Fayetteville, NC | $515,256
Pan Lutheran Ministries of Wake County, Incorporated | Raleigh, NC | $31,068
Wake County Human Services | Raleigh, NC | $205,008
Inter-Faith Council for Social Services | Carrboro, NC | $103,000
Hope Haven, Incorporated | Charlotte, NC | $53,980
Community Link Programs of Travelers Aid | Charlotte, NC | $154,342
Caring Services, Incorporated | High Point, NC | $111,503
Pathways Services, Incorporated | Gastonia, NC | $279,731
Gaston County Interfaith Hospitality Network, Incorporated | Gastonia, NC | $38,850
Mecklenburg County Area MH, DD and SA Authority | Charlotte, NC | $299,316
Hope Haven, Incorporated | Charlotte, NC | $53,662
Hospitality House of Asheville, Incorporated | Asheville, NC | $182,886
Housing Authority of the City of Asheville | Asheville, NC | $251,940
Gateway Church | Wilmington, NC | $250,079
Mecklenburg County Area MH, DD and SA Authority | Charlotte, NC | $391,668
Pathways Services, Incorporated | Gastonia, NC | $296,160
CenterPoint Human Services | Winston-Salem, NC | $189,240
Next Step Ministries, Incorporated | Kernersville, NC | $37,800
Hope Haven, Incorporated | Charlotte, NC | $63,000
Hope Haven, Incorporated | Charlotte, NC | $52,867
The Salvation Army, A Georgia Corporation | High Point, NC | $28,692
Mecklenburg County Area MH, DD and SA Authority | Charlotte, NC | $316,764
Pathways Services, Incorporated | Gastonia, NC | $74,040
The Housing Authority of the City of Durham | Durham, NC | $217,560
Mecklenburg County Health Department | Charlotte, NC | $145,136
First Fruit Ministries | Wilmington, NC | $104,279
CenterPoint Human Services | Winston-Salem, NC | $280,320
Open Door Ministries of High Point, Incorporated | High Point, NC | $106,065
Rehab Services, Incorporated | Minot, ND | $309,490
Fargo Housing & Redevelopment Authority | Fargo, ND | $189,468
Prairie Harvest Human Services Foundation | Grand Forks, ND | $170,000
North Dakota Division of Community Services | Bismarck, ND | $60,000
Grand Lodge of North Dakota, Independent Order of Odd Fellow | Devils Lake, ND | $350,025
North Dakota Division of Community Services | Bismarck, ND | $517,200
Women's Alliance, Incorporated | Dickinson, ND | $112,801
CenterPointe, Incorporated | Lincoln, NE | $443,273
City of Omaha | Omaha, NE | $83,231
Mid-Nebraska Community Action, Incorporated | Kearney, NE | $90,717
City of Omaha | Omaha, NE | $125,382
City of Omaha | Omaha, NE | $153,646
City of Omaha | Omaha, NE | $116,040
City of Omaha | Omaha, NE | $625,778
City of Omaha | Omaha, NE | $114,111
City of Omaha | Omaha, NE | $293,390
City of Omaha | Omaha, NE | $214,571
City of Omaha | Omaha, NE | $160,564
City of Omaha | Omaha, NE | $162,628
CenterPointe, Incorporated | Lincoln, NE | $187,612
Catholic Social Services | Lincoln, NE | $93,683
Saint Monica's | Lincoln, NE | $140,456
Blue Valley Community Action | Fairbury, NE | $390,684
Lincoln Action Program, Incorporated | Lincoln, NE | $449,539
CEDARS Youth Services | Lincoln, NE | $130,707
Greater Nashua Council on Alcoholism, Incorporated | Nashua, NH | $60,083
The Way Home, Incorporated | Manchester, NH | $189,000
State of New Hampshire | Concord, NH | $52,170
On the Road to Recovery, Incorporated | Manchester, NH | $158,508
State of New Hampshire | Concord, NH | $500,640
Families in Transition | Manchester, NH | $498,750
State of New Hampshire | Concord, NH | $139,815
Harbor Homes, Incorporated | Nashua, NH | $162,852
Harbor Homes, Incorporated | Nashua, NH | $58,481
Harbor Homes, Incorporated | Nashua, NH | $59,546
Southern New Hampshire Services, Inc. | Manchester, NH | $30,736
Families in Transition | Manchester, NH | $132,001
State of New Hampshire | Concord, NH | $16,695
Harbor Homes, Incorporated | Nashua, NH | $100,929
My Friend 's Place | Dover, NH | $54,240
Behavioral Health & Developmental Services of Strafford Co. | Dover, NH | $136,967
Southern New Hampshire Services, Incorporated | Manchester, NH | $112,905
Tri-County Community Action Program, Incorporated | Berlin, NH | $188,568
State of New Hampshire | Concord, NH | $395,003
Drenk Behavioral Health Center | Mount Holly, NJ | $15,000
Homeless Solutions Incorporation | Morristown, NJ | $396,965
New Jersey Department of Community Affairs | Trenton, NJ | $472,800
Family Service | Mount Holly, NJ | $40,000
Catholic Charities Diocese of Trenton | Trenton, NJ | $69,218
City of Trenton | Trenton, NJ | $136,668
City of Trenton | Trenton, NJ | $176,448
Catholic Charities, Diocese of Trenton | Trenton, NJ | $77,980
Catholic Charities, Inc. | Trenton, NJ | $45,797
Alliance Against Homelessness of Bergen County, Incorporated | Dumont, NJ | $266,403
Catholic Charities, Diocese of Camden | Pennsauken, NJ | $175,000
County of Union, Department of Human Services | Elizabeth, NJ | $57,902
Mental Health Association of Morris County, Inc. | Madison, NJ | $60,060
County of Union, Department of Human Services | Elizabeth, NJ | $59,465
Isaiah House | East Orange, NJ | $132,390
HABcore, Incorporated | Red Bank, NJ | $582,416
Easter Seals New Jersey | East Brunswick, NJ | $36,368
Bergen County Department of Human Services | Hackensack, NJ | $318,945
Bergen County Community Action Program, Incorporated | Hackensack, NJ | $223,611
Catholic Charities Diocese of Trenton | Trenton, NJ | $69,292
Cerebral Palsy of Monmouth and Ocean Counties, Incorporated | Wanamassa, NJ | $28,348
Grace Reformed Baptist Church | Newark, NJ | $445,750
South Jersey Behavioral Health Res. | Camden, NJ | $99,178
The Salvation Army | Perth Amboy, NJ | $330,000
Newark Emergency Services for Families, Incorporation | Newark, NJ | $495,936
Hispanic Multi-Purpose Service Center | Paterson, NJ | $108,802
The Apostles' House | Newark, NJ | $295,989
Strengthen Our Sisters | Hewitt, NJ | $700,000
Easter Seals New Jersey | Verona, NJ | $450,975
Urban Renewal Corporation | Newark, NJ | $262,500
Center for Family Services, Incorporated | Camden, NJ | $97,800
Homeless Solutions Incorporation | Morristown, NJ | $219,400
Interfaith Homeless Outreach Council | Cherry Hill, NJ | $27,148
Homeless Solutions Incorporation | Morristown, NJ | $64,300
NJ Department of Military & Veterans Affairs | Trenton, NJ | $354,313
Isaiah House | East Orange, NJ | $615,972
Volunteers of America Delaware Valley, Incorporated | Collingswood, NJ | $310,238
Isaiah House | East Orange, NJ | $134,823
Positive Health Care, Incorporated | Newark, NJ | $828,345
AIDS Coalition of Southern New Jersey | Bellmawr, NJ | $23,734
Our Lady of Lourdes Health Foundation, Incorporated | Camden, NJ | $256,711
Dooley House, Inc. | Camden, NJ | $500,000
Shelter Our Sisters | Hackensack, NJ | $71,943
Urban Renewal Corporation | Newark, NJ | $170,100
Alliance Against Homelessness of Bergen County, Incorporated | Dumont, NJ | $303,119
County of Monmouth | Freehold, NJ | $170,664
New Jersey Department of Community Affairs | Trenton, NJ | $1,221,360
Fairmount Housing Corporation | Jersey City, NJ | $1,262,210
180, Turning Lives Around, Incorporated | Hazlet, NJ | $856,318
Respond, Incorporated | Camden, NJ | $64,459
Counseling and Referral Services of Ocean, Incorporated | Brick, NJ | $472,830
Volunteers of America Delaware Valley, Incorporated | Collingswood, NJ | $608,930
Shelter Our Sisters | Hackensack, NJ | $342,853
Catholic Community Services | Newark, NJ | $785,255
Urban Renewal Corporation | Newark, NJ | $475,473
DACKKs Group for Supportive Housing Development, Inc. | Ramsey, NJ | $673,928
O.C.E.A.N., Incorporated | Toms River, NJ | $535,500
Urban Renewal Corporation | Newark, NJ | $315,000
Middlesex Interfaith Partners with the Homeless (MIPH) | New Brunswick, NJ | $171,256
Integrity, Incorporation | Newark, NJ | $400,000
NJ HOME (A subsidiary of Paterson Coalition for Housing, In | Paterson, NJ | $840,000
Cape Counseling Services, Incorporated | Cape May Court House, NJ | $358,730
City of East Orange | East Orange, NJ | $1,064,160
WomenRising, Inc. (fka-YWCA of Hudson County) | Jersey City, NJ | $644,268
City of Albuquerque | Albuquerque, NM | $838,467
City of Albuquerque | Albuquerque, NM | $223,710
Albuquerque Mental Health Housing Coalition | Albuquerque, NM | $482,380
Catholic Charities of Central New Mexico | Albuquerque, NM | $197,868
Esperanza Shelter for Battered Families, Inc. | Santa Fe, NM | $189,000
The Dharma Foundation III, Incorporated | Taos, NM | $234,411
Catholic Charities of Central New Mexico | Albuquerque, NM | $241,154
Casa Milagro | Santa Fe, NM | $246,750
Transitional Living Services, Inc. (TLC) | Albuquerque, NM | $276,300
Hacienda Del Sol | Las Cruces, NM | $367,603
Barrett Foundation, Incorporated | Albuquerque, NM | $23,780
Catholic Charities of Central New Mexico | Albuquerque, NM | $51,371
Albuquerque Health Care f/t Homeless, Inc. | Albuquerque, NM | $135,267
St. Martin's Hospitality Center | Albuquerque, NM | $115,500
City of Santa Fe | Santa Fe, NM | $170,232
South Western Advocates 4 Kids | Silver City, NM | $317,414
City of Albuquerque | Albuquerque, NM | $231,972
Barrett Foundation, Incorporated | Albuquerque, NM | $97,447
Women's Community Association | Albuquerque, NM | $42,097
El Refugio, Incorporated | Silver City, NM | $198,450
City of Albuquerque | Albuquerque, NM | $784,536
St. Elizabeth Shelter | Santa Fe, NM | $189,598
Eastern Plains Council of Government | Clovis, NM | $510,120
City of Santa Fe | Santa Fe, NM | $99,636
Transitional Living Services, Inc. (TLC) | Albuquerque, NM | $105,000
The Salvation Army, A California Corporation | Las Vegas, NV | $972,640
Southern Nevada Adult Mental Health Services | Las Vegas, NV | $849,420
The Salvation Army, A California Corporation | Las Vegas, NV | $682,399
Churchill County Social Services | Fallon, NV | $250,851
State of Nevada | Carson City, NV | $610,740
Restart, Incorporated | Reno, NV | $325,401
Northern Nevada Community Housing Resource Board | Reno, NV | $325,047
State of Nevada | Carson City, NV | $364,332
State of Nevada | Carson City, NV | $179,412
Circulo De La Hispanidad, Incorporated | Long Beach, NY | $133,424
New York State Office of Mental Health | Albany, NY | $183,792
New York State Office of Mental Health | Albany, NY | $135,806
New York State Office of Mental Health | Albany, NY | $245,232
Community Housing Innovations, Incorporated | White Plains, NY | $333,373
Nassau-Suffolk Coalition for the Homeless, Incorporated | Garden City, NY | $403,200
City of Troy | Troy, NY | $181,757
The Municipal Housing Authority for the City of Yonkers | Yonkers, NY | $150,000
Nassau County Coalition Against Domestic Violence | Hempstead, NY | $147,498
Nassau County Coalition Against Domestic Violence | Hempstead, NY | $113,341
New York State Office of Mental Health | Albany, NY | $130,824
Federation Employment and Guidance Service, Incorporated | Syosset, NY | $214,840
Nassau/Suffolk Law Services Committee, Incorporated | Hemstead, NY | $194,670
YWCA of WNY | Buffalo, NY | $582,402
New York State Office of Mental Health | Albany, NY | $111,072
City of Mount Vernon | Mount Vernon, NY | $22,278
Multi-Talents, Inc. | West Hempstead, NY | $167,480
Corporation for AIDS Research, Education and Services | Albany, NY | $75,000
Joseph's House and Shelter, Inc. | Troy, NY | $166,474
Society of St. Vincent de Paul, Diocesan Council, Rockville | Bethpage, NY | $1,099,998
Restoration Society, Inc. | Buffalo, NY | $200,227
Southern Tier Environments for Living Incorporated, (STEL) | Chautauqua, NY | $57,443
City of Mount Vernon | Mount Vernon, NY | $171,675
Options for Community Living, Inc. | Smithtown, NY | $1,098,308
The Municipal Housing Authority for the City of Yonkers | Yonkers, NY | $54,100
The Municipal Housing Authority for the City of Yonkers | Yonkers, NY | $61,240
City of Schenectady | Schenectady, NY | $90,360
The Municipal Housing Authority for the City of Yonkers | Yonkers, NY | $60,667
City of Troy | Troy, NY | $168,582
Neighborhood Legal Services, Incorporated | Buffalo, NY | $232,430
FLARE (Fillmore-Leroy Area Residents, Inc.) | Buffalo, NY | $202,254
Westchester DCMH | White Plains, NY | $254,724
City of Mount Vernon | Mount Vernon, NY | $45,894
The Municipal Housing Authority for the City of Yonkers | Yonkers, NY | $175,530
Westchester DCMH | White Plains, NY | $183,600
Westchester DCMH | White Plains, NY | $255,816
Westchester DCMH | White Plains, NY | $171,984
Child and Family Services of Erie County | Buffalo, NY | $724,040
Westchester DCMH | White Plains, NY | $208,080
Westchester DCMH | White Plains, NY | $263,568
Erie County Department of Mental Health | Buffalo, NY | $612,341
Westchester DCMH | White Plains, NY | $203,160
State of New York | Albany, NY | $228,000
County of Westchester | White Plains, NY | $30,000
The Salvation Army of Greater New York | New York, NY | $54,075
Planned Parenthood of Buffalo & Erie County | Buffalo, NY | $204,822
New York State Office of Mental Health | Albany, NY | $88,500
New York State Office of Mental Health | Albany, NY | $1,128,600
New York State Office of Mental Health | Albany, NY | $150,480
City of Mount Vernon | Mount Vernon, NY | $21,000
City of Mount Vernon | Mount Vernon, NY | $257,160
Interfaith Hospitality Network, Inc. | Buffalo, NY | $68,625
State of New York | Albany, NY | $76,164
Greater Refuge Temple of Christ | Buffalo, NY | $1,269,348
Tompkins County Department of Social Services | Ithaca, NY | $250,000
Westchester DCMH | White Plains, NY | $231,588
County of Westchester | White Plains, NY | $299,999
Corporation for AIDS Research, Education and Services | Albany, NY | $50,000
State of New York | Albany, NY | $112,164
State of New York | Albany, NY | $96,144
YWCA of the Tonawandas | North Tonawanda, NY | $231,363
YWCA of Binghamton/Broome County | Binghamton, NY | $479,013
YWCA of Binghamton/Broome County | Binghamton, NY | $297,224
Gateway Community Industries, Incorporated | Kingston, NY | $89,001
County of Ulster | Kingston, NY | $274,998
State of NY, OASAS | Albany, NY | $153,168
Gerard Place HDFC, Inc. | Buffalo, NY | $533,729
Unity House of Troy, Incorporated | Troy, NY | $555,961
City of Buffalo, WNY Veterans Housing Coalition, Inc. | Buffalo, NY | $209,508
County of Westchester | White Plains, NY | $256,856
Hospital Audiences, Inc. | New York, NY | $166,653
Housing Works, Inc. | New York, NY | $667,269
HELP Social Service Corporation | New York, NY | $711,405
Bronx Addiction Services Integrated Concepts Systems, Inc. | Bronx, NY | $706,416
Association to Benefit Children | New York, NY | $231,414
VIP Community Services, Inc. | Bronx, NY | $180,033
Community Counseling and Mediation Services | Brooklyn, NY | $477,905
West End Intergenerational Residence, HDEC, Inc. | New York, NY | $267,216
Goddard Riverside Community Center | New York, NY | $188,466
SoHo Partnership | New York, NY | $165,736
HELP Social Service Corporation | New York, NY | $660,660
Covenant House/Under 21, Inc. | New York, NY | $143,360
Women In Need, Inc. | New York, NY | $582,132
Westside Federation for Senior and Supportive Housing, Inc. | New York, NY | $220,412
VIP Community Services, Inc. | Bronx, NY | $278,855
Argus Community, Inc. | Bronx, NY | $739,472
University Consultation and Treatment Center | Bronx, NY | $489,999
HELP Social Service Corporation | New York, NY | $356,269
Covenant House/Under 21 | New York, NY | $1,189,084
The Salvation Army | Rochester, NY | $890,823
Jericho Project, Inc. | New York, NY | $99,342
Safe Space NYC, Inc. | New York, NY | $225,565
Housing Works, Inc. | New York, NY | $939,072
Covenant House/Under 21, Inc. | New York, NY | $504,647
Bowery Residents' Committee, Inc. | New York, NY | $497,954
Care for the Homeless | New York, NY | $349,916
Institute for Community Living, Inc. | New York, NY | $631,575
Nazareth Housing, Inc. | New York, NY | $34,257
American Red Cross in Greater New York | New York, NY | $292,116
Institute for Community Living, Inc. | New York, NY | $218,637
Health Industry Resources Enterprise, Inc. | New York, NY | $1,271,258
Banana Kelly Community Improvement Association | Bronx, NY | $753,482
Anchor House, Inc. | Brooklyn, NY | $481,296
Urban Pathways, Inc. | New York, NY | $174,675
Support for Training & Educational Program Services | New York, NY | $143,396
Westside Federation for Senior and Supportive Housing, Inc. | New York, NY | $724,394
Heritage Health and Housing, Inc. | New York, NY | $328,595
Brooklyn Bureau of Community Service | Brooklyn, NY | $904,618
Project Renewal, Incorporated | New York, NY | $670,770
Covenant House/Under 21, Incorporated | New York, NY | $299,112
The Doe Fund, Inc. | New York, NY | $1,642,740
The Doe Fund, Inc. | New York, NY | $512,952
The Doe Fund, Inc. | New York, NY | $908,676
Urban Justice Center | New York, NY | $34,246
Urban Justice Center | New York, NY | $108,466
Henry Street Settlement | New York, NY | $200,022
El Regreso Foundation, Inc. | Brooklyn, NY | $507,710
Henry Street Settlement | New York, NY | $501,677
Urban Pathways, Inc. | New York, NY | $714,905
Project Renewal, Incorporated | New York, NY | $553,417
Center for Urban Community Services, Incorporated | New York, NY | $298,737
Rochester Housing Authority | Rochester, NY | $315,600
Health Industry Resources Enterprises, Incorporated | New York, NY | $1,326,429
The Citizens Advice Bureau, Incorporated | Bronx, NY | $1,200,000
State of New York | Albany, NY | $978,000
The Educational Alliance, Inc. | New York, NY | $448,421
Women In Need, Incorporated | New York, NY | $288,206
County of Dutchess | Poughkeepsie, NY | $341,640
United Bronx Parents, Inc. | Bronx, NY | $839,057
Services for the Underserved Mental Health Programs, Inc. | New York, NY | $257,040
Services for the Underserved Mental Health Programs, Inc. | New York, NY | $527,258
Services for the Underserved Mental Health Programs, Inc. | New York, NY | $182,154
Homes for the Homeless, Inc. | New York, NY | $145,872
Homes for the Homeless, Inc. | New York, NY | $538,832
Goddard Riverside Community Center | New York, NY | $339,288
Federation Employment and Guidance Service, Incorporated | Syosset, NY | $233,354
Covenant House/Under 21, Incorporated | New York, NY | $717,646
Project Return Foundation, Incorporated | New York, NY | $985,660
Community Action for Human Services, Inc. | Bronx, NY | $258,416
Community Action for Human Services, Inc. | Bronx, NY | $872,482
The Citizens Advice Bureau, Inc. | Bronx, NY | $601,332
New York State Office of Mental Health | Albany, NY | $480,638
The Bridge, Inc. | New York, NY | $1,076,585
The Bridge, Inc. | New York, NY | $224,325
Homes for the Homeless, Inc. | New York, NY | $261,916
State of New York | Albany, NY | $174,144
State of New York | Albany, NY | $139,704
State of New York | Albany, NY | $322,608
State of New York | Albany, NY | $553,104
State of New York | Albany, NY | $238,344
State of New York | Albany, NY | $108,840
State of New York | Albany, NY | $98,976
Bowery Residents' Committee, Inc. | New York, NY | $511,358
State of New York | Albany, NY | $171,324
State of New York | Albany, NY | $161,304
State of New York | Albany, NY | $58,680
State of New York | Albany, NY | $80,448
State of New York | Albany, NY | $153,396
State of New York | Albany, NY | $174,144
State of New York | Albany, NY | $106,632
State of New York | Albany, NY | $156,120
State of New York | Albany, NY | $263,232
State of New York | Albany, NY | $159,660
New York State Office of Mental Health | Albany, NY | $88,020
New York State Office of Mental Health | Albany, NY | $195,600
State of New York | Albany, NY | $142,980
The Doe Fund, Incorporated | New York, NY | $332,500
State of New York | Albany, NY | $364,584
Brooklyn Community Housing & Services, Inc. | Brooklyn, NY | $783,835
The Doe Fund, Incorporated | New York, NY | $492,996
St. John's Place Family Center, HDFC | Brooklyn, NY | $955,038
H.O.M.E.E. Clinic, Inc. | Bronx, NY | $263,874
State of New York | Albany, NY | $105,396
Commond Ground Job Training Corp. | New York, NY | $244,858
State of New York | Albany, NY | $124,188
New York State Office of Mental Health | Albany, NY | $426,528
New York State Office of Mental Health | Albany, NY | $128,400
New York State Office of Mental Health | Albany, NY | $563,832
New York State Office of Mental Health | Albany, NY | $282,156
New York State Office of Mental Health | Albany, NY | $361,140
State of New York | Albany, NY | $89,700
State of New York | Albany, NY | $1,956,000
New York State Office of Mental Health | Albany, NY | $216,576
Crystal Run Village, Inc. | Middletown, NY | $74,811
State of New York | Albany, NY | $94,512
Brooklyn Community Housing & Services | Brooklyn, NY | $153,867
Urban Pathways, Inc. | New York, NY | $148,109
New York State Office of Mental Health | Albany, NY | $69,816
New York State Office of Mental Health | Albany, NY | $48,312
American Red Cross in Greater New York | New York, NY | $201,241
Argus Community, Inc. | Bronx, NY | $740,560
Project Return Foundation, Inc. | New York, NY | $565,580
Crystal Run Village, Inc. | Middletown, NY | $157,500
United Bronx Parents, Inc. | Bronx, NY | $248,975
Project Return Foundation, Inc. | New York, NY | $531,448
Crystal Run Village, Inc. | Middletown, NY | $245,522
Project Return Foundation, Inc. | New York, NY | $916,484
Federation Employment and Guidance Service, Inc. | New York, NY | $85,729
County of Dutchess | Poughkeepsie, NY | $294,840
County of Dutchess | Poughkeepsie, NY | $42,183
County of Dutchess | Poughkeepsie, NY | $18,385
Crystal Run Village, Inc. | Middletown, NY | $254,804
Phase: Piggy Back, Inc. | New York, NY | $137,118
Columba Kavanagh House, Inc. | New York, NY | $765,358
Goodwill Industries of Greater NY & Northern NJ, Inc. | Astoria, NY | $420,971
NYC Department of Housing Preservation and Development | New York, NY | $2,730,480
NYC Department of Housing Preservation and Development | New York, NY | $391,200
NYC Department of Housing Preservation and Development | New York, NY | $2,102,700
HELP Social Service Corporation | New York, NY | $2,373,515
Pathways to Housing, Inc. | New York, NY | $1,582,940
Church Avenue Merchants Block Association, Inc. (CAMBA) | Brooklyn, NY | $8,012
Women In Need, Inc. | New York, NY | $1,309,124
Pathways to Housing, Inc. | New York, NY | $1,719,124
Jericho Project, Inc. | New York, NY | $230,408
Lenox Hill Neighborhood House | New York, NY | $138,911
YMCA of Greater New York | New York, NY | $570,505
Minority Task Force on AIDS | New York, NY | $133,914
Turning Point Housing Development Fund Corporation | Brooklyn, NY | $62,070
East New York Urban Youth Corps | Brooklyn, NY | $193,513
Phase: Piggy Back, Inc. | New York, NY | $305,947
Women in Need, Inc. | New York, NY | $1,189,267
Housing Council in the Monroe County Area, Inc. | Rochester, NY | $61,677
Concern for Independent Living, Incorporated | Medford, NY | $432,838
Help Development Corporation | New York, NY | $878,913
The Salvation Army | Syracuse, NY | $412,433
Catholic Charities of the Roman Catholic Diocese of Syracuse | Syracuse, NY | $263,598
The Salvation Army | Syracuse, NY | $488,470
Syracuse Brick House, Inc. | Syracuse, NY | $374,852
YWCA of Syracuse and Onondaga County | Syracuse, NY | $492,767
State of New York, OASAS | Albany, NY | $155,088
Catholic Charities of the Roman Catholic Diocese of Syracuse | Syracuse, NY | $201,154
NYS Office of Mental Health | Albany, NY | $282,588
Syracuse Brick House, Inc. | Syracuse, NY | $315,732
Family Service League of Suffolk County, Incorporated | Huntington, NY | $92,342
Steuben Churchpeople Against Poverty, Incorporated | Bath, NY | $57,678
The Municipal Housing Authority for the City of Yonkers | Yonkers, NY | $41,000
NYS Office of Mental Health | Albany, NY | $48,547
Housing Options Made Easy, Incorporated | Cattaraugus, NY | $316,424
Family Service League of Suffolk County, Incorporated | Huntington, NY | $135,666
Transitional Services of New York for Long Island, Inc. | Brentwood, NY | $57,456
Albany Housing Authority | Albany, NY | $165,444
NYS Office of Mental Health | Albany, NY | $188,100
Bethesda House of Schenectady, Incorporated | Schenectady, NY | $200,229
State of New York, OASAS | Albany, NY | $226,872
Westchester DCMH | White Plains, NY | $767,280
Coalition for the Homeless, Inc. | New York, NY | $735,107
Syracuse Housing Authority | Syracuse, NY | $332,292
Schenectady Municipal Housing Authority | Schenectady, NY | $927,000
Westchester DCMH | White Plains, NY | $489,600
City of Schenectady | Schenectady, NY | $66,900
Westchester DCMH | White Plains, NY | $491,640
Liberty Resources, Incorporated | Syracuse, NY | $190,065
Westchester DCMH | White Plains, NY | $489,600
The Salvation Army of Greater New York | New York, NY | $54,075
The Municipal Housing Authority for the City of Yonkers | Yonkers, NY | $210,479
The Municipal Housing Authority for the City of Yonkers | Yonkers, NY | $59,607
The Municipal Housing Authority for the City of Yonkers | Yonkers, NY | $36,779
The Municipal Housing Authority for the City of Yonkers | Yonkers, NY | $120,533
Syracuse Housing Authority | Syracuse, NY | $396,504
Syracuse Brick House, Inc. | Syracuse, NY | $468,010
Spanish Action League of Onondaga County, Incorporated | Syracuse, NY | $99,740
The Altamont Program, Incorporated | Liverpool, NY | $93,450
City of Schenectady | Schenectady, NY | $144,250
New York State Office of Mental Health | Albany, NY | $142,788
Albany Housing Coalition | Albany, NY | $67,432
Options for Community Living, Incorporated | Smithtown, NY | $99,610
Rehabilitation Support Services | Albany, NY | $180,359
Homeless and Travelers Aid Society of the Capital District | Albany, NY | $336,196
Catholic Charities of the Diocese of Albany | Albany, NY | $185,289
NYS Office of Mental Health | Albany, NY | $153,000
Homeless Action Committee, Incorporated | Albany, NY | $139,251
Homeless Action Committee Incorporated | Albany, NY | $99,991
Albany Housing Authority | Albany, NY | $772,500
City of Saratoga Springs | Saratoga Springs, NY | $50,000
City of Saratoga Springs | Saratoga Springs, NY | $226,250
Albany Housing Authority | Albany, NY | $30,900
Federation of Organizations for the NYS Mentally Disabled | West Babylon, NY | $103,246
HELP Suffolk, Incorporated | Bellport, NY | $127,897
City of Saratoga Springs | Saratoga Springs, NY | $211,491
New York State Office of Mental Health | Albany, NY | $63,120
Rochester Housing Authority | Rochester, NY | $482,556
Rochester Housing Authority | Rochester, NY | $425,064
New York State Office of Mental Health | Albany, NY | $67,980
Togetherness in Love Community | Rochester, NY | $25,000
Joseph's House and Shelter, Incorporated | Troy, NY | $184,481
State of New York | Albany, NY | $53,688
Unity Health System | Rochester, NY | $290,000
Young Women's Christian Association of Rochester & Monroe Co | Rochester, NY | $53,405
The Salvation Army | Rochester, NY | $1,850,325
Housing Council in the Monroe County Area, Inc. | Rochester, NY | $123,354
Mercy Residential Services, Inc. | Rochester, NY | $207,338
Wilson Commencement Park | Rochester, NY | $139,718
City of Saratoga Springs | Saratoga Springs, NY | $368,445
Saint Christopher-Ottilie DBA Madonna Heights | Dix Hills, NY | $346,500
NASSAU/Suffolk Law Services Committee, Inc. | Hempstead, NY | $51,515
Legal Aid Society of Northeastern NY, Inc. | Albany, NY | $100,957
Community Housing Innovations, Incorporated | White Plains, NY | $109,699
Corporation for AIDS Research, Education and Services | Albany, NY | $100,000
CDCLI Housing Development Fund Corporation | Centereach, NY | $610,512
HELP—Equity Homes, Incorporated | Bellport, NY | $165,914
Daybreak, Inc. | Dayton, OH | $128,759
Project Women | Springfield, OH | $46,162
Project Women | Springfield, OH | $35,020
City of Springfield | Springfield, OH | $30,042
Catholic Charities | Norwalk, OH | $86,769
Ohio Valley Goodwill Industries Rehab. Center, Inc. | Cincinnati, OH | $854,284
PLACES, Inc. | Dayton, OH | $1,935,214
State of Ohio | Columbus, OH | $1,228,728
PLACES, Inc. | Dayton, OH | $600,000
Humility of Mary Housing Development Corporation | Akron, OH | $229,871
City of Dayton | Dayton, OH | $1,162,632
Ashtabula County Mental Health and Recovery Services Board | Ashtabula, OH | $767,828
National Church Residences | Columbus, OH | $750,276
Daybreak, Inc. | Dayton, OH | $251,307
Cuyahoga County | Cleveland, OH | $1,654,200
EDEN, Inc. | Cleveland, OH | $2,147,749
The Greater Youngstown Point, Inc. | Youngstown, OH | $80,150
Cuyahoga County | Cleveland, OH | $120,901
Cuyahoga County | Cleveland, OH | $459,795
Cuyahoga County | Cleveland, OH | $471,704
Coleman Professional Services | Kent, OH | $268,386
Ironton Lawrence County Area | Ironton, OH | $304,000
WSOS Community Action Commission, Inc. | Fremont, OH | $871,737
Columbus Metropolitan Housing Authority | Columbus, OH | $176,160
EDEN, Inc. | Cleveland, OH | $233,761
Family and Community Services of Portage | Kent, OH | $346,177
State of Ohio | Columbus, OH | $183,504
Lorain Metropolitan Housing Authority | Lorain, OH | $390,300
Catholic Social Services | Columbus, OH | $33,566
Licking Metropolitan Housing Authority | Licking, OH | $427,620
Columbiana Metropolitan | Columbiana, OH | $267,240
The First Step Home, Inc. | Cincinnati, OH | $245,175
Community Housing Network | Columbus, OH | $782,016
Columbus Metropolitan Housing Authority | Columbus, OH | $113,472
Wooster Interfaith Housing Corporation | Wooster, OH | $790,810
Hamilton County Dept. of Job Family Services | Cincinnati, OH | $366,628
Jefferson County Community Action Council, Incorporated | Steubenville, OH | $415,296
The Salvation Army | Cincinnati, OH | $826,980
Over-the-Rhine Housing Network | Cincinnati, OH | $168,111
Columbus Metropolitan Housing Authority | Columbus, OH | $533,412
Columbus Metropolitan Housing Authority | Columbus, OH | $607,260
Columbus Metropolitan Housing Authority | Columbus, OH | $419,292
City of Cincinnati | Cincinnati, OH | $574,320
Pickaway County Community Action Organization Incorporation | Circleville, OH | $369,435
City of Cincinnati, Ohio | Cincinnati, OH | $515,208
Columbus Metropolitan Housing Authority | Columbus, OH | $230,460
Tom Geiger Guest House, Inc. | Cincinnati, OH | $157,500
City of Dayton | Dayton, OH | $349,224
Joseph House, Inc. | Cincinnati, OH | $322,982
Lutheran Social Services of Central Ohio | Columbus, OH | $393,153
Friends of the Homeless, Inc. | Columbus, OH | $412,499
Friends of the Homeless, Inc. | Columbus, OH | $369,542
Volunteers of America of Central Ohio, Inc. | Columbus, OH | $336,531
Volunteers of America of Central Ohio, Inc. | Columbus, OH | $370,333
Community Housing Network | Columbus, OH | $400,000
Columbus Metropolitan Housing Authority | Columbus, OH | $410,220
Franciscan Home Development | Cincinnati, OH | $641,004
Columbus Metropolitan Housing Authority | Columbus, OH | $87,120
Catholic Social Services | Columbus, OH | $89,983
AIDS Volunteers of Cincinnati | Cincinnati, OH | $85,050
Justice Watch, Inc. | Cincinnati, OH | $183,621
Tender Mercies Inc. | Cincinnati, OH | $898,473
Center For Independent Living Options, Inc. | Cincinnati, OH | $167,189
Caracole, Inc. | Cincinnati, OH | $480,000
Columbus Metropolitan Housing Authority | Columbus, OH | $28,296
Shelterhouse Volunteer Group, Inc. | Cincinnati, OH | $296,258
Columbus Metropolitan Housing Authority | Columbus, OH | $276,288
Catholic Charities, Diocese of Toledo | Toledo, OH | $268,192
The Salvation Army | Canton, OH | $215,363
Community Services of County, Inc. | Canton, OH | $400,000
Minority Development Services of Stark County | Canton, OH | $192,950
Cuyahoga County | Cleveland, OH | $270,705
Alliance for Children & Families | Alliance, OH | $378,924
P.A.L. Mission | Canton, OH | $200,000
Stark Metropolitan Housing Authority | Canton, OH | $554,400
Cuyahoga County | Cleveland, OH | $275,403
Cuyahoga County | Cleveland, OH | $537,741
Cuyahoga County | Cleveland, OH | $386,373
East Side Catholic Center & Shelter, Inc. | Cleveland, OH | $187,749
Cuyahoga County | Cleveland, OH | $187,351
Continue Life, Inc. | Cleveland, OH | $212,973
Cuyahoga County | Cleveland, OH | $1,555,824
FOCUS | Toledo, OH | $299,930
WSOS Community Action Commission, Inc. | Fremont, OH | $1,264,998
Legacy III, Inc. | Akron, OH | $399,825
Community Support Services | Akron, OH | $143,451
ACCESS, Inc. | Akron, OH | $355,270
Battered Women's Shelter | Akron, OH | $422,206
Battered Women's Shelter | Akron, OH | $329,980
H.M. Life Opportunity Services | Akron, OH | $204,200
Info Line Incorporated | Akron, OH | $479,390
Community Support Services | Akron, OH | $531,047
Neighborhood Properties, Inc. | Toledo, OH | $221,926
Neighborhood Properties, Inc. | Toledo, OH | $690,000
Neighborhood Properties, Inc. | Toledo, OH | $900,000
Cuyahoga County | Cleveland, OH | $505,572
Cuyahoga County | Cleveland, OH | $41,398
Cuyahoga County | Cleveland, OH | $455,574
YMCA of Youngstown | Youngstown, OH | $320,742
Mental Health Services for Homeless Persons, Incorporated | Cleveland, OH | $283,664
YMCA of Youngstown | Youngstown, OH | $71,334
YMCA of Greater Cleveland | Cleveland, OH | $342,158
Catholic Charities Housing Opportunities | Youngstown, OH | $28,149
Northeast Ohio Legal Services | Youngstown, OH | $52,793
Cuyahoga County | Cleveland, OH | $450,263
YMCA of Youngstown | Youngstown, OH | $162,735
Youngstown Area Community Action Council | Youngstown, OH | $41,590
Stark Metropolitan Housing Authority | Canton, OH | $155,736
Cuyahoga Metropolitan Housing Authority | Cleveland, OH | $563,045
FOCUS | Toledo, OH | $890,138
Potential Development Program, Inc. | Youngstown, OH | $54,075
Cuyahoga County | Cleveland, OH | $97,182
Mental Health Services for Homeless Persons, Incorporated | Cleveland, OH | $525,706
Cleveland Housing Network, Inc. | Cleveland, OH | $369,721
Joseph's Home | Cleveland, OH | $273,056
Cleveland Housing Network, Inc. | Cleveland, OH | $119,626
VOA of Northeast and North Central Ohio, Inc. | Cleveland, OH | $246,967
YMCA of Youngstown | Youngstown, OH | $442,717
Transitional Housing, Inc. | Cleveland, OH | $122,528
Catholic Diocese of Cleveland | Cleveland, OH | $39,032
VOA of Northeast and North Central Ohio, Inc. | Cleveland, OH | $79,155
City of Oklahoma City | Oklahoma City, OK | $132,847
City of Oklahoma City | Oklahoma City, OK | $210,000
City of Oklahoma City | Oklahoma City, OK | $83,018
City of Oklahoma City | Oklahoma City, OK | $393,981
Community Service Council of Greater Tulsa | Tulsa, OK | $258,226
Domestic Violence Intervention Services, Incorporated | Tulsa, OK | $304,076
The Salvation Army, A Georgia Corporation | Ponca City, OK | $142,800
Mental Health Association in Tulsa, Incorporated | Tulsa, OK | $357,144
City of Oklahoma City | Oklahoma City, OK | $146,002
Volunteers of America of Oklahoma | Tulsa County, OK | $519,662
United Community Action Program, Incorporated | Pawnee, OK | $82,550
Mental Health Association in Tulsa, Incorporated | Tulsa, OK | $262,500
City of Oklahoma City | Oklahoma City, OK | $53,760
NW Domestic Crisis Services, Incorporated | Woodward, OK | $761,021
Women's Haven | Duncan, OK | $80,334
Volunteers of America of Oklahoma, Incorporated | Tulsa, OK | $421,838
Oklahoma Mental Health Council dba/Red Rock Behavioral Health | Oklahoma City, OK | $525,644
Oklahoma Mental Health Council dba/Red Rock Behavioral Health | Oklahoma City, OK | $300,207
City of Oklahoma City | Oklahoma City, OK | $365,721
Food and Shelter for Friends, Incorporated | Norman, OK | $179,363
City of Oklahoma City | Oklahoma City, OK | $209,225
City of Oklahoma City | Oklahoma City, OK | $134,400
City of Oklahoma City | Oklahoma City, OK | $13,944
City of Oklahoma City | Oklahoma City, OK | $164,852
City of Oklahoma City | Oklahoma City, OK | $184,629
City of Oklahoma City | Oklahoma City, OK | $316,801
The Salvation Army, A Georgia Corporation | Tulsa, OK | $331,294
Ki Bois Community Action Foundation, Incorporated | Stigler, OK | $358,207
Oregon Housing and Community Services | Salem, OR | $50,128
Lane County, Oregon | Eugene, OR | $143,307
Oregon Housing and Community Services | Salem, OR | $9,565
Oregon Housing and Community Services | Salem, OR | $114,514
Oregon Housing and Community Services | Salem, OR | $99,900
Oregon Housing and Community Services | Salem, OR | $500,000
Mid-Willamette Valley Community Action Agency, Incorporated | Salem, OR | $601,625
Central City Concern | Portland, OR | $446,030
Lane County, Oregon | Eugene, OR | $378,850
St. Vincent de Paul Society of Lane County, Incorporated | Eugene, OR | $499,473
St. Vincent de Paul Society of Lane County, Incorporated | Eugene, OR | $222,220
Portland Impact, Incorporated | Portland, OR | $231,474
SW Oregon Community Action Committee, Incorporated | Coos Bay, OR | $25,523
Oregon Housing and Community Services | Salem, OR | $70,875
Lane County, Oregon | Eugene, OR | $108,973
Oregon Housing and Community Services | Salem, OR | $11,336
Oregon Housing and Community Services | Salem, OR | $82,408
Housing Authority of Portland | Portland, OR | $517,860
Oregon Housing and Community Services | Salem, OR | $67,209
Multnomah County | Portland, OR | $278,970
The Inn—Home for Boys | Portland, OR | $196,326
The Inn—Home for Boys | Portland, OR | $314,825
Housing Authority of Washington County | Hillsboro, OR | $323,000
Washington County, Oregon | Hillsboro, OR | $114,570
Washington County, Oregon | Hillsboro, OR | $383,760
Coos County Women's Crisis Service | North Bend, OR | $11,620
Multnomah County | Portland, OR | $1,580,628
Oregon Housing and Community Services | Salem, OR | $40,941
Oregon Housing and Community Services | Salem, OR | $86,625
Aging Community Coordinated Enterprises and Supportive Services | Medford, OR | $185,115
Oregon Housing and Community Services | Salem, OR | $72,834
Oregon Housing and Community Services | Salem, OR | $64,382
Multnomah County | Portland, OR | $91,602
Oregon Housing and Community Services | Salem, OR | $89,311
Oregon Housing and Community Services | Salem, OR | $103,791
Community Works | Medford, OR | $359,100
City of Portland | Portland, OR | $251,164
City of Portland | Portland, OR | $486,083
Central Oregon Community Action Agency Network | Redmond, OR | $296,759
Clatsop Behavioral Healthcare | Astoria, OR | $20,806
Oregon Housing and Community Services | Salem, OR | $50,247
Oregon Housing and Community Services | Salem, OR | $82,500
Oregon Housing and Community Services | Salem, OR | $32,747
Housing Authority of Portland | Portland, OR | $411,732
City of Portland | Portland, OR | $224,068
Allegheny County | Pittsburgh, PA | $286,595
Allegheny County | Pittsburgh, PA | $560,080
Allegheny County | Pittsburgh, PA | $269,319
Allegheny County | Pittsburgh, PA | $194,670
Allegheny County | Pittsburgh, PA | $369,773
Allegheny County | Pittsburgh, PA | $561,043
Allegheny County | Pittsburgh, PA | $519,474
Allegheny County | Pittsburgh, PA | $595,491
Allegheny County | Pittsburgh, PA | $205,065
Allegheny County | Pittsburgh, PA | $845,364
Allegheny County | Pittsburgh, PA | $887,370
Allegheny County | Pittsburgh, PA | $644,218
Allegheny County | Pittsburgh, PA | $533,188
Allegheny County | Pittsburgh, PA | $42,908
Allegheny County | Pittsburgh, PA | $626,500
Allegheny County | Pittsburgh, PA | $362,250
Allegheny County | Pittsburgh, PA | $294,600
Allegheny County | Pittsburgh, PA | $260,144
Allegheny County | Pittsburgh, PA | $209,337
Allegheny County | Pittsburgh, PA | $122,987
Allegheny County | Pittsburgh, PA | $917,297
Allegheny County | Pittsburgh, PA | $146,721
Commonwealth of Pennsylvania | Harrisburg, PA | $726,600
Housing Development Corporation of NEPA | Wilkes-Barre, PA | $577,011
Women's Resource Center, Incorporated | Scranton, PA | $133,729
Carlisle Area Opportunities Industrialization Center, Inc. | Carlisle, PA | $161,818
Borough of State College | State College, PA | $32,760
Centre County Youth Service Bureau | State College, PA | $158,611
Turning Point-Interfaith Mission | Gettysburg, PA | $779,816
Resources for Human Development, Incorporated | Philadelphia, PA | $958,938
Adams County Housing Authority | Gettysburg, PA | $119,238
County of Chester | West Chester, PA | $77,400
Berks Counseling Center, Incorporated | Reading, PA | $481,505
Berks Women in Crisis | Reading, PA | $84,000
Easy Does It, Incorporated | Leesport, PA | $97,776
United Way of Berks County | Reading, PA | $252,000
Reading-Berks Emergency Shelter | Reading, PA | $366,862
City of Reading, Pennsylvania | Reading, PA | $205,800
City of Reading, Pennsylvania | Reading, PA | $128,483
The Salvation, A New York Corporation Eastern Pennsylvania | Carlisle, PA | $181,125
Access-York, Incorporated | York, PA | $444,150
Hedwig House, Incorporated | Norristown, PA | $183,538
Salvation Army | Norristown, PA | $206,214
Horizon House, Inc. | Chester, PA | $466,439
Community Action Agency of Delaware County, Inc. | Media, PA | $365,546
Indian Valley Opportunity Center | Souderton, PA | $64,664
Salvation Army | Norristown, PA | $95,486
Catherine McAuley Center | Scranton, PA | $113,700
The Salvation Army, A New York Corporation, Eastern PA & Del | Chester, PA | $214,635
City of Philadelphia | Philadelphia, PA | $595,896
Northern Cambria Community Development Corporation (NORCAM) | Cambria, PA | $510,312
Family and Community Service of Delaware | Media, PA | $224,887
Penndel Mental Health Center, Incorporated | Penndel, PA | $86,682
Domestic Abuse Project of Delaware County, Inc. | Media, PA | $251,458
Crispus Attucks Community Center | Lancaster, PA | $556,132
Hogar International Incorporated of Pennsylvania | Allentown, PA | $994,586
Community Action Committee of the Lehigh Valley, Incorporate | Bethlehem, PA | $210,000
Community Action Agency of Delaware County, Inc. | Media, PA | $534,728
Project H.O.M.E. | Philadelphia, PA | $499,692
YWCA of Greater Harrisburg | Harrisburg, PA | $267,913
Allegheny County | Pittsburgh, PA | $550,048
Covenant Jobs of Harrisburg, Incorporated | Harrisburg, PA | $241,894
City of Philadelphia | Philadelphia, PA | $1,050,112
City of Philadelphia | Philadelphia, PA | $1,841,421
People's Emergency Center | Philadelphia, PA | $1,985,451
Berks County | Reading, PA | $295,708
City of Philadelphia | Philadelphia, PA | $399,053
City of Philadelphia | Philadelphia, PA | $232,200
Family Planning Council | Philadelphia, PA | $368,928
Resources for Human Development, Incorporated | Philadelphia, PA | $1,020,962
Philadelphia Health Management Corporation | Philadelphia, PA | $1,145,970
Drueding Center/Project Rainbow | Philadelphia, PA | $1,400,037
Resources for Human Development, Incorporated | Philadelphia, PA | $817,871
Philadelphia Health Management Corporation | Philadelphia, PA | $802,583
Philadelphia Housing Authority | Philadelphia, PA | $1,291,383
City of Philadelphia | Philadelphia, PA | $1,299,981
County of Chester | West Chester, PA | $338,722
Community Action Committee of the Lehigh Valley, Incorporate | Bethlehem, PA | $124,026
The Salvation Army, A New York Corporation | Reading, PA | $593,805
City of Philadelphia | Philadelphia, PA | $191,868
City of Philadelphia | Philadelphia, PA | $171,900
City of Philadelphia | Philadelphia, PA | $263,808
City of Philadelphia | Philadelphia, PA | $103,140
Philadelphia Health Management Corporation | Philadelphia, PA | $340,214
Delta Housing, Incorporated | Harrisburg, PA | $252,201
Holcomb Behavioral Health Systems | Exton, PA | $227,762
Dauphin County Human Services/Adult and Family Services Dept | Harrisburg, PA | $326,097
People's Emergency Center | Philadelphia, PA | $986,160
County of Chester | West Chester, PA | $500,000
Greater Philadelphia Urban Affairs Coalition | Philadelphia, PA | $633,929
Horizon House, Incorporated | Philadelphia, PA | $659,479
City of Philadelphia | Philadelphia, PA | $129,000
City of Philadelphia | Philadelphia, PA | $263,460
City of Reading, Pennsylvania | Reading, PA | $91,964
People's Emergency Center | Philadelphia, PA | $61,797
County of Erie Department of Human Services | Erie, PA | $226,412
County of Erie Department of Human Services | Erie, PA | $210,000
Allegheny County | Pittsburgh, PA | $273,839
Catholic Social Services | Wilkes Barre, PA | $362,250
Mercer County Community Action Agency | Sharon, PA | $154,494
Allegheny County | Pittsburgh, PA | $310,404
County of Erie Department of Human Services | Erie, PA | $492,319
Human Services Center | Norristown, PA | $409,920
Allegheny County | Pittsburgh, PA | $955,460
Hedwig House, Incorporated | Norristown, PA | $432,090
Laurel House, Incorporated | Norristown, PA | $252,000
Crawford County Courthouse | Meadville, PA | $464,400
Travelers Aid Society of Philadelphia | Philadelphia, PA | $768,148
County of Indiana | Indiana, PA | $40,178
County of Erie Department of Human Services | Erie, PA | $443,360
Mental Health Association of SE PA | Philadelphia, PA | $187,474
Greater Philadelphia Urban Affairs Coalition | Philadelphia, PA | $593,170
Armstrong County Community Action Agency | Kittanning, PA | $328,292
Indiana County Community Action Program, Incorporated | Indiana, PA | $242,405
County of Indiana | Indiana, PA | $97,686
Opportunities Industrialization Corp. | Philadelphia, PA | $134,200
County of Erie Department of Human Services | Erie, PA | $341,712
DuBois Housing Authority | DuBois, PA | $348,300
Delaware County Housing Authority | Woodlyn, PA | $133,923
Community Housing Services, Incorporated | Landsdale, PA | $349,616
Allegheny County | Pittsburgh, PA | $223,088
Dickinson Mental Health Center | Ridgway, PA | $584,636
Prince of Peace Center | Farrell, PA | $304,141
Westmoreland Human Opportunities, Inc. | Greensburg, PA | $458,194
Good Shepherd Corporation of Clarks Summit | Luzerne, PA | $82,163
Turning Point-Interfaith Mission | Gettysburg, PA | $600,116
Commission on Economic Opportunity | Wilkes-Barre, PA | $539,612
Commission on Economic Opportunity | Wilkes-Barre, PA | $493,459
Corporacion La Fondita de Jesus | San Juan, PR | $2,074,864
Corporacion Milagros del Amor | Caguas, PR | $75,600
Hogar Resurreccion | Caguas, PR | $787,017
Fundacion de Desarrollo Comunal de PR, Incorporation | Caguas, PR | $952,484
Catholic Social Services of Puerto Rico Incorporated | San Juan, PR | $1,303,802
Municipal Government of San Juan | San Juan, PR | $1,465,800
Municipal Government of San Juan | San Juan, PR | $901,063
Rhode Island Housing and Mortgage Finance Corporation | Providence, RI | $220,626
Rhode Island Housing and Mortgage Finance Corporation | Providence, RI | $123,401
Rhode Island Housing and Mortgage Finance Corporation | Providence, RI | $224,698
Rhode Island Housing and Mortgage Finance Corporation | Providence, RI | $399,295
Rhode Island Housing and Mortgage Finance Corporation | Providence, RI | $471,858
Rhode Island Housing and Mortgage Finance Corporation | Providence, RI | $292,742
Rhode Island Housing and Mortgage Finance Corporation | Providence, RI | $220,692
Rhode Island Housing and Mortgage Finance Corporation | Providence, RI | $103,187
Rhode Island Housing and Mortgage Finance Corporation | Providence, RI | $649,030
Rhode Island Housing and Mortgage Finance Corporation | Providence, RI | $549,999
Rhode Island Housing and Mortgage Finance Corporation | Providence, RI | $500,000
Rhode Island Housing and Mortgage Finance Corporation | Providence, RI | $66,659
Rhode Island Housing and Mortgage Finance Corporation | Providence, RI | $170,490
Rhode Island Housing and Mortgage Finance Corporation | Providence, RI | $129,780
Rhode Island Housing and Mortgage Finance Corporation | Providence, RI | $399,995
Homes of Hope | Piedmont, SC | $199,077
Upstate Homeless Coalition of South Carolina | Greenville, SC | $642,153
Crisis Ministries | Charleston, SC | $238,630
Crisis Ministries | Charleston, SC | $62,899
Project Care, Incorporated | Greenville, SC | $500,000
Sunbelt Human Advancement Resources, Incorporated | Greenville, SC | $98,675
Meg's House | Greenwood, SC | $218,645
Clinton Christian Outreach, Incorporated | Clinton, SC | $64,050
Sunbelt Human Advancement Resources, Incorporated | Greenville, SC | $545,315
Home Alliance, Incorporated | Myrtle Beach, SC | $134,400
Humanities Foundation, Incorporated | Charleston, SC | $500,000
Upstate Homeless Coalition of South Carolina | Greenville, SC | $184,304
Pee Dee Community Action Agency | Florence, SC | $404,250
Florence Crittenton Programs of South Carolina | Charleston, SC | $201,768
Any Length Recovery, Incorporated | Sumter, SC | $803,560
Greenville Area Interfaith Hospitality Network | Greenville, SC | $65,328
Humanities Foundation, Incorporated | Charleston, SC | $304,197
Pee Dee Community Action Agency | Florence, SC | $98,004
Pee Dee Community Action Agency | Florence, SC | $179,098
Lighthouse Ministries | Florence, SC | $259,350
Santee-Lynches Affordable Housing and Community Development | Sumter, SC | $147,385
Charleston County Human Services Commission | Charleston, SC | $104,054
The Women's Shelter | Columbia, SC | $124,608
Inter-Lakes Community Action, Incorporated | Madison, SD | $1,167,836
Sioux Falls Housing and Redevelopment Commission | Sioux Falls, SD | $809,400
Sioux Falls Housing and Redevelopment Commission | Sioux Falls, SD | $117,648
Memphis Family Shelter, Incorporated | Memphis, TN | $148,050
Professional Counseling Services, Incorporated | Covington, TN | $123,959
Buffalo Valley, Inc. | Hohenwald, TN | $131,539
Jackson Housing Authority | Jackson, TN | $442,140
Buffalo Valley, Inc. | Hohenwald, TN | $228,444
Partners for the Homeless | Memphis, TN | $70,363
Catholic Charities, Incorporated | Memphis, TN | $455,356
Mid-South HealthNet, Incorporated | Memphis, TN | $393,750
Carey Counseling Center, Incorporated | Paris, TN | $308,595
Damascus Road Incorporated | Paris, TN | $49,258
Women's Resource and Rape Assistant Program | Jackson, TN | $86,073
Quinco Mental Health Center | Bolivar, TN | $282,345
Catholic Charities, Incorporated | Memphis, TN | $625,350
Memphis Family Shelter, Incorporated | Memphis, TN | $247,722
Chattanooga Church Ministries, Incorporated | Chattanooga, TN | $94,828
Alpha Omega Veterans Services | Memphis, TN | $505,050
Metropolitan Inter-Faith Association | Memphis, TN | $307,238
Buffalo Valley, Inc. | Hohenwald, TN | $72,392
Whitehaven Southwest Mental Health Center | Memphis, TN | $50,708
Metropolitan Inter-Faith Association | Memphis, TN | $244,879
Metropolitan Inter-Faith Association | Memphis, TN | $349,734
Whitehaven Southwest Mental Health Center | Memphis, TN | $214,347
Nashville Cares | Tennessee, TN | $15,410
Buffalo Valley, Inc. | Hohenwald, TN | $24,850
Urban Housing Solutions | Nashville, TN | $500,000
Metropolitan Development and Housing Agency | Nashville, TN | $31,203
Metropolitan Development and Housing Agency | Nashville, TN | $854,688
Case Management, Incorporated | Memphis, TN | $89,250
Renewal House, Incorporated | Nashville, TN | $87,922
Fortwood Center, Incorporated | Chattanooga, TN | $138,649
Nashville Cares | Tennessee, TN | $159,084
Nashville Young Women's Christian Assoc. | Nashville, TN | $150,000
Park Center | Nashville, TN | $372,242
Buffalo Valley, Incorporated | Hohenwald, TN | $445,650
Metropolitan Development and Housing Agency | Nashville, TN | $342,180
Operation Stand Down Nashville, Incorporated | Nashville, TN | $150,000
Child and Family Tennessee | Knoxville, TN | $266,698
Buffalo Valley, Inc. | Hohenwald, TN | $393,355
Buffalo Valley, Incorporated | Hohenwald, TN | $73,333
Buffalo Valley, Incorporated | Hohenwald, TN | $49,575
Buffalo Valley, Incorporated | Hohenwald, TN | $376,032
Campus for Human Development | Nashville, TN | $183,630
Samaritan Recovery Community, Incorporated | Nashville, TN | $157,500
Metropolitan Government of Nashville-Davidson County | Nashville, TN | $174,485
Murfreesboro Housing Authority | Murfreesboro, TN | $268,414
The Housing Authority of Travis County | Austin, TX | $387,264
Tarrant County | Fort Worth, TX | $205,902
Tarrant County | Fort Worth, TX | $496,805
Harmony House Incorporated | Houston, TX | $279,450
The Housing Authority of the City of Austin | Austin, TX | $315,684
Families Under Urban and Social Attack, Incorporated | Houston, TX | $158,875
Austin Travis County MHMR Center | Austin, TX | $78,533
Austin Travis County MHMR Center | Austin, TX | $348,007
Travis County Domestic Violence and Sexual Assault Survival | Austin, TX | $624,113
The Salvation Army, A Georgia Corporation | Austin, TX | $776,928
Tarrant County | Fort Worth, TX | $256,851
Tarrant County ACCESS for the Homeless | Fort Worth, TX | $24,237
Tarrant County | Fort Worth, TX | $432,495
Tarrant County | Fort Worth, TX | $29,874
Tarrant County | Fort Worth, TX | $41,016
Tarrant County | Fort Worth, TX | $69,329
Tarrant County | Fort Worth, TX | $273,600
Tarrant County | Fort Worth, TX | $54,272
Tarrant County | Fort Worth, TX | $134,726
Tarrant County | Fort Worth, TX | $187,072
Tarrant County | Fort Worth, TX | $31,090
Legal Services of North Texas | Dallas, TX | $22,932
Housing Crisis Center | Dallas, TX | $188,007
City of Beaumont | Beaumont, TX | $98,208
The Bridge Over Troubled Waters, Incorporated | Pasadena, TX | $783,462
Search | Houston, TX | $193,040
Career and Recovery Resources, Incorporated | Houston, TX | $351,342
Harris County | Houston, TX | $134,328
Harris County | Houston, TX | $245,472
Harris County | Houston, TX | $416,160
Harris County | Houston, TX | $416,160
Harris County | Houston, TX | $62,424
Harris County | Houston, TX | $144,528
Harris County | Houston, TX | $108,708
South East Texas Regional Planning Commission | Beaumont, TX | $52,206
Dallas Jewish Coalition, Incorporation | Dallas, TX | $166,441
Neighborhood Development Corporation | Orange, TX | $655,438
City of Dallas | Dallas, TX | $146,633
LifeNet Community Behavioral Healthcare | Dallas, TX | $350,266
Presbyterian Night Shelter | Fort Worth, TX | $181,078
American YouthWorks | Austin, TX | $104,559
The Housing Authority of the City of San Antonio TX006 | San Antonio, TX | $126,684
Coalition for the Homeless Houston/Harris County | Houston, TX | $730,304
Child Care Council of Greater Houston, Incorporated | Houston, TX | $406,347
Goodwill Industries of South Texas, Incorporation | Corpus Christi, TX | $394,460
Wesley Community Center | Corpus Christi, TX | $269,942
Turtle Creek Manor, Incorporation | Dallas, TX | $257,237
The Jesse Tree, Inc. | Galveston, TX | $443,777
City of Dallas | Dallas, TX | $431,880
Central Texas Youth Services Bureau, Incorporated | Belton, TX | $386,037
LifeNet Community Behavioral Healthcare | Dallas, TX | $124,999
Tarrant County | Fort Worth, TX | $322,293
Tarrant County | Fort Worth, TX | $679,310
Housing Authority-City of Fort Worth | Fort Worth, TX | $1,679,904
Wesley Community Center, Incorporated | Houston, TX | $323,007
Opportunity Center for the Homeless | El Paso, TX | $681,120
YWCA El Paso Del Norte Region | El Paso, TX | $605,565
City of El Paso, Texas | El Paso, TX | $160,634
La Posada Home, Incorporation | El Paso, TX | $267,084
El Paso Community MH/MR Center | El Paso, TX | $611,947
Opportunity Center for the Homeless | El Paso, TX | $374,724
The Gulf Coast Center | Galveston, TX | $521,088
The Gulf Coast Center | Galveston, TX | $273,600
Family Services of Southeast Texas, Incorporated | Beaumont, TX | $355,000
LifeNet Community Behavioral Healthcare | Dallas, TX | $390,895
Volunteers of America Texas, Incorporated | Fort Worth, TX | $124,342
Promise House, Incorporation | Dallas, TX | $219,538
Mental Health and Mental Retardation Center of Nueces County | Corpus Christi, TX | $251,380
Family Gateway, Incorporation | Dallas, TX | $150,700
Tarrant County | Fort Worth, TX | $85,050
Housing Crisis Center | Dallas, TX | $103,194
The Family Place | Dallas, TX | $976,567
City of Dallas | Dallas, TX | $250,598
Housing Crisis Center | Dallas, TX | $182,252
City of Dallas | Dallas, TX | $149,913
Family Gateway, Incorporation | Dallas, TX | $42,440
Just People, Incorporated | Abilene, TX | $104,101
City of Amarillo | Amarillo, TX | $433,864
d/b/a AIDS Services of Dallas | Dallas, TX | $574,390
Northwest Assistance Ministries | Houston, TX | $983,123
Wesley Community Center, Incorporated | Houston, TX | $338,768
Wellsprings, Incorporated | Houston, TX | $129,541
Wesley Community Center, Incorporated | Houston, TX | $386,099
AIDS Foundation Houston, Incorporated | Houston, TX | $423,668
University of Texas Health Science Center | Houston, TX | $398,237
AIDS Foundation Houston, Incorporated | Houston, TX | $1,149,981
Catholic Charities of the Diocese of Galveston / Houston | Houston, TX | $56,465
Star of Hope Mission | Houston, TX | $542,568
Search | Houston, TX | $77,497
Bay Area Turning Point, Incorporated | Webster, TX | $216,405
Star of Hope Mission | Houston, TX | $207,408
Mental Health Mental Retardation Authority of Harris County | Houston, TX | $593,470
DePelchin Children's Center | Houston, TX | $509,589
The Women's Home | Houston, TX | $253,433
Search | Houston, TX | $217,944
The Bridge Over Troubled Waters, Incorporated | Pasadena, TX | $502,038
City of Longview | Longview, TX | $196,128
Denton County MHMR Center | Denton, TX | $792,955
Travis County Domestic Violence and Sexual Assault Survival | Austin, TX | $202,327
Tarrant County ACCESS for the Homeless | Fort Worth, TX | $166,451
Covenant House Texas | Houston, TX | $398,656
City of San Antonio | San Antonio, TX | $147,895
Star of Hope Mission | Houston, TX | $307,406
Youth and Family Alliance, Incorporation dba LifeWorks | Austin, TX | $215,320
Carites of Austin | Austin, TX | $313,926
Wesley Community Center | Corpus Christi, TX | $136,434
Coastal Bend Alcohol and Drug Rehabilitation Center | Corpus Christi, TX | $148,240
Search | Houston, TX | $446,640
Star of Hope Mission | Houston, TX | $191,832
The Housing Authority of the City of San Antonio TX006 | San Antonio, TX | $129,132
City of San Antonio | San Antonio, TX | $807,273
City of San Antonio | San Antonio, TX | $232,491
City of San Antonio | San Antonio, TX | $122,895
University of Texas Health Science Center | Houston, TX | $420,367
City of San Antonio | San Antonio, TX | $224,239
Star of Hope Mission | Houston, TX | $238,580
City of San Antonio | San Antonio, TX | $686,156
City of San Antonio | San Antonio, TX | $178,920
City of San Antonio | San Antonio, TX | $420,000
City of San Antonio | San Antonio, TX | $409,006
City of San Antonio | San Antonio, TX | $210,000
United States Veterans Initiative | Houston, TX | $377,473
City of San Antonio | San Antonio, TX | $389,729
City of San Antonio | San Antonio, TX | $705,125
Iron County Care and Share | Cedar City, UT | $75,816
Family Connection Center of Davis Support Center Inc. | Clearfield, UT | $269,000
State of Utah, Department of Community & Economic Development | Salt Lake City, UT | $49,980
Homeless Veterans Fellowship | Ogden, UT | $46,106
Scenicview Center, L.L.C. | Salt Lake City, UT | $440,889
Community Action Services | Provo, UT | $228,653
Food & Care Coalition of Utah Valley | Provo, UT | $55,125
Center for Women and Children in Crisis | Provo, UT | $77,068
Four Corners Community Mental Health Center, Inc. | Moab, UT | $417,252
State of Utah, Department of Community & Economic Development | Salt Lake City, UT | $20,000
Mountainlands Community Housing Trust | Park City, UT | $72,000
Housing Authority of Salt Lake City | Salt Lake City, UT | $179,592
Center for Women and Children in Crisis | Provo, UT | $16,252
Family Support Center, Inc. | Midvale, UT | $400,000
Housing Authority of the County of Salt Lake | Salt Lake City, UT | $193,896
Housing Authority of Salt Lake City | Salt Lake City, UT | $798,000
Housing Authority of the County of Salt Lake | Salt Lake City, UT | $523,740
Housing Authority of Salt Lake City | Salt Lake City, UT | $159,793
Iron County Care and Share | Cedar City, UT | $105,222
Volunteers of America, Inc. | Salt Lake City, UT | $356,088
Family Support Center, Inc. | Midvale, UT | $98,532
Green Street Partners, Inc. | Salt Lake City, UT | $302,084
Family Support Center, Inc. | Midvale, UT | $203,280
State of Utah, Department of Community & Economic Development | Salt Lake City, UT | $210,000
Norfolk Community Services Board | Norfolk, VA | $365,747
St. Joseph's Villa | Richmond, VA | $274,390
City of Roanoke | Roanoke, VA | $413,006
FORkids, Inc. | Norfolk, VA | $582,749
King County Department of Community and Human Services | Seattle, VA | $157,896
King County Department of Community and Human Services | Seattle, VA | $242,352
Daily Planet, Inc. | Richmond, VA | $189,105
King County Department of Community and Human Services | Seattle, VA | $162,468
King County Department of Community and Human Services | Seattle, VA | $285,516
Homeward | Richmond, VA | $26,745
Arlington County, VA | Arlington, VA | $217,245
Community Resource Network of Chesapeake, Inc. | Chesapeake, VA | $159,551
CARITAS, Inc. | Richmond, VA | $79,697
FORkids, Inc. | Norfolk, VA | $426,881
King County Department of Community and Human Services | Seattle, VA | $19,128
Samaritan House, Inc. | Virginia Beach, VA | $157,500
King County Department of Community and Human Services | Seattle, VA | $841,536
King County Department of Community and Human Services | Seattle, VA | $504,600
King County Department of Community and Human Services | Seattle, VA | $105,000
King County Department of Community and Human Services | Seattle, VA | $624,566
King County Department of Community and Human Services | Seattle, VA | $529,095
King County Department of Community and Human Services | Seattle, VA | $74,613
King County Department of Community and Human Services | Seattle, VA | $121,939
St. Joseph's Villa | Richmond, VA | $409,500
CANDII | Norfolk, VA | $61,716
King County Department of Community and Human Services | Seattle, VA | $294,795
King County Department of Community and Human Services | Seattle, VA | $47,688
City of Portsmouth | Portsmouth, VA | $294,960
Emergency Shelter, Inc. | Richmond, VA | $773,836
Alexandria Community Services Board | Alexandria, VA | $131,643
Northwestern Community Services | Front Royal (Warren), VA | $117,613
Waynesboro Housing Corporation | Waynesboro, VA | $312,112
The Salvation Army—A GA Corporation | Petersburg, VA | $212,428
Lynchburg Neighborhood Development Foundation | Lynchburg, VA | $412,125
Portsmouth Area Resources Coalition, Inc. | Portsmouth, VA | $240,823
YWCA of South Hampton Roads | Norfolk, VA | $130,413
Serenity House Substance Abuse Recovery Program, Inc. | Newport News, VA | $75,610
St. Columba Ecumencial Ministries, Inc. | Norfolk, VA | $107,389
Avalon: A Center for Women and Children | Williamsburg, VA | $111,516
Transitions Family Violence Services | Hampton, VA | $176,099
Hampton-Newport News Community Services Board | Newport News, VA | $162,480
Region Ten Community Services Board | Charlottesville, VA | $370,090
Samaritan House, Inc. | Virginia Beach, VA | $363,309
Community Alternatives Management Group, Inc. | Virginia Beach, VA | $111,014
Virginia Beach Community Development Corp. | Virginia Beach, VA | $55,068
Daily Planet, Inc. | Richmond, VA | $226,256
TRUST—The Roanoke Valley Trouble Center | Roanoke, VA | $161,576
YWCA of South Hampton Roads | Norfolk, VA | $205,332
Barrett Haven, Inc. | Norfolk, VA | $392,684
HomeBase of the Va. Peninsula, Inc. | Hampton, VA | $203,256
Prince William County Dept. of Social Services | Manassas, VA | $162,619
Fairfax County Department of Housing and Community Development | Fairfax, VA | $157,584
Fairfax County Department of Housing and Community Development | Fairfax, VA | $118,080
Fairfax-Falls Church Community Services Board | Fairfax, VA | $506,663
Pathway Homes, Incorporated | Fairfax, VA | $118,342
New Hope Housing, Incorporated | Alexandria, VA | $176,551
Christian Relief Services Charities, Incorporated | Lorton, VA | $135,674
Christian Relief Services Charities, Incorporated | Lorton, VA | $135,674
Pathway Homes, Incorporated | Fairfax, VA | $118,342
United Community Ministries, Incorporated | Alexandria, VA | $269,464
Pathway Homes, Incorporated | Fairfax, VA | $118,342
Fairfax County Department of Housing and Community Development | Fairfax, VA | $610,800
Prince William County Dept. of Social Services | Manassas, VA | $14,190
Arlington-Alexandria Coalition for the Homeless (AACH) | Arlington, VA | $139,440
King County Department of Community and Human Services | Seattle, VA | $63,258
Sheltered Homes of Alexandria | Alexandria, VA | $89,288
Christian Relief Services Charities, Incorporated | Lorton, VA | $135,674
Alexandria Community Services Board | Alexandria, VA | $98,150
Alexandria Community Services Board | Alexandria, VA | $29,814
Daily Planet, Inc. | Richmond, VA | $267,687
Pathway Homes, Incorporated | Fairfax, VA | $118,342
Arlington County Dept of Human Services | Arlington, VA | $175,460
Arlington County, VA | Arlington, VA | $541,560
Community Residences, Incorporated | Arlington, VA | $244,895
Chesapeake (VA) Community Services Board | Chesapeake, VA | $133,740
County of Loudoun | Leesburg, VA | $106,429
Northwestern Counseling & Support Services | St. Albans, VT | $61,068
State of Vermont | Waterbury, VT | $111,048
State of Vermont | Waterbury, VT | $69,865
Addison County Community Action Group, Incorporated | Addison County, VT | $290,092
Vermont State Housing Authority | Montpelier, VT | $512,280
Vermont State Housing Authority | Montpelier, VT | $26,448
The Howard Center for Human Services | Burlington, VT | $181,146
The Howard Center for Human Services | Burlington, VT | $200,073
Vermont State Housing Authority | Montpelier, VT | $148,815
City of Spokane | Spokane, WA | $78,435
Yakima County Coalition for the Homeless | Yakima, WA | $183,750
Washington State Department of Community, Trade and Economic | Olympia, WA | $54,121
Spokane County | Spokane, WA | $200,000
Washington State Department of Community Trade and Economic | Olympia, WA | $133,279
City of Spokane | Spokane, WA | $152,874
Washington State Department of Community Trade and Economic | Olympia, WA | $131,846
City of Spokane | Spokane, WA | $31,882
Share | Vancouver, WA | $61,267
City of Spokane | Spokane, WA | $30,101
Housing Authority of the City of Vancouver | Vancouver, WA | $31,843
YW Housing | Vancouver, WA | $92,365
Council for the Homeless | Vancouver, WA | $24,937
YW Housing | Vancouver, WA | $354,035
Yakima County Coalition for the Homeless | Yakima, WA | $150,000
City of Spokane | Spokane, WA | $246,216
City of Spokane | Spokane, WA | $42,622
City of Spokane | Spokane, WA | $27,084
City of Spokane | Spokane, WA | $93,161
City of Spokane | Spokane, WA | $86,629
City of Spokane | Spokane, WA | $27,132
City of Spokane | Spokane, WA | $62,396
City of Spokane | Spokane, WA | $38,802
City of Spokane | Spokane, WA | $27,799
Pierce County | Lakewood, WA | $499,304
City of Spokane | Spokane, WA | $37,734
City of Spokane | Spokane, WA | $76,526
City of Spokane | Spokane, WA | $9,472
City of Spokane | Spokane, WA | $27,536
Housing Hope | Everett, WA | $89,483
Housing Authority of Snohomish County | Everett, WA | $141,840
Housing Authority of Snohomish County | Everett, WA | $304,488
Bremerton Housing Authority | Bremerton, WA | $132,450
City of Bremerton | Bremerton, WA | $88,740
City of Bremerton | Bremerton, WA | $40,548
Housing Authority of Snohomish County | Everett, WA | $734,256
City of Seattle | Seattle, WA | $80,681
Snohomish County | Everett, WA | $490,977
Washington State Department of Community, Trade and Economic | Olympia, WA | $44,511
YouthCare | Seattle, WA | $151,856
Snohomish County | Everett, WA | $164,820
Snohomish County | Everett, WA | $88,705
City of Seattle | Seattle, WA | $326,054
Seattle Emergency Housing Service | Seattle, WA | $29,684
Washington State Department of Community Trade and Economic | Olympia, WA | $123,116
Pierce County | Lakewood, WA | $699,825
Pierce County | Lakewood, WA | $699,825
Pierce County | Lakewood, WA | $168,723
Pierce County | Lakewood, WA | $263,384
Pierce County | Lakewood, WA | $54,022
Pierce County | Lakewood, WA | $36,902
Pierce County | Lakewood, WA | $94,034
Housing Authority of Snohomish County | Everett, WA | $194,676
Pierce County | Lakewood, WA | $24,324
Pierce County | Lakewood, WA | $135,450
Pierce County | Lakewood, WA | $124,212
Housing Authority of Snohomish County | Everett, WA | $511,200
YWCA of Seattle-King County-Snohomish County | Seattle, WA | $200,200
YWCA of Seattle-King County-Snohomish County | Seattle, WA | $100,100
Housing Hope | Everett, WA | $80,315
City of Spokane | Spokane, WA | $14,917
Pierce County | Lakewood, WA | $34,106
YWCA of Seattle-King County-Snohomish County | Redmond, WA | $85,614
Multi-Service Center | Federal Way, WA | $26,725
United Indians of All Tribes Foundation | Discovery Park, WA | $343,565
City of Seattle | Seattle, WA | $328,382
El Centro de La Raza | Seattle, WA | $17,602
Children's Home Society of Washington | Seattle, WA | $56,642
City of Seattle | Seattle, WA | $80,012
City of Seattle | Seattle, WA | $548,599
City of Seattle | Seattle, WA | $492,049
City of Spokane | Spokane, WA | $51,424
Housing Authority of the City of Seattle | Seattle, WA | $9,896
City of Spokane | Spokane, WA | $126,136
City of Seattle | Seattle, WA | $696,733
Archdiocesan Housing Authority | Seattle, WA | $197,739
Kent Youth and Family Services | Kent, WA | $38,135
Low Income Housing Institute | Seattle, WA | $397,916
YWCA of Seattle-King County-Snohomish County | Redmond, WA | $57,320
Low Income Housing Institute | Seattle, WA | $210,000
City of Seattle | Seattle, WA | $1,149,355
Archdiocesan Housing Authority | Seattle, WA | $201,577
Church Council of Greater Seattle | Seattle, WA | $57,278
YWCA of Seattle-King County-Snohomish County | Redmond, WA | $78,878
Seattle Vietnam Veterans Leadership Program | Seattle, WA | $23,580
City of Seattle | Seattle, WA | $545,050
Fremont Public Association | Seattle, WA | $158,620
City of Seattle | Seattle, WA | $116,396
The Compass Center | Seattle, WA | $13,119
Safe Haven Associates | Washington, WA | $348,157
The Salvation Army | Seattle, WA | $253,989
City of Seattle | Seattle, WA | $443,472
Archdiocesan Housing Authority | Seattle, WA | $105,422
The Compass Center | Seattle, WA | $13,165
Community Psychiatric Clinic | Seattle, WA | $75,172
City of Seattle | Seattle, WA | $168,153
Catholic Community Services of Western Washington | Seattle, WA | $140,085
YMCA of Greater Seattle | Seattle, WA | $36,141
City of Seattle | Seattle, WA | $25,423
Manaway Evangelistic Ministry | Seattle, WA | $18,760
City of Seattle | Seattle, WA | $838,688
AIDS Housing of Washington | Seattle, WA | $387,192
YouthCare | Seattle, WA | $105,603
Auburn Youth Resources | Auburn, WA | $123,287
Friends of Youth | Redmond, WA | $123,062
City of Seattle | Seattle, WA | $507,351
YWCA of Seattle-King County-Snohomish County | Redmond, WA | $42,541
City of Seattle | Seattle, WA | $181,307
Development Association of Goodwill Baptist Church | Seattle, WA | $28,597
City of Seattle | Seattle, WA | $121,546
City of Spokane | Spokane, WA | $56,251
Washington State Department of Community, Trade and Economic | Olympia, WA | $9,350
Washington State Department of Community, Trade and Economic | Olympia, WA | $135,599
The Salvation Army | Seattle, WA | $77,839
City of Spokane | Spokane, WA | $88,698
Washington State Department of Community, Trade and Economic | Olympia, WA | $101,409
Washington State Department of Community, Trade and Economic | Olympia, WA | $143,082
City of Spokane | Spokane, WA | $43,419
City of Spokane | Spokane, WA | $106,004
Washington State Department of Community, Trade and Economic | Olympia, WA | $54,810
Washington State Department of Community, Trade and Economic | Olympia, WA | $50,055
Serenity House of Clallam County | Port Angeles, WA | $138,215
Washington State Department of Community, Trade and Economic | Olympia, WA | $149,625
Washington State Department of Community, Trade and Economic | Olympia, WA | $140,868
Washington State Department of Community, Trade and Economic | Olympia, WA | $84,130
City of Spokane | Spokane, WA | $117,195
City of Spokane | Spokane, WA | $77,175
Washington State Department of Community, Trade and Economic | Olympia, WA | $31,500
Washington State Department of Community, Trade and Economic | Olympia, WA | $247,430
Washington State Department of Community, Trade and Economic | Olympia, WA | $144,133
Washington State Department of Community, Trade and Economic | Olympia, WA | $36,312
City of Spokane | Spokane, WA | $492,360
City of Spokane | Spokane, WA | $35,280
Transitional Housing, Incorporated | Madison, WI | $500,000
State of Wisconsin, Department of Administration | Madison, WI | $97,382
ADVOCAP, Incorporated | Fond du Lac, WI | $326,305
State of Wisconsin, Department of Administration | Madison, WI | $194,166
The Salvation Army | Madison, WI | $38,193
YWCA of Greater Milwaukee | Milwaukee, WI | $170,160
State of Wisconsin, Department of Administration | Madison, WI | $491,707
State of Wisconsin, Department of Administration | Madison, WI | $529,732
Kenosha Human Development Services, Incorporated | Kensosha, WI | $413,495
State of Wisconsin, Department of Administration | Madison, WI | $412,473
Guest House of Milwaukee, Incorporated | Milwaukee, WI | $541,384
Transitional Living Center | Burlington, WI | $23,992
Hebron House of Hospitality, Incorporated | Waukesha, WI | $349,605
State of Wisconsin, Department of Administration | Madison, WI | $412,650
Legal Action of Wisconsin, Incorporated | Racine, WI | $80,536
Center for Veterans Issues, Ltd. | Milwaukee, WI | $127,404
St. Catherine Residence | Milwaukee, WI | $433,139
State of Wisconsin, Department of Administration | Madison, WI | $157,815
Walker's Point Youth and Family Center | Milwaukee, WI | $60,820
Community Action, Inc. of Rock and Walworth Counties | Janesville, WI | $413,517
Milwaukee County Department of Human Services | Milwaukee, WI | $791,504
Family Service of Racine | Racine, WI | $88,905
Community Advocates, Incorporated | Milwaukee, WI | $252,000
Sojourner Truth House, Incorporated | Milwaukee, WI | $122,769
State of Wisconsin, Department of Administration | Madison, WI | $247,580
Guest House of Milwaukee, Incorporated | Milwaukee, WI | $411,800
Hope House of Milwaukee, Incorporated | Milwaukee, WI | $92,038
Meta House, Incorporated | Milwaukee, WI | $108,341
Housing Authority of City of Milwaukee | Milwaukee, WI | $572,520
State of Wisconsin, Department of Administration | Madison, WI | $71,610
State of Wisconsin, Department of Administration | Madison, WI | $217,929
Health Care For The Homeless of Milwaukee, Incorporated | Milwaukee, WI | $147,000
Milwaukee County Housing and Community Development | Milwaukee, WI | $211,980
Tellurian UCAN, Incorporated | Monona, WI | $249,165
City of Madison, Wisconsin | Madison, WI | $111,374
Tellurian UCAN, Incorporated | Monona, WI | $739,683
Milwaukee County Department of Human Services | Milwaukee, WI | $929,378
YWCA of Greater Milwaukee | Milwaukee, WI | $78,750
Tellurian UCAN, Incorporated | Monona, WI | $67,327
Homeward Bound of Racine City, Incorporated | Racine, WI | $318,374
Transitional Housing, Incorporated | Madison, WI | $343,636
My Home, Your Home, Incorporated | Milwaukee, WI | $550,642
Milwaukee County Behavioral Health Division | Milwaukee, WI | $1,901,904
The Open Gate, Incorporated | Milwaukee, WI | $667,574
State of Wisconsin, Department of Administration | Madison, WI | $335,235
Wisconsin Coulee Region Community Action Program, Inc. | Westby, WI | $71,362
Center for Veterans Issues, Ltd. | Milwaukee, WI | $1,120,329
Center for Veterans Issues, Ltd. | Milwaukee, WI | $242,900
Greater Wheeling Coalition for the Homeless, Incorporated | Wheeling, WV | $413,436
Young Women's Christian Association | Charleston, WV | $500,000
City of Charleston | Charleston, WV | $378,533
Young Women's Christian Association | Charleston, WV | $89,580
LifeBridge, Incorporated | Charleston, WV | $59,999
Stop Abusive Family Environments, Incorporated (S.A.F.E.) | Welch, WV | $135,800
Roark-Sullivan Lifeway Center | Charleston, WV | $558,342
COMEA, Inc. | Cheyenne, WY | $250,000
Housing Authority-City of Casper | Casper, WY | $398,233

Fiscal Year 2003 Funding Awards for the Continuum of Care Program
Grantee name | Location | Grant amount
Mat-Su Community Mental Health Services, Incorporated, DBA Life Quest | Wasilla, AK | $26,340
Mat-Su Community Mental Health Services, Incorporated, DBA Life Quest | Wasilla, AK | $102,500
Mat-Su Community Mental Health Services, Incorporated, DBA Life Quest | Wasilla, AK | $46,464
Yukon-Kuskokwim Health Corporation | Bethel, AK | $50,966
Interior Alaska Center for Non-Violent Living | Fairbanks, AK | $65,648
Fairbanks Native Association | Fairbanks, AK | $38,350
State of Alaska | Anchorage, AK | $355,560
Municipality of Anchorage | Anchorage, AK | $296,714
Alaskan AIDS Assistance Association | Anchorage, AK | $103,425
Rural Alaska Community Action Program, Incorporated | Anchorage, AK | $357,474
Rural Alaska Community Action Program, Incorporated | Anchorage, AK | $141,168
Covenant House Alaska | Anchorage, AK | $245,629
Anchorage Community Mental Services, Incorporated | Anchorage, AK | $256,087
Anchorage Housing Initiatives, Inc. | Anchorage, AK | $81,886
State of Alaska | Anchorage, AK | $23,724
State of Alaska | Anchorage, AK | $125,448
Anchorage Community Mental Services, Incorporated | Anchorage, AK | $203,465
Anchorage Community Mental Services, Incorporated | Anchorage, AK | $390,477
State of Alaska | Anchorage, AK | $226,440
AIDS Alabama, Incorporated | Birmingham, AL | $149,301
Homeless Coalition of the Gulf Coast, Inc. | Mobile, AL | $203,659
Jefferson-Blount-St. Clair Mental Health/Mental Retardation Authority | Birmingham, AL | $243,791
Jefferson County Housing Authority | Birmingham, AL | $790,200
The Salvation Army, A Georgia Corporation | Birmingham, AL | $159,973
City of Huntsville, Alabama | Huntsville, AL | $253,488
Interfaith Mission Service, Incorporated | Huntsville, AL | $105,017
The Cooperative Downtown Ministries | Birmingham, AL | $250,000
Birmingham Health Care, Incorporated | Birmingham, AL | $189,126
Lighthouse Counseling Center, Inc. | Montgomery, AL | $860,400
Metropolitan Birmingham Services for the Homeless | Birmingham, AL | $415,800
Homeless Coalition of the Gulf Coast, Inc. | Mobile, AL | $191,251
Community Kitchens of Birmingham, Incorporated | Birmingham, AL | $99,133
Birmingham Health Care, Incorporated | Birmingham, AL | $271,689
Aletheia House | Birmingham, AL | $314,705
Aletheia House | Birmingham, AL | $108,858
Mid-Alabama Chapter of the Alabama Coalition of Citizens with Disabilities | Birmingham, AL | $26,460
AIDS Alabama, Incorporated | Birmingham, AL | $258,591
YWCA of Central Alabama | Birmingham, AL | $64,688
First Light, Incorporated | Birmingham, AL | $82,379
YWCA of Central Alabama | Birmingham, AL | $303,477
Pathways, Incorporated | Birmingham, AL | $705,360
Pathways, Incorporated | Birmingham, AL | $128,182
Homeless Coalition of the Gulf Coast, Inc. | Mobile, AL | $161,316
Homeless Coalition of the Gulf Coast, Inc. | Mobile, AL | $156,358
Riverbend Center for Mental Health | Florence, AL | $250,000
Montgomery Area Mental Health Authority | Montgomery, AL | $303,003
Jefferson County Housing Authority | Birmingham, AL | $704,160
Homeless Coalition of the Gulf Coast, Inc. | Mobile, AL | $143,430
Homeless Coalition of the Gulf Coast, Inc. | Mobile, AL | $398,492
Homeless Coalition of the Gulf Coast, Inc. | Mobile, AL | $166,514
Homeless Coalition of the Gulf Coast, Inc. | Mobile, AL | $105,000
Homeless Coalition of the Gulf Coast, Inc. | Mobile, AL | $769,351
Montgomery Area Family Violence Program, Inc. | Montgomery, AL | $277,213
State of Alabama | Montgomery, AL | $180,684
Jefferson County Housing Authority | Birmingham, AL | $163,176
Safeplace, Incorporated | Florence, AL | $520,531
AIDS Alabama, Incorporated | Birmingham, AL | $186,874
City of Pine Bluff | Pine Bluff, AR | $701,262
Health Resources of Arkansas | Batesville, AR | $510,673
Black Community Developers, Incorporated | Little Rock, AR | $330,375
Department of Human Services | Little Rock, AR | $749,220
Department of Human Services | Little Rock, AR | $433,668
Seven Hills Homeless Shelter | Fayetteville, AR | $46,666
Second Genesis Ministries, Incorporated | Little Rock, AR | $109,112
Seven Hills Homeless Shelter | Fayetteville, AR | $224,721
(Committee Against Spouse Abuse) CASA | Pine Bluff, AR | $103,929
Counseling Associates, Incorporated | Conway, AR | $200,000
Bethlehem House, Incorporated | Conway, AR | $45,360
Our House, Incorporated | Little Rock, AR | $487,705
Arkansas Department of Human Services | Little Rock, AR | $286,056
City of Phoenix | Phoenix, AZ | $24,040
Arizona Department of Housing | Phoenix, AZ | $59,304
Arizona Department of Housing | Phoenix, AZ | $108,701
City of Phoenix | Phoenix, AZ | $63,064
City of Phoenix | Phoenix, AZ | $971,973
City of Phoenix | Phoenix, AZ | $199,500
City of Phoenix | Phoenix, AZ | $437,698
City of Phoenix | Phoenix, AZ | $35,000
Arizona Department of Housing | Phoenix, AZ | $78,176
City of Phoenix | Phoenix, AZ | $158,550
The Arizona Department of Housing | Phoenix, AZ | $1,716,480
City of Phoenix | Phoenix, AZ | $163,178
City of Phoenix | Phoenix, AZ | $126,575
City of Phoenix | Phoenix, AZ | $60,735
City of Phoenix | Phoenix, AZ | $318,730
City of Phoenix | Phoenix, AZ | $176,753
Save the Family Foundation of Arizona | Mesa, AZ | $211,412
Women In New Recovery (WINR) | Mesa, AZ | $46,862
The Salvation Army | Phoenix, AZ | $45,360
Sojourner Center | Phoenix, AZ | $147,805
PREHAB of Arizona, Inc. | Mesa, AZ | $510,688
Save the Family Foundation of Arizona | Mesa, AZ | $411,726
Arizona Department of Housing | Phoenix, AZ | $48,937
Tumbleweed Center for Youth Development | Phoenix, AZ | $214,429
Arizona Department of Housing | Phoenix, AZ | $64,999
United Methodist Outreach Ministries, Inc. | Phoenix, AZ | $187,584
City of Phoenix | Phoenix, AZ | $91,043
The Arizona Department of Housing | Phoenix, AZ | $202,031
The Arizona Department of Housing | Phoenix, AZ | $938,788
The Arizona Department of Housing | Phoenix, AZ | $814,584
The EXCEL Group | Yuma, AZ | $133,488
United Methodist Outreach Ministries, Inc. | Phoenix, AZ | $80,126
Travelers Aid Society of Tucson, Incorporated | Tucson, AZ | $224,973
Arizona Behavioral Health Corporation | Phoenix, AZ | $903,424
Arizona Behavioral Health Corporation | Phoenix, AZ | $20,775
Arizona Behavioral Health Corporation | Phoenix, AZ | $58,025
Arizona Behavioral Health Corporation | Phoenix, AZ | $499,972
Arizona Behavioral Health Corporation | Phoenix, AZ | $1,735,423
Arizona Department of Housing | Phoenix, AZ | $77,700
City of Tucson Community Services Department | Tucson, AZ | $663,600
City of Tucson Community Services Department | Tucson, AZ | $120,771
City of Tucson Community Services Department | Tucson, AZ | $175,392
City of Tucson Community Services Department | Tucson, AZ | $774,840
Pima County CSD—Jackson Employment Ctr. | Tucson, AZ | $845,693
Arizona Behavioral Health Corporation | Phoenix, AZ | $70,456
Primavera Services, Incorporated | Tucson, AZ | $206,612
La Frontera Center, Incorporated | Tucson, AZ | $845,418
Community Information & Referral, Inc. | Phoenix, AZ | $478,294
YWCA of Maricopa County | Phoenix, AZ | $201,671
Mesa Community Action Network, Inc. | Mesa, AZ | $56,075
Women Living Free (WLF) | Phoenix, AZ | $199,055
Arizona Department of Housing | Phoenix, AZ | $677,040
Arizona Department of Housing | Phoenix, AZ | $191,064
Arizona Department of Housing | Phoenix, AZ | $160,569
Arizona Department of Housing | Phoenix, AZ | $98,771
Southwest Behavioral Health Services, Inc. | Phoenix, AZ | $205,977
City of Phoenix | Phoenix, AZ | $82,268
Chrysalis Shelter for Victims of DV, Inc. | Phoenix, AZ | $23,114
Sojourner Center | Phoenix, AZ | $269,958
Pima County CSD—Jackson Employment Ctr. | Tucson, AZ | $454,348
Arizona Department of Housing | Phoenix, AZ | $157,500
Arizona Department of Housing | Phoenix, AZ | $173,460
Arizona Department of Housing | Phoenix, AZ | $97,200
City of Phoenix | Phoenix, AZ | $114,261
Arizona Department of Housing | Phoenix, AZ | $78,858
Arizona Department of Housing | Phoenix, AZ | $350,368
Arizona Department of Housing | Phoenix, AZ | $76,685
Arizona Department of Housing | Phoenix, AZ | $128,625
Arizona Behavioral Health Corporation | Phoenix, AZ | $747,986
Arizona Department of Housing | Phoenix, AZ | $736,896
City of Phoenix | Phoenix, AZ | $333,371
Arizona Behavioral Health Corporation | Phoenix, AZ | $1,114,796
Arizona Department of Housing | Phoenix, AZ | $91,050
City of Long Beach | Long Beach, CA | $113,685
City of Long Beach | Long Beach, CA | $100,638
City of Long Beach | Long Beach, CA | $483,979
City of Long Beach | Long Beach, CA | $19,808
City of Long Beach | Long Beach, CA | $195,686
City of Long Beach | Long Beach, CA | $1,010,810
Community Action Partnership of Kern | Bakersfield, CA | $500,283
County of Kern Mental Health Department | Bakersfield, CA | $372,790
Serving People In Need, Inc. | Costa Mesa, CA | $349,009
Alliance Against Family Violence and Sexual Assault | Bakersfield, CA | $173,643
County of Orange H & CD Dept. | Santa Ana, CA | $83,180
County of Orange H & CD Dept. | Santa Ana, CA | $300,000
City of Long Beach | Long Beach, CA | $55,860
Community Action Partnership of Kern | Bakersfield, CA | $306,456
City of Long Beach | Long Beach, CA | $63,038
Tabitha's House Ministries, Inc. | Bakersfield, CA | $409,500
Partners INHousing | Thousand Oaks, CA | $420,000
City of Long Beach | Long Beach, CA | $218,336
City of Long Beach | Long Beach, CA | $365,750
Women's Transitional Living Center, Inc. | Orange, CA | $75,000
City of Long Beach | Long Beach, CA | $29,401
Casa De Amigos Community Respite Center, Inc. | Bakersfield, CA | $286,055
St. Vincent de Paul Village, Inc. | San Diego, CA | $513,713
Many Mansions | Thousand Oaks, CA | $127,021
Many Mansions | Thousand Oaks, CA | $137,212
Lutheran Social Services of Southern California | Thousand Oaks, CA | $304,007
Saddleback Community Outreach | Laguna Hills, CA | $665,280
City of Pasadena | Pasadena, CA | $155,417
City of Pasadena | Pasadena, CA | $778,473
County of Ventura | Camarillo, CA | $432,484
City of Pasadena | Pasadena, CA | $163,700
City of Pasadena | Pasadena, CA | $103,515
City of Pasadena | Pasadena, CA | $122,097
City of Pasadena | Pasadena, CA | $952,750
Southern California Alcohol and Drug Programs, Inc. | Downey, CA | $1,141,035
City of Pasadena | Pasadena, CA | $138,600
City of Long Beach | Long Beach, CA | $690,237
City of Pasadena | Pasadena, CA | $118,610
County of Kern Mental Health Department | Bakersfield, CA | $850,035
Colette's Children's Home | Huntington Beach, CA | $928,395
Community Services Department of San Bernardino County | San Bernardino, CA | $123,143
St. John of God Health Care Services | Victorville, CA | $311,960
Thomas House Temporary Shelter | Garden Grove, CA | $92,400
Thomas House Temporary Shelter | Garden Grove, CA | $274,661
Orange Coast Interfaith Shelter | Costa Mesa, CA | $535,096
United Way of Ventura County | Camarillo, CA | $133,623
City of Long Beach | Long Beach, CA | $282,450
City of Long Beach | Long Beach, CA | $157,500
Fullerton Interfaith Emergency Service, Inc. | Fullerton, CA | $756,000
Weingart Center Association, Incorporated | Los Angeles, CA | $170,760
St. Vincent de Paul Village, Inc. | San Diego, CA | $402,182
Emergency Housing Consortium, Inc. | San Jose, CA | $56,275
United States Veterans Initiative | Inglewood, CA | $289,796
Emergency Housing Consortium, Inc. | San Jose, CA | $415,548
JWCH Institute, Incorporated | Los Angeles, CA | $308,999
St. Joseph Center | Venice, CA | $47,247
Emergency Housing Consortium, Inc. | San Jose, CA | $354,018
Emergency Housing Consortium, Inc. | San Jose, CA | $93,865
Emergency Housing Consortium, Inc. | San Jose, CA | $277,267
Beyond Shelter, Incorporated | Los Angeles, CA | $141,912
Venice Family Clinic | Venice, CA | $284,843
Weingart Center Association, Incorporated | Los Angeles, CA | $314,478
Santa Clara Unified School District | Santa Clara, CA | $200,534
Frazee Community Center | San Bernardino, CA | $26,250
The Salvation Army, a California Corporation | Los Angeles, CA | $86,437
Emergency Housing Consortium, Inc. | San Jose, CA | $92,011
InnVision, The Way Home | San Jose, CA | $210,000
InnVision, The Way Home | San Jose, CA | $104,030
Housing Authority of County of Santa Clara | San Jose, CA | $48,300
The Los Angeles Gay and Lesbian Community Service Center | Los Angeles, CA | $377,262
Resources for Community Development | Berkeley, CA | $56,424
Resources for Community Development | Berkeley, CA | $70,187
Alameda County Allied Housing Program | Hayward, CA | $526,470
Emergency Housing Consortium, Inc. | San Jose, CA | $162,409
YMCA of San Diego County | Oceanside, CA | $178,739
Orange County Housing Authority | Santa Ana, CA | $584,340
Housing Authority of City of Santa Barbara | Santa Barbara, CA | $590,184
Housing Authority of the County of Kern | Bakersfield, CA | $766,620
Domestic Violence Solutions | Santa Barbara, CA | $76,220
Transition House | Santa Barbara, CA | $55,152
Lompoc Housing Assistance Corporation | Lompoc, CA | $36,565
Santa Barbara Community Housing Corporation | Santa Barbara, CA | $99,444
Santa Barbara County, Alcohol, Drug and Mental Health Services | Santa Barbara, CA | $113,685
San Diego Housing Commission | San Diego, CA | $152,172
San Diego Housing Commission | San Diego, CA | $231,012
Emergency Housing Consortium, Inc. | San Jose, CA | $524,450
San Diego Housing Commission | San Diego, CA | $143,736
Orange County Housing Authority | Santa Ana, CA | $3,787,140
YMCA of San Diego County | Oceanside, CA | $553,475
Episcopal Community Services | San Diego, CA | $509,328
Episcopal Community Services | San Diego, CA | $554,562
County of San Diego | San Diego, CA | $217,827
St. Vincent de Paul Village, Inc. | San Diego, CA | $619,024
St. Vincent de Paul Village, Inc. | San Diego, CA | $763,198
St. Vincent de Paul Village, Inc. | San Diego, CA | $555,301
St. Vincent de Paul Village, Inc. | San Diego, CA | $935,898
Charities Housing Development Corporation | San Jose, CA | $901,280
South Central Health & Rehabilitation Programs | Compton, CA | $224,760
San Diego Housing Commission | San Diego, CA | $167,808
County of Sacramento | Sacramento, CA | $175,786
County of Sacramento | Sacramento, CA | $123,496
County of Sacramento | Sacramento, CA | $229,107
County of Sacramento | Sacramento, CA | $89,932
County of Sacramento | Sacramento, CA | $226,000
County of Sacramento | Sacramento, CA | $154,734
City of Glendale, CA/Housing Authority | Glendale, CA | $129,596
County of Sacramento | Sacramento, CA | $398,509
Catholic Charities Archdiocese of San Francisco | San Francisco, CA | $319,096
County of Sacramento | Sacramento, CA | $81,746
County of Sacramento | Sacramento, CA | $3,061,636
County of Sacramento | Sacramento, CA | $86,712
County of Sacramento | Sacramento, CA | $215,255
County of Sacramento | Sacramento, CA | $4,075,992
County of Sacramento | Sacramento, CA | $191,523
County of Sacramento | Sacramento, CA | $42,999
Committee on the Shelterless | Petaluma, CA | $150,000
County of Santa Cruz | Santa Cruz, CA | $89,985
Homeward Bound of Marin | San Rafael, CA | $50,148
Homeward Bound of Marin | San Rafael, CA | $210,000
Marin Abused Women's Services | San Rafael, CA | $65,540
Marin Abused Women's Services | San Rafael, CA | $56,642
Sonoma County Community Development Commission | Santa Rosa, CA | $778,500
County of Sacramento | Sacramento, CA | $228,426
Sonoma County Community Development Commission | Santa Rosa, CA | $104,328
County of Sacramento | Sacramento, CA | $110,250
Committee on the Shelterless | Petaluma, CA | $76,667
Buckelew Programs | San Rafael, CA | $27,476
Buckelew Programs | San Rafael, CA | $193,998
Vietnam Veterans of California, Inc. | Santa Rosa, CA | $89,000
Vietnam Veterans of California, Inc. | Santa Rosa, CA | $125,000
Transitional Living & Community Support, Inc. | Sacramento, CA | $250,984
Sonoma County Community Development Commission | Santa Rosa, CA | $297,780
STAND! Against Domestic Violence | Concord, CA | $100,449
County of Sacramento | Sacramento, CA | $104,390
Contra Costa County Health Services Department | Martinez, CA | $298,547
Phoenix Programs, Incorporated | Concord, CA | $509,906
Marin Housing Authority | San Rafael, CA | $519,948
Marin Housing Authority | San Rafael, CA | $431,556
Sonoma County Community Development | Santa Rosa, CA | $97,330
SHELTER, Incorporated of Contra Costa County | Martinez, CA | $724,504
STAND! Against Domestic Violence | Concord, CA | $100,571
SHELTER, Incorporated of Contra Costa County | Martinez, CA | $457,371
Housing Authority of Contra Costa County | Martinez, CA | $1,503,672
Housing Authority of Contra Costa County | Martinez, CA | $1,180,440
Housing Authority of Contra Costa County | Martinez, CA | $179,352
Community Action Partnership Sonoma County | Santa Rosa, CA | $81,249
Catholic Charities-Diocese of Santa Rosa | Santa Rosa, CA | $160,000
Vietnam Veterans of California | Santa Rosa, CA | $265,807
STAND! Against Domestic Violence | Concord, CA | $41,524
Rubicon Programs, Incorporated | Richmond, CA | $44,013
Families in Transition of Santa Cruz County | Santa Cruz, CA | $185,186
Transitional Living & Community Support, Inc. | Sacramento, CA | $157,716
Transitional Living & Community Support, Inc. | Sacramento, CA | $305,666
Transitional Living & Community Support, Inc. | Sacramento, CA | $88,114
Center Point, Incorporated | San Rafael, CA | $42,210
Center Point, Incorporated | San Rafael, CA | $474,247
SHELTER, Incorporated of Contra Costa County | Martinez, CA | $273,584
Service Outreach Motivation Empowerment | Santa Rosa, CA | $32,000
County of Sacramento | Sacramento, CA | $83,324
Rubicon Programs, Incorporated | Richmond, CA | $304,279
Rubicon Programs, Incorporated | Richmond, CA | $204,120
Rubicon Programs, Incorporated | Richmond, CA | $653,005
Rubicon Programs, Incorporated | Richmond, CA | $939,000
Greater Richmond Interfaith Program | Richmond, CA | $168,099
SHELTER, Incorporated of Contra Costa County | Martinez, CA | $80,797
Community Support Network | Santa Rosa, CA | $56,238
County of Riverside | Riverside, CA | $231,468
San Diego County | San Diego, CA | $748,125
County of Riverside | Riverside, CA | $1,089,760
County of Riverside | Riverside, CA | $124,990
County of Riverside | Riverside, CA | $67,937
County of Riverside | Riverside, CA | $525,000
County of Riverside | Riverside, CA | $189,625
County of Riverside | Riverside, CA | $93,804
County of Riverside | Riverside, CA | $231,424
County of Riverside | Riverside, CA | $135,756
Whiteside Manor, Incorporated | Riverside, CA | $1,752,012
San Diego County | San Diego, CA | $636,381
San Diego County | San Diego, CA | $546,567
San Diego County | San Diego, CA | $173,902
San Diego County | San Diego, CA | $564,102
County of Santa Cruz | Santa Cruz, CA | $142,591
County of Riverside | Riverside, CA | $249,962
Central City Lutheran Mission | San Bernardino, CA | $76,794
New Hope Village, Incorporated | Barstow, CA | $66,841
City of Oxnard | Oxnard, CA | $343,858
City of Oxnard | Oxnard, CA | $709,469
City of Oxnard | Oxnard, CA | $111,740
City of Oxnard | Oxnard, CA | $189,731
City of Oxnard | Oxnard, CA | $109,307
County of Riverside | Riverside, CA | $239,566
Fontana Native American Indian Center, Incorporated | Fontana, CA | $249,286
San Diego County | San Diego, CA | $179,596
Central City Lutheran Mission | San Bernardino, CA | $17,671
WomanHaven, Incorporated | El Centro, CA | $169,865
Provisional Educational Services, Incorporated | Bernardino, CA | $292,553
County of Riverside | Riverside, CA | $520,998
County of Riverside | Riverside, CA | $84,384
County of Riverside | Riverside, CA | $194,256
United Way of Ventura County | Camarillo, CA | $133,623
Coalition of Homeless Services Providers | Marina, CA | $141,750
San Diego County | San Diego, CA | $208,512
City of Glendale, CA/Housing Authority | Glendale, CA | $116,740
County of Alameda, HCD | Hayward, CA | $207,456
Mendocino County | Ukiah, CA | $190,550
Mendocino County | Ukiah, CA | $151,962
CDC of Mendocino County | Ukiah, CA | $1,005,264
City of Glendale, CA/Housing Authority | Glendale, CA | $91,525
INTERIM, Incorporated | Monterey, CA | $709,586
City of Glendale, CA/Housing Authority | Glendale, CA | $93,000
Shelter Outreach Plus | Marina, CA | $348,000
The Unity Care Group | San Jose, CA | $90,000
Housing Authority of the County of Monterey | Salinas, CA | $735,734
Housing Authority of the County of Santa Cruz | Capitola, CA | $442,440
Housing Authority of the County of Santa Cruz | Capitola, CA | $56,000
The Salvation Army | San Bernardino, CA | $158,521
CDC of Mendocino County | Ukiah, CA | $33,504
City of Glendale, CA/Housing Authority | Glendale, CA | $148,156
San Luis Obispo Non-Profit Housing Corporation | San Luis Obispo, CA | $473,981
San Luis Obispo Non-Profit Housing Corporation | San Luis Obispo, CA | $211,150
City of Oceanside | Oceanside, CA | $293,406
Alpha Project for the Homeless | San Diego, CA | $159,346
South Bay Community Services | Chula Vista, CA | $193,663
North County Interfaith Council | Escondido, CA | $128,427
City of Glendale, CA/Housing Authority | Glendale, CA | $84,528
City of Glendale, CA/Housing Authority | Glendale, CA | $81,534
Families in Transition of Santa Cruz County | Santa Cruz, CA | $180,664
City of Glendale, CA/Housing Authority | Glendale, CA | $109,734
City of Glendale, CA/Housing Authority | Glendale, CA | $217,292
City of Glendale, CA/Housing Authority | Glendale, CA | $53,164
City of Glendale, CA/Housing Authority | Glendale, CA | $85,464
City of Glendale, CA/Housing Authority | Glendale, CA | $176,787
City of Glendale, CA/Housing Authority | Glendale, CA | $719,253
St. Clare's Home | Escondido, CA | $148,770
Los Angeles Homeless Services Authority | Los Angeles, CA | $23,745
Los Angeles Homeless Services Authority | Los Angeles, CA | $92,217
Los Angeles Homeless Services Authority | Los Angeles, CA | $381,941
Los Angeles Homeless Services Authority | Los Angeles, CA | $331,547
Los Angeles Homeless Services Authority | Los Angeles, CA | $248,942
Los Angeles Homeless Services Authority | Los Angeles, CA | $350,397
Los Angeles Homeless Services Authority | Los Angeles, CA | $61,041
Los Angeles Homeless Services Authority | Los Angeles, CA | $134,592
Los Angeles Homeless Services Authority | Los Angeles, CA | $63,655
Los Angeles Homeless Services Authority | Los Angeles, CA | $154,998
Los Angeles Homeless Services Authority | Los Angeles, CA | $339,078
Los Angeles Homeless Services Authority | Los Angeles, CA | $516,497
Los Angeles Homeless Services Authority | Los Angeles, CA | $108,998
Los Angeles Homeless Services Authority | Los Angeles, CA | $118,347
Los Angeles Homeless Services Authority | Los Angeles, CA | $157,707
Los Angeles Homeless Services Authority | Los Angeles, CA | $56,000
Los Angeles Homeless Services Authority | Los Angeles, CA | $387,581
Los Angeles Homeless Services Authority | Los Angeles, CA | $325,549
Los Angeles Homeless Services Authority | Los Angeles, CA | $450,710
Los Angeles Homeless Services Authority | Los Angeles, CA | $176,269
Los Angeles Homeless Services Authority | Los Angeles, CA | $67,200
Los Angeles Homeless Services Authority | Los Angeles, CA | $385,943
Los Angeles Homeless Services Authority | Los Angeles, CA | $277,455
Los Angeles Homeless Services Authority | Los Angeles, CA | $161,538
Los Angeles Homeless Services Authority | Los Angeles, CA | $248,824
Los Angeles Homeless Services Authority | Los Angeles, CA | $349,666
Los Angeles Homeless Services Authority | Los Angeles, CA | $292,257
Los Angeles Homeless Services Authority | Los Angeles, CA | $253,325
County of Alameda, HCD | Hayward, CA | $1,090,393
Los Angeles Homeless Services Authority | Los Angeles, CA | $300,205
San Francisco Department of Human Services | San Francisco, CA | $287,117
Housing Authority of the City of Los Angeles | Los Angeles, CA | $2,426,400
Housing Authority of the City of Los Angeles | Los Angeles, CA | $1,516,800
Housing Authority of the City of Los Angeles | Los Angeles, CA | $1,516,800
Housing Authority of the City of Los Angeles | Los Angeles, CA | $129,192
San Francisco Department of Human Services | San Francisco, CA | $1,002,552
San Francisco Department of Human Services | San Francisco, CA | $82,728
San Francisco Department of Human Services | San Francisco, CA | $58,176
San Francisco Department of Human Services | San Francisco, CA | $477,958
San Francisco Department of Human Services | San Francisco, CA | $608,064
San Francisco Department of Human Services | San Francisco, CA | $30,869
San Francisco Department of Human Services | San Francisco, CA | $475,843
San Francisco Department of Human Services | San Francisco, CA | $141,317
Los Angeles Homeless Services Authority | Los Angeles, CA | $262,085
San Francisco Department of Human Services | San Francisco, CA | $398,225
Los Angeles Homeless Services Authority | Los Angeles, CA | $420,867
San Francisco Department of Human Services | San Francisco, CA | $131,683
San Francisco Department of Human Services | San Francisco, CA | $146,902
San Francisco Department of Human Services | San Francisco, CA | $407,729
Los Angeles Homeless Services Authority | Los Angeles, CA | $63,688
Los Angeles Homeless Services Authority | Los Angeles, CA | $71,317
Los Angeles Homeless Services Authority | Los Angeles, CA | $119,280
Los Angeles Homeless Services Authority | Los Angeles, CA | $71,797
Los Angeles Homeless Services Authority | Los Angeles, CA | $180,897
Los Angeles Homeless Services Authority | Los Angeles, CA | $243,292
Los Angeles Homeless Services Authority | Los Angeles, CA | $158,891
Los Angeles Homeless Services Authority | Los Angeles, CA | $565,337
Los Angeles Homeless Services Authority | Los Angeles, CA | $282,429
Los Angeles Homeless Services Authority | Los Angeles, CA | $233,735
San Francisco Department of Human Services | San Francisco, CA | $168,480
Concern For The Poor | San Jose, CA | $197,077
Los Angeles Homeless Services Authority | Los Angeles, CA | $198,508
San Francisco Department of Human Services | San Francisco, CA | $323,274
San Francisco Department of Human Services | San Francisco, CA | $344,576
San Francisco Department of Human Services | San Francisco, CA | $801,012
Progress Foundation | San Francisco, CA | $386,749
Walden House, Inc. | San Francisco, CA | $258,471
San Francisco Network Ministries Housing Corporation | San Francisco, CA | $76,228
Catholic Charities of the Archdiocese of San Francisco | San Francisco, CA | $121,089
Catholic Charities of the Archdiocese of San Francisco | San Francisco, CA | $157,550
Community Awareness & Treatment Services, Inc. | San Francisco, CA | $371,342
Larkin Street Youth Services | San Francisco, CA | $55,587
The Salvation Army, a California Corporation | San Francisco, CA | $449,412
San Francisco Department of Human Services | San Francisco, CA | $301,027
Bill Wilson Center | Santa Clara, CA | $548,476
San Francisco Department of Human Services | San Francisco, CA | $87,551
St. Vincent de Paul Society of SF | San Francisco, CA | $144,380
Swords To Plowshares | San Francisco, CA | $282,594
Baker Places, Inc. | San Francisco, CA | $11,308
Compass Community Services | San Francisco, CA | $320,782
Second Start Learning Disabilities, Inc. | San Jose, CA | $96,790
The Unity Care Group | San Jose, CA | $121,840
The Unity Care Group | San Jose, CA | $123,366
St. Vincent De Paul Society | San Jose, CA | $118,667
Community Solutions for Children, Families & Individuals, Inc. | Morgan Hill, CA | $224,553
City of Fremont | Fremont, CA | $269,790
LifeLong Medical Care | Berkeley, CA | $539,398
City of Berkeley, California | Berkeley, CA | $1,909,116
United States Veterans Initiative, Inc. | Inglewood, CA | $496,557
Bill Wilson Center | Santa Clara, CA | $298,645
Los Angeles Homeless Services Authority | Los Angeles, CA | $292,176
Los Angeles Homeless Services Authority | Los Angeles, CA | $147,776
Los Angeles Homeless Services Authority | Los Angeles, CA | $287,114
Los Angeles Homeless Services Authority | Los Angeles, CA | $575,314
Los Angeles Homeless Services Authority | Los Angeles, CA | $340,549
Los Angeles Homeless Services Authority | Los Angeles, CA | $796,649
Los Angeles Homeless Services Authority | Los Angeles, CA | $299,451
Los Angeles Homeless Services Authority | Los Angeles, CA | $849,122
Los Angeles Homeless Services Authority | Los Angeles, CA | $629,398
Los Angeles Homeless Services Authority | Los Angeles, CA | $228,179
Los Angeles Homeless Services Authority | Los Angeles, CA | $386,941
Los Angeles Homeless Services Authority | Los Angeles, CA | $333,929
Los Angeles Homeless Services Authority | Los Angeles, CA | $816,709
San Francisco Department of Human Services | San Francisco, CA | $309,346
Los Angeles Homeless Services Authority | Los Angeles, CA | $575,314
Housing Authority of the City of Los Angeles | Los Angeles, CA | $303,600
Los Angeles Homeless Services Authority | Los Angeles, CA | $474,403
Los Angeles Homeless Services Authority | Los Angeles, CA | $1,191,616
Los Angeles Homeless Services Authority | Los Angeles, CA | $223,929
Los Angeles Homeless Services Authority | Los Angeles, CA | $259,701
Los Angeles Homeless Services Authority | Los Angeles, CA | $244,335
Los Angeles Homeless Services Authority | Los Angeles, CA | $220,461
Los Angeles Homeless Services Authority | Los Angeles, CA | $201,821
Los Angeles Homeless Services Authority | Los Angeles, CA | $213,806
Los Angeles Homeless Services Authority | Los Angeles, CA | $156,191
Los Angeles Homeless Services Authority | Los Angeles, CA | $145,940
San Francisco Department of Human Services | San Francisco, CA | $395,319
San Francisco Department of Human Services | San Francisco, CA | $417,082
San Francisco Department of Human Services | San Francisco, CA | $567,520
Los Angeles Homeless Services Authority | Los Angeles, CA | $575,314
County of Alameda, HCD | Hayward, CA | $44,122
Housing Authority of the City of Los Angeles | Los Angeles, CA | $2,339,940
The Salvation Army, A California Corporation | Los Angeles, CA | $360,501
The Salvation Army, A California Corporation | Los Angeles, CA | $218,222
Southern California Alcohol and Drug Programs, Inc. | Downey, CA | $355,944
Resources for Independent Living Inc. (RIL) | Sacramento, CA | $97,876
County of Alameda, HCD | Hayward, CA | $157,189
County of Sacramento | Sacramento, CA | $617,384
Los Angeles Family Housing Corporation | North Hollywood, CA | $355,664
Los Angeles Family Housing Corporation | North Hollywood, CA | $363,659
County of Alameda, HCD | Hayward, CA | $720,072
County of Alameda, HCD | Hayward, CA | $40,404
County of Alameda, HCD | Hayward, CA | $192,266
The Salvation Army, A California Corporation | Los Angeles, CA | $170,271
County of Alameda, HCD | Hayward, CA | $30,624
The Salvation Army, A California Corporation | Los Angeles, CA | $221,486
County of Alameda, HCD | Hayward, CA | $98,604
County of Alameda, HCD | Hayward, CA | $85,161
Catholic Charities of Los Angeles, Incorporated | Los Angeles, CA | $103,425
Catholic Charities of Los Angeles, Incorporated | Los Angeles, CA | $142,901
Stop Homelessness in the Rio Hondo Area, Incorporated | Norwalk, CA | $165,207
Asian Pacific Women's Center, Incorporated | Los Angeles, CA | $149,380
Antelope Valley Domestic Violence Council | Lancaster, CA | $143,912
California Council for Veterans Affairs, Incorporated | Los Angeles, CA | $136,216
County of Alameda, HCD | Hayward, CA | $59,325
County of Los Angeles | Los Angeles, CA | $194,098
County of Los Angeles | Los Angeles, CA | $378,804
Step Up on Second | Santa Monica, CA | $251,712
Homes for Life Foundation | Los Angeles, CA | $146,091
New Directions, Incorporated | Los Angeles, CA | $574,641
County of Alameda, HCD | Hayward, CA | $42,170
Resources for Community Development | Berkeley, CA | $75,528
Bonita House, Incorporated | Oakland, CA | $33,080
Single Room Occupancy Housing Corporation | Los Angeles, CA | $279,510
Single Room Occupancy Housing Corporation | Los Angeles, CA | $369,601
Mary Lind Foundation | Los Angeles, CA | $442,318
Jewish Family Service of Los Angeles | Los Angeles, CA | $180,498
YMCA of Metropolitan Los Angeles | Hollywood, CA | $177,487
Gramercy Housing Group | Los Angeles, CA | $210,961
Testimonial Community Love Center | Los Angeles, CA | $136,888
The Ark of Refuge, Incorporated | San Francisco, CA | $208,502
Affordable Housing Associates | Berkeley, CA | $36,665
County of Alameda, HCD | Hayward, CA | $51,120
The Salvation Army, A California Corporation | Los Angeles, CA | $174,133
County of Alameda, HCD | Hayward, CA | $676,632
City of Santa Monica | Santa Monica, CA | $95,688
The Penny Lane Centers | North Hills, CA | $174,971
Covenant House California | Hollywood, CA | $128,499
Upward Bound House | Santa Monica, CA | $281,424
SHIELDS For Families, Incorporated | Los Angeles, CA | $90,396
Center for Human Rights and Constitutional Law, Inc. | Los Angeles, CA | $134,944
1736 Family Crisis Center | Los Angeles, CA | $521,824
Ocean Park Community Center | Santa Monica, CA | $305,939
County of Alameda, HCD | Hayward, CA | $244,786
County of Alameda, HCD | Hayward, CA | $61,248
County of Alameda, HCD | Hayward, CA | $40,752
County of Alameda, HCD | Hayward, CA | $3,427,716
County of Alameda, HCD | Hayward, CA | $79,800
County of Alameda, HCD | Hayward, CA | $60,348
County of Alameda, HCD | Hayward, CA | $84,612
Housing Authority of the City of Los Angeles | Los Angeles, CA | $485,760
San Jose Cathedral Foundation | San Jose, CA | $96,600
Clara-Mateo Alliance, Inc. | Menlo Park, CA | $179,794
Clara-Mateo Alliance, Inc. | Menlo Park, CA | $221,399
Clara-Mateo Alliance, Inc. | Menlo Park, CA | $159,292
San Francisco Department of Human Services | San Francisco, CA | $898,560
San Francisco Department of Human Services | San Francisco, CA | $198,917
San Francisco Department of Human Services | San Francisco, CA | $198,922
San Francisco Department of Human Services | San Francisco, CA | $1,060,899
San Francisco Department of Human Services | San Francisco, CA | $1,303,278
San Francisco Department of Human Services | San Francisco, CA | $89,856
San Francisco Department of Human Services | San Francisco, CA | $1,010,880
San Francisco Department of Human Services | San Francisco, CA | $118,878
Serra Ancillary Care Corporation | Los Angeles, CA | $590,724
San Francisco Department of Human Services | San Francisco, CA | $146,082
Jobs for Homeless Consortium | Oakland, CA | $859,669
Housing Authority of the City of Los Angeles | Los Angeles, CA | $267,780
Housing Authority of the City of Los Angeles | Los Angeles, CA | $24,288
Housing Authority of the City of Los Angeles | Los Angeles, CA | $1,111,176
Housing Authority of the City of Los Angeles | Los Angeles, CA | $246,444
Housing Authority of the City of Los Angeles | Los Angeles, CA | $119,952
Housing Authority of the City of Los Angeles | Los Angeles, CA | $207,876
Housing Authority of the City of Los Angeles | Los Angeles, CA | $150,396
Housing Authority of the City of Los Angeles | Los Angeles, CA | $113,232
Housing Authority of the City of Los Angeles | Los Angeles, CA | $122,796
Housing Authority of the City of Los Angeles | Los Angeles, CA | $161,760
Housing Authority of the City of Los Angeles | Los Angeles, CA | $109,296
Housing Authority of the City of Los Angeles | Los Angeles, CA | $182,160
Resources for Community Development | Berkeley, CA | $40,285
San Francisco Department of Human Services | San Francisco, CA | $202,176
Building Opportunities for Self-Sufficiency | Berkeley, CA | $114,997
Housing Authority of the City of Los Angeles | Los Angeles, CA | $4,079,040
Community Dev. Commission/Housing Authority Co. of LA | Santa Fe Springs, CA | $1,236,060
Community Dev. Commission/Housing Authority Co. of LA | Santa Fe Springs, CA | $667,980
Community Dev. Commission/Housing Authority Co. of LA | Santa Fe Springs, CA | $219,156
County of Alameda, HCD | Hayward, CA | $70,092
County of Alameda, HCD | Hayward, CA | $27,168
County of Alameda, HCD | Hayward, CA | $23,364
County of Alameda, HCD | Hayward, CA | $122,148
County of Alameda, HCD | Hayward, CA | $50,544
Berkeley Food and Housing Project | Berkeley, CA | $242,217
Berkeley Food and Housing Project | Berkeley, CA | $249,999
Berkeley Food and Housing Project | Berkeley, CA | $141,019
Lutheran Social Services of Northern California | El Cerrito, CA | $53,747
Jubilee Restoration, Incorporated | Berkeley, CA | $102,171
The City of Oakland | Oakland, CA | $1,825,154
City of Santa Monica | Santa Monica, CA | $1,526,868
Jobs for Homeless Consortium | Oakland, CA | $1,016,786
Alameda County, Department of Public Health | Oakland, CA | $73,877
Fred Finch Children's Home | Oakland, CA | $719,667
Fred Finch Children's Home | Oakland, CA | $649,863
Building Opportunities for Self-Sufficiency | Berkeley, CA | $164,038
The City of Oakland | Oakland, CA | $245,146
Building Opportunities for Self-Sufficiency | Berkeley, CA | $844,024
Building Opportunities for Self-Sufficiency | Berkeley, CA | $185,727
Building Opportunities for Self-Sufficiency | Berkeley, CA | $74,500
Building Opportunities for Self-Sufficiency | Berkeley, CA | $523,088
Building Opportunities for Self-Sufficiency | Berkeley, CA | $553,947
Building Opportunities for Self-Sufficiency | Berkeley, CA | $96,147
Jobs for Homeless Consortium | Oakland, CA | $648,304
The City of Oakland | Oakland, CA | $259,432
Central California Family Crisis Center, Incorporated | Porterville, CA | $93,687
County of Napa | Napa, CA | $19,950
Housing Authority of City of Napa | Napa, CA | $59,062
Housing Authority of City of Napa | Napa, CA | $218,520
Housing Authority of City of Napa | Napa, CA | $123,439
Central Community Development Center | Clvis, CA | $206,451
Turning Point of Central California, Inc. | Visalia, CA | $1,272,349
Fresno County EOC | Fresno, CA | $1,757,591
Marjaree Mason Center, Inc. | Fresno, CA | $863,520
Marjaree Mason Center, Inc. | Fresno, CA | $324,259
Center for Domestic Violence Prevention | Burlingame, CA | $450,750
Shelter Network of San Mateo County | Burlingame, CA | $131,250
Shelter Network of San Mateo County | Burlingame, CA | $131,250
Buckelew Programs | San Rafael, CA | $149,398
Shelter Network of San Mateo County | Burlingame, CA | $52,500
Hsg Authority of the Co. of San Mateo | Belmont, CA | $939,984
Mental Health Association of San Mateo County | Redwood City, CA | $39,530
Samaritan House | San Mateo, CA | $105,000
County of Sacramento | Sacramento, CA | $206,936
Hsg Authority of the Co. of San Mateo | Belmont, CA | $990,738
Hsg Authority of the Co. of San Mateo | Belmont, CA | $1,013,772
County of San Joaquin | Stockton, CA | $141,253
County of San Joaquin | Stockton, CA | $563,184
County of San Joaquin | Stockton, CA | $141,603
County of San Joaquin | Stockton, CA | $232,120
County of San Joaquin | Stockton, CA | $245,879
County of San Joaquin | Stockton, CA | $22,503
Community Housing and Shelter Services | Modesto, CA | $95,314
Housing Authority County of Stanislaus | Modesto, CA | $42,408
Shelter Network of San Mateo County | Burlingame, CA | $115,500
Caminar | Chico, CA | $707,180
Santa Clara County | San Jose, CA | $553,212
Interfaith Shelter Network | Santa Rosa, CA | $49,560
United States Veterans Initiative | Inglewood, CA | $416,497
Santa Clara County | San Jose, CA | $561,576
Hsg Authority of the Co. of San Mateo | Belmont, CA | $202,908
Santa Clara County | San Jose, CA | $780,108
Santa Clara County | San Jose, CA | $444,156
United Christian Centers of the Greater Sacramento Area, Incorporated | West Sacramento, CA | $46,527
Santa Clara County | San Jose, CA | $524,844
City of Woodland | Woodland, CA | $175,151
Phoenix Programs, Incorporated | Concord, CA | $305,871
Fairfield-Suisun Community Action Council | Fairfield, CA | $194,250
Caminar, Incorporated | Fairfield, CA | $100,000
Rubicon Programs, Incorporated | Richmond, CA | $447,190
United States Veterans Initiative | Inglewood, CA | $119,001
Placer Women's Center dba PEACE for Families | Auburn, CA | $212,298
Placer County Health and Human Services | Auburn, CA | $241,320
Placer County Health and Human Services | Auburn, CA | $293,282
City of Davis | Davis, CA | $106,752
Denver Department of Human Services | Denver, CO | $356,208
Colorado Coalition for the Homeless | Denver, CO | $90,793
Colorado Coalition for the Homeless | Denver, CO | $749,842
Colorado Coalition for the Homeless | Denver, CO | $1,380,000
Volunteers of America | Denver, CO | $1,012,205
Denver Department of Human Services | Denver, CO | $277,224
Denver Department of Human Services | Denver, CO | $350,664
Colorado Coalition for the Homeless | Denver, CO | $90,793
Colorado Coalition for the Homeless | Denver, CO | $322,317
Family Tree, Inc. | Wheat Ridge, CO | $240,254
Colorado Coalition for the Homeless | Denver, CO | $97,099
Colorado Department of Human Services | Denver, CO | $266,976
Colorado Coalition for the Homeless | Denver, CO | $431,654
Colorado Coalition for the Homeless | Denver, CO | $165,620
Colorado Coalition for the Homeless | Denver, CO | $225,876
Colorado Coalition for the Homeless | Denver, CO | $268,393
North Range Behavioral Health | Greeley, CO | $748,631
Housing Solutions for the Southwest | Durango, CO | $38,016
Colorado Coalition for the Homeless | Denver, CO | $259,540
Colorado Coalition for the Homeless | Denver, CO | $76,587
Catholic Charities of Colorado Springs Incorporated | Colorado Springs, CO | $74,212
Partners in Housing, Incorporated | Colorado Springs, CO | $72,681
Partners in Housing, Incorporated | Colorado Springs, CO | $72,447
Colorado Department of Human Services | Denver, CO | $357,660
Partners in Housing, Incorporated | Colorado Springs, CO | $65,020
Bridgeway | Lakewood, CO | $207,515
Partners in Housing, Incorporated | Colorado Springs, CO | $143,994
Partners in Housing, Incorporated | Colorado Springs, CO | $104,888
Colorado Coalition for the Homeless | Denver, CO | $282,316
The Salvation Army A California Corporation | Colorado Spring, CO | $214,000
Colorado Department of Human Services | Denver, CO | $746,880
Colorado Department of Human Services | Denver, CO | $97,560
Colorado Department of Human Services | Denver, CO | $1,126,488
Colorado Department of Human Services | Denver, CO | $149,916
Aurora Comprehensive Community Mental Health Center | Aurora, CO | $331,333
Arapahoe House | Thornton, CO | $208,010
Third Way Center, Inc. | Denver, CO | $111,800
Partners in Housing, Incorporated | Colorado Springs, CO | $199,150
Women's Center of SE CT | New London, CT | $50,584
South Park Inn | Hartford, CT | $273,000
Community Renewal Team, Inc. | Hartford, CT | $565,000
Thames Valley Counc. for Comm. Action Inc. | Jewett City, CT | $655,247
Alliance for Living, Inc. | New London, CT | $149,335
State of Connecticut | Hartford, CT | $756,480
Connecticut Women's Consortium, Inc. | New Haven, CT | $171,113
Liberty Community Services, Inc. | New Haven, CT | $292,500
Christian Community Action, Inc. | New Haven, CT | $183,990
State of Connecticut | Hartford, CT | $448,800
Hall-Brooke Behavioral Health Services | Westport, CT | $309,030
Housing Authority of the City of Waterbury | Waterbury, CT | $117,857
Housing Authority of the City of Waterbury | Waterbury, CT | $395,280
Torrington Community Housing Corporation | Torrington, CT | $401,473
Torrington Community Housing Corporation | Torrington, CT | $210,000
State of Connecticut | Hartford, CT | $175,728
State of Connecticut | Hartford, CT | $175,728
State of Connecticut | Hartford, CT | $222,268
Youth Continuum, Inc. | New Haven, CT | $301,568
Housing Oper. Mgmt Ent. (HOME), Inc. | New Haven, CT | $900,900
Interfaith Housing Association | Westport, CT | $321,535
Norwalk Emergency Shelter, Inc. | Norwalk, CT | $47,831
Family & Children's Agency, Inc. | Norwalk, CT | $145,513
State of Connecticut | Hartford, CT | $390,396
Friendship Service Center of New Britain, Inc. | New Britain, CT | $420,014
Prudence Crandall Center, Inc. | New Britain, CT | $370,000
Prudence Crandall Center, Inc. | New Britain, CT | $655,000
State of Connecticut | Hartford, CT | $90,960
Mercy Housing and Shelter Corporation | Hartford, CT | $241,190
American Red Cross Middlesex CT | Middletown, CT | $133,000
My Sisters' Place, Inc. | Hartford, CT | $238,082
Immaculate Conception Shelter and Housing Corp. | Hartford, CT | $457,251
State of Connecticut | Hartford, CT | $46,584
State of Connecticut | Hartford, CT | $69,876
Inter-Community Mental Health Group, Inc. | East Hartford, CT | $207,127
St. Vincent DePaul Society of Bristol, Inc. | Bristol, CT | $321,830
United Way of Stamford | Stamford, CT | $52,500
State of Connecticut | Hartford, CT | $86,712
St. Luke's Community Services, Inc. | Stamford, CT | $132,900
St. Luke's Community Services, Inc. | Stamford, CT | $263,364
Mutual Housing Association of SW CT, Inc. | Stamford, CT | $165,900
Community Renewal Team, Inc. | Hartford, CT | $1,084,032
Housing Oper. Mgmt Ent. (HOME), Inc. | New Haven, CT | $245,000
Nehemiah Housing Corporation | Middletown, CT | $168,000
St. Vincent DePaul Society of Bristol, Inc. | Bristol, CT | $27,019
CT Dept. of Mental Health & Addiction Services | Hartford, CT | $90,144
CT Dept. of Mental Health & Addiction Services | Hartford, CT | $213,380
The Mid Fairfield AIDS Project Inc. | Norwalk, CT | $120,000
CT Dept. of Mental Health & Addiction Services | Hartford, CT | $428,222
CT Dept. of Mental Health & Addiction Services | Hartford, CT | $597,564
CT Dept. of Mental Health & Addiction Services | Hartford, CT | $237,344
CT Dept. of Mental Health & Addiction Services | Hartford, CT | $270,940
State of Connecticut | Hartford, CT | $333,444
CT Dept. of Mental Health & Addiction Services | Hartford, CT | $504,300
CT Dept. of Mental Health & Addiction Services | Hartford, CT | $100,887
The Community Partnership for the Prevention of Homelessness | District of Columbia, DC | $204,748
DC Office of Research and Analysis | Washington, DC | $104,040
The Community Partnership for the Prevention of Homelessness | District of Columbia, DC | $141,957
The Community Partnership for the Prevention of Homelessness | District of Columbia, DC | $142,306
The Community Partnership for the Prevention of Homelessness | District of Columbia, DC | $580,428
The Community Partnership for the Prevention of Homelessness | District of Columbia, DC | $100,905
The Community Partnership for the Prevention of Homelessness | District of Columbia, DC | $370,591
DC Office of Research and Analysis | Washington, DC | $95,880
The Community Partnership for the Prevention of Homelessness | District of Columbia, DC | $190,522
DC Office of Research and Analysis | Washington, DC | $73,980
DC Office of Research and Analysis | Washington, DC | $41,100
DC Office of Research and Analysis | Washington, DC | $121,416
DC Office of Research and Analysis | Washington, DC | $284,172
DC Office of Research and Analysis | Washington, DC | $43,848
Families Forward, Incorporated | Washington, DC | $191,160
District of Columbia Department of Health | Washington, DC | $199,488
DC Office of Research and Analysis | Washington, DC | $29,232
District of Columbia Department of Health | Washington, DC | $378,888
The Community Partnership for the Prevention of Homelessness | District of Columbia, DC | $358,073
The Community Partnership for the Prevention of Homelessness | District of Columbia, DC | $86,003
Community Connections | Washington, DC | $98,175
Families Forward, Incorporated | Washington, DC | $229,046
DC Office of Research and Analysis | Washington, DC | $176,688
Families Forward, Incorporated | Washington, DC | $201,224
Hannah House, Incorporated | Washington, DC | $148,115
Catholic Charities | Washington, DC | $168,641
Sasha Bruce Youthwork, Incorporated | Washington, DC | $189,058
Sasha Bruce Youthwork, Incorporated | Washington, DC | $129,593
Sasha Bruce Youthwork, Incorporated | Washington, DC | $67,628
Coalition for the Homeless | Washington, DC | $113,825
Coalition for the Homeless | Washington, DC | $171,453
The Community Partnership for the Prevention of Homelessness | District of Columbia, DC | $245,422
Community Family Life Services | Washington, DC | $140,205
JHP, Incorporated | Washington, DC | $136,761
Community Connections | Washington, DC | $106,864
Transitional Housing Corporation | Washington, DC | $127,385
The Community Partnership for the Prevention of Homelessness | District of Columbia, DC | $293,914
The Community Partnership for the Prevention of Homelessness | District of Columbia, DC | $266,084
The Community Partnership for the Prevention of Homelessness | District of Columbia, DC | $134,835
The Community Partnership for the Prevention of Homelessness | District of Columbia, DC | $189,000
The Community Partnership for the Prevention of Homelessness | District of Columbia, DC | $87,850
The Community Partnership for the Prevention of Homelessness | District of Columbia, DC | $109,725
The Community Partnership for the Prevention of Homelessness | District of Columbia, DC | $121,728
The Community Partnership for the Prevention of Homelessness | District of Columbia, DC | $333,913
Community Family Life Services | Washington, DC | $364,761
The Community Partnership for the Prevention of Homelessness | District of Columbia, DC | $257,404
So Others Might Eat (SOME) | Washington, DC | $323,673
The Community Partnership for the Prevention of Homelessness | District of Columbia, DC | $196,569
The Community Partnership for the Prevention of Homelessness | District of Columbia, DC | $141,214
House of Ruth | Washington, DC | $202,832
House of Ruth | Washington, DC | $83,511
House of Ruth | Washington, DC | $321,806
Catholic Charities Archdiocese of Washington DC | Washington, DC | $235,903
House of Ruth | Washington, DC | $144,083
House of Ruth | Washington, DC | $34,657
So Others Might Eat (SOME) | Washington, DC | $101,333
House of Ruth | Washington, DC | $84,383
So Others Might Eat (SOME) | Washington, DC | $513,940
The Community Partnership for the Prevention of Homelessness | District of Columbia, DC | $750,000
The Community Partnership for the Prevention of Homelessness | District of Columbia, DC | $176,226
The Community Partnership for the Prevention of Homelessness | District of Columbia, DC | $175,219
The Community Partnership for the Prevention of Homelessness | District of Columbia, DC | $132,300
The Community Partnership for the Prevention of Homelessness | District of Columbia, DC | $210,119
The Community Partnership for the Prevention of Homelessness | District of Columbia, DC | $232,880
The Community Partnership for the Prevention of Homelessness | District of Columbia, DC | $149,203
The Community Partnership for the Prevention of Homelessness | District of Columbia, DC | $204,916
The Community Partnership for the Prevention of Homelessness | District of Columbia, DC | $899,866
House of Ruth | Washington, DC | $79,929
Delaware Health & Social Services | New Castle, DE | $1,282,950
The YWCA of New Castle County Delaware | Wilmington, DE | $323,966
Ministry of Caring Inc. | Wilmington, DE | $200,408
Ministry of Caring Inc. | Wilmington, DE | $129,874
Ministry of Caring Inc. | Wilmington, DE | $212,357
Ministry of Caring Inc. | Wilmington, DE | $66,467
Ministry of Caring Inc. | Wilmington, DE | $647,808
SBM Housing, Inc. | Wilmington, DE | $65,785
Ministry of Caring Inc. | Wilmington, DE | $374,174
West End Neighborhood House | Wilmington, DE | $749,997
Connections CSP, Inc | Wilmington, DE | $152,421
Homeless Services Network of Central Florida | Orlando, FL | $357,021
United Way of Sarasota County, Inc. | Sarasota, FL | $142,655
United Way of Sarasota County, Inc. | Sarasota, FL | $160,372
Indian River County Commission | Vero Beach, FL | $77,568
Indian River County Commission | Vero Beach, FL | $400,140
Renaissance Manor, Inc. | Sarasota, FL | $582,990
New Life Outreach Ministry, Incorporated | Lakeland, FL | $311,347
City of Gainesville | Gainesville, FL | $99,101
Tallahassee Coalition for the Homeless, Incorporated | Tallahassee, FL | $576,030
Tallahassee Coalition for the Homeless, Incorporated | Tallahassee, FL | $153,462
Tallahassee Coalition for the Homeless, Incorporated | Tallahassee, FL | $273,000
New Life Outreach Ministry, Incorporated | Lakeland, FL | $287,172
Domestic Abuse Council, Inc. | Daytona Beach, FL | $62,815
Domestic Abuse Council, Inc. | Daytona Beach, FL | $69,386
Hardee, Highlands Aids Services & Education | Lakeland, FL | $94,748
Bridgeway Center, Incorporated | Fort Walton Beach, FL | $426,458
Catholic Charities | Lakeland, FL | $348,277
Alachua County Housing Authority | Gainesville, FL | $470,400
St. Francis House, Incorporated | Gainesville, FL | $68,812
Peaceful Paths, Incorporated | Gainesville, FL | $84,974
City of Gainesville | Gainesville, FL | $106,215
AIDS Coalition of Volusia/Flagler, Inc. | Daytona Beach, FL | $203,917
Project Return | Tampa, FL | $461,868
Homeless Services Network of Central Florida | Orlando, FL | $474,390
Alpha House of Tampa, Incorporated | Tampa, FL | $249,039
Alpha House of Tampa, Incorporated | Tampa, FL | $206,456
Catholic Charities, Diocese of St. Petersburg, Incorporated | Tampa, FL | $128,275
United Way of Sarasota County, Inc. | Sarasota, FL | $139,051
The Spring of Tampa Bay, Incorporated | Tampa, FL | $532,681
Homeless Services Network of Central Florida | Orlando, FL | $55,097
Serenity House of Volusia, Inc. | Daytona Beach, FL | $129,273
Homeless Services Network of Central Florida | Orlando, FL | $363,978
Homeless Services Network of Central Florida | Orlando, FL | $156,704
Serenity House of Volusia, Inc. | Daytona Beach, FL | $171,921
Family Renew Community, Inc. | Holly Hill, FL | $52,980
Family Renew Community, Inc. | Holly Hill, FL | $21,164
Homeless Services Network of Central Florida | Orlando, FL | $184,602
Homeless Services Network of Central Florida | Orlando, FL | $189,000
Agency for Community Treatment Services, Incorporated | Tampa, FL | $1,209,106
Orange Co. Housing and Community Development | Orlando, FL | $741,960
Homeless Services Network of Central Florida | Orlando, FL | $133,736
Homeless Services Network of Central Florida | Orlando, FL | $326,406
Boley Centers for Behavioral Health Care, Inc. | Pinellas, FL | $756,000
Homeless Services Network of Central Florida | Orlando, FL | $380,639
Mental Health Care, Incorporated | Tampa, FL | $598,500
Martin County Board of Co. Commissioners | Stuart, FL | $395,280
Housing Authority of the City of Tampa | Tampa, FL | $698,520
Tri-County Human Services, Inc. | Lakeland, FL | $75,000
Homeless Services Network of Central Florida | Orlando, FL | $659,312
Peaceful Paths, Incorporated | Gainesville, FL | $76,612
Homeless Services Network of Central Florida | Orlando, FL | $336,691
Homeless Services Network of Central Florida | Orlando, FL | $105,000
Volunteers of America of Florida, Inc. | Tampa, FL | $250,000
Homeless Services Network of Central Florida | Orlando, FL | $185,850
Volunteers of America of Florida, Inc. | Tampa, FL | $343,033
Lee County Board of County Commissioners | North Fort Myers, FL | $1,064,138
Lee County Board of County Commissioners | North Fort Myers, FL | $119,722
Lee County Board of County Commissioners | North Fort Myers, FL | $180,510
Lee County Board of County Commissioners | North Fort Myers, FL | $222,069
Lee County Board of County Commissioners | North Fort Myers, FL | $86,199
Rural Health Network of Monroe Co., Inc. | Key West, FL | $173,774
Monroe Association Retarded Citizens, Inc. | Key West, FL | $102,269
Florida Keys Outreach Coalition, Inc. | Key West, FL | $175,879
AIDS Help, Inc. | Key West, FL | $138,000
Broward County Housing Authority | Lauderhill, FL | $880,920
The Salvation Army, a Georgia Corporation | Fort Lauderdale, FL | $141,727
The Salvation Army, a Georgia Corporation | Fort Lauderdale, FL | $259,038
Community Connections of Jacksonville, Inc. | Jacksonville, FL | $262,177
Covenant House Florida | Fort Lauderdale, FL | $183,729
Palm Beach County Board of County Commissioners | West Palm Beach, FL | $438,254
Broward County Board of County Commissioners | Fort Lauderdale, FL | $206,825
Broward County Board of County Commissioners | Fort Lauderdale, FL | $63,494
Broward County Board of County Commissioners | Fort Lauderdale, FL | $621,262
Broward County Board of County Commissioners | Fort Lauderdale, FL | $81,407
Broward County Board of County Commissioners | Fort Lauderdale, FL | $774,540
Broward County Board of County Commissioners | Fort Lauderdale, FL | $996,911
Boley Centers for Behavioral Health Care, Inc. | St. Petersburg, FL | $232,088
Broward County Board of County Commissioners | Fort Lauderdale, FL | $314,868
Volunteers of America of Florida, Inc. | Tampa, FL | $681,500
Miami-Dade County | Miami, FL | $346,476
Miami-Dade County | Miami, FL | $141,768
Miami-Dade County | Miami, FL | $170,017
The Salvation Army, a Georgia Corporation | Fort Lauderdale, FL | $202,878
Community Connections of Jacksonville, Inc. | Jacksonville, FL | $530,308
Volusia/Flagler County Coalition for Homeless, Incorporated | Daytona Beach, FL | $81,400
Act Corporation | Daytona Beach, FL | $750,000
Volunteers of America of Florida, Inc. | Jacksonville, FL | $421,331
Volunteers of America of Florida, Inc. | Jacksonville, FL | $407,862
United Way of Northeast Florida | Jacksonville, FL | $64,374
Clara White Mission, Inc. | Jacksonville, FL | $175,000
Goodwill Industries of North Florida | Jacksonville, FL | $412,500
Mental Health Resource Center, Inc. | Jacksonville, FL | $279,980
211 Brevard, Incorporated | Cocoa, FL | $76,752
River Region Human Services | Jacksonville, FL | $241,584
Crosswinds Youth Services, Incorporated | Cocoa, FL | $87,536
Coalition for the Hungry and Homeless | Cocoa, FL | $440,756
Operation Hope, Inc. | Lake Park, FL | $749,549
Coalition for the Hungry and Homeless | Cocoa, FL | $226,400
The Center for Information & Crisis Services | Lantana, FL | $134,441
Collier County Board of County Commissioners | Naples, FL | $440,000
Collier County Board of County Commissioners | Naples, FL | $155,599
YWCA of Palm Beach County | West Palm Beach, FL | $285,801
Oakwood Center of the Palm Beaches, Inc. | West Palm Beach, FL | $381,304
Gulfstream Goodwill Inc. | West Palm Beach, FL | $178,807
Gulfstream Goodwill Inc. | West Palm Beach, FL | $194,029
The Lord's Place, Inc. | West Palm Beach, FL | $182,984
The Lord's Place, Inc. | West Palm Beach, FL | $283,023
Community Connections of Jacksonville, Inc. | Jacksonville, FL | $316,350
Florida Housing Corporation | West Palm Beach, FL | $86,415
Florida Housing Corporation | West Palm Beach, FL | $257,191
Adopt-A-Family of the Palm Beaches, Inc. | West Palm Beach, FL | $207,813
Carrfour Supportive Housing | Miami, FL | $409,479
Coalition for the Hungry and Homeless | Cocoa, FL | $134,865
Miami-Dade County | Miami, FL | $687,505
Miami-Dade County | Miami, FL | $57,668
Miami-Dade County | Miami, FL | $83,333
Miami-Dade County | Miami, FL | $644,400
I.M.Sulzbacher Center for the Homeless Inc. | Jacksonville, FL | $235,288
Miami-Dade County | Miami, FL | $129,648
Miami-Dade County | Miami, FL | $79,485
Miami-Dade County | Miami, FL | $571,272
Miami-Dade County | Miami, FL | $129,138
Miami-Dade County | Miami, FL | $527,999
Miami-Dade County | Miami, FL | $339,721
Miami-Dade County | Miami, FL | $232,968
Miami-Dade County | Miami, FL | $84,000
Miami-Dade County | Miami, FL | $348,236
Miami-Dade County | Miami, FL | $106,994
Miami-Dade County | Miami, FL | $138,789
Miami-Dade County | Miami, FL | $257,496
Miami-Dade County | Miami, FL | $63,993
Miami-Dade County | Miami, FL | $434,700
Miami-Dade County | Miami, FL | $124,621
Miami-Dade County | Miami, FL | $81,120
Miami-Dade County | Miami, FL | $33,957
ESHC of St. Johns County, Incorporated | St. Augustine, FL | $89,610
Lakeview Center, Incorporated | Pensacola, FL | $307,887
CASA Community Action Stops Abuse | St. Petersburg, FL | $484,063
Boley Centers for Behavioral Health Care, Inc. | St. Petersburg, FL | $253,779
Religious Community Services, Inc. | Clearwater, FL | $330,163
WestCare Gulfcoast Florida, Inc. | St. Petersburg, FL | $547,458
2-1-1 Tampa Bay Cares, Inc. | Largo, FL | $172,454
Miami-Dade County | Miami, FL | $357,791
Miami-Dade County | Miami, FL | $174,998
Miami-Dade County | Miami, FL | $395,000
Miami-Dade County | Miami, FL | $761,160
Miami-Dade County | Miami, FL | $235,020
Miami-Dade County | Miami, FL | $183,768
Miami-Dade County | Miami, FL | $121,872
Miami-Dade County | Miami, FL | $698,784
Goodwill of North Florida | Jacksonville, FL | $76,034
Gateway Community Services, Inc. | Jacksonville, FL | $816,410
Miami-Dade County | Miami, FL | $192,665
Miami-Dade County | Miami, FL | $347,130
Miami-Dade County | Miami, FL | $178,172
Miami-Dade County | Miami, FL | $425,392
Miami-Dade County | Miami, FL | $311,679
Miami-Dade County | Miami, FL | $336,002
Miami-Dade County | Miami, FL | $273,807
Miami-Dade County | Miami, FL | $391,128
Miami-Dade County | Miami, FL | $158,095
Miami-Dade County | Miami, FL | $251,071
Miami-Dade County | Miami, FL | $364,854
Miami-Dade County | Miami, FL | $860,114
Miami-Dade County | Miami, FL | $392,418
Miami-Dade County | Miami, FL | $118,395
Miami-Dade County | Miami, FL | $315,170
Miami-Dade County | Miami, FL | $69,860
Miami-Dade County | Miami, FL | $320,880
Miami-Dade County | Miami, FL | $292,660
Decatur Cooperative Ministry, Incorporated | Decatur, GA | $88,487
Advantage Behavioral Health Systems | Athens, GA | $333,182
Integrated Life Center, Incorporated | Decatur, GA | $714,361
Nicholas House, Incorporated | Atlanta, GA | $36,141
Action Ministries, Incorporated | Atlanta, GA | $70,000
Travelers Aid of Metropolitan Atlanta, Incorporated | Atlanta, GA | $169,441
Community Advanced Practice Nurses, Incorporated | Atlanta, GA | $39,039
Initiative for Affordable Housing, Incorporated | Decatur, GA | $320,938
Citizens Against Violence, Inc. | Statesboro, GA | $145,465
The Salvation Army, a Georgia Corporation | Atlanta, GA | $385,192
Distinguished Women With A Purpose Ministries, Inc. | Duluth, GA | $284,444
S.H.A.R.E. House, Inc. | Douglasville, GA | $253,046
New Horizons Community Service Board | Columbus, GA | $47,378
Lowndes Associated Ministries to People, Inc. | Valdosta, GA | $282,555
Macon -Bibb EOC, Inc. | Macon, GA | $199,500
Hall Family Initiative Residences, Inc. | Cumming, GA | $196,221
The Extension, Incorporated | Marietta, GA | $209,308
Citizens Against Violence, Inc. | Statesboro, GA | $126,000
City of Savannah | Savannah, GA | $733,500
Phoenix Alliance, Incorporated | Decatur, GA | $58,371
Our House, Incorporated | Decatur, GA | $94,696
House of T.I.M.E, Incorporated | Columbus, GA | $259,461
House of T.I.M.E, Incorporated | Columbus, GA | $134,343
New Horizons Community Service Board | Columbus, GA | $90,200
Our Common Welfare, Incorporated | Decatur, GA | $158,033
Saint Joseph's Mercy Care Services, Incorporated | Atlanta, GA | $36,823
Housing Initiative of North Fulton | Roswell, GA | $23,646
The Anchor Center, Incorporated | Atlanta, GA | $378,311
City of Savannah | Savannah, GA | $212,196
Union Mission, Incorporated | Savannah, GA | $218,876
Chatham-Savannah Authority for the Homeless | Savannah, GA | $179,256
Chatham-Savannah Authority for the Homeless | Savannah, GA | $223,469
Board of Commissioners of Fulton County, Georgia | Atlanta, GA | $702,814
The Salvation Army, a Georgia Corporation | Atlanta, GA | $397,350
30901 Development Corporation | Augusta, GA | $250,000
Hope House, Inc. | Augusta, GA | $200,000
Cobb Family Resources | Marietta, GA | $208,097
Cobb Family Resources | Marietta, GA | $85,323
Unified Government of Athens-Clarke County | Athens, GA | $34,604
Unified Government of Athens-Clarke County | Athens, GA | $243,482
Unified Government of Athens-Clarke County | Athens, GA | $79,800
City of Augusta, Georgia | Augusta, GA | $69,090
Saint Jude's Recovery Center, Incorporated | Atlanta, GA | $278,342
Cobb Family Resources | Marietta, GA | $492,135
Families First Incorporated | Atlanta, GA | $184,013
Hope House, Inc. | Augusta, GA | $58,842
Cobb Family Resources | Marietta, GA | $96,700
Georgia Housing and Finance Authority | Atlanta, GA | $327,000
Saint Jude's Recovery Center, Incorporated | Atlanta, GA | $468,400
The Young Adult Guidance Center, Incorporated | Atlanta, GA | $154,396
Open Door Community House, Incorporated | Columbus, GA | $267,745
City of Augusta, Georgia | Augusta, GA | $67,517
Marietta Housing Authority | Marietta, GA | $642,300
Saint Jude's Recovery Center, Incorporated | Atlanta, GA | $328,898
Economic Opportunity Authority for Savannah-Chatham County Area, Incorporated | Savannah, GA | $220,500
Action Ministries, Inc. | Atlanta, GA | $1,240,088
GA Coalition Against Domestic Violence | Atlanta, GA | $685,169
Travelers Aid of Metropolitan Atlanta, Inc. | Atlanta, GA | $111,259
Travelers Aid of Metropolitan Atlanta, Inc. | Atlanta, GA | $111,694
Georgia Housing and Finance Authority | Atlanta, GA | $322,800
Gwinnett Housing Resource Partnership | Duluth, GA | $146,895
Georgia Housing and Finance Authority | Atlanta, GA | $231,180
Maranatha Outreach, Inc. | Milledgeville, GA | $120,355
Asian-American Resource Center | Norcross, GA | $331,500
Board of Commissioners of Fulton County, Georgia | Atlanta, GA | $373,951
Progressive Redevelopment Incorporated | Decatur, GA | $563,246
Samaritan House of Atlanta | Atlanta, GA | $78,820
Jerusalem House, Incorporated | Atlanta, GA | $193,704
Monumental Faith Community Outreach | Albany, GA | $117,303
Alternate Life Paths Program, Incorporated | Atlanta, GA | $48,572
Atlanta Enterprise Center, Incorporated | Atlanta, GA | $190,955
Goodwill Industries of Middle Georgia | Augusta, GA | $93,774
Stewart Community Home, Incorporated | Columbus, GA | $285,620
Georgia Law Center on Homelessness & Poverty, Incorporated | Atlanta, GA | $294,000
Furniture Bank of Metro Atlanta | Atlanta, GA | $70,010
Marietta Housing Authority | Marietta, GA | $234,888
Greenbriar Children's Center, Incorporated | Savannah, GA | $398,424
Buckhead Christian Ministry | Atlanta, GA | $80,000
Jewish Family & Career Services | Atlanta, GA | $157,729
Genisis Shelter, Incorporated | Atlanta, GA | $136,500
Community Advanced Practice Nurses, Incorporated | Atlanta, GA | $46,423
Mary Hall Freedom House, Incorporated | Atlanta, GA | $570,681
Georgia Housing and Finance Authority | Atlanta, GA | $788,100
Georgia Housing and Finance Authority | Atlanta, GA | $615,060
Georgia Housing and Finance Authority | Atlanta, GA | $610,680
Georgia Housing and Finance Authority | Atlanta, GA | $518,280
Community Advanced Practice Nurses, Incorporated | Atlanta, GA | $18,517
Government of Guam | Sinajana, GU | $180,056
City and County of Honolulu, DCS | Honolulu, HI | $1,096,200
Steadfast Housing Development Corporation | Honolulu, HI | $83,623
State of Hawaii, HCDCH | Honolulu, HI | $167,760
State of Hawaii, HCDCH | Honolulu, HI | $66,102
Alternative Structures International | Waianae, HI | $541,527
Mental Health Kokua | Honolulu, HI | $870,274
City and County of Honolulu, DCS | Honolulu, HI | $1,108,980
State of Hawaii, HCDCH | Honolulu, HI | $183,435
Steadfast Housing Development Corporation | Honolulu, HI | $72,771
Steadfast Housing Development Corporation | Honolulu, HI | $65,849
Steadfast Housing Development Corporation | Honolulu, HI | $33,385
State of Hawaii, HCDCH | Honolulu, HI | $92,490
State of Hawaii, HCDCH | Honolulu, HI | $629,160
State of Hawaii, HCDCH | Honolulu, HI | $42,287
State of Hawaii, HCDCH | Honolulu, HI | $133,875
City and County of Honolulu, DCS | Honolulu, HI | $461,844
Hawkeye Area Community Action Program | Hiawatha, IA | $87,217
Iowa Institute for Community Alliances | Des Moines, IA | $155,673
Family Service League | Waterloo, IA | $133,495
Crisis Intervention Services | Oskaloosa, IA | $108,499
John Lewis Coffee Shop, Incorporated | Davenport, IA | $440,000
John Lewis Coffee Shop, Incorporated | Davenport, IA | $220,000
John Lewis Coffee Shop, Incorporated | Davenport, IA | $207,000
Shelter House Community Shelter & Transition Services | Iowa City, IA | $448,318
Hawkeye Area Community Action Program | Hiawatha, IA | $109,833
Hawkeye Area Community Action Program | Hiawatha, IA | $17,215
Hawkeye Area Community Action Program | Hiawatha, IA | $30,998
New Directions/Area Substance Abuse Council | Clinton, IA | $104,223
YWCA of Clinton | Clinton, IA | $55,774
Family Resources, Incorporated | Davenport, IA | $37,625
Hawkeye Area Community Action Program | Hiawatha, IA | $215,072
Crisis Intervention & Advocacy Center | Adel, IA | $654,887
Family Service League | Waterloo, IA | $377,703
Cedar Valley Friends of the Family | Waverly, IA | $254,249
Youth and Shelter Services, Incorporated | Ames, IA | $128,457
Youth and Shelter Services, Incorporated | Ames, IA | $189,670
Municipal Housing Agency of Fort Dodge | Fort Dodge, IA | $609,600
The City of Sioux City | Sioux City, IA | $184,527
The City of Sioux City | Sioux City, IA | $80,062
City of Des Moines | Des Moines, IA | $738,792
City of Des Moines | Des Moines, IA | $150,810
City of Des Moines | Des Moines, IA | $862,068
City of Des Moines | Des Moines, IA | $298,174
City of Des Moines | Des Moines, IA | $731,400
City of Des Moines | Des Moines, IA | $171,284
City of Des Moines | Des Moines, IA | $170,000
Family Services | Council Bluffs, IA | $266,954
Family Resources, Incorporated | Davenport, IA | $37,549
Family Resources, Incorporated | Davenport, IA | $39,525
Idaho Housing and Finance Association | Boise, ID | $58,272
Idaho Housing and Finance Association | Boise, ID | $180,793
Women's and Children's Alliance | Boise, ID | $119,123
Ada County Housing Authority | Boise, ID | $246,480
Ada County Housing Authority | Boise, ID | $7,696
Ada County Housing Authority | Boise, ID | $150,284
Idaho Housing and Finance Association | Boise, ID | $72,502
Idaho Housing and Finance Association | Boise, ID | $119,070
Idaho Housing and Finance Association | Boise, ID | $73,925
Idaho Housing and Finance Association | Boise, ID | $86,880
Ada County Housing Authority | Boise, ID | $64,514
Idaho Housing and Finance Association | Boise, ID | $55,708
Idaho Housing and Finance Association | Boise, ID | $136,920
Idaho Housing and Finance Association | Boise, ID | $41,592
Idaho Housing and Finance Association | Boise, ID | $41,577
Idaho Housing and Finance Association | Boise, ID | $111,680
Idaho Housing and Finance Association | Boise, ID | $728,700
Idaho Housing and Finance Association | Boise, ID | $187,929
Idaho Housing and Finance Association | Boise, ID | $96,495
Idaho Housing and Finance Association | Boise, ID | $96,967
Idaho Housing and Finance Association | Boise, ID | $82,363
Prairie Center Health Systems | Urbana, IL | $420,000
Delta Center, Incorporated | Cairo, IL | $125,735
Iroquois-Kankakee Regional Office of Education | Kankakee, IL | $128,035
YWCA | Danville, IL | $270,978
City of Bloomington | Bloomington, IL | $23,184
City of Bloomington | Bloomington, IL | $63,865
City of Bloomington | Bloomington, IL | $15,586
City of Bloomington | Bloomington, IL | $171,352
Young Women's Christian Association of Quincy | Quincy, IL | $387,034
Housing Authority County of Cook | Chicago, IL | $237,096
Christian Vision Center, Incorporated, CDC | Chicago Heights, IL | $344,254
CEDA Northwest Self-Help Center, Incorporated | Mt. Prospect, IL | $318,788
LaGrange Area Transitional Housing Corporation | LaGrange, IL | $90,562
YMCA of Metropolitan Chicago | Alsip, IL | $399,700
Catholic Charities-Archdiocese of Chicago | Chicago, IL | $245,319
Catholic Charities-Archdiocese of Chicago | Chicago, IL | $415,046
Catholic Charities-Archdiocese of Chicago | Chicago, IL | $452,698
City of Bloomington | Bloomington, IL | $148,240
Stopping Woman Abuse Now | Olney, IL | $161,364
City of Urbana | Urbana, IL | $132,720
Catholic Charities Diocese of Joliet | Joliet, IL | $666,347
Catholic Charities Diocese of Joliet | Joliet, IL | $82,240
Catholic Charities Diocese of Joliet | Joliet, IL | $698,629
DuPage County Health Department | Wheaton, IL | $385,000
DuPage P.A.D.S., Incorporated | Wheaton, IL | $121,322
NCO Youth and Family Services | Naperville, IL | $120,248
Southern Illinois Coalition for the Homeless | Marion, IL | $248,271
Serenity House, Incorporated | Addison, IL | $10,977
MCS Community Services | Jacksonville, IL | $202,500
Community Crisis Center, Incorporated | Elgin, IL | $30,135
Community Crisis Center, Incorporated | Elgin, IL | $64,981
Larkin Center | Elgin, IL | $297,425
County of Kane | Geneva, IL | $169,853
Public Action to Deliver Shelter, Incorporated | Aurora, IL | $234,302
AID | Aurora, IL | $71,349
Young Women's Christian Association of Quincy | Quincy, IL | $76,853
Catholic Charities-Archdiocese of Chicago | Chicago, IL | $176,000
County of Lake | Waukegan, IL | $136,521
Catholic Charities-Archdiocese of Chicago | Chicago, IL | $273,665
St. Clair County (Illinois) | Belleville, IL | $525,000
St. Clair County (Illinois) | Belleville, IL | $170,380
St. Clair County (Illinois) | Belleville, IL | $100,000
St. Clair County (Illinois) | Belleville, IL | $750,660
Catholic Charities, Diocese of Joliet | Joliet, IL | $754,500
Trinity Services, Incorporated | Joliet, IL | $250,000
Cornerstone Services, Incorporated | Joliet, IL | $1,085,607
Cornerstone Services, Incorporated | Joliet, IL | $327,000
Chicago Christian Industrial League | Chicago, IL | $375,375
County of Lake | Waukegan, IL | $220,500
County of Lake | Waukegan, IL | $34,500
YWCA Domestic Violence Services | Evanston, IL | $141,303
County of Lake | Waukegan, IL | $248,299
Chicago Christian Industrial League | Chicago, IL | $317,278
County of Lake | Waukegan, IL | $729,960
County of Lake | Waukegan, IL | $562,820
Cornerstone Services, Incorporated | Joliet, IL | $523,672
Peoria Housing Authority | Peoria, IL | $131,040
YWCA of Peoria, IL | Peoria, IL | $200,704
YWCA of Peoria, IL | Peoria, IL | $490,539
Human Service Center | Peoria, IL | $394,796
Madison County Community Development | Edwardsville, IL | $303,660
Chestnut Health Systems | Granite City, IL | $509,895
McHenry County PADS, Incorporated | Woodstock, IL | $105,000
Home of the Sparrow, Incorporated | McHenry, IL | $26,250
Pioneer Center of McHenry County | McHenry, IL | $261,816
Pioneer Center of McHenry County | McHenry, IL | $226,464
County of Lake | Waukegan, IL | $46,543
The Salvation Army | Des Plaines, IL | $113,003
Western Egyptian E.O.C., Incorporated | Steeleville, IL | $74,739
Fellowship Housing Corporation | Hoffman Estates, IL | $200,246
The Center of Concern | Park Ridge, IL | $156,800
The Center of Concern | Park Ridge, IL | $98,068
Wilpower, Incorporated | Northfield, IL | $495,929
Connections for the Homeless, Incorporated | Evanston, IL | $192,164
City of Rockford | Rockford, IL | $33,764
City of Rockford | Rockford, IL | $179,640
City of Urbana | Urbana, IL | $206,516
Connections for the Homeless | Evanston, IL | $336,922
Connections for the Homeless | Evanston, IL | $315,596
Connections for the Homeless | Evanston, IL | $137,294
Bethany Place | Belleville, IL | $145,924
South Suburban Family Shelter, Incorporated | Homewood, IL | $563,914
Catholic Charities-Archdiocese of Chicago | Chicago, IL | $356,205
The Salvation Army | Des Plaines, IL | $120,983
Community and Economic Development Association of Cook County, Incorporated | Chicago, IL | $254,536
Fifth Street Renaissance | Springfield, IL | $24,150
Young Men's Christian Association | Chicago, IL | $256,955
Youth Service Bureau | Springfield, IL | $91,899
M.E.R.C.Y. Communities, Incorporated | Springfield, IL | $167,923
Abundant Faith Ministries | Springfield, IL | $246,091
Abundant Faith Ministries | Springfield, IL | $48,825
Family Rescue, Inc. | Chicago, IL | $611,859
Cornerstone Community Outreach | Chicago, IL | $132,224
Family Rescue, Inc. | Chicago, IL | $64,628
Chicago Christian Industrial League | Chicago, IL | $485,820
Hope Haven of DeKalb County, Incorporated | DeKalb, IL | $95,270
Jewish Federation of Metropolitan Chicago | Chicago, IL | $163,104
City of Chicago | Chicago, IL | $396,875
Beacon Therapeutic School Inc., d/b/a Beacon Therapeutic Diagnostic and Treatment Center | Chicago, IL | $1,083,562
Deborah's Place | Chicago, IL | $414,750
Deborah's Place | Chicago, IL | $660,586
Southwest Women Working Together | Chicago, IL | $147,597
Southwest Women Working Together | Chicago, IL | $739,235
Southwest Women Working Together | Chicago, IL | $156,687
City of Chicago | Chicago, IL | $42,804
City of Chicago | Chicago, IL | $79,217
City of Chicago | Chicago, IL | $64,633
City of Chicago | Chicago, IL | $582,540
City of Chicago | Chicago, IL | $50,274
City of Chicago | Chicago, IL | $179,640
City of Chicago | Chicago, IL | $67,736
New Phoenix Assistance Center | Chicago, IL | $543,018
City of Chicago | Chicago, IL | $438,276
City of Chicago | Chicago, IL | $124,891
City of Chicago | Chicago, IL | $115,763
City of Chicago | Chicago, IL | $42,804
City of Chicago | Chicago, IL | $58,319
City of Chicago | Chicago, IL | $101,184
City of Chicago | Chicago, IL | $1,995,000
City of Chicago | Chicago, IL | $47,250
City of Chicago | Chicago, IL | $136,599
City of Chicago | Chicago, IL | $119,700
City of Chicago | Chicago, IL | $57,931
The Women's Center, Incorporated | Carbondale, IL | $62,596
City of Chicago | Chicago, IL | $68,250
Lakefront Supportive Housing | Chicago, IL | $147,459
Catholic Charities/Archdiocese of Chicago | Chicago, IL | $130,356
Catholic Charities/Archdiocese of Chicago | Chicago, IL | $1,379,776
The Thresholds, Inc. | Chicago, IL | $163,962
The Thresholds, Inc. | Chicago, IL | $308,319
The Thresholds, Inc. | Chicago, IL | $221,650
TIA/Chicago Connections | Chicago, IL | $207,936
TIA/Chicago Connections | Chicago, IL | $37,669
TIA/Chicago Connections | Chicago, IL | $343,819
TIA/Chicago Connections | Chicago, IL | $448,853
TIA/Chicago Connections | Chicago, IL | $47,014
TIA/Chicago Connections | Chicago, IL | $939,084
TIA/Chicago Connections | Chicago, IL | $48,612
Good Samaritan House | Granite City, IL | $303,114
City of Chicago Dept. of Housing | Chicago, IL | $804,460
La Casa Norte | Chicago, IL | $391,194
Lakefront Supportive Housing | Chicago, IL | $74,028
Lakefront Supportive Housing | Chicago, IL | $420,000
Residents for Effective Shelter Transitions | Chicago, IL | $185,563
Residents for Effective Shelter Transitions | Chicago, IL | $558,797
Casa Central Social Services Corporation | Chicago, IL | $259,669
Casa Central Social Services Corporation | Chicago, IL | $211,596
Casa Central Social Services Corporation | Chicago, IL | $750,000
Single Room Housing Assistance Corporation | Chicago, IL | $422,546
New Phoenix Assistance Center | Chicago, IL | $240,500
New Phoenix Assistance Center | Chicago, IL | $325,780
Unity Parenting & Counseling, Inc. | Chicago, IL | $514,532
City of Chicago | Chicago, IL | $350,557
TIA/Chicago Connections | Chicago, IL | $314,986
Interfaith Housing Development Corporation of Chicago | Chicago, IL | $189,889
Catholic Charities/Archdiocese of Chicago | Chicago, IL | $420,000
FEATHERFIST | Chicago, IL | $532,528
FEATHERFIST | Chicago, IL | $144,243
FEATHERFIST | Chicago, IL | $420,000
FEATHERFIST | Chicago, IL | $256,626
FEATHERFIST | Chicago, IL | $293,526
FEATHERFIST | Chicago, IL | $249,382
Teen Living Programs, Inc. | Chicago, IL | $655,191
Healthcare Alternative Systems, Inc. | Chicago, IL | $214,748
Community Supportive Living Systems | Chicago, IL | $203,150
Community Supportive Living Systems | Chicago, IL | $201,735
City of Chicago | Chicago, IL | $459,060
Interfaith Housing Development Corporation of Chicago | Chicago, IL | $85,890
The Thresholds, Incorporated | Chicago, IL | $78,491
Northwestern Memorial Hospital | Chicago, IL | $160,827
Northwestern Memorial Hospital | Chicago, IL | $332,899
AIDS Foundation of Chicago | Chicago, IL | $737,048
Interfaith House | Chicago, IL | $210,704
Community Mental Health Council, Inc. | Chicago, IL | $73,014
Tri-County Opportunities Council | Rock Falls, IL | $62,150
Project NOW, Incorporated, CAA | Rock Island, IL | $119,445
Project NOW, Incorporated, CAA | Rock Island, IL | $77,427
Anna Bixby Women's Center | Harrisburg, IL | $128,679
Catholic Charities/Archdiocese of Chicago | Chicago, IL | $126,228
Western Egyptian E.O.C., Incorporated | Steeleville, IL | $74,739
The Women's Center, Incorporated | Carbondale, IL | $87,925
Community Supportive Living Systems | Chicago, IL | $165,136
Chicago Health Outreach | Chicago, IL | $488,341
City of Chicago | Chicago, IL | $502,140
City of Chicago | Chicago, IL | $159,204
City of Chicago | Chicago, IL | $239,400
City of Chicago | Chicago, IL | $138,199
City of Chicago | Chicago, IL | $39,900
The Salvation Army | Des Plaines, IL | $464,642
Bethel New Life, Inc. | Chicago, IL | $219,153
New Moms, Inc. | Chicago, IL | $147,860
New Moms, Inc. | Chicago, IL | $105,838
The Inner Voice, Incorporated | Chicago, IL | $205,452
The Inner Voice, Incorporated | Chicago, IL | $79,459
The Inner Voice, Incorporated | Chicago, IL | $348,807
Catholic Charities/Archdiocese of Chicago | Chicago, IL | $750,000
Apna Ghar, Inc. | Chicago, IL | $249,570
The Thresholds, Incorporated | Chicago, IL | $78,491
Chicago Health Outreach | Chicago, IL | $122,240
Chicago Health Outreach | Chicago, IL | $130,438
West Englewood United Organization | Chicago, IL | $210,118
Housing Opportunities for Women, Incorporated | Chicago, IL | $142,758
Housing Opportunities for Women, Incorporated | Chicago, IL | $55,610
Matthew House | Chicago, IL | $137,592
Connexions Enterprise Incorporated | Chicago, IL | $173,228
Woodlawn East Community Neighbors | Chicago, IL | $111,666
Inspiration Corporation | Chicago, IL | $399,822
Children's Home and Aid Society of Illinois | Granite City, IL | $38,571
City of Rockford | Rockford, IL | $93,083
Stopping Woman Abuse Now | Olney, IL | $140,000
Human Resources Development Institute | Chicago, IL | $469,909
Dove, Incorporated | Decatur, IL | $364,794
City of Rockford | Rockford, IL | $179,640
Illinois Valley Economic Development Corp. | Macoupin, IL | $309,251
C.E.F.S. Economic Opportunity Corporation | Effingham, IL | $420,052
Dove, Incorporated | Decatur, IL | $89,581
Dove, Incorporated | Decatur, IL | $214,510
City of Indianapolis | Indianapolis, IN | $368,550
City of Indianapolis | Indianapolis, IN | $206,038
City of Indianapolis | Indianapolis, IN | $180,153
City of Indianapolis | Indianapolis, IN | $150,860
City of Indianapolis | Indianapolis, IN | $99,756
City of Indianapolis | Indianapolis, IN | $599,999
City of Indianapolis | Indianapolis, IN | $267,300
Family and Social Services Administration | Indianapolis, IN | $136,656
City of Indianapolis | Indianapolis, IN | $41,328
City of Indianapolis | Indianapolis, IN | $115,260
City of Indianapolis | Indianapolis, IN | $101,461
City of Indianapolis | Indianapolis, IN | $74,550
Vincent House, Incorporated | Fort Wayne, IN | $48,451
Family and Social Services Administration | Indianapolis, IN | $97,380
Margaret Alexander C.H.I.L.D. Center, Incorporated | Fort Wayne, IN | $52,499
Young Women's Christian Association of Fort Wayne, Incorporated | Fort Wayne, IN | $165,817
Fort Wayne Women's Bureau, Incorporated | Fort Wayne, IN | $89,775
Hope House, Incorporated | Fort Wayne, IN | $64,890
Hope House, Incorporated | Fort Wayne, IN | $133,679
City of Indianapolis | Indianapolis, IN | $738,000
Council On Domestic Abuse, Inc. | Terre Haute, IN | $263,228
Community Mental Health Center | Lawrenceburg, IN | $470,301
Middle Way House, Inc. | Bloomington, IN | $342,187
The Center for Women and Families, Inc. | Sellersburg, IN | $446,290
City of New Albany | New Albany, IN | $474,741
City of New Albany | New Albany, IN | $153,405
Muncie Community Schools | Muncie, IN | $189,000
CRWorks, Inc. | Gary, IN | $422,509
City of Indianapolis | Indianapolis, IN | $121,132
Indiana Coalition on Housing and Homeless Issues | Indianapolis, IN | $840,000
City of Indianapolis | Indianapolis, IN | $168,399
Open Door Community Services, Inc. | Muncie, IN | $306,409
Lafayette Transitional Housing Center, Inc. | Lafayette, IN | $221,680
Stepping Stones Shelter for Women | Michigan City, IN | $550,368
South Central Community Mental Health | Bloomington, IN | $761,793
Community Mental Health Center | Lawrenceburg, IN | $831,343
Family and Social Services Administration | Indianapolis, IN | $70,560
Family and Social Services Administration | Indianapolis, IN | $515,160
Cedars HOPE, Incorporated | Fort Wayne, IN | $35,700
Family Crisis Shelter | Crawfordsville, IN | $181,675
YWCA of St. Joseph County | South Bend, IN | $195,000
The Center for the Homeless, Incorporated | South Bend, IN | $312,000
AIDS Ministries/AIDS Assist of North Indiana, Incorporated | South Bend, IN | $43,416
AIDS Ministries/AIDS Assist of North Indiana, Incorporated | South Bend, IN | $309,420
Madison Center, Incorporated | South Bend, IN | $442,100
Madison Center, Incorporated | South Bend, IN | $164,850
Young Women's Christian Association | Evansville, IN | $57,330
Young Women's Christian Association | Evansville, IN | $86,865
Young Women's Christian Association | Evansville, IN | $60,424
City of South Bend | South Bend, IN | $89,664
Family and Social Services Administration | Indianapolis, IN | $809,280
Family and Social Services Administration | Indianapolis, IN | $413,280
Housing & Credit Counseling, Incorporated | Topeka, KS | $193,725
City of Wichita, Kansas | Wichita, KS | $632,100
Lawrence-DG County Housing Authority | Lawrence, KS | $328,928
Unified Government of Wyandotte County | Kansas, KS | $92,308
Inter-Faith Ministries Wichita, Incorporated | Wichita, KS | $739,971
Community Action, Incorporated | Topeka, KS | $514,652
CLASS LTD | Columbus, KS | $217,959
The Salvation Army | Wichita, KS | $1,000,000
Commonwealth of Kentucky | Frankfort, KY | $531,999
Commonwealth of Kentucky | Frankfort, KY | $86,029
Commonwealth of Kentucky | Frankfort, KY | $18,384
Commonwealth of Kentucky | Frankfort, KY | $590,579
Commonwealth of Kentucky | Frankfort, KY | $90,972
Commonwealth of Kentucky | Frankfort, KY | $230,000
Commonwealth of Kentucky | Frankfort, KY | $784,681
Commonwealth of Kentucky | Frankfort, KY | $90,972
Commonwealth of Kentucky | Frankfort, KY | $140,537
Commonwealth of Kentucky | Frankfort, KY | $825,785
The Daniel Pitino Shelter, Incorporated | Owensboro, KY | $798,118
Neighborhood Investment Partners | Covington, KY | $219,000
Welcome House of Northern Kentucky, Incorporated | Covington, KY | $469,110
Commonwealth of Kentucky | Frankfort, KY | $320,530
Louisville-Jefferson County Metro Government | Louisville, KY | $114,747
Commonwealth of Kentucky | Frankfort, KY | $959,721
Bellewood Presbyterian Home for Children, Incorporated | Louisville, KY | $264,981
New Directions Housing Corporation | Louisville, KY | $174,739
Commonwealth of Kentucky | Frankfort, KY | $255,910
Family Health Center, Incorporated | Louisville, KY | $765,441
Commonwealth of Kentucky | Frankfort, KY | $118,992
Father Maloney's Boys' Haven, Incorporated | Louisville, KY | $375,715
The Center for Women and Families, Incorporated | Louisville, KY | $149,625
Volunteers of America of Kentucky, Incorporated | Louisville, KY | $328,090
New Beginnings, Bluegrass, Incorporated | Lexington, KY | $61,676
Lexington-Fayette Urban County Housing Authority | Lexington, KY | $168,456
Hope Center, Incorporated | Lexington, KY | $538,667
Louisville-Jefferson County Metro Government | Louisville, KY | $929,460
Chrysalis House, Incorporated | Lexington, KY | $166,667
Louisville-Jefferson County Metro Government | Louisville, KY | $466,908
The Salvation Army, A GA Corporation | Louisville, KY | $119,999
The Coalition for the Homeless, Incorporated | Louisville, KY | $401,844
Volunteers of America of Kentucky, Incorporated | Louisville, KY | $722,699
UNITY for the Homeless | New Orleans, LA | $567,401
UNITY for the Homeless | New Orleans, LA | $339,530
UNITY for the Homeless | New Orleans, LA | $196,452
UNITY for the Homeless | New Orleans, LA | $104,201
UNITY for the Homeless | New Orleans, LA | $134,684
UNITY for the Homeless | New Orleans, LA | $484,617
UNITY for the Homeless | New Orleans, LA | $320,937
UNITY for the Homeless | New Orleans, LA | $839,267
UNITY for the Homeless | New Orleans, LA | $83,431
UNITY for the Homeless | New Orleans, LA | $181,913
UNITY for the Homeless | New Orleans, LA | $209,114
UNITY for the Homeless | New Orleans, LA | $256,490
UNITY for the Homeless | New Orleans, LA | $356,942
UNITY for the Homeless | New Orleans, LA | $61,490
UNITY for the Homeless | New Orleans, LA | $280,326
UNITY for the Homeless | New Orleans, LA | $168,261
UNITY for the Homeless | New Orleans, LA | $161,450
UNITY for the Homeless | New Orleans, LA | $240,828
Volunteers of America of GNO, INC. | New Orleans, LA | $470,234
Hall-Brooke Behavioral Health Services | Westport, LA | $313,935
UNITY for the Homeless | New Orleans, LA | $900,000
Metropolitan Battered Women's Program, Inc. | Jefferson, LA | $113,344
Acadiana C.A.R.E.S. | Lafayette, LA | $687,153
UNITY for the Homeless | New Orleans, LA | $173,756
Micah Housing, Inc. | Fairfield, LA | $73,501
United Way of Eastern Fairfield County | Bridgeport, LA | $74,984
City of Bridgeport | Bridgeport, LA | $850,265
City of Bridgeport | Bridgeport, LA | $141,766
City of Bridgeport | Bridgeport, LA | $188,192
City of Bridgeport | Bridgeport, LA | $372,973
City of Bridgeport | Bridgeport, LA | $45,472
Louisiana State Dept. of Health and Hospitals | New Orleans, LA | $779,988
Inner-City Revitalization Corporation | Alexandria, LA | $454,000
NAMI NEW Orleans | New Orleans, LA | $153,421
Jefferson Parish Human Services Authority | Metairie, LA | $277,474
Covenant House New Orleans | New Orleans, LA | $144,153
Covenant House New Orleans | New Orleans, LA | $78,294
Volunteers of America of North Louisiana | Shreveport, LA | $154,669
Volunteers of America of North Louisiana | Shreveport, LA | $125,042
Hope House of Central Louisiana | Alexandria, LA | $135,537
Hope House of Central Louisiana | Alexandria, LA | $58,246
City of New Orleans | New Orleans, LA | $315,384
Volunteers of America of GNO, Inc. | New Orleans, LA | $52,500
Acadiana Outreach Center, Inc. | Lafayette, LA | $389,607
Community Support Programs, Inc. | Shreveport, LA | $301,902
Community Support Programs, Inc. | Shreveport, LA | $77,075
Shreveport SRO | Shreveport, LA | $142,712
Shreveport SRO | Shreveport, LA | $227,816
Shreveport SRO | Shreveport, LA | $65,240
Housing Authority of the City of Bossier City | Bossier City, LA | $750,900
Southeast Louisiana Hospital | Mandeville, LA | $71,854
Southeast Louisiana Hospital | Mandeville, LA | $171,420
Acadiana Outreach Center | Shreveport, LA | $35,173
Volunteers of America of GNO, Inc. | New Orleans, LA | $628,300
Providence House | Shreveport, LA | $155,555
Volunteers of America of GNO, Inc. | New Orleans, LA | $114,794
St. Mary Community Action Agency, Inc. | Franklin, LA | $44,652
St. Mary Community Action Agency, Inc. | Franklin, LA | $64,496
Lafayette Catholic Service Centers, Inc. | Lafayette, LA | $71,662
Lafayette Catholic Service Centers, Inc. | Lafayette, LA | $498,641
State of Connecticut | Hartford, LA | $913,668
Volunteers of America, Greater Baton Rouge, Inc. | Baton Rouge, LA | $119,170
City of Baton Rouge & Parish of East Baton Rouge | Baton Rouge, LA | $70,734
Southwest LA Legal Services | Lake Charles, LA | $36,196
SW LA Homeless Coalition, Inc. | Lake Charles, LA | $52,454
Southeast Spouse Abuse Program | Hammond, LA | $149,166
City of Baton Rouge & Parish of East Baton Rouge | Baton Rouge, LA | $699,072
Gulf Coast Teaching Family Services, Inc. | Gretna, LA | $300,459
Chez Hope, Inc. | Franklin, LA | $334,342
Eastern Louisiana Mental Health System | Jackson, LA | $157,791
Mental Health Association for Greater Baton Rouge | Baton Rouge, LA | $89,253
Gulf Coast Teaching Family Services, Incorporated | Gretna, LA | $278,593
City of Baton Rouge & Parish of East Baton Rouge | Baton Rouge, LA | $324,324
City of Baton Rouge & Parish of East Baton Rouge | Baton Rouge, LA | $82,151
City of Baton Rouge & Parish of East Baton Rouge | Baton Rouge, LA | $181,648
City of Baton Rouge & Parish of East Baton Rouge | Baton Rouge, LA | $32,467
Community Support Programs, Inc. | Shreveport, LA | $263,209
City of Baton Rouge & Parish of East Baton Rouge | Baton Rouge, LA | $102,558
First Evangelist Housing & CDC | New Orleans, LA | $750,000
Our House, Inc. | Monroe, LA | $113,167
Young Women's Christian Assoc. of Northeast Louisiana | Monroe, LA | $135,188
Monroe Area Guidance Center | Monroe, LA | $160,432
State of Louisiana Department of Health and Hospitals | Monroe, LA | $194,765
Caddo Parish School Board | Shreveport, LA | $89,237
YWCA of Northwest Louisiana | Shreveport, LA | $96,394
Philadelphia Center | Shreveport, LA | $176,400
Volunteers of America of N. LA | Shreveport, LA | $103,775
Volunteers of America of N. LA | Shreveport, LA | $100,736
Providence House | Shreveport, LA | $91,536
City of Baton Rouge & Parish of East Baton Rouge | Baton Rouge, LA | $60,339
City of Baton Rouge & Parish of East Baton Rouge | Baton Rouge, LA | $96,642
City of Boston Acting by and Through its Public Facilities | Boston, MA | $173,726
Housing For All Corporation | Hyannis, MA | $289,000
City of Boston Acting by and Through its Public Facilities | Boston, MA | $271,842
City of Boston Acting by and Through its Public Facilities | Boston, MA | $136,224
City of Boston Acting by and Through its Public Facilities | Boston, MA | $151,987
City of Boston Acting by and Through its Public Facilities | Boston, MA | $364,419
City of Boston Acting by and Through its Public Facilities | Boston, MA | $208,357
City of Boston Acting by and Through its Public Facilities | Boston, MA | $1,661,880
Housing Assistance Corporation | Hyannis, MA | $107,444
City of Boston Acting by and Through its Public Facilities | Boston, MA | $37,765
City of Boston Acting by and Through its Public Facilities | Boston, MA | $120,342
Brockton Coalition for the Homeless, Incorporated | Brockton, MA | $93,371
Brockton Coalition for the Homeless, Incorporated | Brockton, MA | $42,169
Commonwealth of Massachusetts | Boston, MA | $42,000
City of Boston Acting by and Through its Public Facilities | Boston, MA | $50,400
City of Boston Acting by and Through its Public Facilities | Boston, MA | $45,618
City of Boston Acting by and Through its Public Facilities | Boston, MA | $344,640
City of Springfield | Springfield, MA | $610,470
City of Boston Acting by and Through its Public Facilities | Boston, MA | $653,820
City of Boston Acting by and Through its Public Facilities | Boston, MA | $88,733
City of Boston Acting by and Through its Public Facilities | Boston, MA | $232,987
City of Boston Acting by and Through its Public Facilities | Boston, MA | $334,551
Housing For All Corporation | Hyannis, MA | $88,400
City of Boston Acting by and Through its Public Facilities | Boston, MA | $126,899
Housing Assistance Corporation | Hyannis, MA | $46,617
City of Boston Acting by and Through its Public Facilities | Boston, MA | $181,200
City of Boston Acting by and Through its Public Facilities | Boston, MA | $528,179
Barnstable Housing Authority | Hyannis, MA | $303,240
Massachusetts Department of Mental Health | Hyannis, MA | $173,760
Legal Services for Cape Cod and Islands | Hyannis, MA | $49,875
City of Cambridge, Massachusetts | Cambridge, MA | $61,002
City of Boston Acting by and Through its Public Facilities | Boston, MA | $1,048,764
City of Boston Acting by and Through its Public Facilities | Boston, MA | $238,109
City of Cambridge, Massachusetts | Cambridge, MA | $55,141
City of Cambridge, Massachusetts | Cambridge, MA | $170,336
City of Cambridge, Massachusetts | Cambridge, MA | $122,580
City of Cambridge, Massachusetts | Cambridge, MA | $57,750
City of Cambridge, Massachusetts | Cambridge, MA | $35,448
City of Boston Acting by and Through its Public Facilities | Boston, MA | $523,501
Valley Community Development Corporation | Northampton, MA | $331,800
City of Boston Acting by and Through its Public Facilities | Boston, MA | $441,713
City of Cambridge, Massachusetts | Cambridge, MA | $518,108
City of Boston Acting by and Through its Public Facilities | Boston, MA | $49,357
City of Boston Acting by and Through its Public Facilities | Boston, MA | $522,779
City of Boston Acting by and Through its Public Facilities | Boston, MA | $69,774
City of Boston Acting by and Through its Public Facilities | Boston, MA | $73,500
City of Boston Acting by and Through its Public Facilities | Boston, MA | $371,971
City of Boston Acting by and Through its Public Facilities | Boston, MA | $363,384
Cambridge Housing Authority | Cambridge, MA | $132,012
City of Northampton | Northampton, MA | $72,450
City of Springfield | Springfield, MA | $234,056
City of Cambridge, Massachusetts | Cambridge, MA | $137,815
City of Cambridge, Massachusetts | Cambridge, MA | $60,690
City of Cambridge, Massachusetts | Cambridge, MA | $29,601
City of Northampton | Northampton, MA | $242,300
City of Northampton | Northampton, MA | $199,569
City of Cambridge, Massachusetts | Cambridge, MA | $848,421
City of Northampton | Northampton, MA | $41,125
City of Cambridge, Massachusetts | Cambridge, MA | $9,916
City of Northampton | Northampton, MA | $109,453
City of Northampton | Northampton, MA | $99,250
City of Northampton | Northampton, MA | $94,500
City of Northampton | Northampton, MA | $104,996
City of Northampton | Northampton, MA | $68,250
City of Northampton | Northampton, MA | $80,352
City of Northampton | Northampton, MA | $55,494
Central Massachusetts Housing Alliance Inc. | Worcester, MA | $61,250
South Middlesex Opportunity Council, Incorporated | Framingham, MA | $347,866
City of Worcester, MA | Worcester, MA | $178,647
City of Worcester, MA | Worcester, MA | $353,375
City of Worcester, MA | Worcester, MA | $633,061
City of Worcester, MA | Worcester, MA | $240,648
Family Life Support Center, Incorporated | North Adams, MA | $136,486
Central Massachusetts Housing Alliance Inc. | Worcester, MA | $49,700
Emmaus, Incorporated | Haverhill, MA | $102,100
Central Massachusetts Housing Alliance Inc. | Worcester, MA | $1,263,489
Central Massachusetts Housing Alliance Inc. | Worcester, MA | $136,816
Central Massachusetts Housing Alliance Inc. | Worcester, MA | $117,667
Central Massachusetts Housing Alliance Inc. | Worcester, MA | $104,999
Central Massachusetts Housing Alliance Inc. | Worcester, MA | $262,500
City of Springfield | Springfield, MA | $210,000
Central Massachusetts Housing Alliance Inc. | Worcester, MA | $146,490
City of Lowell | Lowell, MA | $70,718
Northshore Community Action Programs, Incorporated | Peabody, MA | $382,432
City of Haverhill | Haverhill, MA | $250,690
Commonwealth of Massachusetts | Boston, MA | $281,738
Shelter, Incorporated/Family Life, Incorporated | Cambridge, MA | $454,969
Shelter, Incorporated/Family Life, Incorporated | Cambridge, MA | $949,032
Twin Cities Community Development Corporation | Fitchburg, MA | $92,418
South Middlesex Opportunity Council, Incorporated | Framingham, MA | $79,128
City of Lowell | Lowell, MA | $30,000
Veterans Northeast Outreach Center | Haverhill, MA | $129,675
City of Lowell | Lowell, MA | $96,640
City of Lowell | Lowell, MA | $541,203
City of Lowell | Lowell, MA | $420,939
Lynn Shelter Association, Incorporated | Lynn, MA | $207,283
Turning Point, Incorporated | Newburyport, MA | $316,097
Berkshire Community Action Council, Incorporated | Pittsfield, MA | $48,190
City of Lowell | Lowell, MA | $198,747
Emmaus, Incorporated | Haverhill, MA | $135,084
Residential Care Consortium, Incorporated | Fall River, MA | $490,808
City of Boston Acting by and Through its Public Facilities | Boston, MA | $217,440
City of Lawrence | Lawrence, MA | $45,000
City of Boston Acting by and Through its Public Facilities | Boston, MA | $487,502
City of Lawrence | Lawrence, MA | $304,186
Advocates, Incorporated | Framingham, MA | $82,210
Advocates, Incorporated | Framingham, MA | $82,805
City of Fall River, MA | Fall River, MA | $1,029,319
Vinfen Corporation | Cambridge, MA | $70,251
Citizens for Affordable Housing in Newton Development Organization | West Newton, MA | $12,616
The Psychological Center, Incorporated | Lawrence, MA | $141,720
City of Springfield | Springfield, MA | $200,760
City of Springfield | Springfield, MA | $89,200
City of Lawrence | Lawrence, MA | $80,000
YWCA of Greater Lawrence | Lawrence, MA | $190,041
City of New Bedford, MA | New Bedford, MA | $32,761
American Red Cross | Pittsfield, MA | $132,290
Advocates, Incorporated | Framingham, MA | $248,413
Construct, Incorporated | Great Barrington, MA | $41,200
City of New Bedford, MA | New Bedford, MA | $265,079
City of New Bedford, MA | New Bedford, MA | $735,195
City of New Bedford, MA | New Bedford, MA | $375,866
City of Fall River, MA | Fall River, MA | $298,176
City of New Bedford, MA | New Bedford, MA | $95,933
City of Fall River, MA | Fall River, MA | $96,157
Quincy Housing Authority | Quincy, MA | $299,640
Quincy Housing Authority | Quincy, MA | $136,200
Quincy Housing Authority | Quincy, MA | $787,920
Quincy Housing Authority | Quincy, MA | $749,100
The City of Quincy | Quincy, MA | $170,172
City of Springfield | Springfield, MA | $428,904
City of New Bedford, MA | New Bedford, MA | $199,345
Commonwealth of Massachusetts | Boston, MA | $852,296
City of Boston Acting by and Through its Public Facilities | Boston, MA | $328,406
City of Boston Acting by and Through its Public Facilities | Boston, MA | $40,788
City of Boston Acting by and Through its Public Facilities | Boston, MA | $123,633
City of Boston Acting by and Through its Public Facilities | Boston, MA | $233,009
City of Boston Acting by and Through its Public Facilities | Boston, MA | $114,988
City of Boston Acting by and Through its Public Facilities | Boston, MA | $113,558
Commonwealth of Massachusetts | Boston, MA | $441,336
Commonwealth of Massachusetts | Boston, MA | $195,237
City of Boston Acting by and Through its Public Facilities | Boston, MA | $339,016
Commonwealth of Massachusetts | Boston, MA | $1,049,999
City of Boston Acting by and Through its Public Facilities | Boston, MA | $228,739
City of Boston Acting by and Through its Public Facilities | Boston, MA | $99,293
City of Boston Acting by and Through its Public Facilities | Boston, MA | $183,825
City of Boston Acting by and Through its Public Facilities | Boston, MA | $227,607
City of Boston Acting by and Through its Public Facilities | Boston, MA | $114,692
City of Boston Acting by and Through its Public Facilities | Boston, MA | $733,271
City of Boston Acting by and Through its Public Facilities | Boston, MA | $145,273
City of Boston Acting by and Through its Public Facilities | Boston, MA | $101,302
Commonwealth of Massachusetts | Boston, MA | $592,836
Commonwealth of Massachusetts | Boston, MA | $482,688
City of Boston Acting by and Through its Public Facilities | Boston, MA | $281,553
City of Boston Acting by and Through its Public Facilities | Boston, MA | $228,522
Commonwealth of Massachusetts | Boston, MA | $195,004
Commonwealth of Massachusetts | Boston, MA | $660,772
Commonwealth of Massachusetts | Boston, MA | $478,655
Commonwealth of Massachusetts | Boston, MA | $840,840
City of Boston Acting by and Through its Public Facilities | Boston, MA | $259,141
Commonwealth of Massachusetts | Boston, MA | $509,284
Commonwealth of Massachusetts | Boston, MA | $147,360
City of Boston Acting by and Through its Public Facilities | Boston, MA | $74,775
Commonwealth of Massachusetts | Boston, MA | $178,632
Commonwealth of Massachusetts | Boston, MA | $80,928
Commonwealth of Massachusetts | Boston, MA | $128,918
Commonwealth of Massachusetts | Boston, MA | $183,050
Lynn Housing Authority & Neighborhood Development | Lynn, MA | $105,324
Lynn Housing Authority & Neighborhood Development | Lynn, MA | $37,780
Lynn Housing Authority & Neighborhood Development | Lynn, MA | $713,808
Lynn Housing Authority & Neighborhood Development | Lynn, MA | $546,084
City of Boston Acting by and Through its Public Facilities | Boston, MA | $237,130
Community Counseling of Bristol County, Incorporated | Taunton, MA | $41,269
Somerville Homeless Coalition, Incorporated | Somerville, MA | $388,035
Lynn Housing Authority & Neighborhood Development | Lynn, MA | $164,955
City of Boston Acting by and Through its Public Facilities | Boston, MA | $83,333
Somerville Homeless Coalition, Incorporated | Somerville, MA | $290,325
CASPAR, Incorporated | Somerville, MA | $301,589
CASPAR | Boston, MA | $750,000
United Way of Greater Attleboro-Taunton, Incorporated | Attleboro, MA | $23,954
Community Counseling of Bristol County, Incorporated | Taunton, MA | $162,896
Catholic Social Services of Fall River, Incorporated | Fall River, MA | $231,818
City of Boston Acting by and Through its Public Facilities | Boston, MA | $190,575
City of Boston Acting by and Through its Public Facilities | Boston, MA | $472,500
City of Boston Acting by and Through its Public Facilities | Boston, MA | $509,617
City of Boston Acting by and Through its Public Facilities | Boston, MA | $141,053
City of Boston Acting by and Through its Public Facilities | Boston, MA | $209,977
City of Boston Acting by and Through its Public Facilities | Boston, MA | $297,006
Mental Hygiene Administration | Catonsville, MD | $65,448
Mental Hygiene Administration | Catonsville, MD | $138,780
Mental Hygiene Administration | Catonsville, MD | $43,668
Mental Hygiene Administration | Catonsville, MD | $34,524
Somerset County Health Department | Westover, MD | $174,712
Somerset County Health Department | Westover, MD | $325,956
Baltimore County, Maryland | Baltimore, MD | $322,527
Baltimore City | Baltimore, MD | $58,800
Baltimore City | Baltimore, MD | $74,002
Baltimore County, Maryland | Baltimore, MD | $77,612
Mental Hygiene Administration | Catonsville, MD | $80,448
Baltimore City | Baltimore, MD | $111,720
YWCA of the Greater Baltimore Area, Inc. | Baltimore, MD | $173,250
Baltimore City | Baltimore, MD | $43,620
Baltimore Mental Health Systems, Inc. | Baltimore, MD | $251,783
Baltimore Mental Health Systems, Inc. | Baltimore, MD | $291,270
Baltimore Mental Health Systems, Inc. | Baltimore, MD | $183,750
Baltimore City | Baltimore, MD | $776,160
Baltimore City | Baltimore, MD | $80,376
Heartly House Incorporated | Frederick, MD | $35,074
Baltimore County, Maryland | Baltimore, MD | $248,745
Laurel Advocacy & Referral Services, Incorporated | Laurel, MD | $47,265
Laurel Advocacy & Referral Services, Incorporated | Laurel, MD | $61,963
Laurel Advocacy & Referral Services, Incorporated | Laurel, MD | $119,776
Baltimore City | Baltimore, MD | $322,788
Baltimore City | Baltimore, MD | $117,066
Baltimore Co., Maryland | Baltimore, MD | $80,717
Prince George's County Government | Landover, MD | $449,617
Baltimore County, MD | Baltimore, MD | $204,375
Mental Hygiene Administration | Catonsville, MD | $160,020
Human Services Programs of Carroll County, Incorporated | Westminster, MD | $86,136
Mental Hygiene Administration | Catonsville, MD | $254,220
Prince George's County Government | Landover, MD | $746,657
Human Services Programs of Carroll County, Incorporated | Westminster, MD | $96,395
Prince George's County Government | Landover, MD | $116,193
Rehabilitation Systems, Incorporated | Seabrook, MD | $129,394
Rehabilitation Systems, Incorporated | Seabrook, MD | $359,623
Baltimore Mental Health Systems, Inc. | Baltimore, MD | $319,200
Baltimore Mental Health Systems, Inc. | Baltimore, MD | $784,400
Baltimore Mental Health Systems, Inc. | Baltimore, MD | $682,996
Baltimore Mental Health Systems, Inc. | Baltimore, MD | $369,600
Associated Catholic Charities | Baltimore, MD | $290,556
Volunteers of America Chesapeake, Incorporated | Lanham, MD | $225,114
Human Services Programs of Carroll County, Incorporated | Westminster, MD | $44,000
United Communities Against Poverty, Incorporated | Capitol Heights, MD | $190,459
Mental Hygiene Administration | Catonsville, MD | $63,972
Housing Opportunities Commission | Kensington, MD | $420,000
City of Gaithersburg | Gaithersburg, MD | $128,247
Montgomery County Coalition for the Homeless | Rockville, MD | $359,232
Montgomery County Coalition for the Homeless | Rockville, MD | $500,961
Montgomery County Coalition for the Homeless | Rockville, MD | $819,622
Housing Opportunities Commission | Kensington, MD | $79,533
Montgomery Avenue Women's Center, Inc. | Rockville, MD | $138,853
Housing Opportunities Commission | Kensington, MD | $385,855
Mental Health Administration | Catonsville, MD | $167,784
YMCA of Cumberland, MD | Cumberland, MD | $140,700
Allegany County HRDC, Incorporated | Cumberland, MD | $65,478
Allegany County HRDC, Incorporated | Cumberland, MD | $205,443
Housing Opportunities Commission | Kensington, MD | $617,028
Housing Opportunities Commission | Kensington, MD | $498,143
Baltimore City | Baltimore, MD | $296,352
Housing Opportunities Commission | Kensington, MD | $390,549
Anne Arundel County, Maryland | Annapolis, MD | $222,860
Howard County, Maryland | Columbia, MD | $68,736
Howard County, Maryland | Columbia, MD | $260,671
Howard County, Maryland | Columbia, MD | $43,043
Howard County, Maryland | Columbia, MD | $227,758
Mental Hygiene Administration | Catonsville, MD | $130,728
Anne Arundel County, Maryland | Annapolis, MD | $947,038
National Center for Children and Families (NCCF) | Bethesda, MD | $623,191
Anne Arundel County, Maryland | Annapolis, MD | $248,167
Baltimore City | Baltimore, MD | $204,768
Mental Hygiene Administration | Catonsville, MD | $91,632
Harford County Maryland | Bel Air, MD | $81,962
Harford County Maryland | Bel Air, MD | $90,223
Harford County Maryland | Bel Air, MD | $54,930
Harford County Maryland | Bel Air, MD | $82,178
Harford County Maryland | Bel Air, MD | $138,039
Anne Arundel County, Maryland | Annapolis, MD | $127,871
Baltimore City | Baltimore, MD | $284,269
Housing Opportunities Commission | Kensington, MD | $498,143
Baltimore City | Baltimore, MD | $113,462
Baltimore City | Baltimore, MD | $50,818
Baltimore City | Baltimore, MD | $38,128
Baltimore City | Baltimore, MD | $282,542
Baltimore City | Baltimore, MD | $113,598
Washington County Community Action Council, Incorporated | Hagerstown, MD | $169,102
Baltimore City | Baltimore, MD | $114,805
Baltimore City | Baltimore, MD | $40,587
Baltimore City | Baltimore, MD | $304,368
Baltimore City | Baltimore, MD | $107,117
Baltimore City | Baltimore, MD | $582,490
Baltimore City | Baltimore, MD | $205,212
Baltimore City | Baltimore, MD | $65,967
Baltimore City | Baltimore, MD | $136,836
Baltimore City | Baltimore, MD | $272,029
Baltimore City | Baltimore, MD | $87,240
Baltimore City | Baltimore, MD | $107,352
Baltimore City | Baltimore, MD | $279,168
Baltimore City | Baltimore, MD | $100,044
Baltimore City | Baltimore, MD | $305,340
Baltimore City | Baltimore, MD | $77,989
Baltimore City | Baltimore, MD | $87,240
Baltimore City | Baltimore, MD | $548,310
Baltimore City | Baltimore, MD | $261,720
Baltimore City | Baltimore, MD | $109,032
Baltimore City | Baltimore, MD | $34,896
Baltimore City | Baltimore, MD | $287,892
Baltimore City | Baltimore, MD | $271,380
Baltimore City | Baltimore, MD | $34,341
Baltimore City | Baltimore, MD | $213,120
Baltimore City | Baltimore, MD | $102,062
Baltimore City | Baltimore, MD | $174,480
Mental Hygiene Administration | Catonsville, MD | $902,880
City of Frederick | Frederick, MD | $65,897
Advocates for Homeless Families | Frederick, MD | $24,008
Mental Hygiene Administration | Catonsville, MD | $86,556
Mental Hygiene Administration | Catonsville, MD | $124,680
Mental Hygiene Administration | Catonsville, MD | $135,420
Mid-Shore Mental Health System, Inc. | Easton, MD | $62,084
Board of Garrett County Commissioners | Oakland, MD | $52,473
Mental Hygiene Administration | Catonsville, MD | $65,328
Catholic Charities of the Archdiocese of Washington | Hughesville, MD | $82,391
Calvert County Government | Prince Frederick, MD | $19,210
City of Frederick | Frederick, MD | $135,536
St. Mary's County Housing Authority | Leonardtown, MD | $43,192
St. Mary's County Housing Authority | Leonardtown, MD | $205,981
St. Mary's County Housing Authority | Leonardtown, MD | $107,336
St. Mary's County Housing Authority | Leonardtown, MD | $40,630
Board of Garrett County Commissioners | Oakland, MD | $40,485
Maine State Housing Authority | Augusta, ME | $117,233
Portland West, Incorporated | Portland, ME | $70,652
YWCA of Greater Portland, Maine, Incorporated | Portland, ME | $130,179
State of Maine | Augusta, ME | $760,140
MAPS/My Choice | Portland, ME | $71,355
State of Maine | Augusta, ME | $200,952
New Beginnings, Incorporated | Lewiston, ME | $334,234
Kennebec Mental Health Association | Waterville, ME | $65,677
Maine State Housing Authority | Augusta, ME | $161,148
City of Portland | Portland, ME | $31,366
Ingraham, Incorporated | Portland, ME | $82,357
State of Maine | Augusta, ME | $644,364
City of Portland | Portland, ME | $70,016
City of Portland | Portland, ME | $158,127
State of Maine | Augusta, ME | $111,384
State of Maine, Department of Behavioral & Developmental Services | Bangor, ME | $31,488
State of Maine, Department of Behavioral & Developmental Services | Bangor, ME | $126,180
Manna, Incorporated | Bangor, ME | $105,000
City of Bangor Maine | Bangor, ME | $19,152
City of Bangor Maine | Bangor, ME | $72,678
City of Bangor Maine | Bangor, ME | $57,408
City of Bangor Maine | Bangor, ME | $133,812
Ingraham, Incorporated | Portland, ME | $307,100
City of Bangor Maine | Bangor, ME | $118,422
York County Shelters, Incorporated | Alfred, ME | $222,257
Shaw House, Incorporated | Bangor, ME | $327,206
State of Maine | Augusta, ME | $239,172
State of Maine | Augusta, ME | $147,504
State of Maine | Augusta, ME | $752,340
City of Bangor Maine | Bangor, ME | $18,600
City of Portland | Portland, ME | $15,443
York County Shelters, Incorporated | Alfred, ME | $198,349
Community Concepts, Incorporated | South Paris, ME | $41,289
State of Maine | Augusta, ME | $215,760
City of Portland | Portland, ME | $27,971
City of Portland | Portland, ME | $80,700
Rumford Group Homes, Incorporated | Rumford, ME | $29,972
Counseling Services, Incorporated | Saco, ME | $64,410
City of Portland | Portland, ME | $352,224
Battered Women's Project | Presque Isle, ME | $54,504
Tedford Shelter | Brunswick, ME | $321,376
Allegany Co. Resource Development Committee, Incorporated | Allegan, MI | $84,800
Travelers Aid Society of Detroit | Detroit, MI | $89,617
Travelers Aid Society of Detroit | Detroit, MI | $218,768
Travelers Aid Society of Detroit | Detroit, MI | $209,811
Travelers Aid Society of Detroit | Detroit, MI | $918,428
American National Red Cross | Bay City, MI | $118,078
Charter County of Wayne | Detroit, MI | $142,015
Charter County of Wayne | Detroit, MI | $125,183
Bay Area Women's Center | Bay City, MI | $106,488
City of Detroit | Detroit, MI | $129,540
Word Foundation Agape House | Southfield, MI | $210,000
Coalition on Temporary Shelter | Detroit, MI | $660,686
Training and Treatment Innovations | Clawson, MI | $437,913
Capital Area Community Services, Inc. | Lansing, MI | $106,791
Coalition on Temporary Shelter | Detroit, MI | $105,546
Heartside Nonprofit Housing Corporation | Grand Rapids, MI | $63,000
Genesis Non-Profit Housing Corporation | Grand Rapids, MI | $750,000
Community Housing Network, Incorporated | Troy, MI | $781,307
The Salvation Army | Detroit, MI | $108,743
Michigan Family Independence Agency | Lansing, MI | $645,011
Travelers Aid Society of Detroit | Detroit, MI | $854,082
Lighthouse of Oakland County | Pontiac, MI | $514,015
CareGivers, Incorporated | Detroit, MI | $756,140
City of Detroit | Detroit, MI | $400,233
Coalition on Temporary Shelter | Detroit, MI | $84,980
Charter County of Wayne | Detroit, MI | $443,940
Coalition on Temporary Shelter | Detroit, MI | $75,844
Michigan Family Independence Agency | Detroit, MI | $138,410
City of Detroit | Detroit, MI | $426,160
City of Detroit | Detroit, MI | $88,675
EightCap, Inc. | Greenville, MI | $113,375
State of Michigan | Lansing, MI | $446,832
Freedom House | Detroit, MI | $169,013
Common Ground Sanctuary | Bloomfield Hills, MI | $249,566
Metro Housing Partnership | Flint, MI | $616,621
State of Michigan | Lansing, MI | $506,304
Community Housing Network, Incorporated | Troy, MI | $178,467
Freedom House | Detroit, MI | $118,878
Detroit Rescue Mission Ministries | Detroit, MI | $622,668
State of Michigan | Lansing, MI | $119,532
State of Michigan | Lansing, MI | $87,516
State of Michigan | Lansing, MI | $645,732
State of Michigan | Lansing, MI | $173,700
State of Michigan | Lansing, MI | $299,268
Detroit Rescue Mission Ministries | Detroit, MI | $759,594
Michigan Family Independence Agency | Detroit, MI | $406,741
City of Detroit | Detroit, MI | $1,057,723
Michigan Family Independence Agency | Detroit, MI | $201,576
Genesis Non-Profit Housing Corporation | Grand Rapids, MI | $26,250
Lutheran Social Services of Wisconsin and Upper Michigan | Marquette, MI | $110,000
Mariner's Inn | Detroit, MI | $289,004
State of Michigan | Lansing, MI | $183,312
State of Michigan | Lansing, MI | $63,648
City of Detroit | Detroit, MI | $709,837
Mariner's Inn | Detroit, MI | $243,585
City of Detroit | Detroit, MI | $91,928
City of Detroit | Detroit, MI | $146,930
City of Detroit | Detroit, MI | $907,156
Housing Plus, Incorporated | Pontiac, MI | $392,272
Detroit Rescue Mission Ministries | Detroit, MI | $447,581
Michigan Family Independence Agency | Detroit, MI | $217,208
Wayne County Neighborhood Legal Services | Detroit, MI | $853,435
SOS Crisis Center, Incorporated | Ypsilanti, MI | $433,994
Wayne-Metropolitan CAA | Wyandotte, MI | $1,092,703
Underground Railroad, Incorporated | Saginaw, MI | $315,469
SOS Crisis Center, Incorporated | Ypsilanti, MI | $394,732
SOS Crisis Center, Incorporated | Ypsilanti, MI | $1,181,940
Underground Railroad, Incorporated | Saginaw, MI | $168,242
State of Michigan Department of Community Health | Lansing, MI | $96,636
Oakland Livingston Human Services Agency | Howell, MI | $48,240
The Haven of Rest Ministries, Inc. | Battle Creek, MI | $350,324
Oakland Livingston Human Services Agency | Howell, MI | $48,822
The Salvation Army | Grand Rapids, MI | $228,488
Housing Resources, Inc. of Kalamazoo Co. | Kalamazoo, MI | $618,519
State of Michigan | Lansing, MI | $93,509
Housing Resources, Inc. of Kalamazoo Co. | Kalamazoo, MI | $143,586
Center for Women in Transition | Holland, MI | $46,442
Center for Women in Transition | Holland, MI | $92,336
Washtenaw County, Michigan | Ann Arbor, MI | $130,824
County of Ottawa | Holland, MI | $222,992
Avalon Housing, Incorporated | Ann Arbor, MI | $83,334
Washtenaw County, Michigan | Ann Arbor, MI | $247,656
Washtenaw County, Michigan | Ann Arbor, MI | $191,184
Washtenaw County, Michigan | Ann Arbor, MI | $67,644
Washtenaw County, Michigan | Ann Arbor, MI | $250,380
Saginaw County Housing Commission | Saginaw, MI | $24,660
Avalon Housing, Incorporated | Ann Arbor, MI | $86,534
Underground Railroad, Incorporated | Saginaw, MI | $290,898
Monroe County Opportunity Program | Monroe, MI | $200,251
The County of Wayne | Detroit, MI | $525,433
Monroe County Opportunity Program | Monroe, MI | $20,000
Michigan Ability Partners | Ann Arbor, MI | $401,552
Community Action Agency | Jackson, MI | $366,000
Michigan Ability Partners | Ann Arbor, MI | $41,316
Training and Treatment Innovations, Inc. | Jackson, MI | $338,629
SOS Crisis Center, Incorporated | Ypsilanti, MI | $248,415
Livingston County Community Mental Health Services Board | Howell, MI | $85,213
Saginaw County Housing Commission | Saginaw, MI | $649,320
Wayne County Neigh. Legal Services | Ecorse, MI | $662,317
Wayne-Metropolitan CAA | Wyandotte, MI | $208,404
Metro Housing Partnership | Flint, MI | $84,752
Lutheran Social Services of Wisconsin and Upper Michigan | Marquette, MI | $156,624
Metro Housing Partnership | Flint, MI | $356,004
The Salvation Army | Grand Rapids, MI | $249,855
Lutheran Social Services of Michigan | Detroit, MI | $243,117
Metro Housing Partnership | Flint, MI | $1,094,206
First Step: Western Wayne County Project on Domestic and Sexual Violence | Plymouth, MI | $131,550
Metro Housing Partnership | Flint, MI | $372,862
State of Michigan | Lansing, MI | $2,050,018
State of Michigan | Lansing, MI | $268,419
State of Michigan | Lansing, MI | $703,802
Housing Services for Eaton County | Charlotte, MI | $55,600
Branch County Coalition Against Domestic Violence | Coldwater, MI | $14,422
The Salvation Army | Grand Rapids, MI | $228,233
Branch County Coalition Against Domestic Violence | Coldwater, MI | $20,700
Lutheran Social Services of Michigan | Detroit, MI | $100,896
Inner City Christian Federation | Grand Rapids, MI | $38,810
Lansing Housing Commission | Lansing, MI | $220,392
Lenawee Emergency and Affordable Housing Corporation (LEAHC) | Adrian, MI | $86,511
City of Lansing | Lansing, MI | $188,526
City of Lansing | Lansing, MI | $301,297
City of Lansing | Lansing, MI | $135,765
City of Lansing | Lansing, MI | $742,186
Michigan Family Independence Agency | Detroit, MI | $124,142
City of Lansing | Lansing, MI | $188,530
Summit Pointe | Battle Creek, MI | $71,333
Dwelling Place of Grand Rapids, Inc. | Grand Rapids, MI | $52,660
Grand Rapids Housing Commission | Grand Rapids, MI | $135,360
Grand Rapids Housing Commission | Grand Rapids, MI | $226,900
Community Rebuilders | Grand Rapids, MI | $260,310
Community Rebuilders | Grand Rapids, MI | $598,575
Community Rebuilders | Grand Rapids, MI | $252,840
YWCA of Grand Rapids | Grand Rapids, MI | $386,579
Volunteers of America of MN | Minneapolis, MN | $150,272
Dakota Cty. Community Development Agency | Eagan, MN | $285,300
Rise, Inc. | Spring Lake Park, MN | $55,242
Dakota County Community Services | West St. Paul, MN | $395,767
Houston County Women's Resources | Hokah, MN | $35,332
Scott Agency | Shakopee, MN | $240,720
Minnesota Department of Human Services | St. Paul, MN | $119,030
Elim Transitional Housing, Inc. | Columbia Heights, MN | $87,488
Northwestern Mental Health Center, Incorporated | Crookston, MN | $103,666
Lutheran Social Service of Minnesota | Minneapolis, MN | $32,272
New Pathways, Incorporated | Cambridge, MN | $105,265
Lakeland Mental Health Center, Incorporated | Moorhead, MN | $249,375
West Central MN Communities Action, Incorporated | Sebeka, MN | $13,794
Washington County Housing and Redevelopment Authority | Saint Paul Park, MN | $222,900
Rum River Health Services, Incorporated | Princeton, MN | $500,500
Housing Coalition of the St. Cloud Area | St. Cloud, MN | $242,766
Housing Coalition of the St. Cloud Area | St. Cloud, MN | $51,930
Elim Transitional Housing, Inc. | Columbia Heights, MN | $179,215
Simpson Housing Services, Incorporated | Minneapolis, MN | $102,319
New Foundations, Incorporated | St. Paul, MN | $320,144
Community Involvement Programs | Minneapolis, MN | $25,480
Tubman Family Alliance | Minneapolis, MN | $97,085
Hennepin County (CFASD) | Minneapolis, MN | $489,874
Hennepin County (CFASD) | Minneapolis, MN | $347,549
RS Eden | St. Paul, MN | $149,100
Perspectives, Incorporated | St. Louis Park, MN | $171,173
Elim Transitional Housing, Incorporated | Minneapolis, MN | $165,000
Central Community Housing Trust | Minneapolis, MN | $473,606
American Indian Housing and Community Development Corporation | Minneapolis, MN | $162,222
Pillsbury United Communities | Minneapolis, MN | $420,000
Metropolitan Council | St. Paul, MN | $923,700
Metropolitan Council | St. Paul, MN | $781,380
Young Women's Christian Association | St. Paul, MN | $60,238
Young Women's Christian Association | St. Paul, MN | $31,335
Catholic Charities of the Archdiocese of St. Paul and Minneapolis | Minneapolis, MN | $584,242
Breaking Free, Incorporated | St. Paul, MN | $100,000
Central Community Housing Trust | Minneapolis, MN | $154,010
Theresa Living Center | St. Paul, MN | $62,400
Metropolitan Council | St. Paul, MN | $118,848
Metropolitan Council | St. Paul, MN | $146,364
Women's Advocates, Incorporated | St. Paul, MN | $90,262
Southern Minnesota Regional Legal Services | St. Paul, MN | $98,960
Freeport West, Incorporated | Minneapolis, MN | $81,746
Face to Face Health and Counseling Service, Incorporated | St. Paul, MN | $109,127
People, Incorporated | St. Paul, MN | $126,000
Families Moving Forward | Minneapolis, MN | $105,555
Theresa Living Center | St. Paul, MN | $96,193
Mental Health Resources, Incorporated | St. Paul, MN | $152,410
Emma Norton Services | St. Paul, MN | $81,171
Lutheran Social Service of Minnesota | St. Paul, MN | $141,359
Resource, Incorporated | Minneapolis, MN | $571,732
Mental Health Resources, Incorporated | St. Paul, MN | $198,299
Minnesota Veterans Home Board | Minneapolis, MN | $227,583
Freeport West, Incorporated | Minneapolis, MN | $406,284
Freeport West, Incorporated | Minneapolis, MN | $242,887
Peta Wakan Tipi | St. Paul, MN | $50,467
The Salvation Army | Duluth, MN | $100,859
Minnesota Department of Human Services | St. Paul, MN | $45,108
Life House, Inc. | Duluth, MN | $99,335
Life House, Inc. | Duluth, MN | $63,034
Arrowhead Economic Opportunity Agency | Virginia, MN | $40,856
Arrowhead Economic Opportunity Agency | Virginia, MN | $25,856
KOOTASCA Community Action | Grand Rapids, MN | $31,971
Lakes and Pines CAC, Incorporated | Mora, MN | $21,000
Human Development Center | Duluth, MN | $69,825
Minnesota Department of Human Services | Saint Paul, MN | $186,943
Women's Transitional Housing Coalition, Inc. | Duluth, MN | $119,807
The Salvation Army | Duluth, MN | $385,177
Life House, Inc. | Duluth, MN | $158,970
Rice County HRA | Faribault, MN | $219,300
Range Mental Health Center, Inc. | Virginia, MN | $400,000
Dakota County Community Development Agency | Eagan, MN | $76,320
Partners for Affordable Housing | Mankato, MN | $24,195
Three Rivers Community Action, Incorporated | Zumbrota, MN | $6,867
Three Rivers Community Action, Incorporated | Zumbrota, MN | $153,000
Minnesota Assistance Council for Veterans | Minneapolis, MN | $724,500
Our Savior's Lutheran Church | Minneapolis, MN | $139,811
Amherst H. Wilder Foundation | St. Paul, MN | $1,061,677
Steele County Transitional Housing, Incorporated | Owatonna, MN | $45,885
Mental Health Resources, Incorporated | St. Paul, MN | $169,931
Ramsey County | St. Paul, MN | $777,720
HRA of Duluth, MN | Duluth, MN | $71,124
Range Transitional Housing, Inc. | Virginia, MN | $463,900
Women's Transitional Housing Coalition, Inc. | Duluth, MN | $99,348
American Indian Community Housing Organization | Duluth, MN | $67,918
Women's Transitional Housing Coalition, Inc. | Duluth, MN | $153,984
Missouri Department of Mental Health | Jefferson City, MO | $781,440
City of St. Louis | St. Louis, MO | $341,530
City of St. Louis | St. Louis, MO | $338,311
City of Kansas City | Kansas City, MO | $260,127
Family Self Help Center, Incorporated | Joplin, MO | $63,000
Economic Security Corporation of Southwest Area | Joplin, MO | $208,684
City of Kansas City | Kansas City, MO | $48,300
City of St. Louis | St. Louis, MO | $224,514
City of St. Louis | St. Louis, MO | $235,395
City of Kansas City | Kansas City, MO | $343,350
City of St. Louis | St. Louis, MO | $2,258,054
North East Community Action Corporation | Bowling Green, MO | $329,238
Salvation Army | Jefferson City, MO | $230,971
City of Kansas City | Kansas City, MO | $32,935
Housing Authority of the City of Columbia, Missouri | Columbia, MO | $227,292
Economic Security Corporation of Southwest Area | Joplin, MO | $37,426
City of Kansas City | Kansas City, MO | $24,856
Saint Louis County Government | St. Louis, MO | $215,573
Missouri Department of Mental Health | Jefferson City, MO | $583,944
SAVE, Incorporated | Kansas City, MO | $584,942
Benilde Hall | Kansas City, MO | $502,700
City of St. Louis | St. Louis, MO | $2,300,007
Delta Area Economic Opportunity Corporation | Portageville, MO | $441,210
Community Caring Council | Cape Girardeau, MO | $542,808
Delta Area Economic Opportunity Corporation | Portageville, MO | $341,985
Families Assistance inTransitional Housing, Incorporated | Clinton, MO | $130,944
City of Kansas City | Kansas City, MO | $125,891
The Salvation Army | Joplin, MO | $80,000
Family Counseling Center, Incorporated | Kennett, MO | $384,521
City of Kansas City | Kansas City, MO | $25,131
City of Kansas City | Kansas City, MO | $36,131
Missouri Department of Mental Health | Jefferson City, MO | $284,160
City of Kansas City | Kansas City, MO | $197,815
Truman Medical Center, Incorporated | Kansas City, MO | $513,248
The Kitchen Incorporated | Springfield, MO | $393,750
Interfaith Community Services, Inc. | St. Joseph, MO | $669,834
Interfaith Community Services, Inc. | St. Joseph, MO | $736,601
City of St. Louis | St. Louis, MO | $173,371
City of St. Louis | St. Louis, MO | $784,350
City of St. Louis | St. Louis, MO | $211,093
Missouri Department of Mental Health | Jefferson City, MO | $314,040
Missouri Department of Mental Health | Jefferson City, MO | $1,270,284
Salvation Army | Jefferson City, MO | $314,010
Missouri Department of Mental Health | Jefferson City, MO | $1,402,200
The Salvation Army | Springfield, MO | $148,882
Ozarks Area Community Action Corporation | Springfield, MO | $26,655
Housing Authority of the City of Springfield | Springfield, MO | $35,376
Economic Security Corporation of Southwest Area | Joplin, MO | $68,603
City of St. Louis | St. Louis, MO | $305,974
Bolivar County Community Action | Cleveland, MS | $525,000
Lift, Incorporated | Tupelo, MS | $390,820
Recovery House, Incorporated | Columbus, MS | $637,350
University of Southern Mississippi | Hattiesburg, MS | $672,000
MS. Regional Housing Authority | Columbus, MS | $564,936
Multi-County Community Service Agency, Incorporated | Meridian, MS | $700,000
Forrest General Hospital | Hattiesburg, MS | $787,000
Hinds County Human Resource Agency | Jackson, MS | $118,650
The Samaritan House, Incorporated | Kalispell, MT | $63,000
District 7 Human Resources Development Council | Billings, MT | $63,000
MT DPhhS | Helena, MT | $220,000
Helena Housing Authority | Helena, MT | $70,896
Missoula Housing Authority | Missoula, MT | $264,000
Poverello Center, Incorporated | Missoula, MT | $74,934
Missoula County | Missoula, MT | $25,807
Missoula County | Missoula, MT | $35,240
Mountain Home Montana, Incorporated | Missoula, MT | $153,595
Missoula County | Missoula, MT | $196,664
Northwest Montana Human Resources, Incorporated | Kalispell, MT | $71,538
Neuse Center Area MH/DD/SAS Authority | New Bern, NC | $82,248
City of Winston-Salem | Winston-Salem, NC | $90,511
Cumberland County, Inc. | Fayetteville, NC | $147,788
Graham Housing Authority | Graham, NC | $257,100
City of Winston-Salem | Winston-Salem, NC | $47,250
Sandhills Community Action Program | Carthage, NC | $240,792
City of Winston-Salem | Winston-Salem, NC | $47,545
City of Winston-Salem | Winston-Salem, NC | $46,475
City of Winston-Salem | Winston-Salem, NC | $57,750
City of Winston-Salem | Winston-Salem, NC | $300,660
City of Winston-Salem | Winston-Salem, NC | $14,663
City of Winston-Salem | Winston-Salem, NC | $107,124
Family Service of the Piedmont, Inc. | High Point, NC | $47,293
Next Step Ministries | Kernersville, NC | $37,800
The Salvation Army, A Georgia Corp. | Charlotte, NC | $226,646
City of Winston-Salem | Winston-Salem, NC | $56,829
Mecklenburg County Area MH Authority | Charlotte, NC | $766,200
Mecklenburg County Area MH Authority | Charlotte, NC | $316,764
Passage Home, Inc. | Raleigh, NC | $491,618
Mecklenburg County Area MH Authority | Charlotte, NC | $392,928
City of Winston-Salem | Winston-Salem, NC | $70,206
Wake County Human Services | Raleigh, NC | $210,396
City of Winston-Salem | Winston-Salem, NC | $31,500
City of Winston-Salem | Winston-Salem, NC | $49,614
Community Alternatives for Supportive Abode | Raleigh, NC | $669,344
Mecklenburg County Area MH Authority | Charlotte, NC | $145,136
Housing for New Hope | Durham, NC | $140,700
Mecklenburg County Area MH Authority | Charlotte, NC | $300,276
Mecklenburg County Area MH Authority | Charlotte, NC | $44,363
Wake County Human Services | Raleigh, NC | $110,208
Wake County Human Services | Raleigh, NC | $216,197
Wake County Human Services | Raleigh, NC | $80,000
Wake County Human Services | Raleigh, NC | $305,712
City of Winston-Salem | Winston-Salem, NC | $98,123
Hospitality House of Asheville, Inc. | Asheville, NC | $182,886
Hospitality House of the Boone Area, Inc. | Boone, NC | $93,544
Christian Counseling & Wellness | Greensboro, NC | $88,007
Mary's House, Inc. | Greensboro, NC | $135,982
Greensboro Urban Ministry | Greensboro, NC | $36,750
Ashe County Department of Social Services | Jefferson, NC | $60,000
Greensboro Urban Ministry | Greensboro, NC | $42,000
Reinvestment in Communities of Gaston County, Inc. | Gastonia, NC | $46,273
Reinvestment in Communities of Gaston County, Inc. | Gastonia, NC | $350,123
Gaston County Interfaith Hospitality Network | Gastonia, NC | $38,850
The Servant Center, Inc. | Greensboro, NC | $59,481
Northwestern Housing Enterprises, Inc. | Boone, NC | $222,800
Centerpoint Human Services | Winston-Salem, NC | $195,252
Affordable Housing Coalition | Asheville, NC | $263,137
OASIS, Inc. | Boone, NC | $60,900
The Salvation Army, A Georgia Corp. | Charlotte, NC | $87,500
Hope Haven, Inc. | Charlotte, NC | $63,000
Pathways Services, Inc. | Gastonia, NC | $74,280
Hope Haven, Inc. | Charlotte, NC | $383,500
Housing for New Hope | Durham, NC | $50,400
Hope Haven, Inc. | Charlotte, NC | $53,662
Hope Haven, Inc. | Charlotte, NC | $53,980
Hope Haven, Inc. | Charlotte, NC | $52,867
Durham Interfaith Hospitality Network | Durham, NC | $216,476
United Community Ministries, Inc. | Rocky Mount, NC | $88,200
Blue Ridge Area Authority | Asheville, NC | $182,244
Good Shepherd Ministries, Inc. | Wilmington, NC | $50,209
Greenville Community Shelter, Inc. | Greenville, NC | $125,348
Community Link Programs of Traveler's Aid | Charlotte, NC | $146,992
OPC Mental Health, SA, Disabilities Authority | Carrboro, NC | $463,080
The Salvation Army, A Georgia Corporation | High Point, NC | $29,454
Community Link Programs of Traveler's Aid | Charlotte, NC | $66,991
Community Link Programs of Traveler's Aid | Charlotte, NC | $234,984
Wilmington Housing Authority | Wilmington, NC | $107,856
First Fruit Ministries | Wilmington, NC | $109,493
VOA-Willow Pond, Inc. | Wilmington, NC | $78,909
The Arc of North Carolina, Inc. | Wilmington, NC | $268,484
Housing for New Hope | Durham, NC | $116,978
OPC Area Program | Carrboro, NC | $109,776
Fargo Housing & Redevelopment Authority | Fargo, ND | $192,504
YWCA of Fargo-Moorhead | Fargo, ND | $161,009
Centre, Incorporated | Fargo, ND | $236,862
YWCA of Fargo-Moorhead | Fargo, ND | $266,031
Community Violence Intervention Center, Incorporated | Grand Forks, ND | $189,610
Burleigh County Housing Authority | Bismarck, ND | $733,500
Nebraska Legal Services | Omaha, NE | $98,962
The Salvation Army | Omaha, NE | $277,796
Central Nebraska Community Services | Loup City, NE | $127,085
Community Alliance Rehabilitation Services | Omaha, NE | $267,479
Family Housing Advisory Services, Incorporated | Omaha, NE | $253,746
CenterPointe, Incorporated | Lincoln, NE | $443,273
Visiting Nurse Association | Omaha, NE | $227,171
City of Omaha | Omaha, NE | $146,696
City of Omaha | Omaha, NE | $117,539
Blue Valley Community Action, Incorporated | Fairbury, NE | $24,677
Saint Monica's | Lincoln, NE | $140,456
CenterPointe, Incorporated | Lincoln, NE | $187,612
Catholic Charities of the Archdiocese | Omaha, NE | $213,234
City of Omaha | Omaha, NE | $30,870
City of Omaha | Omaha, NE | $32,827
City of Omaha | Omaha, NE | $75,881
Lincoln Action Program | Lincoln, NE | $449,539
CEDARS Youth Services | Lincoln, NE | $130,707
Catholic Social Services | Lincoln, NE | $93,683
Family Service | Omaha, NE | $84,214
Community Action Partnership of Mid-Nebraska | Kearney, NE | $90,718
Catholic Social Services | Lincoln, NE | $340,034
Greater Nashua Council on Alcoholism, Incorporated | Nashua, NH | $60,083
Liberty House Shelter, Incorporated | Manchester, NH | $150,000
Harbor Homes, Incorporated | Nashua, NH | $59,546
My Friend's Place | Dover, NH | $54,240
Southern New Hampshire Services, Incorporated | Manchester, NH | $32,273
State of New Hampshire | Concord, NH | $12,170
State of New Hampshire, Division of Behavioral Health | Concord, NH | $47,504
Harbor Homes, Incorporated | Nashua, NH | $100,929
Marguerite's Place, Incorporated | Nashua, NH | $58,481
MP Housing, Incorporated | Nashua, NH | $173,659
State of New Hampshire, Division of Behavioral Health | Concord, NH | $116,524
State of New Hampshire, Division of Behavioral Health | Concord, NH | $99,632
State of New Hampshire | Concord, NH | $195,285
State of New Hampshire, Division of Behavioral Health | Concord, NH | $143,815
State of New Hampshire, Division of Behavioral Health | Concord, NH | $395,004
Harbor Homes, Incorporated | Nashua, NH | $862,121
Tri-County Community Action Program, Incorporated | Berlin, NH | $188,568
State of New Hampshire, Division of Behavioral Health | Concord, NH | $666,900
Child and Family Services | Manchester, NH | $334,588
State of New Hampshire, Division of Behavioral Health | Concord, NH | $42,098
State of New Hampshire, Division of Behavioral Health | Concord, NH | $90,047
Families in Transition | Manchester, NH | $151,020
Families in Transition | Manchester, NH | $641,392
State of New Hampshire, Division of Behavioral Health | Concord, NH | $116,475
State of New Hampshire, Division of Behavioral Health | Concord, NH | $88,497
State of New Hampshire, Division of Behavioral Health | Concord, NH | $85,866
State of New Hampshire, Division of Behavioral Health | Concord, NH | $251,249
State of New Hampshire, Division of Behavioral Health | Concord, NH | $14,154
Catholic Charities-Diocese of Trenton | Trenton, NJ | $67,374
New Jersey Department of Community Affairs | Trenton, NJ | $68,420
Caring For Kids Exchange Club Family Center | Cape May Courthouse, NJ | $84,846
New Jersey Housing and Mortgage Finance Agency | Trenton, NJ | $8,000
City of Trenton | Trenton, NJ | $99,200
NCC Harmony House Corporation | Newark, NJ | $543,695
City of Trenton | Trenton, NJ | $192,489
Cerebral Palsy of Monmouth & Ocean Counties | Wanamassa, NJ | $28,348
New Jersey Community Development Corporation | Paterson, NJ | $774,816
St. Phillip's Ministry UMC | Paterson, NJ | $181,650
North Hudson Community Action Corporation | West New York, NJ | $424,888
Counseling & Referral Services of Ocean, Incorporated | Brick, NJ | $472,830
New Jersey Housing and Mortgage Finance Agency | Trenton, NJ | $68,000
Eva's Kitchen & Sheltering Programs Incorporated | Paterson, NJ | $79,400
O.C.E.A.N., Incorporated | Toms River, NJ | $395,741
Hispanic Multi-Purpose Service Center | Paterson, NJ | $108,530
Alternatives, Inc. | Raritan, NJ | $101,279
NCC Harmony House Corporation | Newark, NJ | $471,635
VetGroup, Incorporated | Forked River, NJ | $55,999
County of Union | Elizabeth, NJ | $59,464
Choices, Incorporated | Newark, NJ | $195,384
Choices, Incorporated | Newark, NJ | $87,216
Babyland Family Services, Incorporated | Newark, NJ | $117,600
Babyland Family Services, Incorporated | Newark, NJ | $277,252
Urban Renewal Corporation | Newark, NJ | $211,697
Urban Renewal Corporation | Newark, NJ | $212,625
Urban Renewal Corporation | Newark, NJ | $646,191
Saint Joseph's Home | Jersey City, NJ | $558,534
County of Union | Elizabeth, NJ | $121,968
WomenRising, Incorporated | Jersey City, NJ | $644,268
County of Union | Elizabeth, NJ | $738,838
County of Union | Elizabeth, NJ | $57,901
County of Union | Elizabeth, NJ | $837,632
County of Union | Elizabeth, NJ | $638,792
Housing Authority of the City of Elizabeth | Elizabeth, NJ | $236,880
Housing Authority of the City of Elizabeth | Elizabeth, NJ | $982,800
Catholic Community Services | Newark, NJ | $160,000
Vantage Health System, Incorporated | Dumont, NJ | $240,251
Advance Housing, Incorporated | Hackensack, NJ | $247,776
South Jersey Behavioral Health | Camden, NJ | $36,179
Center for Family Services | Camden, NJ | $750,000
New Jersey Department of Community Affairs | Trenton, NJ | $104,916
New Jersey Housing and Mortgage Finance Agency | Trenton, NJ | $170,182
O.C.E.A.N., Incorporated | Toms River, NJ | $776,948
Monmouth County | Monmouth, NJ | $184,680
Monmouth County | Monmouth, NJ | $1,005,480
Dooley House, Incorporated | Camden, NJ | $500,000
Paterson Coalition for Housing, Incorporated | Paterson, NJ | $334,014
Interfaith Homeless Outreach Council | Cherry Hill, NJ | $27,148
MIPH | New Brunswick, NJ | $174,110
Our Lady of Lourdes Health Foundation, Incorporated | Camden, NJ | $256,069
Camden County Council on Economic Opportunity | Camden, NJ | $249,128
AIDS Coalition of Southern New Jersey | Bellmawr, NJ | $23,734
Respond, Incorporated | Camden, NJ | $64,459
Volunteers of America Delaware Valley, Incorporated | Collingwood, NJ | $310,533
Volunteers of America Delaware Valley, Incorporated | Collingwood, NJ | $310,238
Group Homes of Camden County, Incorporated | Camden, NJ | $120,395
New Jersey Department of Military/Veterans Affairs | Trenton, NJ | $354,313
Homeless Solutions, Incorporated | Morristown, NJ | $396,965
The Salt and Light Company, Incorporated | Mount Holly, NJ | $213,642
Transitional Housing Services, Incorporated | Mount Holly, NJ | $32,116
Catholic Charities-Diocese of Trenton | Trenton, NJ | $24,507
Catholic Charities-Diocese of Trenton | Trenton, NJ | $69,218
Family Service of Burlington County | Mount Holly, NJ | $42,000
Jersey Battered Women's Service, Incorporated | Morris Plains, NJ | $198,137
Mental Health Association of Morris County, Incorporated | Madison, NJ | $60,060
Center for Family Services | Camden, NJ | $97,800
Homeless Solutions, Incorporated | Morristown, NJ | $219,398
Volunteers of America Delaware Valley, Inc. | Collingswood, NJ | $224,910
New Jersey Housing and Mortgage Finance Agency | Trenton, NJ | $5,120
Burlington County Community Action Program | Burlington, NJ | $32,000
New Jersey Department of Community Affairs | Trenton, NJ | $76,608
Mother/Child Residential Services | Woodbury, NJ | $194,250
New Jersey Housing and Mortgage Finance Agency | Trenton, NJ | $9,000
New Jersey Department of Community Affairs | Trenton, NJ | $734,760
N.J. Department of Community Affairs | Trenton, NJ | $67,521
New Jersey Department of Community Affairs | Trenton, NJ | $269,280
Homeless Solutions, Incorporated | Morristown, NJ | $64,300
Easter Seals, New Jersey | Verona, NJ | $139,992
City of East Orange | East Orange, NJ | $737,100
Urban Youth Development Corporation | East Orange, NJ | $117,588
Grace Reformed Baptist Church | Newark, NJ | $537,450
Isaiah House | East Orange, NJ | $463,500
City of Trenton | Trenton, NJ | $150,000
Positive Health Care, Incorporated | Newark, NJ | $828,345
City of East Orange | East Orange, NJ | $89,688
St. Paul's CDC | Paterson, NJ | $685,440
New Jersey Housing & Mortgage Finance Agency | Trenton, NJ | $257,000
New Jersey Department of Community Affairs | Trenton, NJ | $786,240
City of Albuquerque | Albuquerque, NM | $787,296
Catholic Charities | Albuquerque, NM | $51,371
Catholic Charities | Albuquerque, NM | $750,000
Women's Community Association | Albuquerque, NM | $42,097
Catholic Charities | Albuquerque, NM | $197,868
Sandoval County | Bernalillo, NM | $641,040
Barrett Foundation, Incorporated | Albuquerque, NM | $23,780
Eastern Plains Council of Governments | Clovis, NM | $235,660
La Casa, Inc. | Las Cruces, NM | $221,655
Transitional Living Services, Inc. | Albuquerque, NM | $276,300
Transitional Living Services, Inc. | Albuquerque, NM | $105,000
Albuq. Health Care for the Homeless, Inc. | Albuquerque, NM | $135,267
City of Santa Fe | Santa Fe, NM | $99,960
Mesilla Valley Community of Hope | Las Cruces, NM | $274,050
City of Santa Fe | Santa Fe, NM | $170,928
Barrett Foundation, Incorporated | Albuquerque, NM | $97,447
City of Las Cruces | Las Cruces, NM | $327,060
City of Albuquerque | Albuquerque, NM | $223,710
Daybreak Center, Inc. | Aztec, NM | $199,979
City of Albuquerque | Albuquerque, NM | $861,071
Guidance Center of Lea County | Hobbs, NM | $521,324
Town of Taos | Taos, NM | $450,000
St. Martin's Hospitality Center | Albuquerque, NM | $115,500
City of Albuquerque | Albuquerque, NM | $232,812
Catholic Charities | Albuquerque, NM | $241,154
EOB Community Action Partnership | Las Vegas, NV | $104,556
Rural Clinics Community Mental Health Centers | Carson City, NV | $179,520
Douglas County Social Services | Gardnerville, NV | $306,089
State of Nevada | Las Vegas, NV | $632,580
ReStart, Incorporated | Reno, NV | $89,115
The Shade Tree | North Las Vegas, NV | $302,915
Saint Vincent H.E.L.P., Incorporated | Las Vegas, NV | $120,140
Women's Development Center | Las Vegas, NV | $119,285
ReStart, Incorporated | Reno, NV | $679,088
State of Nevada, NNAMHS | Sparks, NV | $388,884
Northern Nevada Community Housing Resource Board | Reno, NV | $51,955
Erie County Department of Mental Health | Buffalo, NY | $136,200
New York State Office of Mental Health | Albany, NY | $238,596
Albany Housing Authority | Albany, NY | $165,744
NYS OASAS | Albany, NY | $57,132
Joseph's House and Shelter | Troy, NY | $210,000
City of Troy | Troy, NY | $32,704
Unity House Troy, Incorporated | Troy, NY | $1,360,212
Rochester Housing Authority | Rochester, NY | $483,336
NYS OASAS | Albany, NY | $166,488
Family of Woodstock | Kingston, NY | $22,000
Albany Housing Authority | Albany, NY | $30,960
Support Ministries, Incorporated | Waterford, NY | $333,964
Housing Options Made Easy, Inc. | Gowanda, NY | $166,177
Housing Options Made Easy, Inc. | Gowanda, NY | $168,034
Albany Housing Coalition, Incorporated | Albany, NY | $21,000
Rehabilitation Support Services | Guilderland, NY | $297,357
Legal Aid Society of Northeastern New York | Albany, NY | $106,786
Equinox, Incorporated | Albany, NY | $252,723
New York State Office of Mental Health | Albany, NY | $195,300
SAFE, Inc. of Schenectady | Schenectady, NY | $48,268
New York State Office of Mental Health | Albany, NY | $142,164
New York State Office of Mental Health | Albany, NY | $390,600
New York State Office of Mental Health | Albany, NY | $97,094
New York State Office of Mental Health | Albany, NY | $293,400
New York State Office of Mental Health | Albany, NY | $72,552
New York State Office of Mental Health | Albany, NY | $50,184
Crystal Run Village | Middletown, NY | $245,520
Crystal Run Village | Middletown, NY | $139,816
Homeless and Travelers Aid Society of the Capital District, Incorporated | Albany, NY | $268,416
Crystal Run Village | Middletown, NY | $75,600
NYS OASAS | Albany, NY | $176,448
Homeless and Travelers Aid Society of the Capital District, Incorporated | Albany, NY | $143,435
Erie County Department of Mental Health | Buffalo, NY | $117,696
Behavioral Health Services North, Incorporated | Plattsburgh, NY | $205,824
ETC Housing Corporation | Plattsburgh, NY | $64,800
Rural Law Center of New York, Incorporated | Plattsburgh, NY | $30,000
NYS OASAS | Albany, NY | $236,016
Syracuse Housing Authority | Syracuse, NY | $1,423,752
Catholic Charities of the Roman Catholic Diocese of Syracuse, NY | Utica, NY | $504,675
YWCA of Mohawk Valley | Utica, NY | $1,049,998
Oneida County Department of Mental Health | Utica, NY | $74,965
Oneida County Workforce Development | Utica, NY | $79,800
Syracuse Brick House, Inc. | Syracuse, NY | $303,994
NYS OASAS | Albany, NY | $327,216
Albany Housing Coalition, Incorporated | Albany, NY | $86,310
The Salvation Army | Syracuse, NY | $162,000
Albany Housing Authority | Albany, NY | $757,200
NYS OASAS | Albany, NY | $96,456
NYS OASAS | Albany, NY | $76,380
Central New York Services, Inc. | Syracuse, NY | $849,849
City of Troy | Troy, NY | $183,084
City of Buffalo | Buffalo, NY | $236,220
Rescue Mission Alliance of Syracuse, NY | Syracuse, NY | $300,000
The Salvation Army | Syracuse, NY | $745,595
The Salvation Army | Syracuse, NY | $663,233
The Doe Fund, Incorporated | New York, NY | $332,500
The Doe Fund, Incorporated | New York, NY | $492,713
The Doe Fund, Incorporated | New York, NY | $414,057
County of Dutchess | Poughkeepsie, NY | $153,180
The Salvation Army | Syracuse, NY | $157,503
County of Dutchess | Poughkeepsie, NY | $416,526
New York State Office of Mental Health | Albany, NY | $48,600
HELP Las Vegas Housing Corporation | New York, NY | $185,934
Rochester Housing Authority | Rochester, NY | $337,176
Catholic Charities of Rochester dba Catholic Family Center | Rochester, NY | $408,069
YWCA of Rochester and Monroe County | Rochester, NY | $371,795
DePaul Community Services | Rochester, NY | $64,440
The Center for Youth Services, Inc. | Rochester, NY | $99,754
New York State Office of Mental Health Housing Services Unit | Albany, NY | $246,657
New York State Office of Mental Health | Albany, NY | $141,972
Cath. McAuley Housing DBA Mercy Residential | Rochester, NY | $600,684
Wilson Commencement Park | Rochester, NY | $417,075
Unity Health System | Rochester, NY | $960,900
Rochester Housing Authority | Rochester, NY | $474,300
Rochester Housing Authority | Rochester, NY | $824,100
Catholic Charities of the Roman Catholic Diocese of Syracuse | Syracuse, NY | $250,000
Steuben County | Bath, NY | $280,488
Erie County Department of Mental Health | Buffalo, NY | $52,836
Erie County Department of Mental Health | Buffalo, NY | $251,352
Erie County Department of Mental Health | Buffalo, NY | $179,124
Erie County Department of Mental Health | Buffalo, NY | $130,500
Erie County Department of Mental Health | Buffalo, NY | $1,731,137
Erie County Department of Mental Health | Buffalo, NY | $110,604
YWCA of Western New York | Buffalo, NY | $885,825
YWCA of Western New York | Buffalo, NY | $216,144
Housing Options Made Easy, Inc. | Gowanda, NY | $683,319
Buffalo Halfway House, Inc. | Buffalo, NY | $400,000
New York State Office of Mental Health | Albany, NY | $463,568
NYS OASAS | Albany, NY | $121,992
Rochester Housing Authority | Rochester, NY | $425,724
Newark Housing Development Corporation | Newark, NY | $302,128
YWCA of Binghamton/Broome County | Binghamton, NY | $321,244
Fairview Recovery Services, Incorporated | Binghamton, NY | $273,000
New York State Office of Mental Health | Albany, NY | $52,872
Gateway Community Industries, Incorporated | Kingston, NY | $273,898
Fairview Recovery Services, Incorporated | Binghamton, NY | $431,198
Unity House of Cayuga County, Inc. | Auburn, NY | $67,500
Tompkins Community Action | Ithaca, NY | $60,126
U.C. Department of Social Services | Kingston, NY | $329,340
U.C. Department of Social Services | Kingston, NY | $39,270
County of Dutchess | Poughkeepsie, NY | $118,080
County of Dutchess | Poughkeepsie, NY | $342,900
County of Dutchess | Poughkeepsie, NY | $119,992
County of Dutchess | Poughkeepsie, NY | $27,245
ARISE Child and Family Service, Inc. | Syracuse, NY | $150,788
Project Hospitality, Inc. | Staten Island, NY | $370,558
Covenant House New York/Under 21, Incorporated | New York, NY | $504,647
WestHELP, Incorporated | New York, NY | $299,999
Westchester County | White Plains, NY | $420,000
Westchester County | White Plains, NY | $420,000
Westchester County | White Plains, NY | $256,856
Westchester County | White Plains, NY | $365,328
Greyston Health Services | Yonkers, NY | $253,344
Community Housing Innovations Inc. | White Plains, NY | $337,278
Multi-Talents, Inc. | Brooklyn, NY | $349,520
Multi-Talents, Inc. | Brooklyn, NY | $334,894
Nassau County Coalition Against Domestic Violence | Hempstead, NY | $210,405
Nassau County Coalition Against Domestic Violence | Hempstead, NY | $124,305
City of Mt. Vernon | Mount Vernon, NY | $379,086
Covenant House New York/Under 21, Incorporated | New York, NY | $588,962
City of Mt. Vernon | Mount Vernon, NY | $112,560
The Project for Psychiatric Outreach to the Homeless, Inc. | New York, NY | $238,140
The Project for Psychiatric Outreach to the Homeless, Inc. | New York, NY | $200,000
Veritas Therapeutic Community, Inc. | New York, NY | $273,348
Common Ground Job Training Corp. | New York, NY | $244,858
New York State Office of Mental Health | Albany, NY | $267,120
New York State Office of Mental Health | Albany, NY | $293,220
New York State Office of Mental Health | Albany, NY | $443,904
New York State Office of Mental Health | Albany, NY | $383,148
New York State Office of Mental Health | Albany, NY | $91,584
New York State Office of Mental Health | Albany, NY | $203,520
New York State Office of Mental Health | Albany, NY | $52,993
Services for the Underserved | New York, NY | $1,054,517
Nassau County Coalition Against Domestic Violence | Hempstead, NY | $147,497
Westchester County | White Plains, NY | $828,360
The Municipal Housing Authority for the City of Yonkers | Yonkers, NY | $21,000
The Municipal Housing Authority for the City of Yonkers | Yonkers, NY | $54,100
The Municipal Housing Authority for the City of Yonkers | Yonkers, NY | $41,000
The Municipal Housing Authority for the City of Yonkers | Yonkers, NY | $85,000
The Municipal Housing Authority for the City of Yonkers | Yonkers, NY | $36,779
Institute for Community Living, Incorporated | New York, NY | $141,627
Institute for Community Living, Incorporated | New York, NY | $461,890
Institute for Community Living, Incorporated | New York, NY | $480,120
Westchester County | White Plains, NY | $181,848
Westchester County | White Plains, NY | $266,472
Westchester County | White Plains, NY | $191,400
Westchester County | White Plains, NY | $291,696
Westchester/Putnam Legal Services | White Plains, NY | $72,100
Westchester County | White Plains, NY | $191,160
New York State Office of Mental Health | Albany, NY | $311,430
Westchester County | White Plains, NY | $191,160
Westchester County | White Plains, NY | $134,184
Westchester County | White Plains, NY | $114,696
Westchester County | White Plains, NY | $213,480
Westchester County | White Plains, NY | $72,072
Westchester County | White Plains, NY | $241,248
City of Mt. Vernon | Mount Vernon, NY | $45,906
City of Mt. Vernon | Mount Vernon, NY | $40,823
City of Mt. Vernon | Mount Vernon, NY | $45,894
City of Mt. Vernon | Mount Vernon, NY | $45,894
City of Mt. Vernon | Mount Vernon, NY | $42,000
City of Mt. Vernon | Mount Vernon, NY | $40,170
Westchester County | White Plains, NY | $268,464
VIP Community Services, Incorporated | Bronx, NY | $278,855
Goddard Riverside Community Center | New York, NY | $153,722
Praxis Housing Initiative Incorporated | New York, NY | $1,591,518
Care for the Homeless | New York, NY | $349,916
Support for Training and Educational Program Services | New York, NY | $54,091
Support for Training and Educational Program Services | New York, NY | $143,396
John Heuss Corporation | New York, NY | $77,030
Henry Street Settlement | New York, NY | $171,224
Henry Street Settlement | New York, NY | $231,569
FEGS Health and Human Services System | New York, NY | $676,767
FEGS Health and Human Services System | New York, NY | $1,117,812
NYS OASAS | Albany, NY | $83,712
FEGS Health and Human Services System | New York, NY | $582,961
New York State Office of Mental Health | Albany, NY | $754,887
FEGS Health and Human Services System | New York, NY | $85,729
Palladia, Incorporated | New York, NY | $556,586
Interfaith Nutrition Network (The INN) | Hempstead, NY | $69,919
Urban Pathways | New York, NY | $85,071
Urban Pathways | New York, NY | $148,110
Urban Pathways | New York, NY | $174,675
The Bridge, Incorporated | New York, NY | $230,864
The Bridge, Incorporated | New York, NY | $101,909
The Bridge, Incorporated | New York, NY | $436,958
Discipleship Outreach Ministries, Incorporated | Brooklyn, NY | $200,000
Discipleship Outreach Ministries, Incorporated | Brooklyn, NY | $62,070
Family Residences & Essential Enterprises | Hauppauge, NY | $104,020
Damon House New York, Incorporated | Brooklyn, NY | $262,479
Community Access, Incorporated | New York, NY | $812,051
FEGS Health and Human Services System | New York, NY | $1,190,000
Heritage Health and Housing, Inc. | New York, NY | $108,333
The Municipal Housing Authority for the City of Yonkers | Yonkers, NY | $175,530
Services for the Underserved | New York, NY | $1,176,983
Services for the Underserved | New York, NY | $345,362
New York State Office of Mental Health | Albany, NY | $223,104
Services for the Underserved | New York, NY | $182,154
New York State Office of Mental Health | Albany, NY | $433,272
Coalition for the Homeless | New York, NY | $179,924
HELP—Equity Homes, Inc. | New York, NY | $132,720
New York State Office of Mental Health | Albany, NY | $421,457
New York State Office of Mental Health | Albany, NY | $133,632
SoHo Partnership, Inc. | New York, NY | $165,736
Nazareth Housing, Inc. | New York, NY | $34,257
Goddard Riverside Community Center | New York, NY | $558,673
Heritage Health and Housing, Inc. | New York, NY | $328,595
Palladia, Incorporated | New York, NY | $823,775
Heritage Health and Housing, Inc. | New York, NY | $159,340
Church Avenue Merchants Block Association | Brooklyn, NY | $166,666
Church Avenue Merchants Block Association | Brooklyn, NY | $8,012
Project Renewal, Inc. | New York, NY | $670,770
Project Renewal, Inc. | New York, NY | $407,839
Project Renewal, Inc. | New York, NY | $400,000
Safe Horizon | New York, NY | $106,587
Fountain House, Incorporated | New York, NY | $639,297
Fountain House, Incorporated | New York, NY | $144,712
Fountain House, Incorporated | New York, NY | $498,815
Association to Benefit Children | New York, NY | $135,609
Palladia, Incorporated | New York, NY | $1,409,764
Services for the Underserved | New York, NY | $404,204
Heritage Health and Housing, Inc. | New York, NY | $249,495
Lower Eastside Service Center, Incorporated | New York, NY | $986,667
Binding Together, Incorporated | New York, NY | $368,033
NYS OASAS | Albany, NY | $273,924
NYS OASAS | Albany, NY | $162,480
NYS OASAS | Albany, NY | $160,968
NYS OASAS | Albany, NY | $235,536
NYS OASAS | Albany, NY | $174,336
NYS OASAS | Albany, NY | $107,520
Brooklyn Bureau of Community Service | Brooklyn, NY | $474,924
Brooklyn Bureau of Community Service | Brooklyn, NY | $249,674
The Door-A Center of Alternatives, Incorporated | New York, NY | $151,111
Jewish Board of Family and Children's Services, Incorporated | New York, NY | $830,789
Bailey House, Incorporated | New York, NY | $1,258,600
NYS OASAS | Albany, NY | $166,140
Center for Urban Community Services, Incorporated | New York, NY | $164,763
NYS OASAS | Albany, NY | $575,700
Safe Space NYC, Incorporated | New York, NY | $225,610
United Bronx Parents, Incorporated | Bronx, NY | $1,102,500
Lutheran Social Services of Metropolitan New York, Incorporated | New York, NY | $420,000
Housing Solutions, Incorporated | New York, NY | $459,783
New York City Department of Housing Preservation and Development | New York, NY | $2,402,460
New York City Department of Housing Preservation and Development | New York, NY | $1,475,520
HELP Social Service Corporation | New York, NY | $2,070,944
Pibly Residential Programs, Incorporated | Bronx, New York, NY | $463,234
The Municipal Housing Authority for the City of Yonkers | Yonkers, NY | $520,576
Women's Prison Association (WPA) | New York, NY | $124,464
Covenant House New York/Under 21, Incorporated | New York, NY | $143,360
The Lantern Group, Incorporated | New York, NY | $1,260,000
Volunteers of America —Greater New York | New York, NY | $246,411
Bailey House, Incorporated | New York, NY | $329,577
NYS OASAS | Albany, NY | $103,008
NYS OASAS | Albany, NY | $375,396
Society of St. Vincent De Paul | Bethpage, NY | $310,714
Community Housing Innovations | White Plains, NY | $329,097
Nassau-Suffolk Law Services Committee, Incorporated | Hempstead, NY | $108,181
Mercy Haven, Incorporated | Islip Terrace, NY | $30,583
HELP Suffolk, Incorporated | New York, NY | $127,897
Family Service League of Suffolk County | Huntington, NY | $184,684
Family Residence & Essential Enterprises | Hauppauge, NY | $191,328
Transitional Services of New York for Long Island, Incorporated | Brentwood, NY | $57,456
HELP—Equity Homes, Incorporated | New York, NY | $165,915
Federation of Organizations for the New York State | West Babylon, NY | $103,246
NYS OASAS | Albany, NY | $61,056
NYS OASAS | Albany, NY | $98,364
NYS OASAS | Albany, NY | $181,248
American Red Cross in Greater New York | New York, NY | $201,241
Women In Need, Incorporated | New York, NY | $402,540
Women In Need, Incorporated | New York, NY | $1,061,642
Women In Need, Incorporated | New York, NY | $954,857
NYS OASAS | Albany, NY | $146,580
NYS OASAS | Albany, NY | $167,880
NYS OASAS | Albany, NY | $109,692
NYS OASAS | Albany, NY | $113,280
NYS OASAS | Albany, NY | $335,736
NYS OASAS | Albany, NY | $155,004
NYS OASAS | Albany, NY | $129,252
NYS OASAS | Albany, NY | $249,216
NYS OASAS | Albany, NY | $93,360
NYS OASAS | Albany, NY | $151,908
NYS OASAS | Albany, NY | $178,320
Argus Community, Incorporated | Bronx, NY | $430,101
Family and Children's Association | Mineola, NY | $695,220
Kenmore Housing Development Corporation | New York, NY | $781,153
The Mental Health Association of New York City, Incorporated | New York, NY | $288,063
Postgraduate Center for Mental Health | New York, NY | $945,354
Phase: Piggy Back, Incorporated | New York, NY | $137,109
NYC Department of Homeless Services | New York, NY | $2,185,604
The Doe Fund, Incorporated | New York, NY | $351,456
The Doe Fund, Incorporated | New York, NY | $678,604
The Doe Fund, Incorporated | New York, NY | $451,538
Regional Economic Community Action Program, Incorporated | Middletown, NY | $210,000
HELP Social Service Corporation | New York, NY | $1,008,349
HELP Social Service Corporation | New York, NY | $711,404
Nassau Suffolk Coalition for the Homeless, Inc. | Garden City, NY | $189,000
HELP Social Service Corporation | New York, NY | $356,269
The Mental Health Association of New York City, Incorporated | New York, NY | $581,091
163rd Street Improvement Council, Incorporated | Bronx, NY | $595,350
Bowery Residents' Committee, Incorporated | New York, NY | $511,358
Bowery Residents' Committee, Incorporated | New York, NY | $368,496
Bowery Residents' Committee, Incorporated | New York, NY | $497,954
Bowery Residents' Committee, Incorporated | New York, NY | $360,107
YMCA of Greater New York | New York, NY | $570,505
Hospital Audiences, Incorporated | New York, NY | $166,652
Citizens Advice Bureau, Incorporated | Bronx, NY | $1,200,000
The Municipal Housing Authority for the City of Yonkers | Yonkers, NY | $157,000
Citizens Advice Bureau, Incorporated | Bronx, NY | $105,000
The Municipal Housing Authority for the City of Yonkers | Yonkers, NY | $61,240
The Municipal Housing Authority for the City of Yonkers | Yonkers, NY | $60,667
HELP Social Service Corporation | New York, NY | $826,446
Center for Urban Community Services, Incorporated | New York, NY | $592,861
Weston United Community Renewal, Incorporated | New York, NY | $224,900
Minority Task Force on AIDS | New York, NY | $369,106
Minority Task Force on AIDS | New York, NY | $148,972
Minority Task Force on AIDS | New York, NY | $133,914
Metropolitan Council on Jewish Poverty | New York, NY | $99,942
New York State Office of Mental Health | Albany, NY | $784,980
Phase: Piggy Back, Incorporated | New York, NY | $305,957
Center for Urban Community Services, Incorporated | New York, NY | $597,473
Nassau Suffolk Coalition for the Homeless, Inc. | Garden City, NY | $210,000
Lenox Hill Neighborhood House | New York, NY | $138,911
Lenox Hill Neighborhood House | New York, NY | $283,845
Options for Community Living, Inc. | Smithtown, NY | $239,186
Options for Community Living, Inc. | Smithtown, NY | $1,081,498
New York State Office of Mental Health | Albany, NY | $156,240
New York State Office of Mental Health | Albany, NY | $240,096
Center for Urban Community Services, Incorporated | New York, NY | $709,678
New York State Office of Mental Health | Albany, NY | $317,760
Samaritan Village, Incorporated | Briarwood, NY | $183,750
New York State Office of Mental Health | Albany, NY | $91,896
Society of St. Vincent de Paul | Bethpage, NY | $771,903
Samaritan Village, Incorporated | Briarwood, NY | $326,390
Pathways to Housing, Incorporated | New York, NY | $298,998
Pathways to Housing, Incorporated | New York, NY | $837,286
Urban Justice Center | New York, NY | $108,466
Urban Justice Center | New York, NY | $34,246
Urban Justice Center | New York, NY | $109,686
Pathways to Housing, Incorporated | New York, NY | $538,843
New York State Office of Mental Health | Albany, NY | $758,640
Columbus Metropolitan Housing Authority | Columbus, OH | $80,760
Columbus Metropolitan Housing Authority | Columbus, OH | $192,588
Columbus Metropolitan Housing Authority | Columbus, OH | $552,120
Columbus Metropolitan Housing Authority | Columbus, OH | $110,436
Columbus Metropolitan Housing Authority | Columbus, OH | $26,784
Columbus Metropolitan Housing Authority | Columbus, OH | $378,924
Columbus Metropolitan Housing Authority | Columbus, OH | $79,356
Youngstown Area Goodwill Industries, Incorporated | Youngstown, OH | $216,240
Family Violence Prevention Center of Greene County | Xenia, OH | $189,949
Columbus Metropolitan Housing Authority | Columbus, OH | $253,344
Columbus Metropolitan Housing Authority | Columbus, OH | $157,740
Joseph's Home | Cleveland, OH | $273,056
ICAN, Incorporated | Canton, OH | $48,825
Cuyahoga County | Cleveland, OH | $467,714
Cuyahoga County | Cleveland, OH | $1,796,460
Cuyahoga County | Cleveland, OH | $38,679
Cuyahoga County | Cleveland, OH | $270,705
Cuyahoga County | Cleveland, OH | $508,248
Cuyahoga County | Cleveland, OH | $111,287
Community Action Partnership of the Greater Dayton Area | Dayton, OH | $168,699
Cuyahoga County | Cleveland, OH | $446,546
Cuyahoga County | Cleveland, OH | $82,796
Cuyahoga Metropolitan Housing Authority | Cleveland, OH | $563,045
Mental Health Services for Homeless Persons, Inc. (MHS) | Cleveland, OH | $276,577
Catholic Diocese of Cleveland | Cleveland, OH | $78,065
East Side Catholic | Cleveland, OH | $187,749
YMCA of Greater Cleveland | Cleveland, OH | $342,158
Continue Life, Inc. | Cleveland, OH | $212,973
TH Resource Center of Cincinnati | Cincinnati, OH | $132,999
Cuyahoga County | Cleveland, OH | $1,717,692
Cleveland Housing Network, Inc. | Cleveland, OH | $119,626
Ohio Valley Goodwill Industries, Incorporated | Cincinnati, OH | $357,926
Ohio Valley Goodwill Industries, Incorporated | Cincinnati, OH | $516,000
Tender Mercies, Incorporated | Cincinnati, OH | $175,889
Greater Cincinnati Oral Health Council | Cincinnati, OH | $682,651
City of Cincinnati, Ohio | Cincinnati, OH | $758,580
City of Cincinnati, Ohio | Cincinnati, OH | $532,812
Emerald Dev. & Economic Network (EDEN) | Cleveland, OH | $1,100,074
Cuyahoga County | Cleveland, OH | $126,149
Cleveland Housing Network, Inc. | Cleveland, OH | $499,081
Western Stark County Medical Clinic, Incorporated | Massillon, OH | $130,200
Cuyahoga County | Cleveland, OH | $537,741
Cuyahoga County | Cleveland, OH | $97,182
Cuyahoga County | Cleveland, OH | $174,731
Cuyahoga County | Cleveland, OH | $275,403
Cuyahoga County | Cleveland, OH | $120,901
Cuyahoga County | Cleveland, OH | $154,335
Columbus Metropolitan Housing Authority | Columbus, OH | $380,088
Emerald Dev. & Economic Network (EDEN) | Cleveland, OH | $1,076,634
Associated Neighborhood Center | Youngstown, OH | $30,912
ICAN, Incorporated | Canton, OH | $86,564
Mercy Manor, Incorporated | Dayton, OH | $203,437
PLACES, Incorporated | Dayton, OH | $142,164
PLACES, Incorporated | Dayton, OH | $633,333
Young Women's Christian Association | Dayton, OH | $1,795,500
Young Women's Christian Association of Youngstown Ohio | Youngstown, OH | $268,061
Young Women's Christian Association of Youngstown Ohio | Youngstown, OH | $403,105
City of Dayton | Dayton, OH | $1,170,384
Addiction Programs of Mahoning County, Incorporated | Youngstown, OH | $143,782
City of Dayton | Dayton, OH | $351,528
Associated Neighborhood Centers | Youngstown, OH | $126,000
Youngstown Area Community Action Council | Youngstown, OH | $45,939
Catholic Charities Housing Opportunities | Youngstown, OH | $28,149
The Greater Youngstown Point, Incorporated | Youngstown, OH | $80,150
Potential Development Program, Incorporated | Youngstown, OH | $54,075
Northeast Ohio Legal Services | Youngstown, OH | $52,793
Youngstown State University | Youngstown, OH | $90,659
Beatitude House | Youngstown, OH | $213,753
Community AIDS Network | Akron, OH | $197,400
The Salvation Army | Cleveland, OH | $100,314
Volunteers of America of Northeast & North Central Ohio, Inc. | Cleveland, OH | $79,155
Volunteers of America of Northeast & North Central Ohio, Inc. | Cleveland, OH | $246,967
Stark Metropolitan Housing Authority | Canton, OH | $157,920
AIDS Taskforce of Greater Cleveland | Cleveland, OH | $151,309
Transitional Housing, Inc. | Cleveland, OH | $122,528
Northeast Ohio Coalition for the Homeless | Cleveland, OH | $105,000
Daybreak, Incorporated | Dayton, OH | $210,000
Akron Metropolitan Housing Authority | Akron, OH | $271,104
Cuyahoga County | Cleveland, OH | $907,557
H.M. Life Opportunity Services, Incorporated | Akron, OH | $538,606
H.M. Life Opportunity Services, Incorporated | Akron, OH | $166,163
H.M. Life Opportunity Services, Incorporated | Akron, OH | $525,872
Community Drug Board | Akron, OH | $399,387
Community Drug Board | Akron, OH | $359,141
Legacy 3, Incorporated | Akron, OH | $417,214
City of Dayton | Dayton, OH | $570,360
Akron Metropolitan Housing Authority | Akron, OH | $738,720
City of Cincinnati, Ohio | Cincinnati, OH | $523,380
Community Housing Network | Columbus, OH | $923,719
Mental Health & Recovery Board of Union County | Marysville, OH | $73,361
Project Woman | Springfield, OH | $107,100
Family & Community Services of Portage County | Kent, OH | $554,104
Coleman Professional Services | Kent, OH | $212,787
Columbiana County Mental Health Clinic | Lisbon, OH | $110,000
Volunteers of America Northwest Ohio, Incorporated | Sandusky, OH | $869,998
Shelterhouse Volunteer Group | Cincinnati, OH | $93,954
Community Housing Network | Columbus, OH | $249,850
State of Ohio | Columbus, OH | $184,692
Neighborhood Health Association, Inc. | Toledo, OH | $137,657
Community Housing Network | Columbus, OH | $177,181
Cuyahoga County | Cleveland, OH | $386,373
Community Housing Network | Columbus, OH | $678,948
Lorain Metropolitan Housing Authority | Lorain, OH | $495,420
Family Violence Prevention Center of Greene County | Xenia, OH | $179,170
Ashtabula County Mental Health Board | Ashtabula, OH | $909,000
Tom Geiger Guest House, Incorporated | Cincinnati, OH | $151,760
Catholic Charities | Norwalk, OH | $259,657
Portage Metropolitan Housing Authority | Ravenna, OH | $813,000
Family Abuse Shelter of Miami County, Incorporated | Troy, OH | $50,400
Family Abuse Shelter of Miami County, Incorporated | Troy, OH | $132,300
YWCA of Hamilton | Hamilton, OH | $119,320
WSOS Community Action Commission, Incorporated | Fremont, OH | $53,776
Trumbull LifeLines (Local Government) | Warren, OH | $640,500
Transitional Living, Incorporated | Hamilton, OH | $255,417
Lighthouse Youth Services, Incorporated | Cincinnati, OH | $725,484
Bethany House Services, Incorporated | Cincinnati, OH | $74,283
Humility of Mary Housing Development Corporation | Lorain, OH | $516,966
New Sunrise Properties, Incorporated | Elyria, OH | $490,950
Community Housing Network | Columbus, OH | $291,878
Jefferson County Prevention and Recovery Board | Steubenville, OH | $1,483,897
FreeStore/FoodBank, Incorporated | Cincinnati, OH | $336,932
Lighthouse Youth Services, Incorporated | Cincinnati, OH | $441,075
Lighthouse Youth Services | Cincinnati, OH | $235,448
City of Springfield | Springfield, OH | $93,600
Health Resource Center of Cincinnati | Cincinnati, OH | $152,230
YWCA of Elyria | Elyria, OH | $362,798
Young Women's Christian Association of Greater Cincinnati, Incorporated | Cincinnati, OH | $460,911
Neighborhood Prosperities, Incorporated | Toledo, OH | $750,000
Neighborhood Prosperities, Incorporated | Toledo, OH | $481,549
Aurora Project, Inc. | Toledo, OH | $311,320
Bethany House Services, Incorporated | Cincinnati, OH | $1,066,983
Family Outreach Community United Services | Toledo, OH | $960,586
Lucas County T.A.S.C., Inc. | Toledo, OH | $117,606
Neighborhood Health Association, Inc. | Toledo, OH | $158,940
Bethany House Services, Incorporated | Cincinnati, OH | $78,523
YWCA of Columbus | Columbus, OH | $297,045
Project Woman | Springfield, OH | $641,316
Columbus Metropolitan Housing Authority | Columbus, OH | $210,060
Amethyst, Incorporated | Columbus, OH | $483,515
Shelterhouse Volunteer Group | Cincinnati, OH | $494,126
City of Springfield | Springfield, OH | $92,570
Columbus Metropolitan Housing Authority | Columbus, OH | $485,964
Huckleberry House, Incorporated | Columbus, OH | $688,617
Volunteers of America of Oklahoma, Incorporated | Tulsa, OK | $155,829
Freedom From Addiction Through Christ | Picher, OK | $130,898
City of Oklahoma | Oklahoma City, OK | $185,752
City of Oklahoma | Oklahoma City, OK | $165,377
City of Oklahoma | Oklahoma City, OK | $268,901
City of Oklahoma | Oklahoma City, OK | $129,600
Mental Health Association in Tulsa, Incorporated | Tulsa, OK | $668,304
Legal Aid Services of Oklahoma, Incorporated | Oklahoma City, OK | $111,920
City of Oklahoma | Oklahoma City, OK | $750,000
City of Oklahoma | Oklahoma City, OK | $206,124
City of Oklahoma | Oklahoma City, OK | $51,840
City of Oklahoma | Oklahoma City, OK | $249,190
Volunteers of America of Oklahoma, Incorporated | Tulsa, OK | $237,933
Mental Health Association in Tulsa, Incorporated | Tulsa, OK | $270,092
Mental Health Association in Tulsa, Incorporated | Tulsa, OK | $756,024
Domestic Violence Program of N.C. OK, Inc. | Ponca City, OK | $29,946
City of Oklahoma | Oklahoma City, OK | $249,999
City of Oklahoma | Oklahoma City, OK | $120,095
City of Oklahoma | Oklahoma City, OK | $197,462
United Way of Ponca City, Incorporated | Ponca City, OK | $55,070
City of Oklahoma | Oklahoma City, OK | $300,359
City of Oklahoma | Oklahoma City, OK | $13,464
Northeast Oklahoma Community Action Agency, Inc. | Jay, OK | $93,826
Raphael House of Portland | Portland, OR | $48,416
Lane County, Oregon | Eugene, OR | $108,973
Lane County, Oregon | Eugene, OR | $143,307
Central Oregon Community Action Agency Network | Redmond, OR | $296,759
Lane County, Oregon | Eugene, OR | $188,916
Lane County, Oregon | Eugene, OR | $383,630
Multnomah County | Portland, OR | $338,746
City of Portland | Portland, OR | $237,332
Multnomah County | Portland, OR | $276,771
Multnomah County | Portland, OR | $599,114
The Salvation Army | Portland, OR | $251,538
Multnomah County | Portland, OR | $209,538
Housing Authority of Portland | Portland, OR | $768,780
Housing Authority of Portland | Portland, OR | $424,308
The Shangri-La Corporation | Salem, OR | $75,600
Mid-Willamette Valley Community Action Agency, Incorporated | Salem, OR | $167,145
Mid-Willamette Valley Community Action Agency, Incorporated | Salem, OR | $60,789
Mid-Willamette Valley Community Action Agency, Incorporated | Salem, OR | $70,980
Housing Authority and Community Services Agency | Eugene, OR | $124,320
Housing Authority of County of Clackamas | Oregon, OR | $215,658
Bradley-Angle House | Portland, OR | $71,273
Community Action Organization | Hillsboro, OR | $330,437
Housing Authority of County of Clackamas | Oregon, OR | $59,956
Washington County, Oregon | Hillsboro, OR | $43,490
Washington County, Oregon | Hillsboro, OR | $463,680
Clackamas Women's Services | Milwaukie, OR | $238,112
The Salvation Army | Salem, OR | $78,750
Multnomah County | Portland, OR | $272,554
St. Vincent de Paul Society, Lane Co., Inc. | Eugene, OR | $222,220
Central City Concern | Portland, OR | $209,544
Central City Concern | Portland, OR | $160,603
Lane County, Oregon | Eugene, OR | $378,850
Lane County, Oregon | Eugene, OR | $58,567
Lane County, Oregon | Eugene, OR | $82,208
Cascadia Behavioral Healthcare | Portland, OR | $698,365
Clackamas County Department Human Services | Oak Grove, OR | $190,366
Oregon Housing and Community Services | Salem, OR | $750,000
Women's Safety & Resource Center | North Bend, OR | $11,620
Oregon Housing and Community Services | Salem, OR | $9,565
Oregon Housing and Community Services | Salem, OR | $40,941
Oregon Housing and Community Services | Salem, OR | $66,853
Southwestern Oregon Community Action Committee, Inc. | Coos Bay, OR | $25,523
Oregon Housing and Community Services | Salem, OR | $106,405
Oregon Housing and Community Services | Salem, OR | $11,336
Oregon Housing and Community Services | Salem, OR | $67,067
Oregon Housing and Community Services | Salem, OR | $52,500
Oregon Housing and Community Services | Salem, OR | $79,757
Oregon Housing and Community Services | Salem, OR | $93,488
Oregon Housing and Community Services | Salem, OR | $106,666
Oregon Housing and Community Services | Salem, OR | $268,413
Oregon Housing and Community Services | Salem, OR | $109,908
Oregon Housing and Community Services | Salem, OR | $109,508
Oregon Housing and Community Services | Salem, OR | $79,357
Multnomah County | Portland, OR | $482,731
Domestic Violence Center of Chester County | West Chester, PA | $261,522
Calcutta House, Inc. | Philadelphia, PA | $201,213
People's Emergency Center | Philadelphia, PA | $526,130
County of Chester | West Chester, PA | $251,605
Guadenzia, Incorporated | Norristown, PA | $197,360
County of Erie DHS | Erie, PA | $492,319
Guadenzia, Incorporated | Norristown, PA | $730,804
City of Philadelphia | Philadelphia, PA | $1,016,444
City of Philadelphia | Philadelphia, PA | $86,749
People's Emergency Center | Philadelphia, PA | $125,783
County of Chester | West Chester, PA | $51,912
County of Chester | West Chester, PA | $79,200
Hedwig House, Inc. | Norristown, PA | $320,215
United Neighborhood Centers of Lackawanna County | Scranton, PA | $271,909
The Salvation Army | Norristown, PA | $206,216
United Neighborhood Centers of Lackawanna County | Scranton, PA | $59,556
City of Philadelphia | Philadelphia, PA | $226,560
Catholic Social Services of the Archdiocese of Philadelphia | Chester, PA | $92,402
United Neighborhood Centers of Lackawanna County | Scranton, PA | $210,763
Bethesda Project | Philadelphia, PA | $513,511
Mental Health Association of SE PA | Philadelphia, PA | $136,579
Holcomb Behavioral Health Systems | Exton, PA | $115,512
City of Philadelphia | Philadelphia, PA | $903,273
Delaware County Housing Authority | Woodlyn, PA | $607,440
Housing Development Corporation of NEPA | Wilkes-Barre, PA | $664,632
Commission on Economic Opportunity | Wilkes-Barre, PA | $537,606
DuBois Housing Authority | DuBoise, PA | $348,300
Human Services Center | New Castle, PA | $239,675
YWCA of Bradford | Bradford, PA | $189,352
Northern Cambria Community Development Corporation | Northern Cambria, PA | $517,973
Lawrence County Social Services, Incorporated | New Castle, PA | $127,780
Domestic Violence Service Center, Incorporated | Wilkes-Barre, PA | $114,030
City of Philadelphia | Philadelphia, PA | $1,901,220
The Salvation Army, a New York Corporation | Wilkes-Barre, PA | $882,533
City of Philadelphia | Philadelphia, PA | $847,446
Community Intervention Center | Scranton, PA | $84,000
Horizon House, Incorporated | Philadelphia, PA | $566,715
City of Philadelphia | Philadelphia, PA | $105,660
County of Erie DHS | Erie, PA | $1,025,136
Westmoreland Human Opportunities, Incorporated | Greensburg, PA | $458,000
City of Philadelphia | Philadelphia, PA | $1,514,100
City of Philadelphia | Philadelphia, PA | $432,600
City of Philadelphia | Philadelphia, PA | $567,084
City of Philadelphia | Philadelphia, PA | $607,452
Harbor Point Housing | Beaver Falls, PA | $119,700
Drueding Center / Project Rainbow | Philadelphia, PA | $1,595,872
Cumberland County Coalition for Shelter | Carlisle, PA | $80,898
Union-Synder Office of Human Resources | Selinsgrove, PA | $340,519
Episcopal Community Services | Philadelphia, PA | $178,777
Opportunities Industrialization Center, Incorporated | Philadelphia, PA | $268,400
BERKS AIDS NETWORK | Reading, PA | $93,600
Council on Chemical Abuse | Reading, PA | $163,807
Council on Chemical Abuse | Reading, PA | $248,609
The Health Federation of Philadelphia | Philadelphia, PA | $254,554
Berks Counseling Center | Reading, PA | $504,682
Berks Counseling Center | Reading, PA | $299,880
Reading-Berks Emergency Shelter | Reading, PA | $596,992
Catholic Social Services Diocese of Scranton, Incorporated | Scranton, PA | $283,650
Resources for Human Development | Philadelphia, PA | $732,407
Young Women's Christian Association | Williamsport, PA | $699,506
Drueding Center / Project Rainbow | Philadelphia, PA | $128,123
Housing Transitions, Inc. | State College, PA | $213,447
Montgomery County Community Action Development Commission | Norristown, PA | $59,216
Indian Valley Opportunity Center | Souderton, PA | $129,328
1260 Housing Development Corporation | Philadelphia, PA | $579,121
Community Housing Services | Lansdale, PA | $184,419
Community Housing Services | Lansdale, PA | $89,964
COMHAR, Incorporated | Philadelphia, PA | $1,062,342
COMHAR, Incorporated | Philadelphia, PA | $600,020
Northern Cambria Community Development Corporation | Cambria, PA |
Northern Cambria Community Development Corporation | Cambria, PA |
Allied Services Foundation | Clarks Summit, PA | $364,994
Resources for Human Development | Philadelphia, PA | $747,638
Penndel Mental Health Center, Inc. | Penndel, PA | $81,959
Delaware County Housing Authority | Woodlyn, PA | $468,015
Women Against Abuse, Incorporated | Philadelphia, PA | $409,042
Catholic Social Services | Wilkes-Barre, PA | $325,731
YWCA of Greater Harrisburg | Harrisburg, PA | $513,286
Horizon House, Incorporated | Philadelphia, PA | $753,100
Women's Resource Center, Incorporated | Scranton, PA | $267,358
Montgomery County | Norristown, PA | $542,682
Catherine McAuley Center | Scranton, PA | $227,400
Impact Service Corporation | Philadelphia, PA | $1,376,782
Impact Service Corporation | Philadelphia, PA | $638,579
Delaware County Housing Authority | Woodlyn, PA | $136,134
The Lodge, Inc. of Pennsylvania | Lancaster, PA | $485,580
MARANATHA (Formerly Counseling Services) | Chambersburg, PA | $531,704
Penndel Mental Health Center, Inc. | Penndel, PA | $71,671
Domestic Violence Intervention (DVI) of Lebanon County, Inc. | Lebanon, PA | $870,273
Valley Youth House Committee, Incorporated | Allentown, PA | $483,348
Bell Socialization Services, Incorporated | York, PA | $56,960
County of Bucks, Pennsylvania | Doylestown, PA | $110,158
Lehigh County Conference of Churches | Allentown, PA | $336,472
United Christian Ministries, Incorporated | Osceola, PA | $378,045
The Salvation Army, a New York Corporation | Allentown, PA | $319,142
Schuylkill Women in Crisis | Pottsville, PA | $99,984
Valley Housing Development Corp | Emmaus, PA | $647,892
Valley Housing Development Corp | Emmaus, PA | $395,312
Waynesboro New Hope Shelter, Inc. | Waynesboro, PA | $272,568
Housing Authority of Monroe County | Stroudsburg, PA | $641,760
The Salvation Army | Norristown, PA | $190,972
Tabor Community Services, Inc. | Lancaster, PA | $635,487
Allegheny County | Pittsburgh, PA | $365,400
Fayette County Community Action Agency, Incorporated | Uniontown, PA | $65,695
Armstrong County Community Action Agency | Kittanning, PA | $121,083
Armstrong County Community Action Agency | Kittanning, PA | $134,412
City Mission-Living Stones, Incorporated | Uniontown, PA | $266,832
Housing Authority of the County of Butler | Butler, PA | $283,500
Allegheny County | Pittsburgh, PA | $674,499
Allegheny County | Pittsburgh, PA | $2,529,896
Allegheny County | Pittsburgh, PA | $322,993
Allegheny County | Pittsburgh, PA | $226,185
Allegheny County | Pittsburgh, PA | $1,589,036
Allegheny County | Pittsburgh, PA | $514,570
Community Action Southwest | Washington, PA | $36,229
Allegheny County | Pittsburgh, PA | $688,011
Butler County Community Action & Development | Butler, PA | $322,024
Allegheny County | Pittsburgh, PA | $337,213
Allegheny County | Pittsburgh, PA | $471,700
Allegheny County | Pittsburgh, PA | $473,342
Allegheny County | Pittsburgh, PA | $764,962
Allegheny County | Pittsburgh, PA | $646,581
Allegheny County | Pittsburgh, PA | $439,561
Allegheny County | Pittsburgh, PA | $58,680
City of Philadelphia | Philadelphia, PA | $176,100
Allegheny County | Pittsburgh, PA | $692,275
Allegheny County | Pittsburgh, PA | $478,620
Allegheny County | Pittsburgh, PA | $438,978
Allegheny County | Pittsburgh, PA | $470,874
Allegheny County | Pittsburgh, PA | $118,361
Philadelphia Housing Authority | Philadelphia, PA | $52,560
Community Action Agency of Delaware County, Inc. | Media, PA | $365,546
Domestic Abuse Project of Delaware County | Media, PA | $146,907
Delaware County Dept. of Human Service | Upper Darby, PA | $411,600
Community Action Agency of Delaware County, Inc. | Media, PA | $451,654
Philadelphia Housing Authority | Philadelphia, PA | $179,280
Wesley House Community Corporation, Inc. | Chester, PA | $52,400
Philadelphia Housing Authority | Philadelphia, PA | $31,968
Delaware County Housing Authority | Woodlyn, PA | $133,923
Mental Health Association of SE PA | Philadelphia, PA | $187,474
Asociacion de Puertorriquenos en Marcha, Inc. (APM) | Philadelphia, PA | $173,039
Fundacion de Desarrollo Comunal de PR, Incorporated | Caguas, PR | $154,797
Coalition Pro-Homeless of Eastern Port | Municipality of Yabucoa, PR | $174,404
Casa de la Bondad, Incorporated | Humacao, PR | $262,500
Hogar Nueva Vida, Incorporated | Yabucoa, PR | $120,716
Fundacion de Desarrollo Comunal de PR, Incorporated | Caguas, PR | $135,616
CORDA, Incorporated | Humacao, PR | $313,890
Department of the Family of Puerto Rico | San Juan, PR | $243,342
Lucha Contra el SIDA Inc. | San Juan, PR | $2,567,519
Department of the Family of Puerto Rico | San Juan, PR | $5,935,547
Department of the Family of Puerto Rico | San Juan, PR | $627,624
Municipality of Cayey | Cayey, PR | $655,800
Corporacion Milagros del Amor | Caguas, PR | $240,647
Municipality of San Juan | Hato Rey, PR | $330,768
Corporacion La Fondita de Jesus | San Juan, PR | $281,667
Corporacion La Fondita de Jesus | San Juan, PR | $181,333
Lucha Contra El Sida, Inc. | San Juan, PR | $180,963
Casa Protegida Julidade Burgos | San Juan, PR | $405,461
COSSMA | Cidra, PR | $444,417
Administration of Corrections | San Juan, PR | $2,831,752
Estancia Corazon, Inc. | Mayaguez, PR | $580,020
Estancia Corazon, Inc. | Mayaguez, PR | $761,450
Estancia Corazon, Inc. | Mayaguez, PR | $299,565
Rhode Island Housing | Providence, RI | $102,145
Rhode Island Housing | Providence, RI | $820,724
Rhode Island Housing | Providence, RI | $260,910
Rhode Island Housing | Providence, RI | $309,652
Rhode Island Housing | Providence, RI | $24,614
Rhode Island Housing | Providence, RI | $478,769
Rhode Island Housing | Providence, RI | $247,714
Rhode Island Housing | Providence, RI | $749,535
Rhode Island Housing | Providence, RI | $35,432
Rhode Island Housing | Providence, RI | $84,120
Rhode Island Housing | Providence, RI | $121,796
Rhode Island Housing | Providence, RI | $135,854
Rhode Island Housing | Providence, RI | $24,785
Rhode Island Housing | Providence, RI | $536,841
Rhode Island Housing | Providence, RI | $34,440
Rhode Island Housing | Providence, RI | $252,462
Rhode Island Housing | Providence, RI | $100,380
Rhode Island Housing | Providence, RI | $263,584
Rhode Island Housing | Providence, RI | $83,527
Crisis Ministries | Charleston, SC | $91,762
Crisis Ministries | Charleston, SC | $130,208
Charleston County Human Services Commission | Charleston, SC | $208,108
Pee Dee Community Action Agency | Florence, SC | $179,098
The Housing Authority—City of Charleston | Charleston, SC | $254,982
Trinity Housing Corporation | Columbia, SC | $192,628
Trinity Housing Corporation | Columbia, SC | $49,440
Humanities Foundation, Incorporated | Charleston, SC | $491,072
Trinity Housing Corporation | Columbia, SC | $160,633
Trinity Housing Corporation | Columbia, SC | $280,342
Sunbelt Human Advancement Resources, Incorporated | Greenville, SC | $98,675
South Carolina Department of Mental Health | Columbia, SC | $750,060
Sunbelt Human Advancement Resources, Incorporated | Greenville, SC | $545,315
Charleston County Government | Charleston, SC | $377,685
Humanities Foundation | Charleston, SC | $270,000
Williamsburg Enterprise Community Commission, Incorporated | Kingstree, SC | $254,383
Upstate Homeless Coalition of South Carolina | Greenville, SC | $750,000
South Carolina Department of Mental Health | Columbia, SC | $545,400
Wateree Community Actions, Incorporated | Sumter, SC | $242,302
Samaritan House | Orangeburg, SC | $216,227
Upstate Homeless Coalition of South Carolina | Greenville, SC | $184,305
Home Alliance, Incorporated | Myrtle Beach, SC | $69,999
Spartanburg County | Spartanburg, SC | $320,350
Upstate Homeless Coalition of South Carolina | Greenville, SC | $642,153
MEG'S House: Shelter for Abused Women | Greenwood, SC | $218,668
Rosewood House of Recovery, Incorporated | Greenville, SC | $290,826
United Way of Beaufort County | Beaufort, SC | $124,950
The Women's Shelter | Columbia, SC | $249,215
American Indian Services, Inc. | Sioux Falls, SD | $38,023
Development for the Disabled, Inc. | Rapid City, SD | $126,978
Sioux Falls Housing & Redevelopment Commission | Sioux Falls, SD | $119,472
Mid-South HealthNet, Incorporated | Memphis, TN | $47,035
Urban Housing Solutions | Nashville, TN | $73,750
Wo/Men's Resource & Rape Assis. Program | Jackson, TN | $86,073
Earl Medley, E.D. Fortwood Center, Inc. | Chattanooga, TN | $138,649
Chattanooga Church Ministries, Inc. | Chattanooga, TN | $90,873
Buffalo Valley, Inc. | Hohenwald, TN | $131,539
Metropolitan Development & Housing Agency | Nashville, TN | $857,712
Matthew 25, Incorporated | Nashville, TN | $111,125
Quinco Mental Health Center | Bolivar, TN | $98,595
Jackson Area Council on Alcoholism & Drug Dependency | Jackson, TN | $82,258
Chattanooga Church Ministries, Inc. | Chattanooga, TN | $94,828
Chattanooga Church Ministries, Inc. | Chattanooga, TN | $317,625
Partnership for Families, Children & Adults | Chattanooga, TN | $87,813
Southeast Tennessee Human Resource Ag. | Dunlap, TN | $692,100
Damascus Road Inc. | Paris, TN | $49,258
Housing Opport. and People Enterprises | Huntsville, TN | $73,500
Renewal House, Incorporated | Nashville, TN | $93,407
The Salvation Army, A Georgia Corporation | Nashville, TN | $741,162
Metropolitan Development & Housing Agency | Nashville, TN | $753,240
Buffalo Valley, Inc. | Hohenwald, TN | $49,575
Buffalo Valley, Inc. | Hohenwald, TN | $73,047
Buffalo Valley, Inc. | Hohenwald, TN | $73,333
Buffalo Valley, Inc. | Hohenwald, TN | $442,708
Nashville Family Shelter, Incorporated | Nashville, TN | $179,659
Buffalo Valley, Inc. | Hohenwald, TN | $71,376
Cumberland Regional Development Corporation | Cookeville, TN | $210,000
Genesis House, Inc. | Cookeville, TN | $145,762
Town of Crossville Housing Authority | Crossville, TN | $255,300
Buffalo Valley, Inc. | Hohenwald, TN | $24,850
Buffalo Valley, Inc. | Hohenwald, TN | $72,392
Buffalo Valley, Inc. | Hohenwald, TN | $228,444
Earl Medley, E.D. Fortwood Center, Inc. | Chattanooga, TN | $211,255
Buffalo Valley, Inc. | Hohenwald, TN | $445,650
J.W. Williams Community Neighborhood Center | Memphis, TN | $238,675
AGAPE Child & Family Services, Incorporated | Memphis, TN | $144,080
Catholic Charities, Incorporated | Memphis, TN | $296,565
City of Memphis | Memphis, TN | $739,080
Jackson Housing Authority | Jackson, TN | $130,072
Partners for the Homeless | Memphis, TN | $37,572
Professional Counseling Services | Covington, TN | $18,959
Campus for Human Development | Nashville, TN | $399,000
Catholic Charities, Incorporated | Memphis, TN | $455,356
Shelby County Government | Memphis, TN | $285,822
Bethany House | Memphis, TN | $48,960
Synergy Treatment Centers, Incorporated | Memphis, TN | $44,723
Cocaine, Alcohol Awareness Program, Incorporated | Memphis, TN | $168,749
Metropolitan Inter-Faith Association | Memphis, TN | $133,867
Metropolitan Inter-Faith Association | Memphis, TN | $167,426
Whitehaven Southwest Mental Health Center | Memphis, TN | $13,538
Catholic Charities, Incorporated | Memphis, TN | $625,350
Knoxville-Knox County Community Action Committee | Knoxville, TN | $209,160
Earl Medley, E.D. Fortwood Center, Inc. | Chattanooga, TN | $82,299
Metropolitan Development & Housing Agency | Nashville, TN | $343,320
Council for Alcohol & Drug Abuse Services | Chattanooga, TN | $41,638
Carey Counseling Center, Inc. | Paris, TN | $48,300
Carey Counseling Center, Inc. | Paris, TN | $98,595
Catholic Charities of East Tennessee | Jonesborough, TN | $129,587
Kingsport Housing & Redevelopment Authority | Kingsport, TN | $655,560
Fairview Housing Management Corporation | Johnson City, TN | $247,020
Alpha Omega Veterans Services, Incorporated | Memphis, TN | $93,425
Knoxville-Knox County Community Action Committee | Knoxville, TN | $278,100
The University of Tennessee | Knoxville, TN | $277,790
Helen Ross McNab | Knoxville, TN | $323,054
Murfreesboro Housing Authority | Murfreesboro, TN | $99,000
Murfreesboro Housing Authority | Murfreesboro, TN | $49,955
The University of Tennessee Health Science Center | Memphis, TN | $105,738
Henry County, Tennessee | Paris, TN | $676,920
Harris County | Houston, TX | $160,656
Harris County | Houston, TX | $110,592
Harris County | Houston, TX | $63,504
The Housing Launch Pad | Houston, TX | $360,137
The Bridge Over Troubled Waters, Incorporated | Pasadena, TX | $383,462
The Bridge Over Troubled Waters, Incorporated | Pasadena, TX | $502,038
The Bridge Over Troubled Waters, Incorporated | Pasadena, TX | $88,949
Tarrant County ACCES for the Homeless | Fort Worth, TX | $166,451
City of Beaumont | Beaumont, TX | $80,892
Abilene Hope Haven, Inc. | Abilene, TX | $371,154
Housing Authority—City of Forth Worth | Fort Worth, TX | $761,340
Housing Authority—City of Forth Worth | Fort Worth, TX | $1,653,048
Brighter Tomorrows | Grand Prairie, TX | $352,720
Dallas Metrocare Services | Dallas, TX | $543,403
Rescue Mission of El Paso, Inc. | El Paso, TX | $140,389
Community Council of Greater Dallas | Dallas, TX | $240,392
El Paso Center on Family Violence, Inc. | El Paso, TX | $172,788
HelpNet of the Greater Denton Area | Denton, TX | $202,000
HOPE, Inc. | Denton, TX | $99,695
City of Longview | Longview, TX | $196,728
City of Amarillo | Amarillo, TX | $268,156
South East Texas Regional Planning Commission | Beaumont, TX | $23,648
Volunteers of America Texas, Inc. | Houston, TX | $212,069
The Salvation Army, A Georgia Corporation | Dallas, TX | $292,931
Opportunity Center for the Homeless | El Paso, TX | $749,898
All Children Home for Children, Incorporated | Fort Worth, TX | $227,845
Rainbow Days, Incorporated | Dallas, TX | $257,237
Supportive Housing Program | Arlington, TX | $563,963
Turtle Creek Manor, Incorporated | Dallas, TX | $765,163
New Beginning Center, Incorporated | Garland, TX | $377,898
Shared Housing Center, Incorporated | Dallas, TX | $181,020
The Salvation Army, a Georgia Corporation | Abilene, TX | $396,636
Opportunity Center for the Homeless | El Paso, TX | $483,272
Central Texas Council of Governments | Belton, TX | $617,160
Opportunity Center for the Homeless | El Paso, TX | $398,595
Opportunity Center for the Homeless | El Paso, TX | $345,408
Opportunity Center for the Homeless | El Paso, TX | $248,875
YWCA El Paso Del Norte Region | El Paso, TX | $529,970
El Paso Community MH/MR Center | El Paso, TX | $530,283
Family Abuse Center, Inc. | Waco, TX | $251,999
Heart of Texas Council of Governments | Waco, TX | $246,030
Harris County | Houston, TX | $423,360
Port Cities Rescue Mission Ministries | Port Arthur, TX | $175,037
Bread of Life, Inc. | Houston, TX | $335,660
Covenant House Texas | Houston, TX | $198,446
Harris County Housing Authority | Houston, TX | $3,334,680
United States Veterans Initiative | Houston, TX | $979,955
Catholic Charities of the Diocese of Galveston-Houston | Houston, TX | $254,956
SEARCH | Houston, TX | $446,640
Harris County | Houston, TX | $398,237
SEARCH | Houston, TX | $220,944
Harris County | Houston, TX | $420,367
Harris County | Houston, TX | $404,233
Harris County | Houston, TX | $423,360
Harris County | Houston, TX | $394,080
Harris County | Houston, TX | $94,080
Harris County | Houston, TX | $259,824
Houston SRO Housing Corporation | Houston, TX | $1,047,874
Star of Hope Mission | Houston, TX | $307,406
Lazarus House Initiative, Inc. | Missouri, TX | $128,146
Society of St. Vincent de Paul | Houston, TX | $84,638
Fort Bend County Women's Center, Inc. | Rosenberg, TX | $651,092
Bay Area Turning Point, Inc. | Webster, TX | $161,095
Montrose Counseling Center, Inc. | Houston, TX | $265,223
Catholic Charities of the Diocese of Galveston-Ho. | Houston, TX | $63,235
The Housing Launch Pad | Houston, TX | $115,000
Star of Hope Mission | Houston, TX | $542,568
Harris County | Houston, TX | $147,012
Star of Hope Mission | Houston, TX | $191,832
Star of Hope Mission | Houston, TX | $238,580
Houston Area Women's Center | Houston, TX | $62,037
Houston Area Women's Center | Houston, TX | $652,066
Houston Area Women's Center | Houston, TX | $80,368
SEARCH | Houston, TX | $94,908
Star of Hope Mission | Houston, TX | $207,408
Housing Crisis Center | Dallas, TX | $188,007
Family Getaway, Incorporated | Dallas, TX | $42,439
Family Getaway, Incorporated | Dallas, TX | $976,567
Promise House, Incorporated | Dallas, TX | $219,538
Arlington Life Shelter | Arlington, TX | $212,100
City of Dallas | Dallas, TX | $836,760
City of Dallas | Dallas, TX | $442,440
ABC Behavioral Health, L.L.C | Dallas, TX | $30,634
City of Dallas | Dallas, TX | $250,598
Legal Aid of Northwest Texas | Dallas, TX | $240,000
Housing Crisis Center | Dallas, TX | $182,252
Coastal Bend Alcohol and Drug Rehabilitation Center | Corpus Christi, TX | $142,569
The Salvation Army, a Georgia Corporation | Corpus, TX | $181,845
Mental Health Mental Retardation Authority of Harris County | Houston, TX | $592,418
DePelchin Children's Center | Houston, TX | $509,589
PWA Coalition of Dallas, Incorporated | Dallas, TX | $574,390
City of Dallas | Dallas, TX | $149,913
Youth and Family Alliance, Incorporated | Austin, TX | $215,320
Dallas Jewish Coalition, Incorporated | Dallas, TX | $166,441
Legal Aid of NorthWest Texas | Ft. Worth, TX | $60,000
Dental Health Programs, Incorporated | Dallas, TX | $146,633
The Salvation Army, A Georgia Corporation | Austin, TX | $776,928
Austin Travis County MHMR Center | Austin, TX | $78,533
Caritas of Austin | Austin, TX | $313,926
Family Getaway, Incorporated | Dallas, TX | $150,701
Austin Travis County MHMR Center | Austin, TX | $348,007
Legal Aid of Northwest Texas | Dallas, TX | $22,932
Travis County Domestic Violence and Sexual Assault Survival Center | Austin, TX | $826,440
Push-Up Foundations, Incorporated | Austin, TX | $104,559
Housing Authority Travis County | Austin, TX | $391,140
The Housing Authority of the City of Austin | Austin, TX | $320,712
The Housing Authority of the City of Austin | Austin, TX | $740,880
Texas Inmate Services, Inc. | Fort Worth, TX | $220,223
Resource & Crisis Center of Galveston Co., Inc. | Galveston, TX | $662,829
Youth and Family Alliance, Incorporated | Austin, TX | $148,508
MHMR of Tarrant County | Fort Worth, TX | $175,271
Tarrant County | Fort Worth, TX | $24,237
Housing Crisis Center | Dallas, TX | $103,194
Tarrant County | Fort Worth, TX | $227,588
Tarrant County | Fort Worth, TX | $1,068,845
Tarrant County | Fort Worth, TX | $69,329
Presbyterian Night Shelter of Tarrant County | Fort Worth, TX | $362,156
Community Enrichment Center, Inc. | North Richland Hills, TX | $473,086
City of San Antonio | San Antonio, TX | $304,115
MHMR of Tarrant County | Fort Worth, TX | $196,442
Tarrant County | Fort Worth, TX | $31,090
Housing Authority of the City of Dallas | Dallas, TX | $691,560
Lifenet Community Behavioral Healthcare | Dallas, TX | $124,999
Lifenet Community Behavioral Healthcare | Dallas, TX | $350,266
Lifenet Community Behavioral Healthcare | Dallas, TX | $23,095
Lifenet Community Behavioral Healthcare | Dallas, TX | $390,895
The Gulf Coast Center | Galveston, TX | $1,148,702
ABC Behavioral Health,L.L.C | Dallas, TX | $749,555
ABC Behavioral Health,L.L.C | Dallas, TX | $26,250
Volunteers of America Texas, Inc. | Fort Worth, TX | $124,342
City of San Antonio | San Antonio, TX | $423,457
City of San Antonio | San Antonio, TX | $147,895
City of San Antonio | San Antonio, TX | $262,500
Tarrant County | Fort Worth, TX | $322,293
AIDS Foundation Houston, Incorporated | Houston, TX | $1,207,479
Tarrant County | Fort Worth, TX | $134,726
City of San Antonio | San Antonio, TX | $196,806
City of San Antonio | San Antonio, TX | $1,229,624
City of San Antonio | San Antonio, TX | $60,295
City of San Antonio | San Antonio, TX | $287,510
City of San Antonio | San Antonio, TX | $210,000
City of San Antonio | San Antonio, TX | $771,436
City of San Antonio | San Antonio, TX | $344,190
City of San Antonio | San Antonio, TX | $364,298
City of San Antonio | San Antonio, TX | $387,273
Valley Mental Health, Incorporated | Salt Lake City, UT | $114,118
State of Utah, Department of Com. & Economic Development | Salt Lake City, UT | $182,620
Cedar City Housing Authority | Cedar City, UT | $13,913
Center for Women and Children in Crisis, Incorporated | Provo, UT | $16,252
Homeless Veterans Fellowship | Ogden, UT | $92,194
Utah Department of Community & Economic Development | Salt Lake City, UT | $20,000
Food & Care Coalition of U. Valley | Provo, UT | $55,125
Mountainlands Community Housing Trust | Park City, UT | $72,000
Provo City Housing Authority | Provo, UT | $452,700
Housing Authority of Salt Lake City | Salt Lake City, UT | $182,364
State of Utah, Department of Community and Economic Development | Salt Lake City, UT | $36,288
The Golden Rule Mission | Helper, UT | $115,419
Davis Family Support Center, Incorporated | Clearfield, UT | $268,999
Housing Authority of Salt Lake City | Salt Lake City, UT | $14,914
Housing Authority of Salt Lake City | Salt Lake City, UT | $158,208
Community Action Services | Provo, UT | $228,653
Salt Lake Community Action Program | Salt Lake City, UT | $118,709
Housing Authority of Salt Lake City | Salt Lake City, UT | $196,884
Housing Authority of Salt Lake City | Salt Lake City, UT | $531,912
State of Utah, Department of Community and Economic Development | Salt Lake City, UT | $51,572
Young Women's Christian Assn. of Salt Lake | Salt Lake City, UT | $155,989
Davis Behavioral Health | Bountiful, UT | $750,000
Bear River Association of Governments | Logan, UT | $48,383
The Erin Kimball Memorial Foundation, Incorporated | St. George, UT | $294,315
Housing Authority of Salt Lake City | Salt Lake City, UT | $32,197
Kurdish Human Rights Watch, Incorporated | Fairfax, VA | $426,357
Rappahannock Refuge, Incorporated | Fredericksburg, VA | $58,976
Lutheran Social Services, NCA | Fairfax, VA | $111,492
Northwestern Community Services | Front Royal, VA | $117,613
Christian Relief Services Charities, Incorporated | Lorton, VA | $24,885
Community Housing Partners Corporation | Christianburg, VA | $42,000
Christian Relief Services Charities, Incorporated | Lorton, VA | $76,220
Christian Relief Services Charities, Incorporated | Lorton, VA | $120,676
Fairfax County Department of Family Services | Fairfax, VA | $440,271
Arlington-Alexandria Coalition for the Homeless | Arlington, VA | $139,440
Fairfax County Department of Family Services | Fairfax, VA | $424,715
City of Richmond Department of Social Services | Richmond, VA | $60,480
City of Richmond Department of Social Services | Richmond, VA | $841,428
Homestretch, Incorporated | Falls Church, VA | $146,700
Region Ten Community Services Board | Charlottesville, VA | $143,946
Judeo-Christian Outreach Center, Inc. | Virginia Beach, VA | $332,993
Comm. Alternatives Development Corporation | Virginia Beach, VA | $346,667
Avalon: A Center for Women & Children | Williamsburg, VA | $108,277
Oasis Commission of Social Ministry of Portsmouth and Chesapeake | Portsmouth, VA | $250,068
City of Portsmouth | Portsmouth, VA | $296,856
Virginia Beach Community Development Corporation | Virginia Beach, VA | $249,705
Virginia Beach Community Development Corporation | Virginia Beach, VA | $154,010
Christian Relief Services of Virginia, Incorporated | Fairfax, VA | $216,781
Community Resource Network of Chesapeake, Incorporated | Chesapeake, VA | $173,290
Northwestern Community Services | Front Royal, VA | $163,836
Urban League of Greater Richmond | Richmond, VA | $70,350
Chesapeake (VA) Community Service Board | Chesapeake, VA | $89,760
Serenity House Substance Abuse Recovery Program, Inc. | Newport News, VA | $75,611
Transitions Family Violence Services | Hampton, VA | $152,696
CANDII | Norfolk, VA | $265,640
Emergency Shelter, Inc. | Richmond, VA | $381,690
HAMPTON-NEWPORT NEWS CSB | Newport News, VA | $160,264
Links of Hampton Roads, Incorporated | Newport News, VA | $629,420
Virginia Beach Community Development Corporation | Virginia Beach, VA | $12,600
Emergency Shelter, Inc. | Richmond, VA | $146,011
Alexandria Community Services Board | Alexandria, VA | $98,150
Alexandria Community Services Board | Alexandria, VA | $29,814
CANDII | Norfolk, VA | $329,628
The Salvation Army-A Georgia Corporation | Norfolk, VA | $208,250
Daily Planet, Inc. | Richmond, VA | $267,687
Vanguard Services Unlimited | Arlington, VA | $140,661
Daily Planet, Inc. | Richmond, VA | $189,105
Virginia Supportive Housing | Richmond, VA | $1,821,600
Alexandria Community Services Board | Alexandria, VA | $131,643
Virginia Supportive Housing | Richmond, VA | $749,152
FORkids, inc. | Norfolk, VA | $250,076
Christian Relief Services Charities, Incorporated | Lorton, VA | $24,885
County of Loudoun | Leesburg, VA | $106,429
Prince William Dept. of Social Services | Manassas, VA | $287,171
Arlington County, VA | Arlington, VA | $217,245
Arlington County, VA | Arlington, VA | $400,740
Arlington County, VA | Arlington, VA | $100,112
Community Residences, Inc. | Arlington, VA | $244,468
Arl. Street People's Assistance Network, Inc. | Arlington, VA | $194,986
Homeward | Richmond, VA | $26,745
Fairfax County Department of Housing and Community Development | Fairfax, VA | $748,080
Sheltered Homes of Alexandria | Alexandria, VA | $77,748
Daily Planet, Inc. | Richmond, VA | $226,257
St. Joseph's Villa | Richmond, VA | $274,390
New Hope Housing, Incorporated | Alexandria, VA | $219,044
PRS, Incorporated | Falls Church, VA | $168,450
Sheltered Homes of Alexandria | Alexandria, VA | $89,288
Fairfax County Department of Housing and Community Development | Fairfax, VA | $166,380
Fairfax County Department of Housing and Community Development | Fairfax, VA | $124,680
Emergency Shelter, Inc. | Richmond, VA | $109,541
Hillard House | Richmond, VA | $291,917
Methodist Training and Outreach Center, Incorporated | P.O Box 306816, VI | $494,760
State of Vermont | Waterbury, VT | $111,880
Vermont State Housing Authority | Montpelier, VT | $174,996
Vermont State Housing Authority | Montpelier, VT | $148,815
State of Vermont | Waterbury, VT | $37,248
Burlington Housing Authority | Burlington, VT | $246,900
State of Vermont | Waterbury, VT | $38,535
Northwestern Counseling & Support Services, Incorporated | St. Albans, VT | $244,272
State of Vermont | Waterbury, VT | $62,733
State of VT | Montpelier, VT | $25,280
Vermont State Housing Authority | Montpelier, VT | $26,832
Burlington Housing Authority | Burlington, VT | $69,120
Vermont State Housing Authority | Montpelier, VT | $32,940
Champlain Valley Office of Economic Opportunity | Burlington, VT | $222,440
Vermont State Housing Authority | Montpelier, VT | $739,560
The Howard Center for Human Services | Burlington, VT | $200,073
The Howard Center for Human Services | Burlington, VT | $181,146
Vermont State Housing Authority | Montpelier, VT | $90,455
City of Spokane | Spokane, WA | $134,767
Housing Authority of the City of Vancouver | Vancouver, WA | $83,059
The Compass Center | Seattle, WA | $13,166
AIDS Housing of Washington | Seattle, WA | $387,192
City of Spokane | Spokane, WA | $35,280
City of Spokane | Spokane, WA | $27,132
City of Spokane | Spokane, WA | $9,472
City of Spokane | Spokane, WA | $62,396
City of Spokane | Spokane, WA | $27,799
City of Spokane | Spokane, WA | $42,622
City of Spokane | Spokane, WA | $51,424
City of Spokane | Spokane, WA | $86,629
City of Spokane | Spokane, WA | $251,400
City of Spokane | Spokane, WA | $14,917
City of Spokane | Spokane, WA | $117,195
City of Spokane | Spokane, WA | $126,136
City of Spokane | Spokane, WA | $56,251
WA State DCTED | Olympia, WA | $35,966
Community Psychiatric Clinic | Seattle, WA | $75,172
YouthCare | Seattle, WA | $105,603
YouthCare | Seattle, WA | $151,856
Pierce County | Lakewood, WA | $268,704
City of Spokane | Spokane, WA | $31,882
Community Psychiatric Clinic | Seattle, WA | $348,157
Seattle Emergency Housing Service | Seattle, WA | $29,684
Catholic Community Services of Western Washington | Auburn, WA | $140,086
WA State DCTED | Olympia, WA | $43,822
WA State DCTED | Olympia, WA | $140,868
Housing Authority of the City of Vancouver | Vancouver, WA | $33,249
WA State DCTED | Olympia, WA | $84,130
Whatcom Counseling & Psychiatric Clinic | Bellingham, WA | $270,000
Spokane Neighborhood Action Program | Spokane, WA | $131,517
Spokane Neighborhood Action Program | Spokane, WA | $133,279
Spokane County | Spokane, WA | $181,320
Columbia River Mental Health Services | Vancouver, WA | $97,633
YW Housing | Vancouver, WA | $92,365
Yakima County Coalition For the Homeless | Yakima, WA | $225,834
Yakima County Coalition For the Homeless | Yakima, WA | $111,195
The Compass Center | Seattle, WA | $13,119
El Centro de la Raza | Seattle, WA | $17,603
Pierce County | Lakewood, WA | $328,906
Pierce County | Lakewood, WA | $73,804
Pierce County | Lakewood, WA | $259,033
Pierce County | Lakewood, WA | $188,069
Pierce County | Lakewood, WA | $95,114
Pierce County | Lakewood, WA | $162,067
Pierce County | Lakewood, WA | $102,318
Pierce County | Lakewood, WA | $692,931
Pierce County | Lakewood, WA | $58,842
Columbia Court Transitional Housing | Seattle, WA | $36,141
Auburn Youth Resources | Auburn, WA | $123,287
Low Income Housing Institute | Seattle, WA | $398,267
Kent Youth and Family Services | Kent, WA | $38,135
United Indians of All Tribes Foundation | Seattle, WA | $343,565
Multi-Service Center | Federal Way, WA | $26,725
Friends of Youth | Redmond, WA | $123,062
Children's Home Society of Washington | Seattle, WA | $56,642
The Salvation Army, A California Corporation | Seattle, WA | $253,989
Snohomish County | Everett, WA | $109,270
Goodwill Baptist Church | Seattle, WA | $28,597
Child Care Resources | Seattle, WA | $529,095
City of Spokane | Spokane, WA | $77,175
City of Spokane | Spokane, WA | $152,874
City of Spokane | Spokane, WA | $734,760
City of Spokane | Spokane, WA | $27,740
City of Spokane | Spokane, WA | $15,492
City of Spokane | Spokane, WA | $93,161
City of Spokane | Spokane, WA | $38,802
City of Spokane | Spokane, WA | $37,734
City of Spokane | Spokane, WA | $30,101
City of Spokane | Spokane, WA | $106,004
Pierce County | Lakewood, WA | $85,395
City of Spokane | Spokane, WA | $27,536
Pierce County | Lakewood, WA | $84,436
City of Spokane | Spokane, WA | $78,435
City of Spokane | Spokane, WA | $88,698
Share | Vancouver, WA | $61,267
Mental Health Northwest | Vancouver, WA | $89,396
Council for the Homeless | Vancouver, WA | $47,943
Council for the Homeless | Vancouver, WA | $24,938
Affordable Community Environments | Vancouver, WA | $343,745
Pierce County | Lakewood, WA | $101,364
City of Spokane | Spokane, WA | $43,419
City of Spokane | Spokane, WA | $76,526
City of Seattle | Seattle, WA | $443,472
Snohomish County | Everett, WA | $73,780
Snohomish County | Everett, WA | $35,338
City of Seattle | Seattle, WA | $545,050
City of Seattle | Seattle, WA | $25,423
City of Seattle | Seattle, WA | $84,906
City of Seattle | Seattle, WA | $80,017
City of Bremerton | Bremerton, WA | $41,604
City of Bremerton | Bremerton, WA | $91,032
Snohomish County | Everett, WA | $140,738
City of Seattle | Seattle, WA | $838,689
Snohomish County | Everett, WA | $743,411
City of Seattle | Seattle, WA | $116,396
City of Seattle | Seattle, WA | $1,149,355
City of Seattle | Seattle, WA | $507,351
City of Seattle | Seattle, WA | $787,080
City of Seattle | Seattle, WA | $168,153
City of Seattle | Seattle, WA | $326,054
Archdiocesan Housing Authority | Seattle, WA | $105,422
Archdiocesan Housing Authority | Seattle, WA | $201,577
Kittitas County Action Council | Ellensburg, WA | $45,400
Housing Hope | Everett, WA | $145,620
Pierce County | Lakewood, WA | $72,972
City of Seattle | Seattle, WA | $696,733
City of Seattle | Seattle, WA | $80,681
City of Seattle | Seattle, WA | $492,049
City of Seattle | Seattle, WA | $181,307
City of Seattle | Seattle, WA | $548,599
City of Seattle | Seattle, WA | $328,382
City of Seattle | Seattle, WA | $121,546
Snohomish County | Everett, WA | $81,523
Housing Hope | Everett, WA | $199,872
Snohomish County | Everett, WA | $75,795
Housing Authority of Snohomish County | Everett, WA | $80,315
Housing Authority of Snohomish County | Everett, WA | $57,259
Housing Authority of Snohomish County | Everett, WA | $312,612
YWCA of Seattle* King County* Snohomish County | Everett, WA | $72,245
YWCA of Seattle* King County* Snohomish County | Everett, WA | $100,099
Housing Authority of the City of Bremerton | Bremerton, WA | $132,450
Snohomish County | Everett, WA | $164,820
Seattle Vietnam Veterans Leadership Program | Lake Forest Park, WA | $23,580
YWCA of Seattle, King County, Snohomish County | Seattle, WA | $167,867
Housing Hope | Everett, WA | $753,792
King County Department of Community and Human Services | Seattle, WA | $294,795
Archdiocesan Housing Authority | Seattle, WA | $197,739
WA State DCTED | Olympia, WA | $139,322
King County Department of Community and Human Services | Seattle, WA | $105,000
King County Department of Community and Human Services | Seattle, WA | $624,566
King County Department of Community and Human Services | Seattle, WA | $1,680,324
King County Department of Community and Human Services | Seattle, WA | $198,975
King County Department of Community and Human Services | Seattle, WA | $863,712
King County Department of Community and Human Services | Seattle, WA | $163,356
WA State DCTED | Olympia, WA | $108,095
King County Department of Community and Human Services | Seattle, WA | $88,032
WA State DCTED | Olympia, WA | $709,982
King County Department of Community and Human Services | Seattle, WA | $121,940
King County Department of Community and Human Services | Seattle, WA | $63,258
King County Department of Community and Human Services | Seattle, WA | $20,904
King County Department of Community and Human Services | Seattle, WA | $124,428
King County Department of Community and Human Services | Seattle, WA | $298,140
King County Department of Community and Human Services | Seattle, WA | $248,820
Fremont Public Association | Seattle, WA | $158,620
Church Council of Greater Seattle | Seattle, WA | $57,278
Housing Authority of the City of Seattle | Seattle, WA | $9,896
King County Department of Community and Human Services | Seattle, WA | $74,613
WA State DCTED | Olympia, WA | $31,500
The Salvation Army, A California Corporation | Seattle, WA | $77,839
YWCA of Seattle, King County, Snohomish County | Seattle, WA | $85,615
YWCA of Seattle, King County, Snohomish County | Seattle, WA | $78,878
YWCA of Seattle, King County, Snohomish County | Seattle, WA | $42,541
Serenity House of Clallam County | Clallam, WA | $142,951
Serenity House of Clallam County | Clallam, WA | $138,215
WA State DCTED | Olympia, WA | $109,620
WA State DCTED | Olympia, WA | $143,082
WA State DCTED | Olympia, WA | $123,116
WA State DCTED | Olympia, WA | $36,312
YWCA of Seattle, King County, Snohomish County | Seattle, WA | $57,320
WA State DCTED | Olympia, WA | $19,152
WA State DCTED | Olympia, WA | $44,512
WA State DCTED | Olympia, WA | $135,599
WA State DCTED | Olympia, WA | $50,055
WA State DCTED | Olympia, WA | $142,430
WA State DCTED | Olympia, WA | $149,625
WA State DCTED | Olympia, WA | $56,103
WA State DCTED | Olympia, WA | $101,409
WA State DCTED | Olympia, WA | $133,921
WA State DCTED | Olympia, WA | $136,994
Transitional Housing, Incorporated | Madison, WI | $162,743
State of Wisconsin Department of Administration | Madison, WI | $455,700
State of Wisconsin Department of Administration | Madison, WI | $917,973
Transitional Living Services, Inc. | Racine, WI | $515,909
State of Wisconsin Department of Administration | Madison, WI | $158,584
Tellurian UCAN, Incorporated | Monona, WI | $249,165
State of Wisconsin Department of Administration | Madison, WI | $280,187
State of Wisconsin Department of Administration | Madison, WI | $222,600
State of Wisconsin Department of Administration | Madison, WI | $538,125
State of Wisconsin Department of Administration | Madison, WI | $113,762
State of Wisconsin Department of Administration | Madison, WI | $105,025
City of Waukesha Housing Authority | Waukesha, WI | $112,555
State of Wisconsin Department of Administration | Madison, WI | $180,743
Transitional Housing, Incorporated | Madison, WI | $343,636
WoMen and Children's Horizons, Incorporated | Kenosha, WI | $645,429
Central Wisconsin Community Action | Wisconsin Dells, WI | $30,892
The Salvation Army | Madison, WI | $85,000
The Salvation Army | Madison, WI | $38,193
ADVOCAP, Incorporated | Fond du Lac, WI | $197,658
Tellurian UCAN, Incorporated | Monona, WI | $67,327
Tellurian UCAN, Incorporated | Monona, WI | $739,683
Interfaith Hospitality Network of the Madison Area | Madison, WI | $109,992
State of Wisconsin Department of Administration | Madison, WI | $238,786
Community Relations-Social Development Commission | Milwaukee, WI | $392,460
Catherine Marian Housing, Inc. | Racine, WI | $110,107
Homeward Bound of Racine Cty., Inc. | Racine, WI | $135,593
Legal Action of Wisconsin, Inc. | Racine, WI | $80,536
Family Service of Racine, Inc. | Racine, WI | $84,671
Racine Vocational Ministry | Racine, WI | $63,311
State of Wisconsin Department of Administration | Madison, WI | $200,884
American Red Cross | Milwaukee, WI | $904,338
State of Wisconsin Department of Administration | Madison, WI | $513,804
Community Relations-Social Development Commission | Milwaukee, WI | $396,066
Community Relations-Social Development Commission | Milwaukee, WI | $127,878
Milwaukee Women's Center, Incorporated | Milwaukee, WI | $413,032
City of Madison, Wisconsin | Madison, WI | $750,000
Meta House, Incorporated | Milwaukee, WI | $131,954
State of Wisconsin Department of Administration | Madison, WI | $313,976
Community Advocates, Incorporated | Milwaukee, WI | $1,033,632
City of Madison, Wisconsin | Madison, WI | $111,374
Milwaukee County Behavioral Health Division | Milwaukee, WI | $1,951,968
Milwaukee County Housing and Community Development | Milwaukee, WI | $217,560
Matt Talbot Recovery Center, Incorporated | Milwaukee, WI | $471,250
Health Care for the Homeless of Milwaukee | Milwaukee, WI | $345,000
Hope House of Milwaukee, Incorporated | Milwaukee, WI | $1,739,147
The Salvation Army | Milwaukee, WI | $94,424
The Salvation Army | Milwaukee, WI | $668,368
Cabell-Huntington Coalition for the Homeless | Huntington, WV | $130,847
Cabell-Huntington Coalition for the Homeless | Huntington, WV | $211,811
Telamon Corporation | Martinsburg, WV | $78,994
Charleston Housing | Charleston, WV | $502,800
Young Women's Christian Association of Charleston | Charleston, WV | $597,380
Religious Coalition for Community Renewal | Charleston, WV | $217,539
Stop Abusive Family Environments, Incorporated (SAFE) | Welch, WV | $135,800
Greater Wheeling Coalition for the Homeless, Incorporated | Wheeling, WV | $79,610
Housing Authority—City of Casper | Casper, WY | $160,320

Fiscal Year 2004 Funding Awards for the Continuum of Care Program
Grantee name | Location | Grant amount
State of Alaska | Anchorage, AK | $698,820
Municipality of Anchorage | Anchorage, AK | $296,714
Covenant House Alaska | Anchorage, AK | $245,629
Alaskan AIDS Assistance Association | Anchorage, AK | $103,425
Rural Alaska Community Action Program | Anchorage, AK | $141,168
Anchorage Housing Initiatives, Inc. | Anchorage, AK | $81,886
Anchorage Community Mental Health Services, Inc. | Anchorage, AK | $390,474
State of Alaska | Anchorage, AK | $307,800
Rural Alaska Community Action Program | Anchorage, AK | $357,474
State of Alaska | Anchorage, AK | $25,416
State of Alaska | Anchorage, AK | $135,084
Anchorage Community Mental Health Services, Inc. | Anchorage, AK | $256,087
Anchorage Community Mental Health Services, Inc. | Anchorage, AK | $203,465
Yukon-Kuskokwim Health Corporation | Bethel, AK | $50,966
Tundra Women's Coalition | Bethel, AK | $84,636
St. Vincent de Paul Society Diocesan Council Southeast Alaska | Juneau, AK | $48,450
Women's Resource and Crisis Center | Kenai, AK | $73,791
Behavioral Health Services of Mat-Su Inc. | Wasilla, AK | $26,340
Behavioral Health Services of Mat-Su Inc. | Wasilla, AK | $46,464
Birmingham Independent Living Center | Birmingham, AL | $26,460
AIDS Alabama | Birmingham, AL | $186,874
Jefferson County Housing Authority | Birmingham, AL | $721,524
AIDS Alabama | Birmingham, AL | $258,591
Jefferson County Housing Authority | Birmingham, AL | $170,112
First Light, Inc. | Birmingham, AL | $82,379
Jefferson County Housing Authority | Birmingham, AL | $790,800
Aletheia House | Birmingham, AL | $108,858
Jefferson County Housing Authority | Birmingham, AL | $468,960
Birmingham Health Care, Inc. | Birmingham, AL | $166,283
YWCA of Central Alabama | Birmingham, AL | $303,477
AIDS Alabama | Birmingham, AL | $149,301
Birmingham Health Care, Inc. | Birmingham, AL | $271,689
YWCA of Central Alabama | Birmingham, AL | $64,688
The Cooperative Downtown Ministries | Birmingham, AL | $219,089
The Cooperative Downtown Ministries | Birmingham, AL | $47,836
The Salvation Army, A Georgia Corporation | Birmingham, AL | $159,973
Birmingham Health Care, Inc. | Birmingham, AL | $189,126
Jefferson-Blount-St. Clair Mental Health/Mental Retardation Authority | Birmingham, AL | $243,791
Aletheia House | Birmingham, AL | $314,705
Pathways | Birmingham, AL | $128,182
Safeplace, Inc. | Florence, AL | $520,531
Homeless Coalition of Northeast Alabama/City of Gadsden | Gadsden, AL | $60,426
City of Huntsville | Huntsville, AL | $241,512
Homeless Coalition of the Gulf Coast, Inc. | Mobile, AL | $163,078
Homeless Coalition of the Gulf Coast, Inc. | Mobile, AL | $390,117
Homeless Coalition of the Gulf Coast, Inc. | Mobile, AL | $120,245
Homeless Coalition of the Gulf Coast, Inc. | Mobile, AL | $143,430
Homeless Coalition of the Gulf Coast, Inc. | Mobile, AL | $929,376
Homeless Coalition of the Gulf Coast, Inc. | Mobile, AL | $94,932
Homeless Coalition of the Gulf Coast, Inc. | Mobile, AL | $159,443
Homeless Coalition of the Gulf Coast, Inc. | Mobile, AL | $176,119
Homeless Coalition of the Gulf Coast, Inc. | Mobile, AL | $156,240
Homeless Coalition of the Gulf Coast, Inc. | Mobile, AL | $94,756
Homeless Coalition of the Gulf Coast, Inc. | Mobile, AL | $88,222
Homeless Coalition of the Gulf Coast, Inc. | Mobile, AL | $105,000
Montgomery Area Family Violence Program, Inc. | Montgomery, AL | $164,653
Montgomery Area Mental Health Authority | Montgomery, AL | $163,028
Volunteer & Information Center, Inc. | Montgomery, AL | $70,327
Lighthouse Counseling Center | Montgomery, AL | $177,727
Montgomery Area Mental Health Authority | Montgomery, AL | $294,505
State of Alabama | Montgomery, AL | $193,800
SafeHouse of Shelby County, Inc. | Pelham, AL | $479,257
The Salvation Army | Tuscaloosa, AL | $78,800
Tuscaloosa Housing Authority | Tuscaloosa, AL | $265,200
Mental Health Boards of Bibb, Pickens and Tuscaloosa Counties, Inc. | Tuscaloosa, AL | $62,951
Health Resources of Arkansas | Batesville, AR | $400,787
Benton County Women's Shelter | Bentonville, AR | $102,375
Counseling Associates, Inc. | Conway, AR | $200,000
Housing Authority of the City of Fayetteville, Arkansas | Fayetteville, AR | $277,320
Seven Hills Homeless Center | Fayetteville, AR | $94,500
Youth Bridge, Inc. | Fayetteville, AR | $341,427
Arkansas Department of Human Services | Little Rock, AR | $315,216
Arkansas Department of Human Services | Little Rock, AR | $477,696
Arkansas Supportive Housing Network, Inc. | North Little Rock, AR | $1,136,903
Arkansas Supportive Housing Network, Inc. | North Little Rock, AR | $550,993
Arkansas Supportive Housing Network, Inc. | North Little Rock, AR | $297,630
City of West Memphis | West Memphis, AR | $201,240
Women In New Recovery (WINR & Kids) | Mesa, AZ | $46,862
Save the Family Foundation of Arizona | Mesa, AZ | $211,412
PREHAB of Arizona, Inc. | Mesa, AZ | $510,688
Mesa Community Action Network, Inc. | Mesa, AZ | $58,878
Community Bridges, Inc. | Mesa, AZ | $344,610
Save the Family Foundation of Arizona | Mesa, AZ | $411,726
Arizona Department of Housing | Phoenix, AZ | $350,368
City of Phoenix | Phoenix, AZ | $163,178
City of Phoenix | Phoenix, AZ | $126,575
City of Phoenix | Phoenix, AZ | $176,753
City of Phoenix | Phoenix, AZ | $60,735
City of Phoenix | Phoenix, AZ | $971,972
Arizona Department of Housing | Phoenix, AZ | $78,176
Arizona Department of Housing | Phoenix, AZ | $64,999
Arizona Department of Housing | Phoenix, AZ | $77,700
Arizona Department of Housing | Phoenix, AZ | $765,432
Arizona Department of Housing | Phoenix, AZ | $59,304
Arizona Department of Housing | Phoenix, AZ | $97,200
Arizona Department of Housing | Phoenix, AZ | $98,771
Arizona Department of Housing | Phoenix, AZ | $183,168
Arizona Department of Housing | Phoenix, AZ | $191,064
City of Phoenix | Phoenix, AZ | $82,268
Arizona Department of Housing | Phoenix, AZ | $775,380
Arizona Department of Housing | Phoenix, AZ | $157,500
Arizona Department of Housing | Phoenix, AZ | $78,858
Arizona Department of Housing | Phoenix, AZ | $76,685
Arizona Department of Housing | Phoenix, AZ | $91,050
Arizona Department of Housing | Phoenix, AZ | $108,701
Tumbleweed Center for Youth Development | Phoenix, AZ | $214,429
City of Phoenix | Phoenix, AZ | $26,250
United Methodist Outreach Ministries, Inc. | Phoenix, AZ | $80,126
United Methodist Outreach Ministries, Inc. | Phoenix, AZ | $187,584
Chicanos Por La Causa, Inc. | Phoenix, AZ | $101,737
City of Phoenix | Phoenix, AZ | $63,064
The Salvation Army | Phoenix, AZ | $45,360
Southwest Behavioral Health Services, Inc. | Phoenix, AZ | $205,977
Arizona Department of Housing | Phoenix, AZ | $100,000
Arizona Department of Housing | Phoenix, AZ | $48,937
Chrysalis Shelter for Victims of Domestic Violence, Inc. | Phoenix, AZ | $24,269
Sojourner Center | Phoenix, AZ | $147,805
City of Phoenix | Phoenix, AZ | $24,040
City of Phoenix | Phoenix, AZ | $34,600
City of Phoenix | Phoenix, AZ | $91,043
City of Phoenix | Phoenix, AZ | $437,698
Arizona Behavioral Health Corporation | Phoenix, AZ | $58,025
City of Phoenix | Phoenix, AZ | $333,371
City of Phoenix | Phoenix, AZ | $318,729
Arizona Behavioral Health Corporation | Phoenix, AZ | $1,735,423
City of Phoenix | Phoenix, AZ | $75,600
City of Phoenix | Phoenix, AZ | $38,777
City of Phoenix | Phoenix, AZ | $313,761
Arizona Department of Housing | Phoenix, AZ | $160,569
Arizona Behavioral Health Corporation | Phoenix, AZ | $938,788
Arizona Department of Housing | Phoenix, AZ | $1,323,504
YWCA of Maricopa County | Phoenix, AZ | $201,671
Arizona Behavioral Health Corporation | Phoenix, AZ | $903,424
City of Phoenix | Phoenix, AZ | $35,000
Arizona Behavioral Health Corporation | Phoenix, AZ | $1,114,796
Arizona Department of Housing | Phoenix, AZ | $2,603,004
Arizona Department of Housing | Phoenix, AZ | $1,653,228
Arizona Behavioral Health Corporation | Phoenix, AZ | $20,775
Community Information & Referral, Inc. | Phoenix, AZ | $400,921
Arizona Behavioral Health Corporation | Phoenix, AZ | $499,972
Arizona Behavioral Health Corporation | Phoenix, AZ | $202,031
Arizona Department of Housing | Phoenix, AZ | $128,625
Arizona Behavioral Health Corporation | Phoenix, AZ | $70,456
Sojourner Center | Phoenix, AZ | $269,958
City of Phoenix | Phoenix, AZ | $158,550
New Arizona Family, Inc. | Phoenix, AZ | $717,316
CSD—Jackson Employment Ctr | Tucson, AZ | $429,503
CSD—Jackson Employment Ctr | Tucson, AZ | $382,508
Information & Referral Services | Tucson, AZ | $138,090
Southern Arizona AIDS Foundation | Tucson, AZ | $82,000
Southern Arizona AIDS Foundation | Tucson, AZ | $83,323
Old Pueblo Community Foundation | Tucson, AZ | $202,100
Information & Referral Services | Tucson, AZ | $43,000
Old Pueblo Community Foundation | Tucson, AZ | $218,022
CSD—Jackson Employment Ctr | Tucson, AZ | $454,348
CSD—Jackson Employment Ctr | Tucson, AZ | $219,320
City of Tucson | Tucson, AZ | $741,273
City of Tucson | Tucson, AZ | $745,440
City of Tucson | Tucson, AZ | $765,432
The EXCEL Group | Yuma, AZ | $133,488
Pacific Clinics | Arcadia, CA | $952,750
Arcata House, Inc. | Arcata, CA | $318,326
Su Casa Family Crisis & Support Center | Artesia, CA | $52,463
Placer County | Auburn, CA | $293,282
Placer County | Auburn, CA | $282,960
County of Kern | Bakersfield, CA | $654,202
Housing Authority of the County of Kern | Bakersfield, CA | $608,400
Bethany Services, dba Bakersfield Homeless Center | Bakersfield, CA | $300,000
Independent Living Center of Kern County | Bakersfield, CA | $216,874
Restoration Village Treatment Center, Inc. | Bakersfield, CA | $409,500
Tabitha's House Ministries, Inc. | Bakersfield, CA | $1,150,695
New Hope Village, Inc. | Barstow, CA | $66,675
Housing Authority of the County of San Mateo | Belmont, CA | $181,668
Housing Authority of the County of San Mateo | Belmont, CA | $885,420
Housing Authority of the County of San Mateo | Belmont, CA | $249,644
Housing Authority of the County of San Mateo | Belmont, CA | $826,224
Housing Authority of the County of San Mateo | Belmont, CA | $660,000
Life Long Medical Care | Berkeley, CA | $539,398
Affordable Housing Associates | Berkeley, CA | $36,665
Women's Daytime Drop-In Center | Berkeley, CA | $68,975
City of Berkeley, California | Berkeley, CA | $1,909,116
Jubilee Restoration, Inc. | Berkeley, CA | $102,171
Resources for Community Development | Berkeley, CA | $40,285
Building Opportunities for Self-Sufficiency (BOSS) | Berkeley, CA | $185,727
Building Opportunities for Self-Sufficiency (BOSS) | Berkeley, CA | $114,997
Berkeley Food and Housing Project | Berkeley, CA | $242,217
Berkeley Food and Housing Project | Berkeley, CA | $249,999
Resources for Community Development | Berkeley, CA | $75,528
Resources for Community Development | Berkeley, CA | $55,392
Resources for Community Development | Berkeley, CA | $70,187
Berkeley Food and Housing Project | Berkeley, CA | $141,019
Building Opportunities for Self-Sufficiency (BOSS) | Berkeley, CA | $844,024
Building Opportunities for Self-Sufficiency (BOSS) | Berkeley, CA | $553,947
Building Opportunities for Self-Sufficiency (BOSS) | Berkeley, CA | $96,147
Building Opportunities for Self-Sufficiency (BOSS) | Berkeley, CA | $74,500
Building Opportunities for Self-Sufficiency (BOSS) | Berkeley, CA | $164,038
Building Opportunities for Self-Sufficiency (BOSS) | Berkeley, CA | $523,088
Shelter Network of San Mateo County | Burlingame, CA | $92,870
Shelter Network of San Mateo County | Burlingame, CA | $131,250
Shelter Network of San Mateo County | Burlingame, CA | $115,500
Shelter Network of San Mateo County | Burlingame, CA | $131,250
Shelter Network of San Mateo County | Burlingame, CA | $200,000
Shelter Network of San Mateo County | Burlingame, CA | $279,746
Shelter Network of San Mateo County | Burlingame, CA | $161,438
Shelter Network of San Mateo County | Burlingame, CA | $133,350
Shelter Network of San Mateo County | Burlingame, CA | $52,500
Shelter Network of San Mateo County | Burlingame, CA | $110,250
Housing Authority of the County of Santa Cruz | Capitola, CA | $525,600
Housing Authority of the County of Santa Cruz | Capitola, CA | $56,000
Housing Authority of the County of Butte | Chico, CA | $353,280
STAND! Against Domestic Violence | Concord, CA | $100,571
STAND! Against Domestic Violence | Concord, CA | $100,449
Phoenix Programs, Inc. | Concord, CA | $509,906
STAND! Against Domestic Violence | Concord, CA | $41,524
Serving People In Need | Costa Mesa, CA | $1,992,929
Orange Coast Interfaith Shelter | Costa Mesa, CA | $885,000
Cupertino Community Services | Cupertino, CA | $82,533
City of Davis | Davis, CA | $106,752
Southern California Alcohol & Drug Program, Inc. | Downey, CA | $355,944
WomenHaven, Inc. | El Centro, CA | $169,865
Community HousingWorks | Escondido, CA | $313,676
Redwood Community Action Agency | Eureka, CA | $354,222
Redwood Community Action Agency | Eureka, CA | $115,077
Solano County Health and Social Services | Fairfield, CA | $109,925
Solano County Health and Social Services | Fairfield, CA | $215,080
Fairfield/Suisun Community Action Council | Fairfield, CA | $194,250
Solano County Health and Social Services | Fairfield, CA | $102,207
City of Fremont | Fremont, CA | $269,790
Housing Authorities of the City and County of Fresno | Fresno, CA | $534,844
Housing Authorities of the City and County of Fresno | Fresno, CA | $1,118,940
Valley Teen Ranch | Fresno, CA | $90,146
Fresno County Economic Opportunities Commission | Fresno, CA | $361,138
City of Glendale, CA/Glendale Housing Authority | Glendale, CA | $752,285
City of Glendale, CA/Glendale Housing Authority | Glendale, CA | $177,399
City of Glendale, CA/Glendale Housing Authority | Glendale, CA | $148,156
City of Glendale, CA/Glendale Housing Authority | Glendale, CA | $217,292
City of Glendale, CA/Glendale Housing Authority | Glendale, CA | $643,875
City of Glendale, CA/Glendale Housing Authority | Glendale, CA | $93,000
County of Alameda | Hayward, CA | $81,816
County of Alameda | Hayward, CA | $48,312
County of Alameda | Hayward, CA | $44,820
County of Alameda | Hayward, CA | $85,161
County of Alameda | Hayward, CA | $48,312
County of Alameda | Hayward, CA | $51,036
County of Alameda | Hayward, CA | $54,648
County of Alameda | Hayward, CA | $384,582
County of Alameda | Hayward, CA | $59,376
County of Alameda | Hayward, CA | $1,090,393
County of Alameda | Hayward, CA | $157,189
County of Alameda | Hayward, CA | $1,426,320
County of Alameda | Hayward, CA | $3,320,736
County of Alameda | Hayward, CA | $202,776
County of Alameda | Hayward, CA | $79,800
County of Alameda | Hayward, CA | $22,440
County of Alameda | Hayward, CA | $688,848
County of Alameda | Hayward, CA | $100,128
County of Alameda | Hayward, CA | $38,544
County of Alameda | Hayward, CA | $40,752
County of Alameda | Hayward, CA | $29,688
County of Alameda | Hayward, CA | $68,232
County of Alameda | Hayward, CA | $44,122
County of Alameda | Hayward, CA | $59,325
County of Alameda | Hayward, CA | $676,632
County of Alameda | Hayward, CA | $67,320
County of Alameda | Hayward, CA | $27,168
County of Alameda | Hayward, CA | $42,170
County of Alameda | Hayward, CA | $192,266
YMCA of Metropolitan Los Angeles | Hollywood, CA | $177,487
Covenant House California | Hollywood, CA | $128,499
Los Angeles Youth Network | Hollywood, CA | $40,529
Colette's Children's Home | Huntington Beach, CA | $801,934
United States Veterans Initiative | Inglewood, CA | $484,571
United States Veterans Initiative | Inglewood, CA | $119,021
United States Veterans Initiative | Inglewood, CA | $496,557
United States Veterans Initiative | Inglewood, CA | $289,796
Families Forward | Irvine, CA | $225,962
Human Options, Inc. | Irvine, CA | $361,726
Housing and Supportive Services for Fresno | Kerman, CA | $1,487,550
Volunteers of America | La Mesa, CA | $301,164
Antelope Valley Domestic Violence Council | Lancaster, CA | $143,912
Inland Temporary Homes, Inc. | Loma Linda, CA | $69,402
Lompoc Housing Assistance Corporation | Lompoc, CA | $36,565
Lompoc Housing Assistance Corporation | Lompoc, CA | $49,875
City of Long Beach | Long Beach, CA | $19,808
City of Long Beach | Long Beach, CA | $50,085
City of Long Beach | Long Beach, CA | $216,667
City of Long Beach | Long Beach, CA | $100,638
City of Long Beach | Long Beach, CA | $157,500
City of Long Beach | Long Beach, CA | $282,450
City of Long Beach | Long Beach, CA | $194,745
City of Long Beach | Long Beach, CA | $365,750
City of Long Beach | Long Beach, CA | $50,019
City of Long Beach | Long Beach, CA | $63,068
City of Long Beach | Long Beach, CA | $195,686
City of Long Beach | Long Beach, CA | $218,336
City of Long Beach | Long Beach, CA | $56,961
City of Long Beach | Long Beach, CA | $1,113,899
City of Long Beach | Long Beach, CA | $34,132
City of Long Beach | Long Beach, CA | $100,599
City of Long Beach | Long Beach, CA | $105,870
City of Long Beach | Long Beach, CA | $29,401
City of Long Beach | Long Beach, CA | $55,860
City of Long Beach | Long Beach, CA | $102,363
City of Long Beach | Long Beach, CA | $46,998
City of Long Beach | Long Beach, CA | $81,940
City of Long Beach | Long Beach, CA | $270,000
Los Angeles Homeless Services Authority | Los Angeles, CA | $243,292
Housing Authority of the City of Los Angeles | Los Angeles, CA | $179,040
Testimonial Community Love Center | Los Angeles, CA | $136,888
Housing Authority of the City of Los Angeles | Los Angeles, CA | $304,368
Housing Authority of the City of Los Angeles | Los Angeles, CA | $255,000
Housing Authority of the City of Los Angeles | Los Angeles, CA | $70,056
Housing Authority of the City of Los Angeles | Los Angeles, CA | $125,328
Los Angeles Homeless Services Authority | Los Angeles, CA | $262,085
Housing Authority of the City of Los Angeles | Los Angeles, CA | $143,808
Los Angeles Homeless Services Authority | Los Angeles, CA | $63,655
Los Angeles Homeless Services Authority | Los Angeles, CA | $197,413
Housing Authority of the City of Los Angeles | Los Angeles, CA | $284,184
Los Angeles Homeless Services Authority | Los Angeles, CA | $156,635
Los Angeles Homeless Services Authority | Los Angeles, CA | $333,929
Los Angeles Homeless Services Authority | Los Angeles, CA | $59,052
Los Angeles Homeless Services Authority | Los Angeles, CA | $213,806
Los Angeles Homeless Services Authority | Los Angeles, CA | $134,592
Los Angeles Homeless Services Authority | Los Angeles, CA | $61,041
Los Angeles Homeless Services Authority | Los Angeles, CA | $154,998
Los Angeles Homeless Services Authority | Los Angeles, CA | $223,929
Los Angeles Homeless Services Authority | Los Angeles, CA | $250,000
Los Angeles Homeless Services Authority | Los Angeles, CA | $112,450
Los Angeles Homeless Services Authority | Los Angeles, CA | $169,419
County of Los Angeles | Los Angeles, CA | $273,045
New Directions, Inc. | Los Angeles, CA | $574,641
County of Los Angeles | Los Angeles, CA | $378,804
1736 Family Crisis Center | Los Angeles, CA | $521,824
SHIELDS For Families, Inc. | Los Angeles, CA | $90,396
Housing Authority of the City of Los Angeles | Los Angeles, CA | $132,192
Housing Authority of the City of Los Angeles | Los Angeles, CA | $70,176
Los Angeles Homeless Services Authority | Los Angeles, CA | $143,432
Los Angeles Homeless Services Authority | Los Angeles, CA | $145,940
Housing Authority of the City of Los Angeles | Los Angeles, CA | $3,420,720
Los Angeles Homeless Services Authority | Los Angeles, CA | $259,701
Housing Authority of the City of Los Angeles | Los Angeles, CA | $220,680
A Community of Friends | Los Angeles, CA | $52,250
Los Angeles Homeless Services Authority | Los Angeles, CA | $135,413
Housing Authority of the City of Los Angeles | Los Angeles, CA | $201,600
A Community of Friends | Los Angeles, CA | $350,000
Housing Authority of the City of Los Angeles | Los Angeles, CA | $2,264,520
Housing Authority of the City of Los Angeles | Los Angeles, CA | $268,800
Los Angeles Homeless Services Authority | Los Angeles, CA | $128,963
Los Angeles Homeless Services Authority | Los Angeles, CA | $66,686
Los Angeles Homeless Services Authority | Los Angeles, CA | $201,821
Los Angeles Homeless Services Authority | Los Angeles, CA | $381,941
Los Angeles Homeless Services Authority | Los Angeles, CA | $182,955
Asian Pacific Women's Center, Inc. | Los Angeles, CA | $149,380
Los Angeles Homeless Services Authority | Los Angeles, CA | $147,776
Los Angeles Homeless Services Authority | Los Angeles, CA | $189,122
Housing Authority of the City of Los Angeles | Los Angeles, CA | $120,960
Housing Authority of the City of Los Angeles | Los Angeles, CA | $537,600
Los Angeles Homeless Services Authority | Los Angeles, CA | $292,176
Housing Authority of the City of Los Angeles | Los Angeles, CA | $455,520
Housing Authority of the City of Los Angeles | Los Angeles, CA | $191,016
Los Angeles Homeless Services Authority | Los Angeles, CA | $362,250
Housing Authority of the City of Los Angeles | Los Angeles, CA | $86,400
Housing Authority of the City of Los Angeles | Los Angeles, CA | $336,000
Housing Authority of the City of Los Angeles | Los Angeles, CA | $222,216
Housing Authority of the City of Los Angeles | Los Angeles, CA | $2,014,200
Housing Authority of the City of Los Angeles | Los Angeles, CA | $203,304
United Friends of the Children | Los Angeles, CA | $294,355
Housing Authority of the City of Los Angeles | Los Angeles, CA | $89,520
Housing Authority of the City of Los Angeles | Los Angeles, CA | $235,200
The Salvation Army, a California Corporation | Los Angeles, CA | $86,437
Los Angeles Homeless Services Authority | Los Angeles, CA | $71,317
Los Angeles Homeless Services Authority | Los Angeles, CA | $97,677
Los Angeles Homeless Services Authority | Los Angeles, CA | $200,000
Los Angeles Homeless Services Authority | Los Angeles, CA | $250,000
Los Angeles Homeless Services Authority | Los Angeles, CA | $121,875
Los Angeles Homeless Services Authority | Los Angeles, CA | $220,461
Los Angeles Homeless Services Authority | Los Angeles, CA | $198,508
Los Angeles Homeless Services Authority | Los Angeles, CA | $200,354
Los Angeles Homeless Services Authority | Los Angeles, CA | $474,403
Los Angeles Homeless Services Authority | Los Angeles, CA | $385,943
Los Angeles Homeless Services Authority | Los Angeles, CA | $287,114
Los Angeles Homeless Services Authority | Los Angeles, CA | $350,397
Los Angeles Homeless Services Authority | Los Angeles, CA | $156,191
Housing Authority of the City of Los Angeles | Los Angeles, CA | $1,229,760
Los Angeles Homeless Services Authority | Los Angeles, CA | $189,000
Housing Authority of the City of Los Angeles | Los Angeles, CA | $167,376
County of Los Angeles | Los Angeles, CA | $88,668
Los Angeles Homeless Services Authority | Los Angeles, CA | $176,269
County of Los Angeles | Los Angeles, CA | $194,098
Los Angeles Homeless Services Authority | Los Angeles, CA | $248,942
Los Angeles Homeless Services Authority | Los Angeles, CA | $349,666
Los Angeles Homeless Services Authority | Los Angeles, CA | $565,337
Los Angeles Homeless Services Authority | Los Angeles, CA | $71,797
Los Angeles Homeless Services Authority | Los Angeles, CA | $292,257
Los Angeles Homeless Services Authority | Los Angeles, CA | $23,745
Los Angeles Homeless Services Authority | Los Angeles, CA | $63,698
Los Angeles Homeless Services Authority | Los Angeles, CA | $339,078
Los Angeles Homeless Services Authority | Los Angeles, CA | $141,755
Los Angeles Homeless Services Authority | Los Angeles, CA | $119,280
Los Angeles Homeless Services Authority | Los Angeles, CA | $263,401
Los Angeles Homeless Services Authority | Los Angeles, CA | $253,325
Los Angeles Homeless Services Authority | Los Angeles, CA | $113,971
Los Angeles Homeless Services Authority | Los Angeles, CA | $149,846
Los Angeles Homeless Services Authority | Los Angeles, CA | $387,581
Los Angeles Homeless Services Authority | Los Angeles, CA | $67,200
Los Angeles Homeless Services Authority | Los Angeles, CA | $161,539
Los Angeles Homeless Services Authority | Los Angeles, CA | $151,803
Los Angeles Homeless Services Authority | Los Angeles, CA | $118,347
Los Angeles Homeless Services Authority | Los Angeles, CA | $92,217
Los Angeles Homeless Services Authority | Los Angeles, CA | $206,461
Los Angeles Homeless Services Authority | Los Angeles, CA | $180,897
The Salvation Army, a California Corporation | Los Angeles, CA | $218,222
California Council for Veterans Affairs, Inc. | Los Angeles, CA | $136,216
Catholic Charities of Los Angeles, Inc. | Los Angeles, CA | $142,901
Catholic Charities of Los Angeles, Inc. | Los Angeles, CA | $103,425
The Salvation Army, a California Corporation | Los Angeles, CA | $276,040
Los Angeles Homeless Services Authority | Los Angeles, CA | $233,735
Filipino American Service Group, Inc. | Los Angeles, CA | $190,449
Beacon Housing, Inc. | Los Angeles, CA | $76,192
Single Room Occupancy Housing Corporation | Los Angeles, CA | $92,610
Single Room Occupancy Housing Corporation | Los Angeles, CA | $369,601
Single Room Occupancy Housing Corporation | Los Angeles, CA | $279,510
Beyond Shelter, Inc. | Los Angeles, CA | $141,912
Los Angeles Homeless Services Authority | Los Angeles, CA | $157,707
Center for Human Rights and Constitutional Law, Inc. | Los Angeles, CA | $134,944
Los Angeles Homeless Services Authority | Los Angeles, CA | $360,567
Los Angeles Homeless Services Authority | Los Angeles, CA | $331,546
Los Angeles Homeless Services Authority | Los Angeles, CA | $340,549
Los Angeles Homeless Services Authority | Los Angeles, CA | $385,943
Los Angeles Homeless Services Authority | Los Angeles, CA | $129,761
Los Angeles Homeless Services Authority | Los Angeles, CA | $282,429
Institute for Urban Research and Development | Los Angeles, CA | $2,192,400
Los Angeles Homeless Services Authority | Los Angeles, CA | $177,316
P.A.T.H. | Los Angeles, CA | $100,275
Jewish Family Service of Los Angeles (JFS) | Los Angeles, CA | $180,498
Gramercy Housing Group | Los Angeles, CA | $210,961
New Economics for Women | Los Angeles, CA | $155,254
Mary Lind Foundation | Los Angeles, CA | $442,318
Los Angeles Homeless Services Authority | Los Angeles, CA | $392,700
P.A.T.H. | Los Angeles, CA | $114,530
The Los Angeles Gay and Lesbian Community Service Center | Los Angeles, CA | $377,262
Los Angeles Homeless Services Authority | Los Angeles, CA | $277,455
Los Angeles Homeless Services Authority | Los Angeles, CA | $105,000
Los Angeles Homeless Services Authority | Los Angeles, CA | $360,363
Los Angeles Homeless Services Authority | Los Angeles, CA | $361,209
Los Angeles Homeless Services Authority | Los Angeles, CA | $248,824
JWCH Institute, Inc. | Los Angeles, CA | $308,999
P.A.T.H. | Los Angeles, CA | $209,161
Los Angeles Homeless Services Authority | Los Angeles, CA | $158,891
Weingart Center Association, Inc. | Los Angeles, CA | $314,478
Weingart Center Association, Inc. | Los Angeles, CA | $170,760
Los Angeles Homeless Services Authority | Los Angeles, CA | $244,335
The Salvation Army, a California Corporation | Los Angeles, CA | $174,133
The Salvation Army, a California Corporation | Los Angeles, CA | $169,949
Housing Authority of the City of Los Angeles | Los Angeles, CA | $2,160,000
Institute for Urban Research and Development | Los Angeles, CA | $1,002,240
The Salvation Army, a California Corporation | Los Angeles, CA | $360,501
The Salvation Army, a California Corporation | Los Angeles, CA | $221,486
The Salvation Army, a California Corporation | Los Angeles, CA | $360,501
The Salvation Army, a California Corporation | Los Angeles, CA | $170,271
South Central Health & Rehabilitation Programs | Lynwood, CA | $224,760
Veterans Transitional Center of Monterey County | Marina, CA | $243,348
Shelter Outreach Plus | Marina, CA | $365,500
Shelter Outreach Plus | Marina, CA | $499,800
Housing Authority of Contra Costa County | Martinez, CA | $747,120
Housing Authority of Contra Costa County | Martinez, CA | $1,466,400
Housing Authority of Contra Costa County | Martinez, CA | $174,696
Housing Authority of Contra Costa County | Martinez, CA | $953,496
SHELTER, Inc. of Contra Costa County | Martinez, CA | $457,371
SHELTER, Inc. of Contra Costa County | Martinez, CA | $80,797
SHELTER, Inc. of Contra Costa County | Martinez, CA | $273,584
SHELTER, Inc. of Contra Costa County | Martinez, CA | $724,504
Contra Costa Health Services | Matinez, CA | $298,547
Contra Costa Health Services | Matinez, CA | $224,870
Clara-Mateo Alliance, Inc. | Menlo Park, CA | $159,292
Clara-Mateo Alliance, Inc. | Menlo Park, CA | $74,078
Clara-Mateo Alliance, Inc. | Menlo Park, CA | $179,794
Clara-Mateo Alliance, Inc. | Menlo Park, CA | $211,613
Merced County Community Action Board | Merced, CA | $84,000
Nirvana Drug and Alcohol Treatment | Modesto, CA | $132,300
Community Housing and Shelter Services | Modesto, CA | $285,941
Center for Human Services | Modesto, CA | $128,988
Nirvana Drug and Alcohol Treatment | Modesto, CA | $108,360
Community Housing and Shelter Services | Modesto, CA | $205,025
Housing Authority of the County of Stanislaus | Modesto, CA | $43,416
Stanislaus Community Assistance Project | Modesto, CA | $355,000
Housing Authority of the County of Stanislaus | Modesto, CA | $215,932
Housing Authority of the City of Napa | Napa, CA | $59,062
Housing Authority of the City of Napa | Napa, CA | $15,000
County of Napa | Napa, CA | $19,950
County of Napa | Napa, CA | $123,439
Penny Lane Centers | North Hills, CA | $174,971
L.A. Family Housing Corporation | North Hollywood, CA | $363,659
L.A. Family Housing Corporation | North Hollywood, CA | $355,664
Stop Homelessness in the Rio Hondo Area, Inc. | Norwalk, CA | $165,207
Jobs for Homeless Consortium | Oakland, CA | $859,669
Bonita House, Inc. | Oakland, CA | $33,080
The City of Oakland | Oakland, CA | $245,146
Jobs for Homeless Consortium | Oakland, CA | $648,302
Jobs for Homeless Consortium | Oakland, CA | $1,016,786
Fred Finch Children's Home | Oakland, CA | $696,434
Fred Finch Children's Home | Oakland, CA | $649,863
The City of Oakland | Oakland, CA | $1,825,154
The City of Oakland | Oakland, CA | $259,432
YMCA of San Diego County | Oceanside, CA | $178,739
OC Partnership | Orange, CA | $160,125
Council of Orange County Society of St. Vincent de Paul | Orange, CA | $1,865,898
City of Oxnard | Oxnard, CA | $1,383,720
City of Oxnard | Oxnard, CA | $83,661
Bridge Focus, Inc. | Panorama City, CA | $99,225
Serra Ancillary Care Corporation dba The Serra Project | Pasadena, CA | $318,851
City of Pasadena | Pasadena, CA | $138,600
City of Pasadena | Pasadena, CA | $804,877
City of Pasadena | Pasadena, CA | $118,610
City of Pasadena | Pasadena, CA | $163,700
City of Pasadena | Pasadena, CA | $122,097
City of Pasadena | Pasadena, CA | $103,515
City of Pasadena | Pasadena, CA | $155,417
Committee on the Shelterless | Petaluma, CA | $76,667
City of Pomona | Pomona, CA | $162,154
Central California Family Crisis Center, Inc. | Porterville, CA | $281,061
Community Alcohol & Drug Rehabilitation Effort/Alternative Services, Inc. | Porterville, CA | $300,000
Northern Valley Catholic Social Service, Inc. | Redding, CA | $420,000
Service League of San Mateo County | Redwood City, CA | $44,996
Mental Health Association of San Mateo County | Redwood City, CA | $73,271
Mental Health Association of San Mateo County | Redwood City, CA | $39,530
Rubicon Programs | Richmond, CA | $653,005
Rubicon Programs | Richmond, CA | $304,279
Rubicon Programs | Richmond, CA | $44,013
Rubicon Programs | Richmond, CA | $204,120
Greater Richmond Interfaith Program (GRIP) | Richmond, CA | $168,099
County of Riverside | Riverside, CA | $98,712
County of Riverside | Riverside, CA | $249,962
County of Riverside | Riverside, CA | $279,806
County of Riverside | Riverside, CA | $525,000
County of Riverside | Riverside, CA | $1,909,225
County of Riverside | Riverside, CA | $722,904
County of Riverside | Riverside, CA | $120,932
County of Riverside | Riverside, CA | $135,756
County of Riverside | Riverside, CA | $124,990
County of Riverside | Riverside, CA | $1,524,737
County of Riverside | Riverside, CA | $231,730
Resources for Independent Living | Sacramento, CA | $97,876
County of Sacramento | Sacramento, CA | $191,523
County of Sacramento | Sacramento, CA | $110,250
County of Sacramento | Sacramento, CA | $228,426
County of Sacramento | Sacramento, CA | $215,255
County of Sacramento | Sacramento, CA | $123,496
County of Sacramento | Sacramento, CA | $497,424
County of Sacramento | Sacramento, CA | $294,384
County of Sacramento | Sacramento, CA | $42,999
County of Sacramento | Sacramento, CA | $3,061,636
County of Sacramento | Sacramento, CA | $86,712
County of Sacramento | Sacramento, CA | $226,000
Transitional Living and Community Support, Inc. | Sacramento, CA | $157,716
County of Sacramento | Sacramento, CA | $206,936
County of Sacramento | Sacramento, CA | $316,033
County of Sacramento | Sacramento, CA | $123,553
Transitional Living and Community Support, Inc. | Sacramento, CA | $88,114
Transitional Living and Community Support, Inc. | Sacramento, CA | $305,666
Transitional Living and Community Support, Inc. | Sacramento, CA | $250,985
County of Sacramento | Sacramento, CA | $175,786
County of Sacramento | Sacramento, CA | $89,932
County of Sacramento | Sacramento, CA | $81,746
County of Sacramento | Sacramento, CA | $83,324
County of Sacramento | Sacramento, CA | $229,107
County of Sacramento | Sacramento, CA | $99,960
County of Sacramento | Sacramento, CA | $398,509
County of Sacramento | Sacramento, CA | $104,390
County of Sacramento | Sacramento, CA | $154,734
County of Sacramento | Sacramento, CA | $490,071
County of Sacramento | Sacramento, CA | $748,005
County of Sacramento | Sacramento, CA | $3,899,568
Housing Authority of the County of Monterey | Salinas, CA | $756,840
San Jose Cathedral Foundation | San Jose, CA | $96,600
San Jose Cathedral Foundation | San Jose, CA | $45,000
Inland Behavioral and Health Services, Inc. | San Bernardino, CA | $367,063
Frazee Community Center | San Bernardino, CA | $26,250
Central City Lutheran Mission | San Bernardino, CA | $17,672
The Salvation Army | San Bernardino, CA | $158,522
Community Action Partnership of San Bernardino County | San Bernardino, CA | $1,995,040
Knotts Family Agency | San Bernardino, CA | $420,000
Community Action Partnership of San Bernardino County | San Bernardino, CA | $750,477
Central City Lutheran Mission | San Bernardino, CA | $76,794
County of San Diego | San Diego, CA | $217,643
County of San Diego | San Diego, CA | $1,329,330
County of San Diego | San Diego, CA | $629,374
County of San Diego | San Diego, CA | $220,128
County of San Diego | San Diego, CA | $130,671
County of San Diego | San Diego, CA | $638,820
County of San Diego | San Diego, CA | $183,472
County of San Diego | San Diego, CA | $693,378
County of San Diego | San Diego, CA | $147,621
Young Women's Christian Association of San Diego County | San Diego, CA | $553,475
TACHS (The Association For Community Housing Solutions) | San Diego, CA | $73,500
Episcopal Community Services | San Diego, CA | $509,328
San Diego Housing Commission | San Diego, CA | $158,076
St. Vincent de Paul Village, Inc. | San Diego, CA | $763,198
St. Vincent de Paul Village, Inc. | San Diego, CA | $402,182
San Diego Housing Commission | San Diego, CA | $148,872
San Diego Housing Commission | San Diego, CA | $1,551,420
Episcopal Community Services | San Diego, CA | $554,562
San Diego Housing Commission | San Diego, CA | $174,336
San Diego Housing Commission | San Diego, CA | $113,568
Vietnam Veterans of San Diego | San Diego, CA | $202,850
San Diego Housing Commission | San Diego, CA | $237,072
San Diego Youth & Community Service | San Diego, CA | $87,571
St. Vincent de Paul Village, Inc. | San Diego, CA | $890,000
St. Vincent de Paul Village, Inc. | San Diego, CA | $935,898
St. Vincent de Paul Village, Inc. | San Diego, CA | $513,713
St. Vincent de Paul Village, Inc. | San Diego, CA | $619,024
Baker Places, Inc. | San Francisco, CA | $11,308
City and County of San Francisco | San Francisco, CA | $475,843
City and County of San Francisco | San Francisco, CA | $407,728
City and County of San Francisco | San Francisco, CA | $118,879
City and County of San Francisco | San Francisco, CA | $720,000
City and County of San Francisco | San Francisco, CA | $87,551
City and County of San Francisco | San Francisco, CA | $198,922
City and County of San Francisco | San Francisco, CA | $146,902
City and County of San Francisco | San Francisco, CA | $301,027
City and County of San Francisco | San Francisco, CA | $198,917
City and County of San Francisco | San Francisco, CA | $472,212
City and County of San Francisco | San Francisco, CA | $742,176
City and County of San Francisco | San Francisco, CA | $591,048
City and County of San Francisco | San Francisco, CA | $135,000
City and County of San Francisco | San Francisco, CA | $180,000
City and County of San Francisco | San Francisco, CA | $1,309,920
City and County of San Francisco | San Francisco, CA | $477,958
City and County of San Francisco | San Francisco, CA | $131,683
City and County of San Francisco | San Francisco, CA | $287,117
City and County of San Francisco | San Francisco, CA | $44,244
The Ark of Refuge, Inc. | San Francisco, CA | $208,502
Lutheran Social Services of Northern California | San Francisco, CA | $53,747
City and County of San Francisco | San Francisco, CA | $398,225
The Salvation Army, a California Corporation | San Francisco, CA | $449,412
Swords To Plowshares—A Veterans Rights Organization | San Francisco, CA | $282,594
Swords To Plowshares—A Veterans Rights Organization | San Francisco, CA | $258,471
City and County of San Francisco | San Francisco, CA | $61,596
Community Housing Partnership | San Francisco, CA | $174,989
City and County of San Francisco | San Francisco, CA | $146,082
City and County of San Francisco | San Francisco, CA | $567,520
City and County of San Francisco | San Francisco, CA | $30,869
City and County of San Francisco | San Francisco, CA | $395,319
San Francisco Network Ministries Housing Corporation | San Francisco, CA | $76,228
City and County of San Francisco | San Francisco, CA | $1,303,278
City and County of San Francisco | San Francisco, CA | $141,317
City and County of San Francisco | San Francisco, CA | $810,000
City and County of San Francisco | San Francisco, CA | $264,000
City and County of San Francisco | San Francisco, CA | $260,678
Larkin Street Youth Services | San Francisco, CA | $55,587
Community Awareness & Treatment Services, Inc. | San Francisco, CA | $371,343
City and County of San Francisco | San Francisco, CA | $323,274
City and County of San Francisco | San Francisco, CA | $417,082
City and County of San Francisco | San Francisco, CA | $162,000
City and County of San Francisco | San Francisco, CA | $1,060,899
City and County of San Francisco | San Francisco, CA | $72,000
City and County of San Francisco | San Francisco, CA | $344,576
Catholic Charities CYO | San Francisco, CA | $157,550
City and County of San Francisco | San Francisco, CA | $70,152
St. Vincent de Paul Society of San Francisco | San Francisco, CA | $144,380
Catholic Charities CYO | San Francisco, CA | $151,506
Progress Foundation | San Francisco, CA | $386,749
Compass Community Services | San Francisco, CA | $320,782
Catholic Charities CYO | San Francisco, CA | $121,089
Charities Housing Development Corp. | San Jose, CA | $420,000
Community Technology Alliance | San Jose, CA | $303,718
The Way Home | San Jose, CA | $210,000
The Way Home | San Jose, CA | $168,888
Concern for the Poor | San Jose, CA | $197,077
Emergency Housing Consortium of Santa Clara County | San Jose, CA | $93,866
Housing Authority of the County of Santa Clara | San Jose, CA | $508,680
Housing Authority of the County of Santa Clara | San Jose, CA | $216,000
Housing Authority of the County of Santa Clara | San Jose, CA | $48,300
Emergency Housing Consortium of Santa Clara County | San Jose, CA | $524,450
Emergency Housing Consortium of Santa Clara County | San Jose, CA | $92,011
Emergency Housing Consortium of Santa Clara County | San Jose, CA | $415,548
Emergency Housing Consortium of Santa Clara County | San Jose, CA | $277,267
Emergency Housing Consortium of Santa Clara County | San Jose, CA | $162,409
Emergency Housing Consortium of Santa Clara County | San Jose, CA | $102,462
The Unity Care Group | San Jose, CA | $123,366
County of Santa Clara, CA | San Jose, CA | $532,824
County of Santa Clara, CA | San Jose, CA | $641,856
The Way Home | San Jose, CA | $104,030
The Unity Care Group | San Jose, CA | $121,840
Second Start | San Jose, CA | $96,790
County of Santa Clara, CA | San Jose, CA | $503,568
County of Santa Clara, CA | San Jose, CA | $502,068
County of Santa Clara, CA | San Jose, CA | $689,196
The Way Home | San Jose, CA | $78,750
Emergency Housing Consortium of Santa Clara County | San Jose, CA | $56,275
Emergency Housing Consortium of Santa Clara County | San Jose, CA | $211,231
San Luis Obispo Nonprofit Housing Corporation | San Luis Obispo, CA | $473,981
San Luis Obispo County | San Luis Obispo, CA | $211,150
San Luis Obispo County | San Luis Obispo, CA | $163,091
Samaritan House | San Mateo, CA | $105,000
Rainbow Services, Ltd. | San Pedro, CA | $255,012
Harbor Interfaith Services, Inc. | San Pedro, CA | $127,673
Homeward Bound of Marin | San Rafael, CA | $50,148
Homeward Bound of Marin | San Rafael, CA | $319,096
Buckelew Programs | San Rafael, CA | $27,476
Center Point, Inc. | San Rafael, CA | $42,210
Homeward Bound of Marin | San Rafael, CA | $191,493
Center Point, Inc. | San Rafael, CA | $474,247
Buckelew Programs | San Rafael, CA | $193,998
Marin Abused Women's Services | San Rafael, CA | $55,642
Marin Housing Authority | San Rafael, CA | $378,084
Marin Abused Women's Services | San Rafael, CA | $64,540
Marin Housing Authority | San Rafael, CA | $193,740
Marin Housing Authority | San Rafael, CA | $394,188
Buckelew Programs | San Rafael, CA | $148,768
Orange County Housing Authority | Santa Ana, CA | $1,066,848
Orange County Housing Authority | Santa Ana, CA | $643,392
Orange County Housing Authority | Santa Ana, CA | $2,895,120
Veterans First | Santa Ana, CA | $468,720
Santa Barbara County | Santa Barbara, CA | $160,586
Santa Barbara County | Santa Barbara, CA | $102,813
Santa Barbara County | Santa Barbara, CA | $115,315
Domestic Violence Solutions for Santa Barbara County | Santa Barbara, CA | $76,220
Transition House | Santa Barbara, CA | $55,152
Santa Barbara Community Housing Corporation | Santa Barbara, CA | $99,444
Housing Authority of the City of Santa Barbara | Santa Barbara, CA | $590,184
Santa Barbara County | Santa Barbara, CA | $17,050
Bill Wilson Center | Santa Clara, CA | $298,645
Bill Wilson Center | Santa Clara, CA | $548,476
Santa Clara Unified School District | Santa Clara, CA | $200,534
County of Santa Cruz | Santa Cruz, CA | $142,591
County of Santa Cruz | Santa Cruz, CA | $89,985
Housing Authority of the County of Los Angeles | Santa Fe Springs, CA | $89,280
Housing Authority of the County of Los Angeles | Santa Fe Springs, CA | $2,556,960
Housing Authority of the County of Los Angeles | Santa Fe Springs, CA | $96,360
Housing Authority of the County of Los Angeles | Santa Fe Springs, CA | $1,376,880
Housing Authority of the County of Los Angeles | Santa Fe Springs, CA | $877,200
Housing Authority of the County of Los Angeles | Santa Fe Springs, CA | $143,232
Housing Authority of the County of Los Angeles | Santa Fe Springs, CA | $1,080,000
Housing Authority of the County of Los Angeles | Santa Fe Springs, CA | $232,224
Upward Bound House | Santa Monica, CA | $281,424
City of Santa Monica | Santa Monica, CA | $1,526,868
City of Santa Monica | Santa Monica, CA | $95,688
Ocean Park Community Center | Santa Monica, CA | $305,939
Catholic Charities of the Diocese of Santa Rosa | Santa Rosa, CA | $224,890
Vietnam Veterans of California, Inc. | Santa Rosa, CA | $124,688
Community Action Partnership of Sonoma County | Santa Rosa, CA | $107,000
Sonoma County Community Development Commission | Santa Rosa, CA | $107,952
Sonoma County Community Development Commission | Santa Rosa, CA | $87,744
Sonoma County Community Development Commission | Santa Rosa, CA | $405,360
Sonoma County Community Development Commission | Santa Rosa, CA | $298,332
Sonoma County Community Development Commission | Santa Rosa, CA | $97,330
Community Support Network | Santa Rosa, CA | $30,358
Community Support Network | Santa Rosa, CA | $56,238
Sonoma County Community Development Commission | Santa Rosa, CA | $109,384
Individuals Now d.b.a. Social Advocates for Youth | Santa Rosa, CA | $120,000
Vietnam Veterans of California, Inc. | Santa Rosa, CA | $265,807
Vietnam Veterans of California | Santa Rosa, CA | $83,108
The Salvation Army | Seaside, CA | $204,017
San Joaquin County | Stockton, CA | $592,200
San Joaquin County | Stockton, CA | $141,603
San Joaquin County | Stockton, CA | $141,253
San Joaquin County | Stockton, CA | $268,716
San Joaquin County | Stockton, CA | $231,595
San Joaquin County | Stockton, CA | $255,329
San Joaquin County | Stockton, CA | $397,332
San Joaquin County | Stockton, CA | $398,822
San Joaquin County | Stockton, CA | $22,503
Tarzana Treatment Centers, Inc. | Tarzana, CA | $188,132
Mendocino County | Ukiah, CA | $200,077
Mendocino County | Ukiah, CA | $128,052
Community Development Commission of Mendocino County | Ukiah, CA | $1,053,444
Community Development Commission of Mendocino County | Ukiah, CA | $34,992
Foothill Family Shelter, Inc. | Upland, CA | $34,125
Venice Family Clinic | Venice, CA | $284,843
Venice Community Housing Corp. | Venice, CA | $81,170
St. Joseph Center | Venice, CA | $47,247
Turning Point Foundation | Ventura, CA | $94,083
Turning Point Foundation | Ventura, CA | $332,021
Turning Point Foundation | Ventura, CA | $26,075
St. John of God Health Care Services | Victorville, CA | $311,960
Victor Valley Domestic Violence, Inc | Victorville, CA | $276,379
Tulare County Hispanic Commission, Inc. | Visalia, CA | $454,147
Turning Point of Central California, Inc. | Visalia, CA | $74,602
Turning Point of Central California, Inc. | Visalia, CA | $1,573,755
Turning Point of Central California, Inc. | Visalia, CA | $173,573
Alpha Project for the Homeless | Vista, CA | $318,692
United Christian Centers | W. Sacramento, CA | $46,527
LuvLee's Residential Care, Inc. | Walnut, CA | $912,150
Families In Transition of Santa Cruz County, Inc. | Watsonville, CA | $181,158
Families In Transition of Santa Cruz County, Inc. | Watsonville, CA | $185,186
City of Woodland | Woodland, CA | $175,151
Morongo Basin Mental Health Services Association, Inc. | Yucca Valley, CA | $87,606
Pikes Peak United Way | Colorado Springs, CO | $110,000
Partners In Housing, Incorporated | Colorado Springs, CO | $306,305
City of Colorado Springs | Colorado Springs, CO | $801,660
City of Colorado Springs | Colorado Springs, CO | $198,800
Southern Colorado Health Network dba Southern Colorado AIDS Project | Colorado Springs, CO | $97,104
Colorado Springs Gospel Home—Liza's Place | Colorado Springs, CO | $75,000
Colorado Department of Human Services | Denver, CO | $101,280
Third Way Center, Inc. | Denver, CO | $232,493
Colorado Coalition for the Homeless | Denver, CO | $153,174
Colorado Department of Human Services | Denver, CO | $1,594,500
Urban Peak Housing Corporation | Denver, CO | $294,656
Colorado Department of Human Services | Denver, CO | $283,992
State of Colorado | Denver, CO | $57,452
Colorado Department of Human Services | Denver, CO | $74,712
Colorado Coalition for the Homeless | Denver, CO | $147,643
Colorado Coalition for the Homeless | Denver, CO | $166,667
Colorado Department of Human Services | Denver, CO | $702,660
Colorado Coalition for the Homeless | Denver, CO | $358,178
Colorado Coalition for the Homeless | Denver, CO | $564,631
Denver Department of Human Services | Denver, CO | $385,224
Colorado Coalition for the Homeless | Denver, CO | $1,437,707
Colorado Department of Human Services | Denver, CO | $212,500
Colorado Coalition for the Homeless | Denver, CO | $346,924
Denver Department of Human Services | Denver, CO | $377,856
Denver Department of Human Services | Denver, CO | $306,960
Colorado Department of Human Services | Denver, CO | $1,243,452
Colorado Department of Human Services | Denver, CO | $168,540
Colorado Department of Human Services | Denver, CO | $397,128
Colorado Coalition for the Homeless | Denver, CO | $1,522,880
Colorado Coalition for the Homeless | Denver, CO | $396,375
Colorado Coalition for the Homeless | Denver, CO | $639,219
Colorado Coalition for the Homeless | Denver, CO | $807,070
Colorado Coalition for the Homeless | Denver, CO | $273,195
Harbor Health Services, Inc. | Branford, CT | $48,800
Harbor Health Services, Inc. | Branford, CT | $124,064
City of Bridgeport | Bridgeport, CT | $372,973
LMG Programs, Inc. | Bridgeport, CT | $179,626
City of Bridgeport | Bridgeport, CT | $286,440
City of Bridgeport | Bridgeport, CT | $141,766
United Way of Eastern Fairway County | Bridgeport, CT | $39,999
City of Bridgeport | Bridgeport, CT | $44,890
St. Vincent DePaul Society of Bristol, Inc. | Bristol, CT | $27,019
St. Vincent DePaul Society of Bristol, Inc. | Bristol, CT | $321,830
Housing Authority, City of Danbury | Danbury, CT | $106,320
City of Danbury | Danbury, CT | $142,000
Inter-Community Mental Health Grouping | East Hartford, CT | $302,190
Micah Housing, Inc. | Fairfield, CT | $73,501
State of Connecticut | Hartford, CT | $287,520
State of CT | Hartford, CT | $237,343
State of CT | Hartford, CT | $30,480
State of Connecticut | Hartford, CT | $158,592
State of Connecticut | Hartford, CT | $158,592
State of CT | Hartford, CT | $481,980
State of CT | Hartford, CT | $270,940
State of Connecticut | Hartford, CT | $349,992
State of Connecticut | Hartford, CT | $97,284
State of CT | Hartford, CT | $86,688
State of CT | Hartford, CT | $592,020
State of CT | Hartford, CT | $100,887
State of CT | Hartford, CT | $407,830
State of Connecticut | Hartford, CT | $338,076
State of CT | Hartford, CT | $213,380
My Sisters' Place, Inc. | Hartford, CT | $250,000
Mercy Housing and Shelter Corporation | Hartford, CT | $241,190
South Park Inn | Hartford, CT | $273,000
State of Connecticut | Hartford, CT | $99,948
State of Connecticut | Hartford, CT | $51,120
State of Connecticut | Hartford, CT | $459,960
State of Connecticut | Hartford, CT | $76,680
State of Connecticut | Hartford, CT | $1,253,760
State of CT Department of Mental Health and Addiction Services | Hartford, CT | $809,400
Broad-Park Development Corporation | Hartford, CT | $750,000
State of Connecticut | Hartford, CT | $879,864
Community Renewal Team, Inc. | Hartford, CT | $565,000
Community Renewal Team, Inc. | Hartford, CT | $55,860
Community Renewal Team, Inc. | Hartford, CT | $469,533
State of Connecticut | Hartford, CT | $131,760
Thames Valley Council for Community Action, Inc. (TVCCA) | Jewitt City, CT | $655,247
American Red Cross Middlesex Central CT Chapter | Middletown, CT | $133,000
Friendship Services Center of New Britain,Inc | New Britain, CT | $670,632
Community Mental Health Affiliates | New Britain, CT | $759,701
Christian Community Action, Inc. | New Haven, CT | $200,000
Liberty Community Services, Inc. | New Haven, CT | $292,501
Connecticut Women's Consortium, Inc. | New Haven, CT | $171,113
Youth Continuum, Inc. | New Haven, CT | $301,568
Fellowship Place, Inc. | New Haven, CT | $92,705
Women's Center of Southeastern Connecticut, Inc. | New London, CT | $50,584
Mid Fairfield AIDS Projecting | Norwalk, CT | $120,000
Family + Children's Agency | Norwalk, CT | $145,513
Bethsaida Community, Inc. | Norwich, CT | $84,515
St. Philip House, Inc | Plainville, CT | $484,804
Norwalk Emergency Shelter, Inc | So Norwalk, CT | $331,478
Norwalk Emergency Shelter, Inc | So Norwalk, CT | $47,831
United Way of Stamford, Inc. | Stamford, CT | $52,500
Laurel House, Inc. | Stamford, CT | $263,931
Shelter for the Homeless | Stamford, CT | $84,051
St. Luke's Community Services, Inc. | Stamford, CT | $398,717
Mutual Housing Association of Southwestern Connecticut, Inc. | Stamford, CT | $165,900
Torrington Chapter of FISH, Inc. | Torrington, CT | $26,216
Housing Authority of the City of Waterbury | Waterbury, CT | $673,320
The St. Vincent DePaul Society of Waterbury, Inc. | Waterbury, CT | $879,980
Hall-Brooke Behavioral Health Services | Westport, CT | $313,935
Hall-Brooke Behavioral Health Services | Westport, CT | $177,420
Hall-Brooke Behavioral Health Services | Westport, CT | $307,446
Hall-Brooke Behavioral Health Services | Westport, CT | $750,000
CT Coalition to End Homelessness | Wethersfield, CT | $218,720
Holy Family Home and Shelter, Inc | Williamantic, CT | $366,873
Community Health Resources | Windsor, CT | $107,184
The Salvation Army, a Georgia Corporation | Washington , DC | $475,935
Community Connections | Washington, DC | $106,864
DC Office of Revenue Analysis (formerly Office of Research and Analysis) | Washington, DC | $479,556
Sasha Bruce Youthwork | Washington, DC | $67,628
DC Office of Revenue Analysis (formerly Office of Research and Analysis) | Washington, DC | $1,893,552
DC Office of Revenue Analysis (formerly Office of Research and Analysis) | Washington, DC | $676,548
DC Office of Revenue Analysis (formerly Office of Research and Analysis) | Washington, DC | $271,368
Sasha Bruce Youthwork | Washington, DC | $129,593
Sasha Bruce Youthwork | Washington, DC | $189,058
Families Forward, Inc. | Washington, DC | $201,224
Families Forward, Inc. | Washington, DC | $229,046
House of Ruth | Washington, DC | $79,929
Catholic Charities of the Archdiocese of Washington | Washington, DC | $235,903
Hannah House, Inc. | Washington, DC | $148,115
The Community Partnership for the Prevention of Homeless | Washington, DC | $245,422
The Community Partnership for the Prevention of Homeless | Washington, DC | $86,003
The Community Partnership for the Prevention of Homeless | Washington, DC | $210,119
The Community Partnership for the Prevention of Homeless | Washington, DC | $134,835
The Community Partnership for the Prevention of Homeless | Washington, DC | $149,203
The Community Partnership for the Prevention of Homeless | Washington, DC | $333,913
The Community Partnership for the Prevention of Homeless | Washington, DC | $346,324
Catholic Charities of the Archdiocese of Washington, DC | Washington, DC | $86,391
SOME (SO Others Might EAT) | Washington, DC | $323,673
The Community Partnership for the Prevention of Homeless | Washington, DC | $899,866
House of Ruth | Washington, DC | $202,832
Community Family Life Services, Inc. | Washington, DC | $364,761
Catholic Charities | Washington, DC | $168,641
Community Family Life Services, Inc. | Washington, DC | $140,205
SOME (SO Others Might EAT) | Washington, DC | $513,940
The Community Partnership for the Prevention of Homeless | Washington, DC | $141,957
Coalition for the Homeless | Washington, DC | $171,453
House of Ruth | Washington, DC | $84,383
SOME (SO Others Might EAT) | Washington, DC | $101,333
JHP, Inc. | Washington, DC | $136,761
Catholic Charities of the Archdiocese of Washington, DC | Washington, DC | $230,056
The Community Partnership for the Prevention of Homeless | Washington, DC | $825,000
House of Ruth | Washington, DC | $204,916
House of Ruth | Washington, DC | $321,806
Transitional Housing Corporation | Washington, DC | $127,385
Catholic Charities of the Archdiocese of Washington, DC | Washington, DC | $24,247
District of Columbia | Washington, DC | $200,640
District of Columbia | Washington, DC | $272,832
The Community Partnership for the Prevention of Homeless | Washington, DC | $132,300
The Community Partnership for the Prevention of Homeless | Washington, DC | $142,306
House of Ruth | Washington, DC | $144,083
The Community Partnership for the Prevention of Homeless | Washington, DC | $83,511
The Community Partnership for the Prevention of Homeless | Washington, DC | $232,880
The Community Partnership for the Prevention of Homeless | Washington, DC | $204,748
The Community Partnership for the Prevention of Homeless | Washington, DC | $190,522
The Community Partnership for the Prevention of Homeless | Washington, DC | $175,219
The Community Partnership for the Prevention of Homeless | Washington, DC | $144,758
The Community Partnership for the Prevention of Homeless | Washington, DC | $300,000
The Community Partnership for the Prevention of Homeless | Washington, DC | $141,214
The Community Partnership for the Prevention of Homeless | Washington, DC | $148,925
The Community Partnership for the Prevention of Homeless | Washington, DC | $165,819
The Community Partnership for the Prevention of Homeless | Washington, DC | $85,340
The Community Partnership for the Prevention of Homeless | Washington, DC | $257,404
The Community Partnership for the Prevention of Homeless | Washington, DC | $109,725
The Community Partnership for the Prevention of Homeless | Washington, DC | $189,000
The Community Partnership for the Prevention of Homeless | Washington, DC | $176,226
The Community Partnership for the Prevention of Homeless | Washington, DC | $100,905
House of Ruth | Washington, DC | $34,657
The Community Partnership for the Prevention of Homeless | Washington, DC | $121,728
The Community Partnership for the Prevention of Homeless | Washington, DC | $196,569
The Community Partnership for the Prevention of Homeless | Washington, DC | $580,428
The Community Partnership for the Prevention of Homeless | Washington, DC | $75,000
The Community Partnership for the Prevention of Homeless | Washington, DC | $325,000
The Community Partnership for the Prevention of Homeless | Washington, DC | $266,084
State of Delaware | New Castle, DE | $143,682
State of Delaware | New Castle, DE | $1,282,951
State of Delaware | New Castle, DE | $128,049
Ministry of Caring, Inc. | Wilmington, DE | $200,408
CareLink Community Support Services | Wilmington, DE | $75,456
Young Women's Christian Association of New Castle County, Delaware | Wilmington, DE | $319,594
SBM Housing, Inc./Gateway House | Wilmington, DE | $67,334
Connections CSP, Inc. | Wilmington, DE | $152,421
Connections CSP, Inc. | Wilmington, DE | $246,576
Ministry of Caring, Inc. | Wilmington, DE | $212,357
Ministry of Caring, Inc. | Wilmington, DE | $129,874
Ministry of Caring, Inc. | Wilmington, DE | $66,467
Ministry of Caring, Inc. | Wilmington, DE | $374,174
Connections CSP, Inc. | Wilmington, DE | $749,996
Ministry of Caring, Inc. | Wilmington, DE | $647,808
Connections CSP, Inc. | Wilmington, DE | $167,076
Peace River Center | Bartow, FL | $365,498
City of Bradenton | Bradenton, FL | $562,200
Flagler Ecumenical Society Services Center, Inc. | Bunnell, FL | $223,740
Homeless Emergency Project, Inc. | Clearwater, FL | $33,101
Crosswinds Youth Services | Cocoa, FL | $87,536
2-1-1 Brevard, Inc | Cocoa, FL | $76,751
Coalition for the Hungry and Homeless of Brevard County, Inc | Cocoa Blvd, FL | $226,400
Coalition for the Hungry and Homeless of Brevard County, Inc | Cocoa Blvd, FL | $166,387
Coalition for the Hungry and Homeless of Brevard County, Inc | Cocoa Blvd, FL | $134,865
Coalition for the Hungry and Homeless of Brevard County, Inc | Cocoa Blvd, FL | $439,250
Volusia/Flagler County Coalition for the Homeless, Inc. | Daytona Beach, FL | $58,800
Serenity House of Volusia, Inc. | Daytona Beach, FL | $171,921
Serenity House of Volusia, Inc. | Daytona Beach, FL | $129,273
AIDS Coalition of Volusia/Flagler, Inc. | Daytona Beach, FL | $96,617
Domestic Abuse Council, Inc. | Daytona Beach, FL | $69,386
Domestic Abuse Council, Inc. | Daytona Beach, FL | $62,815
Domestic Abuse Council, Inc. | Daytona Beach, FL | $124,807
Broward County Board of County Commissioners | Fort Lauderdale, FL | $242,102
The Salvation Army, a Georgia Corporation | Fort Lauderdale, FL | $141,727
The Salvation Army, a Georgia Corporation | Fort Lauderdale, FL | $202,879
Broward County Board of County Commissioners | Fort Lauderdale, FL | $81,406
Broward County Board of County Commissioners | Fort Lauderdale, FL | $143,784
Broward County Board of County Commissioners | Fort Lauderdale, FL | $621,262
Broward County Board of County Commissioners | Fort Lauderdale, FL | $996,911
The Salvation Army, a Georgia Corporation | Fort Lauderdale, FL | $259,038
Broward County Board of County Commissioners | Fort Lauderdale, FL | $226,180
Broward County Board of County Commissioners | Fort Lauderdale, FL | $241,815
Broward County Board of County Commissioners | Fort Lauderdale, FL | $893,040
Broward County Board of County Commissioners | Fort Lauderdale, FL | $75,576
Covenant House Florida | Ft. Lauderdale, FL | $183,729
The House of Israel, Inc. | Ft. Meade, FL | $488,069
St. Lucie County Board of County Commissioners | Ft. Pierce, FL | $454,440
Bridgeway Center, Inc. | Ft. Walton Beach, FL | $363,878
Alachua County Housing Authority | Gainesville, FL | $575,520
City of Gainesville | Gainesville, FL | $106,215
City of Gainesville | Gainesville, FL | $99,101
Alachua County Housing Authority | Gainesville, FL | $80,569
Peaceful Paths Domestic Abuse Network, Inc. | Gainesville, FL | $84,974
Family Renew Community, Inc. | Holly Hill, FL | $52,980
Family Renew Community, Inc. | Holly Hill, FL | $21,164
Youth Crisis Center, Inc. | Jacksonville, FL | $170,000
I.M. Sulzbacher Center for the Homeless, Inc. | Jacksonville, FL | $235,288
Jacksonville Housing Authority | Jacksonville, FL | $600,000
I.M. Sulzbacher Center for the Homeless, Inc. | Jacksonville, FL | $407,862
River Region Human Services, Inc. | Jacksonville, FL | $241,584
United Way of Northeast Florida | Jacksonville, FL | $64,374
Goodwill of North Florida | Jacksonville, FL | $411,469
Clara White Mission, Inc. | Jacksonville, FL | $175,000
Mental Health Resource Center, Inc. | Jacksonville, FL | $293,979
Community Connections of Jacksonville, Inc. | Jacksonville, FL | $262,177
Community Connections of Jacksonville, Inc. | Jacksonville, FL | $530,308
Goodwill of North Florida | Jacksonville, FL | $76,034
Florida Keys Outreach Coalition, Inc. | Key West, FL | $175,879
United Way of Suwannee Valley | Lake City, FL | $96,440
Adopt-A-Family of the Palm Beaches, Inc. | Lake Worth, FL | $207,813
Talbot House Ministries of Lakeland, Inc. | Lakeland, FL | $255,926
The Salvation Army, A Georgia Corporation | Lakeland, FL | $255,559
The Center for Information & Crisis Services, Inc. | Lantana, FL | $134,441
2-1-1 Tampa Bay Cares, Inc. | Largo, FL | $172,454
Broward County Housing Authority | Lauderhill, FL | $1,100,064
Miami-Dade County | Miami, FL | $348,960
Miami-Dade County | Miami, FL | $348,014
Miami-Dade County | Miami, FL | $162,929
Miami-Dade County | Miami, FL | $347,130
Miami-Dade County | Miami, FL | $534,832
Miami-Dade County | Miami, FL | $315,170
Miami-Dade County | Miami, FL | $273,807
Miami-Dade County | Miami, FL | $192,665
Miami-Dade County | Miami, FL | $425,392
Miami-Dade County | Miami, FL | $311,679
Miami-Dade County | Miami, FL | $118,395
Miami-Dade County | Miami, FL | $450,120
Miami-Dade County | Miami, FL | $313,139
Miami-Dade County | Miami, FL | $149,893
Miami-Dade County | Miami, FL | $687,505
Miami-Dade County | Miami, FL | $149,472
Miami-Dade County | Miami, FL | $618,636
Miami-Dade County | Miami, FL | $273,420
Miami-Dade County | Miami, FL | $124,996
Miami-Dade County | Miami, FL | $241,800
Miami-Dade County | Miami, FL | $170,017
Miami-Dade County | Miami, FL | $158,095
Miami-Dade County | Miami, FL | $93,000
Miami-Dade County | Miami, FL | $271,032
Miami-Dade County | Miami, FL | $178,172
Miami-Dade County | Miami, FL | $231,384
Miami-Dade County | Miami, FL | $283,272
Miami-Dade County | Miami, FL | $216,704
Miami-Dade County | Miami, FL | $860,114
Miami-Dade County | Miami, FL | $451,140
Miami-Dade County | Miami, FL | $180,048
Miami-Dade County | Miami, FL | $85,677
Miami-Dade County | Miami, FL | $292,660
Miami-Dade County | Miami, FL | $113,663
Miami-Dade County | Miami, FL | $33,957
Miami-Dade County | Miami, FL | $34,188
Miami-Dade County | Miami, FL | $364,854
Miami-Dade County | Miami, FL | $395,000
Miami-Dade County | Miami, FL | $339,721
Miami-Dade County | Miami, FL | $251,071
Miami-Dade County | Miami, FL | $348,236
Miami-Dade County | Miami, FL | $528,062
Miami-Dade County | Miami, FL | $527,999
Miami-Dade County | Miami, FL | $106,994
Miami-Dade County | Miami, FL | $84,000
Miami-Dade County | Miami, FL | $434,700
Miami-Dade County | Miami, FL | $392,418
Miami-Dade County | Miami, FL | $363,480
Miami-Dade County | Miami, FL | $698,784
Miami-Dade County | Miami, FL | $357,791
Miami-Dade County | Miami, FL | $138,789
Miami-Dade County | Miami, FL | $124,621
Miami-Dade County | Miami, FL | $148,010
Miami-Dade County | Miami, FL | $63,993
Miami-Dade County | Miami, FL | $382,596
Miami-Dade County | Miami, FL | $722,786
Miami-Dade County | Miami, FL | $79,485
Miami-Dade County | Miami, FL | $128,330
Miami-Dade County | Miami, FL | $2,000,460
Miami-Dade County | Miami, FL | $129,138
Carrfour Supportive Housing | Miami, FL | $409,479
Miami-Dade County | Miami, FL | $125,000
Miami-Dade County | Miami, FL | $57,668
Miami-Dade County | Miami, FL | $174,998
Collier County Board of Commissioners | Naples, FL | $153,384
Collier County Board of Commissioners | Naples, FL | $104,645
St. Matthew's House | Naples, FL | $109,562
Lee County Board of County Commissioners | North Fort Myers, FL | $222,069
Lee County Board of County Commissioners | North Fort Myers, FL | $1,064,138
Lee County Board of County Commissioners | North Fort Myers, FL | $550,043
Lee County Board of County Commissioners | North Fort Myers, FL | $90,508
Lee County Board of County Commissioners | North Fort Myers, FL | $180,509
Lee County Board of County Commissioners | North Fort Myers, FL | $119,722
United Way of Marion County | Ocala, FL | $75,374
Home, Health & Hope, Inc. | Ocala, FL | $137,368
Soul Harvest Word, Wordship & Praise Ministries | Ocala, FL | $278,963
Homeless Services Network of Central Florida | Orlando, FL | $355,627
Homeless Services Network of Central Florida | Orlando, FL | $809,235
Homeless Services Network of Central Florida | Orlando, FL | $97,999
Homeless Services Network of Central Florida | Orlando, FL | $255,681
Homeless Services Network of Central Florida | Orlando, FL | $210,000
Homeless Services Network of Central Florida | Orlando, FL | $356,920
Homeless Services Network of Central Florida | Orlando, FL | $155,241
Homeless Services Network of Central Florida | Orlando, FL | $224,750
Homeless Services Network of Central Florida | Orlando, FL | $420,000
Homeless Services Network of Central Florida | Orlando, FL | $169,204
Homeless Services Network of Central Florida | Orlando, FL | $73,683
Homeless Services Network of Central Florida | Orlando, FL | $141,181
Homeless Services Network of Central Florida | Orlando, FL | $294,128
Homeless Services Network of Central Florida | Orlando, FL | $275,655
Homeless Services Network of Central Florida | Orlando, FL | $311,096
Homeless & Hunger Coalition of Northwest Florida, Inc. | Panama City, FL | $47,482
Loaves and Fishes Soup | Pensacola, FL | $248,672
Escarosa Coalition on the Homeless | Pensacola, FL | $42,943
Lakeview Center, Inc. | Pensacola, FL | $307,887
Charlotte County Homeless Coalition, Inc. | Port Charlotte, FL | $121,000
Charlotte Community Mental Health Services, Inc. | Punta Gorda, FL | $121,000
Housing Partnership, Inc. | Riviera Beach, FL | $57,224
Seminole County, Florida | Sanford, FL | $734,040
The Salvation Army, a Georgia Corporation | Sarasota, FL | $200,060
Emergency Services and Homeless Coalition of St. Johns County, Inc. | St. Augustine, FL | $89,610
Emergency Services and Homeless Coalition of St. Johns County, Inc. | St. Augustine, FL | $62,790
Boley Centers for Behavioral Health Care, Inc | St. Petersburg, FL | $133,929
ALPHA “A Beginning”, Inc. | St. Petersburg, FL | $69,888
Boley Centers for Behavioral Health Care, Inc | St. Petersburg, FL | $1,744,682
Operation PAR, Inc. | St. Petersburg, FL | $100,452
YWCA of Tampa Bay | St. Petersburg, FL | $176,237
Boley Centers for Behavioral Health Care, Inc | St. Petersburg, FL | $253,779
Suncoast Center Mental Health, Inc. | St. Petersburg, FL | $147,731
Martin County Board of County Commissioners | Stuart, FL | $389,520
Tallahassee Coalition for the Homeless | Tallahassee, FL | $1,042,231
Volunteers of America of Florida, Inc | Tampa, FL | $168,743
Volunteers of America of Florida, Inc. | Tampa, FL | $343,033
Agency for Community Treatment Services, Inc. | Tampa, FL | $50,400
The Salvation Army, a Georgia Corporation | Tampa, FL | $489,490
Volunteers of America of Florida, Inc. | Tampa, FL | $703,561
The Salvation Army, a Georgia Corporation | Tampa, FL | $288,934
Agency for Community Treatment Services, Inc | Tampa, FL | $96,307
Agency for Community Treatment Services, Inc | Tampa, FL | $499,999
Homeless Coalition of Hillsborough County, Inc. | Tampa, FL | $190,000
Agency for Community Treatment Services, Inc | Tampa, FL | $46,666
Mental Health Care, Inc. | Tampa, FL | $886,000
Hillsborough County Crisis Center, Inc. | Tampa, FL | $65,510
Alpha House of Tampa, Inc. | Tampa, FL | $154,438
Volunteers of America of Florida, Inc. | Tampa, FL | $421,331
Volunteers of America of Florida, Inc. | Tampa, FL | $681,500
Catholic Charities, Diocese of Venice, Inc. | Venice, FL | $360,415
Indian River County Board of County Commissioners | Vero Beach, FL | $36,177
Indian River County Board of County Commissioners | Vero Beach, FL | $24,581
Florida Housing Corporation | West Palm Beach, FL | $257,191
Oakwood Center of the Palm Beaches, Inc. | West Palm Beach, FL | $381,304
Palm Beach County Board of County Commissioners | West Palm Beach, FL | $438,254
Young Women's Christian Assoc. of Palm Beach County FL. Inc. | West Palm Beach, FL | $285,801
Florida Housing Corporation | West Palm Beach, FL | $249,527
Gulfstream Goodwill Industries | West Palm Beach, FL | $178,816
Palm Beach County Board of County Commissioners | West Palm Beach, FL | $776,220
Gulfstream Goodwill Industries | West Palm Beach, FL | $194,029
The Lord's Place, Inc. | West Palm Beach, FL | $283,023
The Lord's Place, Inc. | West Palm Beach, FL | $182,984
Children's Home Society of Florida | West Palm Beach, FL | $127,620
Florida Housing Corporation | West Palm Beach, FL | $86,415
Early Childhood Resources, Inc. | Winter Haven, FL | $132,108
House of Grace Inc. | Adel, GA | $129,529
First Monumental Faith COC, Inc. | Albany, GA | $117,303
Unified Government of Athens-Clarke County | Athens, GA | $243,482
Unified Government of Athens-Clarke County | Athens, GA | $213,600
Unified Government of Athens-Clarke County | Athens, GA | $79,800
Alternate Life Paths Program, Inc. | Atlanta, GA | $48,572
St. Jude's Recovery Center, Inc. | Atlanta, GA | $278,342
St. Jude's Recovery Center, Inc. | Atlanta, GA | $73,768
Jerusalem House, Inc. | Atlanta, GA | $193,704
Georgia Housing and Finance Authority | Atlanta, GA | $184,560
Georgia Housing and Finance Authority | Atlanta, GA | $346,200
St. Jude's Recovery Center, Inc. | Atlanta, GA | $715,311
Georgia Law Center on Homelessness and Poverty, Inc. | Atlanta, GA | $294,000
Atlanta Enterprise Center, Inc. | Atlanta, GA | $190,955
Board of Commissioners of Fulton County, Georgia | Atlanta, GA | $373,951
Samaritan House of Atlanta | Atlanta, GA | $78,820
Travelers Aid of Metropolitan Atlanta, Inc. | Atlanta, GA | $169,441
Saint Joseph's Mercy Care Services, Inc. | Atlanta, GA | $36,823
Community Advanced Practice Nurses, Inc. | Atlanta, GA | $46,423
Board of Commissioners of Fulton County, Georgia | Atlanta, GA | $702,814
Community Advanced Practice Nurses, Inc. | Atlanta, GA | $18,517
Furniture Bank of Metro Atlanta | Atlanta, GA | $70,010
Jewish Family & Career Services | Atlanta, GA | $157,729
The Young Adult Guidance Center, Inc. | Atlanta, GA | $154,396
Metro Atlanta Task Force for the Homeless, Inc. | Atlanta, GA | $338,100
Nicholas House, Inc. | Atlanta, GA | $36,141
Genesis Shelter, Inc | Atlanta, GA | $136,500
Georgia Housing and Finance Authority | Atlanta, GA | $403,080
The Salvation Army, a Georgia Corporation | Atlanta, GA | $397,350
St. Jude's Recovery Center, Inc. | Atlanta, GA | $328,898
Georgia Housing and Finance Authority | Atlanta, GA | $556,800
Action Ministries, dba Atlanta Urban Ministries | Atlanta, GA | $70,000
Georgia Housing and Finance Authority | Atlanta, GA | $44,640
Georgia Housing and Finance Authority | Atlanta, GA | $1,140,240
Georgia Housing and Finance Authority | Atlanta, GA | $824,400
Georgia Housing and Finance Authority | Atlanta, GA | $246,600
Georgia Housing and Finance Authority | Atlanta, GA | $130,320
Georgia Housing and Finance Authority | Atlanta, GA | $1,494,600
Georgia Housing and Finance Authority | Atlanta, GA | $692,280
Georgia Housing and Finance Authority | Atlanta, GA | $384,840
The Achor Center, Inc. | Atlanta, GA | $378,311
Community Advanced Practice Nurses, Inc. | Atlanta, GA | $39,039
Families First, Inc. | Atlanta, GA | $184,013
Buckhead Christian Ministry | Atlanta, GA | $80,000
Georgia Housing and Finance Authority | Atlanta, GA | $38,448
The Salvation Army, A Georgia Corporation | Atlanta, GA | $349,188
Hope House Inc. | Augusta, GA | $58,842
Augusta, Georgia | Augusta, GA | $67,517
CSRA Economic Opportunity Authority, Inc. | Augusta, GA | $131,712
CSRA Economic Opportunity Authority, Inc. | Augusta, GA | $119,081
House of T.I.M.E., Inc. | Columbus, GA | $134,343
House of T.I.M.E., Inc. | Columbus, GA | $212,736
Stewart Community Home, Inc. | Columbus, GA | $285,620
New Horizons Community Service Board | Columbus, GA | $45,122
Open Door Community House, Inc. | Columbus, GA | $267,745
Progressive Redevelopment, Inc. | Decatur, GA | $563,246
Phoenix Alliance, Inc. | Decatur, GA | $58,371
Initiative for Affordable Housing, Inc. | Decatur, GA | $320,938
Our Common Welfare, Incorporated | Decatur, GA | $158,033
Gwinnett Housing Resource Partnership, Inc. | Duluth, GA | $146,895
Calvary Refuge, Inc. | Forest Park, GA | $203,326
Hall Family Initiative Residences, Inc. | Gainesville, GA | $87,404
City of Hinesville | Hinesville, GA | $187,639
Goodwill Industries of Middle Georgia, Inc. | Macon, GA | $148,067
The Salvation Army | Macon, GA | $505,951
Macon Bibb Economic Opportunity Council, Inc. | Macon, GA | $94,500
Loaves & Fishes Ministries of Macon | Macon, GA | $23,230
Goodwill Industries of Middle Georgia, Inc. | Macon, GA | $110,310
Marietta Housing Authority | Marietta, GA | $241,320
Cobb County, GA | Marietta, GA | $60,000
The Center for Family Resources | Marietta, GA | $96,700
The Center for Family Resources | Marietta, GA | $191,202
The Center for Family Resources | Marietta, GA | $85,323
Young Women's Christian Association of Northwest Georgia Inc. | Marietta, GA | $519,568
MUST Ministries | Marietta, GA | $105,840
MUST Ministries | Marietta, GA | $211,680
MUST Ministries | Marietta, GA | $105,000
The Center for Family Resources | Marietta, GA | $441,009
Colquitt County Serenity House Project, Inc. | Moultrie, GA | $596,706
Housing Initiative of North Fulton | Roswell, GA | $23,646
Union Mission, Inc. | Savannah, GA | $218,876
City of Savannah | Savannah, GA | $246,732
Housing Authority of Savannah | Savannah, GA | $478,632
Housing Authority of Savannah | Savannah, GA | $435,252
Chatham-Savannah Authority for the Homeless | Savannah, GA | $179,256
City of Savannah | Savannah, GA | $685,125
Greenbriar Children's Center, Inc. | Savannah, GA | $398,424
Chatham-Savannah Authority for the Homeless | Savannah, GA | $223,469
Economic Opportunity Authority for Savannah-Chatham County Area, Inc. | Savannah, GA | $220,500
Citizens Against Violence, Inc. | Statesboro, GA | $119,999
Citizens Against Violence, Inc. | Statesboro, GA | $145,465
Housing Authority of the City of Tampa | Tampa, GA | $802,800
South Georgia Coalition to End Homelessness | Valdosta, GA | $745,500
HODAC, Inc. | Warner Robins, GA | $42,891
Guam Housing and Urban Renewal Authority | Sinajana, GU | $699,720
Guam Housing and Urban Renewal Authority | Sinajana, GU | $138,100
Child and Family Service | Ewa Beach, HI | $123,470
Legal Aid Society of Hawaii | Honolulu, HI | $129,339
State of Hawaii | Honolulu, HI | $94,632
The Salvation Army, a California corporation | Honolulu, HI | $575,812
Homeless Solutions, Inc. | Honolulu, HI | $165,395
Mental Health Kokua | Honolulu, HI | $870,274
City and County of Honolulu | Honolulu, HI | $306,936
City and County of Honolulu | Honolulu, HI | $503,796
City and County of Honolulu | Honolulu, HI | $515,400
Steadfast Housing Development Corporation | Honolulu, HI | $123,480
Steadfast Housing Development Corporation | Honolulu, HI | $66,769
HCDCH, State of Hawaii | Honolulu, HI | $126,863
Parents And Children Together | Honolulu, HI | $277,410
HCDCH, State of Hawaii | Honolulu, HI | $796,020
State of Hawaii | Honolulu, HI | $181,020
City and County of Honolulu | Honolulu, HI | $133,608
United States Veterans Imitative, HI | Kalaeloa, HI | $682,526
Youth and Shelter Services | Ames, IA | $189,670
Youth and Shelter Services | Ames, IA | $128,457
Area Substance Abuse Council | Clinton, IA | $104,223
YWCA of Clinton | Clinton, IA | $49,232
The Christian Worship Center | Council Bluffs, IA | $511,798
Family Resources, Inc. | Davenport, IA | $39,525
Family Resources, Inc. | Davenport, IA | $37,625
Family Resources, Inc. | Davenport, IA | $37,549
John Lewis Coffee Shop, Inc. | Davenport, IA | $207,000
John Lewis Coffee Shop, Inc. | Davenport, IA | $415,600
John Lewis Coffee Shop, Inc. | Davenport, IA | $440,000
John Lewis Coffee Shop, Inc. | Davenport, IA | $220,000
Iowa Institute for Community Alliances | Des Moines, IA | $758,940
Iowa Finance Authority | Des Moines, IA | $153,720
Iowa Institute For Community Alliances | Des Moines, IA | $89,250
City of Des Moines | Des Moines, IA | $289,733
City of Des Moines | Des Moines, IA | $721,752
City of Des Moines | Des Moines, IA | $227,468
City of Des Moines | Des Moines, IA | $102,217
Opening Doors | Dubuque, IA | $42,222
Project Concern, Inc. | Dubuque, IA | $31,570
Hawkeye Area Community Action Program, Inc. | Hiawatha, IA | $87,217
Hawkeye Area Community Action Program, Inc. | Hiawatha, IA | $17,215
Hawkeye Area Community Action Program, Inc. | Hiawatha, IA | $215,072
Hawkeye Area Community Action Program, Inc. | Hiawatha, IA | $30,998
Hawkeye Area Community Action Program, Inc. | Hiawatha, IA | $329,499
Shelter House Community Shelter and Transition Services | Iowa City, IA | $448,318
City of Sioux City | Sioux City, IA | $113,452
Center For Siouxland | Sioux City, IA | $80,062
Center For Siouxland | Sioux City, IA | $128,168
Community Action Agency of Siouxland | Sioux City, IA | $137,241
Crittenton Center | Sioux City, IA | $184,527
Family Service League | Waterloo, IA | $133,495
Family Service League | Waterloo, IA | $377,703
Cedar Valley Friends of the Family | Waverly, IA | $254,249
Idaho Housing and Finance Association | Boise, ID | $131,250
Idaho Housing and Finance Association | Boise, ID | $82,363
Idaho Housing and Finance Association | Boise, ID | $55,708
Idaho Housing and Finance Association | Boise, ID | $42,300
Idaho Housing and Finance Association | Boise, ID | $85,037
Idaho Housing and Finance Association | Boise, ID | $41,577
Idaho Housing and Finance Association | Boise, ID | $50,797
Idaho Housing and Finance Association | Boise, ID | $96,967
Idaho Housing and Finance Association | Boise, ID | $88,989
Idaho Housing and Finance Association | Boise, ID | $91,944
Ada County & Boise City Housing Authority | Boise, ID | $211,582
Idaho Housing and Finance Association | Boise, ID | $95,729
Idaho Housing and Finance Association | Boise, ID | $81,735
Idaho Housing and Finance Association | Boise, ID | $681,180
Women's and Children's Alliance | Boise, ID | $119,123
Ada County & Boise City Housing Authority | Boise, ID | $150,284
Idaho Housing and Finance Association | Boise, ID | $96,495
Idaho Housing and Finance Association | Boise, ID | $136,920
Idaho Housing and Finance Association | Boise, ID | $72,502
Idaho Housing and Finance Association | Boise, ID | $123,511
Ada County & Boise City Housing Authority | Boise, ID | $64,514
Idaho Housing and Finance Association | Boise, ID | $60,804
St. Vincent de Paul | Coeur d'Alene, ID | $187,929
YMCA of Metropolitan Chicago/YMCA Network | Alsip, IL | $601,829
Land of Lincoln Legal Assistance Foundation | Alton, IL | $47,584
Land of Lincoln Legal Assistance Foundation, Inc. | Alton, IL | $131,888
Public Action to Deliver Shelter, Inc. | Aurora, IL | $234,302
St. Clair County | Belleville, IL | $170,380
St. Clair County | Belleville, IL | $525,000
Community Care Options | Berwyn, IL | $1,526,542
City of Bloomington | Bloomington, IL | $75,733
City of Bloomington | Bloomington, IL | $148,240
City of Bloomington | Bloomington, IL | $63,865
City of Bloomington | Bloomington, IL | $23,184
City of Bloomington | Bloomington, IL | $6,581
City of Bloomington | Bloomington, IL | $65,835
City of Bloomington | Bloomington, IL | $171,353
Good Samaritan Ministries, A Project of Carbondale Interchurch Council | Carbondale, IL | $74,397
B.C.M.W. Community Services | Centralia, IL | $19,597
Mental Health Center of Champaign County | Champaign, IL | $549,502
City of Chicago Department of Housing | Chicago, IL | $35,647
Deborah's Place | Chicago, IL | $150,144
City of Chicago Department of Housing | Chicago, IL | $804,460
Deborah's Place | Chicago, IL | $188,064
City of Chicago Department of Housing | Chicago, IL | $60,585
City of Chicago Department of Housing | Chicago, IL | $668,152
City of Chicago Department of Housing | Chicago, IL | $292,057
City of Chicago Department of Housing | Chicago, IL | $49,875
Teen Living Programs, Inc. | Chicago, IL | $194,378
Chicago House and Social Service Agency | Chicago, IL | $45,123
Deborah's Place | Chicago, IL | $414,750
The Renaissance Collaborative, Inc. | Chicago, IL | $189,525
Human Resources Development Institute, Inc. (HRDI) | Chicago, IL | $469,909
Community Support Living Systems, Inc. | Chicago, IL | $203,150
Vital Bridges, NFP | Chicago, IL | $506,592
The Inner Voice, Inc. | Chicago, IL | $348,807
St. Leonard's Ministries | Chicago, IL | $47,250
The Inner Voice, Inc. | Chicago, IL | $205,452
Beacon Therapeutic School Inc., d/b/a Beacon Therapeutic Diagnostic and Treatment Center | Chicago, IL | $1,083,562
Family Rescue, Inc. | Chicago, IL | $611,859
Family Rescue, Inc. | Chicago, IL | $64,628
The Night Ministry | Chicago, IL | $74,260
Jewish Federation of Metropolitan Chicago | Chicago, IL | $163,104
CEDA Bloom-Rich Community Development Association | Chicago Heights, IL | $475,755
Chapter III of the Affordable Housing Preservation Foundation | Chicago, IL | $420,000
Chapter III of the Affordable Housing Preservation Foundation | Chicago, IL | $2,321,280
Chicago Christian Industrial League | Chicago, IL | $485,820
Chicago Department of Human Services | Chicago, IL | $155,124
Brand New Beginnings, Inc. | Chicago, IL | $420,000
Chicago Department of Human Services | Chicago, IL | $249,768
Featherfist | Chicago, IL | $144,243
Chicago Department of Human Services | Chicago, IL | $238,884
Heartland Human Care Services, Inc. | Chicago, IL | $47,014
AIDS Foundation of Chicago | Chicago, IL | $279,179
AIDS Foundation of Chicago | Chicago, IL | $381,249
Featherfist | Chicago, IL | $249,382
Young Men's Christian Association | Chicago, IL | $256,955
Chicago Department of Human Services | Chicago, IL | $476,520
Featherfist | Chicago, IL | $293,526
Interfaith Housing Development Corporation of Chicago | Chicago, IL | $85,890
Heartland Human Care Services, Inc. | Chicago, IL | $428,126
Chicago Christian Industrial League | Chicago, IL | $50,274
Lakefront Supportive Housing | Chicago, IL | $123,072
Lakefront Supportive Housing | Chicago, IL | $74,717
Lakefront Supportive Housing | Chicago, IL | $257,771
Lakefront Supportive Housing | Chicago, IL | $147,457
Chicago Department of Human Services | Chicago, IL | $100,068
Featherfist | Chicago, IL | $318,130
Featherfist | Chicago, IL | $532,528
Heartland Human Care Services, Inc. | Chicago, IL | $207,936
Housing Opportunities for Women, Inc. | Chicago, IL | $198,368
Housing Opportunities for Women, Inc. | Chicago, IL | $749,999
Featherfist | Chicago, IL | $256,626
Heartland Human Care Services, Inc. | Chicago, IL | $343,819
The Thresholds, Inc. | Chicago, IL | $78,491
Heartland Human Care Services, Inc. | Chicago, IL | $245,020
Heartland Human Care Services, Inc. | Chicago, IL | $939,084
Heartland Human Care Services, Inc. | Chicago, IL | $443,441
Heartland Human Care Services, Inc. | Chicago, IL | $448,853
Interfaith Council for the Homeless | Chicago, IL | $312,241
The Thresholds, Inc. | Chicago, IL | $221,650
Heartland Human Care Services, Inc. | Chicago, IL | $314,986
The Thresholds, Inc. | Chicago, IL | $244,919
Heartland Human Care Services, Inc. | Chicago, IL | $46,298
Renaissance Social Services, Inc. | Chicago, IL | $59,746
State of Illinois, Dept of Veterans Affairs | Chicago, IL | $750,000
Heartland Human Care Services, Inc. | Chicago, IL | $442,062
The Thresholds, Inc. | Chicago, IL | $78,491
Renaissance Social Services, Inc. | Chicago, IL | $23,057
Lakefront Supportive Housing | Chicago, IL | $136,560
The Thresholds, Inc. | Chicago, IL | $109,643
The Thresholds, Inc. | Chicago, IL | $403,605
The Thresholds, Inc. | Chicago, IL | $308,319
Heartland Health Outreach | Chicago, IL | $122,240
Southwest Women Working Together | Chicago, IL | $721,954
New Phoenix Assistance Center | Chicago, IL | $325,780
Heartland Health Outreach | Chicago, IL | $948,721
Bethel New Life, Inc. | Chicago, IL | $96,983
Bethel New Life, Inc. | Chicago, IL | $219,153
Bethel New Life, Inc. | Chicago, IL | $350,557
Unity Parenting & Counseling Inc. | Chicago, IL | $434,758
The Thresholds, Inc. | Chicago, IL | $163,962
Healthcare Alternatives Systems, Inc. (HAS) | Chicago, IL | $214,748
Heartland Health Outreach | Chicago, IL | $488,341
Southwest Women Working Together | Chicago, IL | $314,935
New Phoenix Assistance Center | Chicago, IL | $240,500
Northwestern Memorial Hospital | Chicago, IL | $160,827
Catholic Charities of the Archdiocese of Chicago | Chicago, IL | $1,379,776
Franciscan Outreach Association | Chicago, IL | $52,920
Northwestern Memorial Hospital | Chicago, IL | $332,899
Catholic Charities of the Archdiocese of Chicago | Chicago, IL | $255,976
Residents for Effective Shelter Transitions | Chicago, IL | $185,563
The Employment Project | Chicago, IL | $123,537
Interfaith House Inc. | Chicago, IL | $210,704
Interfaith House Inc. | Chicago, IL | $189,889
Heartland Health Outreach | Chicago, IL | $368,219
New Moms, Inc. | Chicago, IL | $147,860
Southwest Women Working Together | Chicago, IL | $588,746
Circle Urban Ministries | Chicago, IL | $396,875
Chicago Christian Industrial League | Chicago, IL | $250,120
Chicago Christian Industrial League | Chicago, IL | $92,533
Chicago Christian Industrial League | Chicago, IL | $136,599
Lakefront Supportive Housing | Chicago, IL | $74,028
Inspiration Corporation | Chicago, IL | $92,736
Chicago Department of Human Services | Chicago, IL | $27,038
Chicago Department of Human Services | Chicago, IL | $607,068
Chicago Christian Industrial League | Chicago, IL | $375,375
Chicago Department of Human Services | Chicago, IL | $41,580
Housing Authority of the County of Cook | Chicago, IL | $158,064
Chicago Department of Human Services | Chicago, IL | $68,250
Chicago Department of Human Services | Chicago, IL | $57,931
Chicago Department of Human Services | Chicago, IL | $187,200
Chicago Department of Human Services | Chicago, IL | $249,480
Chicago Department of Human Services | Chicago, IL | $39,600
Chicago Christian Industrial League | Chicago, IL | $317,278
Chicago Department of Human Services | Chicago, IL | $249,480
Heartland Health Outreach | Chicago, IL | $130,438
Casa Central Social Services Corporation | Chicago, IL | $471,265
Goldie's Place | Chicago, IL | $67,736
Heartland Health Outreach | Chicago, IL | $156,301
New Moms, Inc. | Chicago, IL | $105,838
Heartland Health Outreach | Chicago, IL | $355,855
Northwestern Memorial Hospital | Chicago, IL | $227,522
Chicago Department of Human Services | Chicago, IL | $478,380
Chicago Department of Human Services | Chicago, IL | $39,600
Chicago Department of Human Services | Chicago, IL | $231,660
Chicago Department of Human Services | Chicago, IL | $420,732
Dove, Inc. | Decatur, IL | $61,471
Dove, Inc. | Decatur, IL | $364,794
Dove, Inc. | Decatur, IL | $222,541
Dove, Inc. | Decatur, IL | $89,581
Hope Haven of DeKalb County, Inc. | DeKalb, IL | $95,270
DeKalb County Residential Development Corporation | DeKalb, IL | $98,375
The Salvation Army | Des Plains, IL | $48,877
Housing Authority of the City of East St. Louis | East St. Louis, IL | $802,080
Madison County Government | Edwardsville, IL | $819,720
Madison County Government | Edwardsville, IL | $303,660
C.E.F.S. Economic Opportunity Corporation | Effingham, IL | $199,675
Community Crisis Center | Elgin, IL | $64,981
Ecker Center for Mental Health | Elgin, IL | $163,030
The Larkin Center | Elgin, IL | $297,425
Ecker Center for Mental Health | Elgin, IL | $504,222
Community Crisis Center | Elgin, IL | $30,135
Connections for the Homeless, Inc. | Evanston, IL | $351,000
Housing Options for the Mentally Ill in Evanston, Inc. | Evanston, IL | $250,680
Housing Options for the Mentally Ill in Evanston, Inc. | Evanston, IL | $354,833
Carver Community Action Agency | Galesburg, IL | $208,282
Bridge Communities, Inc. | Glen Ellyn, IL | $107,289
Chestnut Health Systems | Granite City, IL | $267,612
Children's Home and Aid Society of IL | Granite City, IL | $115,713
Chestnut Health Systems | Granite City, IL | $426,024
Embarras River Basin Agency, Inc. | Greenup, IL | $249,845
Anna Bixby Women's Center | Harrisburg, IL | $77,105
Bethel Human Resources, Inc. | Harvey, IL | $546,816
Catholic Charities, Diocese of Joliet | Joliet, IL | $242,867
Cornerstone Services, Inc. | Joliet, IL | $1,412,607
Christian Family Ministries, Inc.& Lamb's Fold Women's Center | Joliet, IL | $99,750
Cornerstone Services, Inc. | Joliet, IL | $333,543
Trinity Services, Inc. | Joliet, IL | $250,000
Catholic Charities, Diocese of Joliet | Joliet, IL | $754,500
Catholic Charities, Diocese of Joliet | Joliet, IL | $82,240
Catholic Charities, Diocese of Joliet | Joliet, IL | $666,347
Shields Township | Lake Bluff, IL | $722,700
Western Illinois Regional Council—Community Action Agency | Macomb, IL | $54,907
Southern Illinois Coalition for the Homeless | Marion, IL | $58,975
Home of the Sparrow, Inc. | McHenry, IL | $26,250
Pioneer Center of McHenry County | McHenry, IL | $261,819
Pioneer Center of McHenry County | McHenry, IL | $226,464
Home of the Sparrow, Inc. | McHenry, IL | $54,600
Home of the Sparrow, Inc. | McHenry, IL | $86,805
CEDA Northwest Self-Help Center, Inc. | Mount Prospect, IL | $309,746
NCO Youth & Family Services | Naperville, IL | $140,000
Cook County Department of Public Health | Oak Park, IL | $954,120
Stopping Woman Abuse Now | Olney, IL | $73,500
WINGS Program, Inc. | Palatine, IL | $331,029
Goodwill Industries of Central Illinois, Inc. | Peoria, IL | $45,484
The Center for Prevention of Abuse | Peoria, IL | $345,517
Peoria Housing Authority | Peoria, IL | $158,932
Peoria Housing Authority | Peoria, IL | $131,400
YWCA of Peoria, IL | Peoria, IL | $212,380
Peoria Opportunities Foundation | Peoria, IL | $739,515
Pioneer Civic Services | Peoria, IL | $112,912
Freedom House | Princeton, IL | $186,000
Young Women's Christian Association | Quincy, IL | $76,853
Young Women's Christian Association | Quincy, IL | $83,276
Young Women's Christian Association | Quincy, IL | $81,189
Tri-County Opportunities Council | Rock Falls, IL | $186,450
Rock Island Housing Authority | Rock Island, IL | $430,080
Project NOW, Inc., CAA | Rock Island, IL | $119,445
Project NOW, Inc., CAA | Rock Island, IL | $127,944
Project NOW, Inc., CAA | Rock Island, IL | $77,427
Project NOW, Inc., CAA | Rock Island, IL | $58,713
DeLaCerda House, Inc. | Rock Island, IL | $169,288
City of Rockford | Rockford, IL | $33,764
City of Rockford | Rockford, IL | $93,083
Prairie State Legal Services | Rockford, IL | $150,000
City of Rockford | Rockford, IL | $170,640
City of Rockford | Rockford, IL | $170,640
Youth Services Network | Rockford, IL | $250,569
City of Rockford | Rockford, IL | $39,866
Abundant Faith Ministry | Springfield, IL | $48,825
Helping Hands of Springfield, Inc. | Springfield, IL | $115,332
Fifth Street Renaissance | Springfield, IL | $24,150
Youth Service Bureau | Springfield, IL | $91,899
M.E.R.C.Y. Communities. Inc. | Springfield, IL | $167,293
M.E.R.C.Y. Communities. Inc. | Springfield, IL | $242,190
City of Urbana | Urbana, IL | $132,672
Iroquois Mental Health Center | Watseka, IL | $112,213
Lake County | Waukegan, IL | $82,469
Lake County | Waukegan, IL | $118,802
Lake County | Waukegan, IL | $408,753
I-PLUS | Waukegan, IL | $38,414
A Safe Place/Lake County Crisis Center | Waukegan, IL | $105,000
Catholic Charities of the Archdiocese of Chicago (Lake County Services) | Waukegan, IL | $170,100
Lake County | Waukegan, IL | $93,086
DuPage County Health Department | Wheaton, IL | $837,600
DuPage County Health Department | Wheaton, IL | $83,281
DuPage County Health Department | Wheaton, IL | $385,000
The County of DuPage | Wheaton, IL | $203,675
DuPage P.A.D.S., Inc. | Wheaton, IL | $121,322
Housing Opportunity Development Corporation | Wilmette, IL | $562,175
Housing Opportunity Development Corporation | Wilmette, IL | $53,251
McHenry County PADS, Inc. | Woodstock, IL | $105,000
City of Anderson, Indiana | Anderson, IN | $506,820
South Central Community Mental Health Centers Inc. | Bloomington, IN | $113,904
Monroe County Government | Bloomington, IN | $231,920
Interfaith Mission, Inc. DBR Lighthouse | Columbia City, IN | $189,000
Quinco Consulting Center, Inc. | Columbus, IN | $82,127
Human Services, Inc. | Columbus, IN | $152,406
Human Services, Inc. | Columbus, IN | $324,450
City of Elkhart | Elkhart, IN | $140,569
City of Elkhart | Elkhart, IN | $134,294
City of Evansville, Indiana | Evansville, IN | $191,835
City of Evansville, Indiana | Evansville, IN | $57,330
City of Evansville, Indiana | Evansville, IN | $97,001
City of Evansville, Indiana | Evansville, IN | $86,865
City of Evansville, Indiana | Evansville, IN | $60,424
Vincent House, Inc. (Vincent House) | Fort Wayne, IN | $105,888
Margr Alexander CHILD Center, Inc. | Fort Wayne, IN | $52,499
Vincent House, Inc. (Vincent House) | Fort Wayne, IN | $145,354
Vincent House, Inc. (Vincent House) | Fort Wayne, IN | $269,416
Fort Wayne Women's Bureau, Inc. | Fort Wayne, IN | $89,775
Cedars HOPE, Inc. | Fort Wayne, IN | $259,141
Cedars HOPE, Inc. | Fort Wayne, IN | $107,100
Young Women's Christian Association of Fort Wayne, Inc. | Fort Wayne, IN | $331,634
Hope House, Inc. | Fort Wayne, IN | $133,679
Hope House, Inc. | Fort Wayne, IN | $129,780
Pathfinder Services, Inc. | Huntington, IN | $432,054
City of Indianapolis | Indianapolis, IN | $177,801
City of Indianapolis | Indianapolis, IN | $206,038
City of Indianapolis | Indianapolis, IN | $329,400
City of Indianapolis | Indianapolis, IN | $123,900
City of Indianapolis | Indianapolis, IN | $46,116
City of Indianapolis | Indianapolis, IN | $242,466
City of Indianapolis | Indianapolis, IN | $229,504
City of Indianapolis | Indianapolis, IN | $150,860
City of Indianapolis | Indianapolis, IN | $299,268
City of Indianapolis | Indianapolis, IN | $368,550
City of Indianapolis | Indianapolis, IN | $180,761
City of Indianapolis | Indianapolis, IN | $101,461
City of Indianapolis | Indianapolis, IN | $267,300
City of Indianapolis | Indianapolis, IN | $214,912
State of Indiana | Indianapolis, IN | $185,580
State of Indiana | Indianapolis, IN | $1,836,000
State of Indiana | Indianapolis, IN | $143,520
City of Indianapolis | Indianapolis, IN | $242,264
State of Indiana | Indianapolis, IN | $55,200
City of Indianapolis | Indianapolis, IN | $509,352
State of Indiana | Indianapolis, IN | $98,520
LifeSpring, Inc. | Jeffersonville, IN | $235,571
Lafayette Transitional Housing Center, Inc. | Lafayette, IN | $226,013
Community Mental Health Center, Inc. | Lawrenceburg, IN | $305,835
Community Mental Health Center, Inc. | Lawrenceburg, IN | $322,576
Community Mental Health Center, Inc. | Lawrenceburg, IN | $249,256
Open Door Community Services, Inc. | Muncie, IN | $349,263
Family Services of Delaware County, Indiana, Inc. | Muncie, IN | $448,853
Salvation Army | New Albany, IN | $364,042
City of South Bend | South Bend, IN | $243,840
City of South Bend | South Bend, IN | $96,864
Center for the Homeless | South Bend, IN | $577,779
Life Treatment Centers, Inc | South Bend, IN | $210,878
Family & Children's Center Counseling and Development Services, Inc. | South Bend, IN | $403,000
AIDS Ministries/AIDS Assist of North Indiana, Inc. | South Bend, IN | $44,712
AIDS Ministries AIDS Assist of North Indiana, Inc. | South Bend, IN | $106,675
Mental Health Association in Vigo County | Terre Haute, IN | $628,425
Housing Opportunities, Inc. | Valparaiso, IN | $568,452
Housing Opportunities, Inc. | Valparaiso, IN | $249,501
Housing Opportunities, Inc. | Valparaiso, IN | $248,204
Kosciusko County Shelter for Abuse, Inc. dba The Braman Home | Warsaw, IN | $78,870
CLASS LTD. | Columbus, KS | $554,659
New Beginnings, Inc. | Hutchinson, KS | $377,147
Olathe Family Resource Center/Johnson County Community College | Olathe, KS | $118,200
Johnson County Interfaith Hospitality Network, Inc. | Overland Park, KS | $64,600
My Father's House Community Services | Paola, KS | $646,135
Johnson County Mental Health Center | Shawnee, KS | $252,420
City of Topeka, Kansas | Topeka, KS | $1,181,208
Community Resources Council of Shawnee County, Kansas, Inc. | Topeka, KS | $19,483
Kansas Housing Resources Center | Topeka, KS | $399,000
COMCARE of Sedgwick County | Wichita, KS | $123,283
City of Wichita Housing Authority | Wichita, KS | $668,676
Inter-Faith Ministries Wichita, Inc. | Wichita, KS | $129,150
United Way of the Plains | Wichita, KS | $259,993
Transitions, Inc. | Bellevue, KY | $238,088
Northern Kentucky Mental Health—Mental Retardation Regional Board, Inc. | Covington, KY | $166,667
Welcome House of No. KY, Inc. | Covington, KY | $469,110
Commonwealth of Kentucky | Frankfort, KY | $103,884
Commonwealth of Kentucky | Frankfort, KY | $315,547
Commonwealth of Kentucky | Frankfort, KY | $31,246
Commonwealth of Kentucky | Frankfort, KY | $64,115
Commonwealth of Kentucky | Frankfort, KY | $103,884
Commonwealth of Kentucky | Frankfort, KY | $17,184
Commonwealth of Kentucky | Frankfort, KY | $154,629
Commonwealth of Kentucky | Frankfort, KY | $750,000
Commonwealth of Kentucky | Frankfort, KY | $193,257
Commonwealth of Kentucky | Frankfort, KY | $121,752
Commonwealth of Kentucky | Frankfort, KY | $333,333
Commonwealth of Kentucky | Frankfort, KY | $582,388
Chrysalis House, Inc. | Lexington, KY | $118,470
New Beginnings Bluegrass, Inc. | Lexington, KY | $61,676
Lexington-Fayette Urban County Housing Authority | Lexington, KY | $173,976
Chrysalis House, Inc. | Lexington, KY | $100,685
The Salvation Army, a Georgia Corporation | Louisville, KY | $120,000
House of Ruth, Inc. | Louisville, KY | $9,503
Volunteers of America of KY, Inc. | Louisville, KY | $199,043
Louisville-Jefferson County Metro Government | Louisville, KY | $476,964
Volunteers of America of KY, Inc. | Louisville, KY | $27,726
Schizophrenia Foundation, Kentucky Inc. | Louisville, KY | $17,369
Louisville-Jefferson County Metro Government | Louisville, KY | $27,216
Schizophrenia Foundation, Kentucky Inc. | Louisville, KY | $211,650
Louisville-Jefferson County Metro Government | Louisville, KY | $493,500
House of Ruth, Inc. | Louisville, KY | $29,400
Volunteers of America of KY, Inc. | Louisville, KY | $144,843
Louisville-Jefferson County Metro Government | Louisville, KY | $27,216
Society of St. Vincent de Paul, Council of Louisville, Inc. | Louisville, KY | $137,939
OASIS, Inc. | Owensboro, KY | $1,545,678
Hope House of Central Louisiana | Alexandria, LA | $58,246
Hope House of Central Louisiana | Alexandria, LA | $135,537
Office of Mental Health | Alexandria, LA | $205,758
Volunteers of America, Greater Baton Rouge, Inc. | Baton Rouge, LA | $179,583
Volunteers of America, Greater Baton Rouge, Inc. | Baton Rouge, LA | $173,105
City of Baton Rouge & Parish of East Baton Rouge | Baton Rouge, LA | $181,648
City of Baton Rouge & Parish of East Baton Rouge | Baton Rouge, LA | $32,467
City of Baton Rouge & Parish of East Baton Rouge | Baton Rouge, LA | $196,735
The Church United for Community Development | Baton Rouge, LA | $410,302
City of Baton Rouge & Parish of East Baton Rouge | Baton Rouge, LA | $82,151
City of Baton Rouge & Parish of East Baton Rouge | Baton Rouge, LA | $39,900
City of Baton Rouge & Parish of East Baton Rouge | Baton Rouge, LA | $64,394
City of Baton Rouge & Parish of East Baton Rouge | Baton Rouge, LA | $93,164
City of Baton Rouge & Parish of East Baton Rouge | Baton Rouge, LA | $96,769
City of Baton Rouge & Parish of East Baton Rouge | Baton Rouge, LA | $63,419
Volunteers of America, Greater Baton Rouge, Inc. | Baton Rouge, LA | $135,184
City of Baton Rouge & Parish of East Baton Rouge | Baton Rouge, LA | $102,558
City of Baton Rouge & Parish of East Baton Rouge | Baton Rouge, LA | $51,435
St. Mary Community Action Agency, Inc. | Franklin, LA | $64,496
St. Mary Community Action Agency, Inc. | Franklin, LA | $71,662
Responsibility House, Inc. | Gretna, LA | $134,145
Gulf Coast Teaching Family Services, Inc. | Gretna, LA | $593,684
Northlake Community Development | Hammond, LA | $178,000
Southeast Spouse Abuse Program | Hammond, LA | $144,298
Southeastern Louisiana University | Hammond, LA | $148,109
START Corporation | Houma, LA | $493,684
Eastern Louisiana Mental Health System | Jackson, LA | $157,791
Metropolitan Battered Women's Program, Inc. | Jefferson, LA | $113,344
Acadiana Outreach Center | Lafayette, LA | $35,641
Acadiana Outreach Center, Inc. | Lafayette, LA | $147,870
Acadiana Outreach Center, Inc. | Lafayette, LA | $56,025
Lafayette Catholic Service Centers, Inc. | Lafayette, LA | $301,599
Lafayette Catholic Service Centers, Inc. | Lafayette, LA | $105,263
Lafayette Catholic Service Centers, Inc. | Lafayette, LA | $290,761
Volunteers of America, Greater Baton Rouge | Lake Charles, LA | $180,015
Southwestern Louisiana Homeless Coalition, Inc. | Lake Charles, LA | $52,454
Southwestern Louisiana Homeless Coalition, Inc. | Lake Charles, LA | $56,158
Volunteer Center Southwest Louisiana | Lake Charles, LA | $116,484
Housing Authority of City of Lake Charles | Lake Charles, LA | $427,800
Vernon Community Action Council, Inc. | Leesville, LA | $70,092
Volunteers of America, Greater New Orleans | Mandeville, LA | $50,000
Volunteers of America, Greater New Orleans | Mandeville, LA | $575,955
Volunteers of America, Greater New Orleans | Mandeville, LA | $109,290
Southeast Louisiana Hospital | Mandeville, LA | $68,432
Southeast Louisiana Hospital | Mandeville, LA | $163,257
Volunteers of America, Greater New Orleans | Mandeville, LA | $158,726
Southeast Louisiana Hospital | Mandeville, LA | $80,134
Jefferson Parish Human Services Authority | Metairie, LA | $277,473
Young Women's Christian Association | Monroe, LA | $135,188
Young Women's Christian Association | Monroe, LA | $244,942
Young Women's Christian Association | Monroe, LA | $175,268
Covenant House New Orleans | New Orleans, LA | $144,153
Catholic Charities Archdiocese of New Orleans | New Orleans, LA | $99,418
UNITY for the Homeless | New Orleans, LA | $567,401
Catholic Charities Archdiocese of New Orleans | New Orleans, LA | $91,657
Catholic Charities Archdiocese of New Orleans | New Orleans, LA | $123,422
Volunteers of America of Greater New Orleans, Inc. | New Orleans, LA | $470,234
City of New Orleans | New Orleans, LA | $423,480
Volunteers of America of Greater New Orleans, Inc. | New Orleans, LA | $525,000
UNITY for the Homeless | New Orleans, LA | $161,450
UNITY for the Homeless | New Orleans, LA | $173,756
Louisiana Department of Health and Hospitals | New Orleans, LA | $844,752
UNITY for the Homeless | New Orleans, LA | $209,114
UNITY for the Homeless | New Orleans, LA | $1,500,000
UNITY for the Homeless | New Orleans, LA | $839,267
Covenant House New Orleans | New Orleans, LA | $78,294
UNITY for the Homeless | New Orleans, LA | $484,617
UNITY for the Homeless | New Orleans, LA | $168,261
UNITY for the Homeless | New Orleans, LA | $320,937
UNITY for the Homeless | New Orleans, LA | $378,253
UNITY for the Homeless | New Orleans, LA | $134,684
UNITY for the Homeless | New Orleans, LA | $181,913
UNITY for the Homeless | New Orleans, LA | $339,530
UNITY for the Homeless | New Orleans, LA | $256,490
NAMI New Orleans | New Orleans, LA | $153,421
UNITY for the Homeless | New Orleans, LA | $356,942
UNITY for the Homeless | New Orleans, LA | $104,201
UNITY for the Homeless | New Orleans, LA | $240,828
UNITY for the Homeless | New Orleans, LA | $196,452
UNITY for the Homeless | New Orleans, LA | $280,326
UNITY for the Homeless | New Orleans, LA | $900,000
Covenant House New Orleans | New Orleans, LA | $44,343
UNITY for the Homeless | New Orleans, LA | $83,431
Elisha Ministries | Ruston, LA | $306,410
Volunteers of America of North Louisiana | Shreveport, LA | $154,795
Community Support Programs, Inc. | Shreveport, LA | $263,209
Volunteers of America of North Louisiana | Shreveport, LA | $103,775
Volunteers of America of North Louisiana | Shreveport, LA | $100,736
YWCA of Northwest Louisiana, Inc. | Shreveport, LA | $96,394
Shreveport SRO, Inc. | Shreveport, LA | $65,240
Volunteers of America of North Louisiana | Shreveport, LA | $747,779
Shreveport SRO, Inc. | Shreveport, LA | $142,712
Caddo Parish School Board | Shreveport, LA | $89,237
Providence House | Shreveport, LA | $155,555
Community Support Programs, Inc. | Shreveport, LA | $301,902
Council on Alcoholism and Drug Abuse | Shreveport, LA | $250,000
Providence House | Shreveport, LA | $91,536
Philadelphia Center | Shreveport, LA | $176,400
Community Support Programs, Inc. | Shreveport, LA | $77,075
Shreveport SRO, Inc. | Shreveport, LA | $227,816
United Way of Greater Attleboro/Taunton, Inc. | Attleboro, MA | $416,695
City of Boston Acting by and through its Public Facilities Commission | Boston, MA | $363,384
City of Boston Acting by and through its Public Facilities Commission | Boston, MA | $221,472
City of Boston Acting by and through its Public Facilities Commission | Boston, MA | $371,971
City of Boston Acting by and through its Public Facilities Commission | Boston, MA | $120,342
City of Boston Acting by and through its Public Facilities Commission | Boston, MA | $233,009
City of Boston Acting by and through its Public Facilities Commission | Boston, MA | $173,726
City of Boston Acting by and through its Public Facilities Commission | Boston, MA | $227,607
City of Boston Acting by and through its Public Facilities Commission | Boston, MA | $88,733
City of Boston Acting by and through its Public Facilities Commission | Boston, MA | $228,739
City of Boston Acting by and through its Public Facilities Commission | Boston, MA | $350,736
City of Boston Acting by and through its Public Facilities Commission | Boston, MA | $175,332
City of Boston Acting by and through its Public Facilities Commission | Boston, MA | $232,987
City of Boston Acting by and through its Public Facilities Commission | Boston, MA | $1,543,789
City of Boston Acting by and through its Public Facilities Commission | Boston, MA | $101,302
City of Boston Acting by and through its Public Facilities Commission | Boston, MA | $228,522
City of Boston Acting by and through its Public Facilities Commission | Boston, MA | $733,271
City of Boston Acting by and through its Public Facilities Commission | Boston, MA | $259,141
City of Boston Acting by and through its Public Facilities Commission | Boston, MA | $141,053
City of Boston Acting by and through its Public Facilities Commission | Boston, MA | $509,617
City of Boston Acting by and through its Public Facilities Commission | Boston, MA | $208,357
City of Boston Acting by and through its Public Facilities Commission | Boston, MA | $334,551
City of Boston Acting by and through its Public Facilities Commission | Boston, MA | $364,419
City of Boston Acting by and through its Public Facilities Commission | Boston, MA | $522,779
City of Boston Acting by and through its Public Facilities Commission | Boston, MA | $184,560
City of Boston Acting by and through its Public Facilities Commission | Boston, MA | $99,293
City of Boston Acting by and through its Public Facilities Commission | Boston, MA | $523,501
City of Boston Acting by and through its Public Facilities Commission | Boston, MA | $276,067
City of Boston Acting by and through its Public Facilities Commission | Boston, MA | $691,272
City of Boston Acting by and through its Public Facilities Commission | Boston, MA | $528,179
City of Boston Acting by and through its Public Facilities Commission | Boston, MA | $133,392
City of Boston Acting by and through its Public Facilities Commission | Boston, MA | $151,987
City of Boston Acting by and through its Public Facilities Commission | Boston, MA | $271,842
City of Boston Acting by and through its Public Facilities Commission | Boston, MA | $339,016
City of Boston Acting by and through its Public Facilities Commission | Boston, MA | $1,024,140
Commonwealth of Massachusetts | Boston, MA | $594,936
Commonwealth of Massachusetts | Boston, MA | $69,360
Commonwealth of Massachusetts | Boston, MA | $660,772
City of Boston Acting by and through its Public Facilities Commission | Boston, MA | $281,553
Commonwealth of Massachusetts | Boston, MA | $773,664
Commonwealth of Massachusetts | Boston, MA | $441,336
Commonwealth of Massachusetts | Boston, MA | $181,440
Commonwealth of Massachusetts | Boston, MA | $509,284
City of Boston Acting by and through its Public Facilities Commission | Boston, MA | $83,333
Commonwealth of Massachusetts | Boston, MA | $500,760
Pine Street Inn, Inc. | Boston, MA | $56,000
Commonwealth of Massachusetts | Boston, MA | $183,050
Commonwealth of Massachusetts | Boston, MA | $145,920
City of Boston Acting by and through its Public Facilities Commission | Boston, MA | $297,006
City of Boston Acting by and through its Public Facilities Commission | Boston, MA | $126,899
City of Boston Acting by and through its Public Facilities Commission | Boston, MA | $487,502
City of Boston Acting by and through its Public Facilities Commission | Boston, MA | $37,765
City of Boston Acting by and through its Public Facilities Commission | Boston, MA | $209,977
City of Boston Acting by and through its Public Facilities Commission | Boston, MA | $145,273
City of Boston Acting by and through its Public Facilities Commission | Boston, MA | $720,504
City of Boston Acting by and through its Public Facilities Commission | Boston, MA | $328,406
City of Boston Acting by and through its Public Facilities Commission | Boston, MA | $358,020
City of Boston Acting by and through its Public Facilities Commission | Boston, MA | $190,575
City of Boston Acting by and through its Public Facilities Commission | Boston, MA | $73,500
City of Boston Acting by and through its Public Facilities Commission | Boston, MA | $50,400
City of Boston Acting by and through its Public Facilities Commission | Boston, MA | $74,775
City of Boston Acting by and through its Public Facilities Commission | Boston, MA | $237,130
City of Boston Acting by and through its Public Facilities Commission | Boston, MA | $1,616,640
City of Boston Acting by and through its Public Facilities Commission | Boston, MA | $114,988
City of Boston Acting by and through its Public Facilities Commission | Boston, MA | $254,290
City of Boston Acting by and through its Public Facilities Commission | Boston, MA | $40,788
City of Boston Acting by and through its Public Facilities Commission | Boston, MA | $45,618
City of Boston Acting by and through its Public Facilities Commission | Boston, MA | $123,633
City of Boston Acting by and through its Public Facilities Commission | Boston, MA | $49,357
City of Boston Acting by and through its Public Facilities Commission | Boston, MA | $69,774
City of Boston Acting by and through its Public Facilities Commission | Boston, MA | $238,109
Commonwealth of Massachusetts | Boston, MA | $193,860
City of Boston Acting by and through its Public Facilities Commission | Boston, MA | $114,692
Commonwealth of Massachusetts | Boston, MA | $918,583
Commonwealth of Massachusetts | Boston, MA | $195,004
Commonwealth of Massachusetts | Boston, MA | $128,918
Commonwealth of Massachusetts | Boston, MA | $195,237
Commonwealth of Massachusetts | Boston, MA | $147,360
Commonwealth of Massachusetts | Boston, MA | $478,655
Commonwealth of Massachusetts | Boston, MA | $750,000
Commonwealth of Massachusetts | Boston, MA | $267,672
City of Boston Acting by and through its Public Facilities Commission | Boston, MA | $113,558
Commonwealth of Massachusetts | Boston, MA | $999,999
Commonwealth of Massachusetts | Boston, MA | $127,356
Commonwealth of Massachusetts | Boston, MA | $41,088
City of Boston Acting by and through its Public Facilities Commission | Boston, MA | $441,713
City of Boston Acting by and through its Public Facilities Commission | Boston, MA | $183,825
Brockton Coalition for the Homeless, Inc. | Brockton, MA | $59,850
Brockton Coalition for the Homeless, Inc. | Brockton, MA | $93,371
Brockton Coalition for the Homeless, Inc. | Brockton, MA | $42,169
Brookline Community Mental Health Center | Brookline, MA | $70,797
Cambridge Housing Authority | Cambridge, MA | $118,200
City of Cambridge, Massachusetts | Cambridge, MA | $29,601
City of Cambridge, Massachusetts | Cambridge, MA | $13,020
City of Cambridge, Massachusetts | Cambridge, MA | $51,042
City of Cambridge, Massachusetts | Cambridge, MA | $137,815
City of Cambridge, Massachusetts | Cambridge, MA | $57,750
City of Cambridge, Massachusetts | Cambridge, MA | $55,141
City of Cambridge, Massachusetts | Cambridge, MA | $990,706
City of Cambridge, Massachusetts | Cambridge, MA | $36,960
City of Cambridge, Massachusetts | Cambridge, MA | $20,365
City of Cambridge, Massachusetts | Cambridge, MA | $58,530
City of Cambridge, Massachusetts | Cambridge, MA | $170,336
City of Cambridge, Massachusetts | Cambridge, MA | $32,640
City of Cambridge, Massachusetts | Cambridge, MA | $61,002
City of Cambridge, Massachusetts | Cambridge, MA | $9,916
City of Cambridge, Massachusetts | Cambridge, MA | $35,414
City of Cambridge, Massachusetts | Cambridge, MA | $14,386
City of Cambridge, Massachusetts | Cambridge, MA | $81,763
City of Cambridge, Massachusetts | Cambridge, MA | $116,316
City of Cambridge, Massachusetts | Cambridge, MA | $33,600
Vinfen Corporation | Cambridge, MA | $73,910
Friends of Baybridge, Inc. | East Sandwich, MA | $280,480
City of Fall River, Massachusetts | Fall River, MA | $378,408
Alcoholism Council of Greater Fall River, Inc. | Fall River, MA | $141,750
The Salvation Army | Fall River, MA | $184,374
Moveable Feast, Inc. | Fall River, MA | $309,724
Steppingstone, Inc. | Fall River, MA | $329,092
Veteran Hospice Homestead Inc. | Fitchburg, MA | $30,218
Twin Cities Community Development Corp | Fitchburg, MA | $92,418
South Middlesex Opportunity Council, Inc | Framingham, MA | $343,441
Advocates, Inc. | Framingham, MA | $461,186
Advocates, Inc. | Framingham, MA | $333,322
Advocates, Inc. | Framingham, MA | $165,608
Advocates, Inc. | Framingham, MA | $33,072
South Middlesex Legal Services, Inc. | Framingham, MA | $48,507
South Middlesex Opportunity Council, Inc | Framingham, MA | $79,128
South Middlesex Opportunity Council, Inc | Framingham, MA | $232,300
Action, Inc | Gloucester, MA | $120,120
Construct, Inc. | Great Barrington, MA | $41,200
Veteran's Northeast Outreach Center, Inc | Haverhill, MA | $135,828
City of Haverhill | Haverhill, MA | $250,690
Emmaus Inc. | Haverhill, MA | $102,100
Housing Assistance Corporation | Hyannis, MA | $44,397
Massachusetts Department of Mental Health | Hyannis, MA | $169,680
Barnstable Housing Authority | Hyannis, MA | $44,112
Barnstable Housing Authority | Hyannis, MA | $296,940
Housing Assistance Corporation | Hyannis, MA | $107,444
South Shore Housing Development Corporation | Kingston, MA | $40,000
The Psychological Center, Inc. | Lawrence, MA | $140,389
YWCA of Greater Lawrence | Lawrence, MA | $375,900
Lazarus House, Inc. | Lawrence, MA | $232,000
City of Lawrence | Lawrence, MA | $80,665
City of Lowell | Lowell, MA | $70,718
City of Lowell | Lowell, MA | $96,640
City of Lowell | Lowell, MA | $420,939
City of Lowell | Lowell, MA | $189,283
City of Lowell | Lowell, MA | $42,341
Lynn Shelter Association | Lynn, MA | $207,283
Lynn Housing Authority & Neighborhood Development (LHAND) | Lynn, MA | $803,091
Lynn Housing Authority & Neighborhood Development (LHAND) | Lynn, MA | $664,200
Lynn Housing Authority & Neighborhood Development (LHAND) | Lynn, MA | $123,900
Lynn Housing Authority & Neighborhood Development (LHAND) | Lynn, MA | $738,240
Tri-City Community Action Program, Inc. | Malden, MA | $183,961
Tri-City Community Action Program, Inc. | Malden, MA | $527,892
Tri-City Community Action Program, Inc. | Malden, MA | $618,363
Tri-City Mental Health Center, Inc. | Medford, MA | $173,505
City of New Bedford | New Bedford, MA | $32,761
City of New Bedford | New Bedford, MA | $265,079
City of New Bedford | New Bedford, MA | $398,600
City of New Bedford | New Bedford, MA | $894,222
City of New Bedford | New Bedford, MA | $193,638
Turning Point, Inc. | Newburyport, MA | $280,745
City of Newton | Newton, MA | $8,604
The Second Step, Inc. | Newtonville, MA | $94,045
The Second Step, Inc. | Newtonville, MA | $216,474
Family Life Support Center, Inc. | North Adams, MA | $136,492
City of Northampton | Northampton, MA | $242,300
City of Northampton | Northampton, MA | $99,250
City of Northampton | Northampton, MA | $94,500
City of Northampton | Northampton, MA | $72,450
City of Northampton | Northampton, MA | $80,352
City of Northampton | Northampton, MA | $68,250
City of Northampton | Northampton, MA | $104,996
City of Northampton | Northampton, MA | $199,569
City of Northampton | Northampton, MA | $55,494
City of Northampton | Northampton, MA | $109,453
City of Northampton | Northampton, MA | $41,125
City of Northampton | Northampton, MA | $726,240
North Shore Community Action Program | Peabody, MA | $142,410
Berkshire Community Action Council, Inc. | Pittsfield, MA | $48,075
American Red Cross | Pittsfield, MA | $132,290
City of Quincy | Quincy, MA | $661,500
City of Quincy | Quincy, MA | $259,530
Quincy Housing Authority | Quincy, MA | $284,328
Quincy Housing Authority | Quincy, MA | $84,852
Quincy Housing Authority | Quincy, MA | $129,240
City of Quincy | Quincy, MA | $713,475
Crombie St. United Church of Christ-dba Salem Mission | Salem, MA | $685,860
Somerville Homeless Coalition, Inc. | Somerville, MA | $80,022
Somerville Homeless Coalition, Inc. | Somerville, MA | $1,280,489
CASPAR, Inc. | Somerville, MA | $330,809
CASPAR, Inc. | Somerville, MA | $78,276
City of Springfield | Springfield, MA | $99,923
City of Springfield | Springfield, MA | $150,551
City of Springfield | Springfield, MA | $83,232
City of Springfield | Springfield, MA | $132,750
City of Springfield | Springfield, MA | $96,694
City of Springfield | Springfield, MA | $69,360
City of Taunton | Taunton, MA | $183,299
Community Counseling of Bristol County, Inc. | Taunton, MA | $106,146
Citizens for Affordable Housing in Newton Development, Org., Inc. | West Newton, MA | $12,616
Central Massachusetts Housing Alliance, Inc | Worcester, MA | $117,667
Central Massachusetts Housing Alliance, Inc | Worcester, MA | $146,490
Central Massachusetts Housing Alliance, Inc | Worcester, MA | $750,000
City of Worcester, MA | Worcester, MA | $468,227
City of Worcester, MA | Worcester, MA | $633,061
City of Worcester, MA | Worcester, MA | $252,360
City of Worcester, MA | Worcester, MA | $353,375
Central Massachusetts Housing Alliance, Inc | Worcester, MA | $133,416
Central Massachusetts Housing Alliance, Inc | Worcester, MA | $97,384
Central Massachusetts Housing Alliance, Inc | Worcester, MA | $61,250
Community Healthlink, Inc. | Worcester, MA | $363,930
Community Healthlink, Inc. | Worcester, MA | $246,979
City of Worcester, MA | Worcester, MA | $178,647
Central Massachusetts Housing Alliance, Inc | Worcester, MA | $104,999
Central Massachusetts Housing Alliance, Inc | Worcester, MA | $49,700
Central Massachusetts Housing Alliance, Inc | Worcester, MA | $136,816
Central Massachusetts Housing Alliance, Inc | Worcester, MA | $262,500
Anne Arundel County, MD | Annapolis, MD | $488,821
Anne Arundel County, MD | Annapolis, MD | $188,940
Anne Arundel County, MD | Annapolis, MD | $129,499
Baltimore City | Baltimore City, MD | $34,032
Baltimore City | Baltimore City, MD | $114,805
Baltimore City | Baltimore City, MD | $252,193
Baltimore City | Baltimore City, MD | $243,192
Baltimore City | Baltimore City, MD | $35,343
Baltimore City | Baltimore City, MD | $136,836
Baltimore City | Baltimore City, MD | $107,117
Baltimore City | Baltimore City, MD | $166,656
Baltimore City | Baltimore City, MD | $164,600
Baltimore City | Baltimore City, MD | $58,800
Baltimore City | Baltimore City, MD | $314,796
Baltimore City | Baltimore City, MD | $377,031
Baltimore City | Baltimore City, MD | $42,540
Baltimore City | Baltimore City, MD | $113,462
Baltimore City | Baltimore City, MD | $1,421,236
Baltimore City | Baltimore City, MD | $34,341
Baltimore City | Baltimore City, MD | $255,240
Baltimore City | Baltimore City, MD | $335,087
Baltimore City | Baltimore City, MD | $251,745
Baltimore City | Baltimore City, MD | $55,348
Baltimore City | Baltimore City, MD | $150,032
Baltimore City | Baltimore City, MD | $45,379
Baltimore City | Baltimore City, MD | $102,062
Baltimore City | Baltimore City, MD | $40,656
Baltimore City | Baltimore City, MD | $152,460
Baltimore City | Baltimore City, MD | $117,066
Baltimore City | Baltimore City, MD | $23,520
Baltimore City | Baltimore City, MD | $109,032
Baltimore City | Baltimore City, MD | $205,926
Baltimore City | Baltimore City, MD | $308,505
Baltimore City | Baltimore City, MD | $588,900
Baltimore City | Baltimore City, MD | $297,780
Baltimore City | Baltimore City, MD | $77,328
Baltimore City | Baltimore City, MD | $170,160
Baltimore City | Baltimore City, MD | $85,080
Baltimore City | Baltimore City, MD | $272,256
Baltimore City | Baltimore City, MD | $101,640
Baltimore City | Baltimore City, MD | $263,520
Baltimore City | Baltimore City, MD | $984,564
Baltimore City | Baltimore City, MD | $255,240
Baltimore City | Baltimore City, MD | $1,752,030
Baltimore City | Baltimore City, MD | $51,108
Baltimore City | Baltimore City, MD | $270,648
Baltimore City | Baltimore City, MD | $146,044
Baltimore City | Baltimore City, MD | $214,026
Baltimore City | Baltimore City, MD | $282,542
Baltimore City | Baltimore City, MD | $207,773
Baltimore City | Baltimore City, MD | $193,974
Baltimore City | Baltimore City, MD | $85,080
Baltimore City | Baltimore City, MD | $103,104
Baltimore City | Baltimore City, MD | $118,836
Baltimore City | Baltimore City, MD | $67,555
Baltimore City | Baltimore City, MD | $155,548
Baltimore City | Baltimore City, MD | $46,236
Baltimore City | Baltimore City, MD | $212,700
Baltimore City | Baltimore City, MD | $170,160
Baltimore City | Baltimore City, MD | $74,002
Baltimore City | Baltimore City, MD | $280,764
Baltimore City | Baltimore City, MD | $100,044
Baltimore City | Baltimore City, MD | $91,116
Baltimore City | Baltimore City, MD | $37,344
Baltimore City | Baltimore City, MD | $38,128
Baltimore Mental Health Systems, Inc. | Baltimore, MD | $183,750
YWCA of the Greater Baltimore Area, Inc. | Baltimore, MD | $173,250
Baltimore Mental Health Systems, Inc. | Baltimore, MD | $291,270
Nehemiah House, Inc. | Baltimore, MD | $57,295
Baltimore Mental Health Systems, Inc. | Baltimore, MD | $251,783
Baltimore Mental Health Systems, Inc. | Baltimore, MD | $369,600
Baltimore County, Maryland | Baltimore, MD | $80,339
Department of Health | Baltimore, MD | $204,375
Baltimore County, Maryland | Baltimore, MD | $315,000
Baltimore County, Maryland | Baltimore, MD | $322,527
Baltimore County, Maryland | Baltimore, MD | $109,200
Baltimore County, Maryland | Baltimore, MD | $77,612
Baltimore County, Maryland | Baltimore, MD | $248,745
Baltimore County, Maryland | Baltimore, MD | $15,750
Harford County, Maryland | Bel Air, MD | $81,962
Harford County, Maryland | Bel Air, MD | $90,223
Harford County, Maryland | Bel Air, MD | $54,930
Harford County, Maryland | Bel Air, MD | $139,839
Harford County, Maryland | Bel Air, MD | $82,178
National Center for Children and Families (NCCF) | Bethesda, MD | $623,191
United Communities Against Poverty, Inc. | Capitol Heights, MD | $190,459
Crossroads Community, Inc. | Centreville, MD | $117,056
Crossroads Community, Inc. | Centreville, MD | $179,056
Howard County, Maryland | Columbia, MD | $68,736
Howard County, Maryland | Columbia, MD | $153,537
Howard County, Maryland | Columbia, MD | $227,758
YMCA of Cumberland (MD) | Cumberland, MD | $146,815
YMCA of Cumberland (MD) | Cumberland, MD | $111,872
YMCA of Cumberland (MD) | Cumberland, MD | $92,610
Mid-Shore Mental Health Systems | Easton, MD | $62,000
Cecil County Health Department | Elkton, MD | $79,620
Cecil County Department of Social Services | Elkton, MD | $74,736
Heartly House, Inc. | Frederick, MD | $35,074
City of Frederick | Frederick, MD | $65,897
City of Frederick | Frederick, MD | $135,536
Advocates for Homeless Families, Inc. | Frederick, MD | $24,008
City of Gaithersburg | Gaithersburg, MD | $128,247
Washington County Community Action Council, Inc. | Hagerstown, MD | $133,333
Washington County Department of Social Services | Hagerstown, MD | $45,839
Maryland Department of Health and Mental Hygiene | Jessup, MD | $53,604
Maryland Department of Health and Mental Hygiene | Jessup, MD | $157,224
Maryland Department of Health and Mental Hygiene | Jessup, MD | $93,612
Maryland Department of Health and Mental Hygiene | Jessup, MD | $42,000
Maryland Department of Health and Mental Hygiene | Jessup, MD | $175,788
Maryland Department of Health and Mental Hygiene | Jessup, MD | $162,516
Maryland Department of Health and Mental Hygiene | Jessup, MD | $79,884
Maryland Department of Health and Mental Hygiene | Jessup, MD | $684,840
Maryland Department of Health and Mental Hygiene | Jessup, MD | $589,920
Maryland Department of Health and Mental Hygiene | Jessup, MD | $120,456
Maryland Department of Health and Mental Hygiene | Jessup, MD | $67,644
Maryland Department of Health and Mental Hygiene | Jessup, MD | $236,244
Maryland Department of Health and Mental Hygiene | Jessup, MD | $987,972
Maryland Department of Health and Mental Hygiene | Jessup, MD | $127,104
Maryland Department of Health and Mental Hygiene | Jessup, MD | $84,552
Maryland Department of Health and Mental Hygiene | Jessup, MD | $107,496
Housing Opportunities Commission of Montgomery County, MD | Kensington, MD | $390,549
Housing Opportunities Commission of Montgomery County, MD | Kensington, MD | $79,533
Housing Opportunities Commission of Montgomery County, MD | Kensington, MD | $267,725
Housing Opportunities Commission of Montgomery County, MD | Kensington, MD | $715,140
Housing Opportunities Commission of Montgomery County, MD | Kensington, MD | $385,855
Housing Opportunities Commission of Montgomery County, MD | Kensington, MD | $694,710
Housing Opportunities Commission of Montgomery County, MD | Kensington, MD | $526,824
Housing Opportunities Commission of Montgomery County, MD | Kensington, MD | $498,143
Prince Georges County Government | Landover, MD | $438,247
Prince Georges County Government | Landover, MD | $116,193
Prince Georges County Government | Landover, MD | $374,850
Prince Georges County Government | Landover, MD | $449,617
Volunteers of America Chesapeake, Inc. | Lanham, MD | $225,114
Laurel Advocacy & Referral Services, Inc. | Laurel, MD | $47,265
Laurel Advocacy & Referral Services, Inc. | Laurel, MD | $61,963
Laurel Advocacy & Referral Services, Inc. | Laurel, MD | $119,776
St. Mary's County Housing Authority | Leonardtown, MD | $40,630
St. Mary's County Housing Authority | Leonardtown, MD | $43,192
St. Mary's County Housing Authority | Leonardtown, MD | $107,336
Garrett County Community Action Committee (GCCAC) | Oakland, MD | $149,885
Garrett County Community Action Committee (GCCAC) | Oakland, MD | $52,473
Garrett County Community Action Committee (GCCAC) | Oakland, MD | $37,424
Garrett County Community Action Committee (GCCAC) | Oakland, MD | $40,485
Board of County Commissioners of Calvert County | Prince Frederick, MD | $19,210
Montgomery County Coalition for the Homeless, Inc. | Rockville, MD | $500,961
Montgomery Avenue Women's Center | Rockville, MD | $138,853
Montgomery County Coalition for the Homeless, Inc. | Rockville, MD | $823,853
Montgomery County Coalition for the Homeless, Inc. | Rockville, MD | $359,231
Rehabilitation Systems, Inc. | Seabrook, MD | $750,000
Rehabilitation Systems, Inc. | Seabrook, MD | $359,595
Rehabilitation Systems, Inc. | Seabrook, MD | $129,393
Human Service Programs of Carroll County, Inc. | Westminster, MD | $44,000
Human Service Programs of Carroll County, Inc. | Westminster, MD | $101,862
Human Service Programs of Carroll County, Inc. | Westminster, MD | $86,136
Somerset County Health Department | Westover, MD | $325,956
York County Shelter Programs, Inc. | Alfred, ME | $329,680
York County Shelter Programs, Inc. | Alfred, ME | $99,712
State of Maine | Augusta, ME | $407,940
Me. Dept of Health & Human Services | Augusta, ME | $258,276
Me. Dept of Health & Human Services | Augusta, ME | $403,356
Me. Dept of Health & Human Services | Augusta, ME | $76,656
Me. Dept of Health & Human Services | Augusta, ME | $90,792
State of Maine | Augusta, ME | $142,620
State of Maine | Augusta, ME | $31,452
Me. Dept of Health & Human Services | Augusta, ME | $49,752
Me. Dept of Health & Human Services | Augusta, ME | $786,600
Me. Dept of Health & Human Services | Augusta, ME | $147,180
Me. Dept of Health & Human Services | Augusta, ME | $307,100
State of Maine | Augusta, ME | $83,736
Bread of Life Ministries | Augusta, ME | $320,000
Maine State Housing Authority | Augusta, ME | $161,148
State of Maine | Augusta, ME | $737,940
State of Maine | Augusta, ME | $230,352
State of Maine | Augusta, ME | $680,436
State of Maine | Augusta, ME | $103,080
State of Maine | Augusta, ME | $222,360
City of Bangor Maine | Bangor, ME | $16,758
City of Bangor Maine | Bangor, ME | $170,268
City of Bangor Maine | Bangor, ME | $18,600
City of Bangor Maine | Bangor, ME | $9,975
City of Bangor Maine | Bangor, ME | $61,632
City of Bangor Maine | Bangor, ME | $118,422
Shaw House | Bangor, ME | $180,000
Tedford Shelter | Brunswick, ME | $437,956
YMCA of Greater Portland | Portland, ME | $130,179
City of Portland | Portland, ME | $70,016
Portland West Inc. | Portland, ME | $70,652
MAPS /My Choice | Portland, ME | $71,355
City of Portland | Portland, ME | $15,443
City of Portland | Portland, ME | $158,127
City of Portland | Portland, ME | $27,971
Ingraham-Randall | Portland, ME | $82,357
Rumford Group Homes, Inc. | Rumford, ME | $280,000
Counseling Services, Inc. | Saco, ME | $128,820
Community Concepts, Incorporated | South Paris, ME | $41,289
Coastal Enterprises, Inc. | Wiscasset, ME | $30,450
Lenawee Emergency Affordable Housing Corp. | Adrian, MI | $3,000
Allegan County Resource Development Committee Inc. | Allegan, MI | $84,800
Shelter, Inc. | Alpena, MI | $116,193
Shelter, Inc. | Alpena, MI | $131,286
Shelter, Inc. | Alpena, MI | $17,921
Ann Arbor Housing Commission | Ann Arbor, MI | $256,680
Ann Arbor Housing Commission | Ann Arbor, MI | $71,760
Ann Arbor Housing Commission | Ann Arbor, MI | $139,536
Ann Arbor Housing Commission | Ann Arbor, MI | $219,840
Avalon Housing, Inc. | Ann Arbor, MI | $83,334
Michigan Ability Partners | Ann Arbor, MI | $41,316
Michigan Ability Partners | Ann Arbor, MI | $401,552
Michigan Ability Partners | Ann Arbor, MI | $86,534
Ann Arbor Housing Commission | Ann Arbor, MI | $273,792
Bay Area Women's Center | Bay City, MI | $106,488
Southwest Michigan Community Action Agency | Benton Harbor, MI | $64,238
Community Homes, Inc. | Berkley, MI | $194,757
Common Ground Sanctuary | Bloomfield Hills, MI | $243,996
Human Development Commission | Caro, MI | $239,014
SIREN/Eaton Shelter, Inc. | Charlotte, MI | $113,400
Community Mental Health Board of Clinton, Eaton and Ingham Counties | Charlotte, MI | $33,250
SIREN/Eaton Shelter, Inc. | Charlotte, MI | $100,000
SIREN/Eaton Shelter, Inc. | Charlotte, MI | $63,000
Housing Services for Eaton County | Charlotte, MI | $141,408
Housing Services for Eaton County | Charlotte, MI | $55,600
Training and Treatment Innovations, Inc. | Clawson, MI | $440,452
The Salvation Army | Clinton Township, MI | $125,173
Macomb Homeless Coalition | Clinton Township, MI | $57,848
Branch County Coalition Against Domestic Violence | Coldwater, MI | $14,422
Branch County Coalition Against Domestic Violence | Coldwater, MI | $20,700
Michigan Family Independence Agency | Detroit, MI | $217,208
City of Detroit | Detroit, MI | $426,160
City of Detroit | Detroit, MI | $420,000
City of Detroit | Detroit, MI | $91,928
City of Detroit | Detroit, MI | $400,233
City of Detroit | Detroit, MI | $88,675
City of Detroit | Detroit, MI | $709,837
Mariners Inn | Detroit, MI | $243,585
City of Detroit | Detroit, MI | $1,057,722
Michigan Family Independence Agency | Detroit, MI | $406,741
CareGivers | Detroit, MI | $756,140
Cass Community Social Services, Inc. | Detroit, MI | $108,743
The Salvation Army | Detroit, MI | $518,125
Michigan Family Independence Agency | Detroit, MI | $124,142
City of Detroit | Detroit, MI | $129,540
Travelers Aid Society of Metropolitan Detroit | Detroit, MI | $854,082
City of Detroit | Detroit, MI | $146,930
City of Detroit | Detroit, MI | $148,530
City of Detroit | Detroit, MI | $188,725
Coalition on Temporary Shelter | Detroit, MI | $84,980
Detroit Central City | Detroit, MI | $990,567
Coalition on Temporary Shelter | Detroit, MI | $105,546
Coalition on Temporary Shelter | Detroit, MI | $75,844
Coalition on Temporary Shelter | Detroit, MI | $660,686
Detroit Rescue Mission Ministries | Detroit, MI | $622,668
Charter County of Wayne | Detroit, MI | $443,940
Travelers Aid Society of Metropolitan Detroit | Detroit, MI | $218,768
Detroit Rescue Mission Ministries | Detroit, MI | $447,581
City of Detroit | Detroit, MI | $907,156
United Community Housing Coalition | Detroit, MI | $632,613
Michigan Family Independence Agency | Detroit, MI | $201,576
Detroit Rescue Mission Ministries | Detroit, MI | $759,594
Travelers Aid Society of Metropolitan Detroit | Detroit, MI | $209,811
Neighborhood Legal Services Michigan | Detroit, MI | $853,435
Charter County of Wayne | Detroit, MI | $142,015
Michigan Family Independence Agency | Detroit, MI | $138,410
Travelers Aid Society of Metropolitan Detroit | Detroit, MI | $918,428
Charter County of Wayne | Detroit, MI | $393,074
Charter County of Wayne | Detroit, MI | $125,183
Travelers Aid Society of Metropolitan Detroit | Detroit, MI | $89,617
Mariners Inn | Detroit, MI | $289,004
Freedom House | Detroit, MI | $287,891
Metro Housing Partnerships | Flint, MI | $50,272
Metro Housing Partnerships | Flint, MI | $24,862
Metro Housing Partnerships | Flint, MI | $63,696
Grand Rapids Housing Commission | Grand Rapids, MI | $226,900
The Salvation Army | Grand Rapids, MI | $228,233
The Salvation Army | Grand Rapids, MI | $249,855
County of Kent, Michigan | Grand Rapids, MI | $694,464
YWCA of Grand Rapids | Grand Rapids, MI | $386,579
Dwelling Place of Grand Rapids, Inc. | Grand Rapids, MI | $100,935
Dwelling Place of Grand Rapids, Inc. | Grand Rapids, MI | $52,660
Community Rebuilders | Grand Rapids, MI | $252,840
Community Rebuilders | Grand Rapids, MI | $260,310
The Salvation Army | Grand Rapids, MI | $228,488
Community Rebuilders | Grand Rapids, MI | $598,575
Genesis Non-Profit Housing Corporation | Grand Rapids, MI | $26,250
Heartside Nonprofit Housing Corporation | Grand Rapids, MI | $63,000
Heartside Nonprofit Housing Corporation | Grand Rapids, MI | $750,000
Inner City Christian Federation | Grand Rapids, MI | $38,810
County of Kent, Michigan | Grand Rapids, MI | $333,072
Dwelling Place of Grand Rapids, Inc. | Grand Rapids, MI | $75,055
County of Kent, Michigan | Grand Rapids, MI | $122,880
Heritage H.O.M.E.S., Inc. | Holland, MI | $231,321
Good Samaritan Ministries | Holland, MI | $394,110
County of Ottawa | Holland, MI | $99,540
Center for Women in Transition | Holland, MI | $92,336
Center for Women in Transition | Holland, MI | $37,517
Center for Women in Transition | Holland, MI | $80,214
Livingston County Community Mental Health Services Board | Howell, MI | $111,000
Community Action Agency | Jackson, MI | $186,627
Community Action Agency | Jackson, MI | $263,356
Community Action Agency | Jackson, MI | $4,160
Catholic Family Services | Kalamazoo, MI | $309,000
Kalamazoo County Public Housing Commission | Kalamazoo, MI | $152,520
City of Lansing | Lansing, MI | $345,800
City of Lansing | Lansing, MI | $71,933
State of Michigan | Lansing, MI | $93,509
Michigan Department of Community Health | Lansing, MI | $127,116
City of Lansing | Lansing, MI | $450,000
Michigan Department of Community Health | Lansing, MI | $166,464
Michigan Department of Community Health | Lansing, MI | $102,264
City of Lansing | Lansing, MI | $225,072
Michigan Departments of Community Health | Lansing, MI | $175,320
Michigan Departments of Community Health | Lansing, MI | $40,200
Michigan Departments of Community Health | Lansing, MI | $315,120
Michigan Departments of Community Health | Lansing, MI | $152,760
City of Lansing | Lansing, MI | $750,000
Michigan Family Independence Agency | Lansing, MI | $1,553,731
State of Michigan | Lansing, MI | $34,620
State of Michigan | Lansing, MI | $52,704
Peckham, Inc. | Lansing, MI | $146,877
Capital Area Community Services, Inc. | Lansing, MI | $93,809
State of Michigan | Lansing, MI | $971,640
State of Michigan | Lansing, MI | $53,760
Capital Area Community Services, Inc. | Lansing, MI | $106,791
City of Lansing | Lansing, MI | $72,002
Michigan Department of Community Health | Lansing, MI | $632,472
Michigan Department of Community Health | Lansing, MI | $441,648
Michigan Department of Community Health | Lansing, MI | $220,344
Michigan Department of Community Health | Lansing, MI | $88,440
Michigan Department of Community Health | Lansing, MI | $191,064
State of Michigan | Lansing, MI | $166,104
Michigan Department of Community Health | Lansing, MI | $300,072
Community Care Services | Lincoln Park, MI | $451,891
Lutheran Social Services of Wisconsin & Upper Michigan, Inc. | Marquette, MI | $104,027
Lutheran Social Services of Wisconsin & Upper Michigan, Inc. | Marquette, MI | $52,103
Macomb County Community Mental Health | Mt. Clemens, MI | $84,775
Senior Resources of West Michigan | Muskegon Heights, MI | $54,970
Community Mental Health Services of Muskegon County | Muskegon, MI | $303,610
West Michigan Therapy, Inc. | Muskegon, MI | $234,169
West Michigan Therapy, Inc. | Muskegon, MI | $40,000
Kalamazoo County Government | Nazareth, MI | $324,450
Kalamazoo Community Mental Health Services | Nazareth, MI | $749,271
First Step: Western Wayne County Project on Domestic Assault | Plymouth, MI | $175,926
Lighthouse of Oakland County, Inc. | Pontiac, MI | $309,319
Sacred Heart Rehabilitation Center, Inc | Port Huron, MI | $75,950
Sacred Heart Rehabilitation Center, Inc | Port Huron, MI | $118,263
Saginaw Housing Commission | Saginaw, MI | $119,678
Saginaw Housing Commission | Saginaw, MI | $163,539
Saginaw Housing Commission | Saginaw, MI | $53,760
Saginaw Housing Commission | Saginaw, MI | $347,240
Saginaw Housing Commission | Saginaw, MI | $244,148
Saginaw Housing Commission | Saginaw, MI | $26,880
Perfecting Community Development Corporation | Sterling Heights, MI | $160,080
Goodwill Industries of Northern Michigan, Inc. | Traverse City, MI | $155,770
Foundation for Mental Health—Grand Traverse/Leelanau | Traverse City, MI | $72,450
Goodwill Industries of Northern Michigan, Inc. | Traverse City, MI | $9,600
Foundation for Mental Health—Grand Traverse/Leelanau | Traverse City, MI | $174,560
Community Housing Network, Inc. | Troy, MI | $635,036
Community Housing Network, Inc. | Troy, MI | $611,738
Community Housing Network, Inc. | Troy, MI | $929,899
Community Housing Network, Inc. | Troy, MI | $361,311
Wayne Metropolitan Community Action Agency | Wyandotte, MI | $240,104
Wayne Metropolitan Community Action Agency | Wyandotte, MI | $597,974
Wayne Metropolitan Community Action Agency | Wyandotte, MI | $297,977
Wayne Metropolitan Community Action Agency | Wyandotte, MI | $190,033
Wayne Metropolitan Community Action Agency | Wyandotte, MI | $606,274
Wayne Metropolitan Community Action Agency | Wyandotte, MI | $825,733
SOS Community Services, Inc. | Ypsilanti, MI | $1,181,942
SOS Community Services, Inc. | Ypsilanti, MI | $394,732
SOS Community Services, Inc. | Ypsilanti, MI | $248,415
SOS Community Services, Inc. | Ypsilanti, MI | $433,994
Listening Ear Crisis Center Project, Inc. | Alexandria, MN | $56,961
Bi-County Community Action Programs, Inc. | Bemidji, MN | $62,000
New Pathways, Inc. | Cambridge, MN | $267,878
New Pathways, Inc. | Cambridge, MN | $105,265
Women's Transitional Housing Coalition, Inc. | Duluth, MN | $97,758
Housing & Redevelopment Authority of Duluth, MN | Duluth, MN | $82,584
The Salvation Army | Duluth, MN | $158,545
The Salvation Army | Duluth, MN | $75,644
Grant County | Elbow Lake, MN | $347,460
Koostasca Community Action, Inc. | Grand Rapids, MN | $31,971
Minnesota Veterans Home—Hastings | Hastings, MN | $20,000
Houston County Women's Resources | Hokah, MN | $105,996
Itasca County Housing & Redevelopment Authority | Itasca, MN | $139,860
Partners for Affordable Housing | Mankato, MN | $24,195
Blue Earth County | Mankato, MN | $301,800
Minnesota Assistance Council for Veterans | Minneapolis, MN | $57,929
Cabrini House | Minneapolis, MN | $355,953
Lutheran Social Service of Minnesota | Minneapolis, MN | $32,272
Minnesota Assistance Council for Veterans | Minneapolis, MN | $28,003
Freeport West, Inc. | Minneapolis, MN | $242,886
Elim Transitional Housing, Inc. | Minneapolis, MN | $87,488
The Salvation Army | Minneapolis, MN | $493,569
Community Involvement Programs | Minneapolis, MN | $76,440
Simpson Housing Services, Inc. | Minneapolis, MN | $306,957
RESOURCE, Inc. | Minneapolis, MN | $572,063
Pillsbury United Communities | Minneapolis, MN | $561,421
Freeport West, Inc. | Minneapolis, MN | $406,284
Minnesota Veterans Home Board | Minneapolis, MN | $455,166
Indigenous Peoples Task Force | Minneapolis, MN | $23,976
Community Involvement Programs | Minneapolis, MN | $301,938
Freeport West, Inc. | Minneapolis, MN | $81,746
Catholic Charities of the Archdiocese of St. Paul and Minneapolis | Minneapolis, MN | $584,242
Tubman Family Alliance | Minneapolis, MN | $194,170
Hennepin County | Minnetonka, MN | $503,868
Hennepin County | Minnetonka, MN | $347,549
Churches United for the Homeless | Moorhead, MN | $46,305
Moorhead Public Housing Agency | Moorhead, MN | $155,040
Lakes & Pines Community Action Council, Inc. | Mora, MN | $21,000
Human Services, Inc. in Washington Co. | Oakdale, MN | $42,392
Olmsted County | Rochester, MN | $42,960
Olmsted County | Rochester, MN | $77,940
Olmsted County (MN) Housing & Redevelopment Authority | Rochester, MN | $741,120
Washington County Housing and Redevelopment Authority | Saint Paul Park, MN | $167,040
Scott-Carver-Dakota CAP Agency, Inc. | Shakopee, MN | $54,928
Housing Coalition of the St. Cloud Area | St. Cloud, MN | $242,766
Housing Coalition of the St. Cloud Area | St. Cloud, MN | $81,410
Housing and Redevelopment Authority of St. Cloud (Minnesota) | St. Cloud, MN | $352,200
Housing and Redevelopment Authority of St. Cloud (Minnesota) | St. Cloud, MN | $82,548
Perspectives, Inc. | St. Louis Park, MN | $171,500
Perspectives, Inc. | St. Louis Park, MN | $171,173
Housing Authority of St. Louis Park | St. Louis Park, MN | $156,240
Amherst H. Wilder Foundation | St. Paul, MN | $19,999
Minnesota Department of Human Services | St. Paul, MN | $45,108
Metropolitan Council | St. Paul, MN | $1,420,200
Amherst H. Wilder Foundation | St. Paul, MN | $49,999
Minnesota Department of Human Services | St. Paul, MN | $119,030
Metropolitan Council | St. Paul, MN | $228,900
People Incorporated | St. Paul, MN | $36,783
Metropolitan Council | St. Paul, MN | $109,488
Metropolitan Council | St. Paul, MN | $860,820
RS Eden | St. Paul, MN | $298,200
Amherst H. Wilder Foundation | St. Paul, MN | $19,999
Lutheran Social Service of MN | St. Paul, MN | $125,753
Amherst H. Wilder Foundation | St. Paul, MN | $25,000
Ramsey County | St. Paul, MN | $771,540
People Incorporated | St. Paul, MN | $126,000
Mental Health Resources | St. Paul, MN | $169,931
Amherst H. Wilder Foundation | St. Paul, MN | $49,999
Amherst H. Wilder Foundation | St. Paul, MN | $49,999
New Foundations, Inc. | St. Paul, MN | $320,144
Emma Norton Services | St. Paul, MN | $151,725
Emma Norton Services | St. Paul, MN | $81,171
St. Paul Urban League | St. Paul, MN | $26,137
Breaking Free, Inc. | St. Paul, MN | $100,000
RSEden | St. Paul, MN | $47,880
Minnesota Department of Human Services | St. Paul, MN | $186,943
Amherst H. Wilder Foundation | St. Paul, MN | $1,061,677
Young Women's Christian Association of St. Paul, MN | St. Paul, MN | $91,573
Theresa Living Center | St. Paul, MN | $62,400
Theresa Living Center | St. Paul, MN | $96,193
Peta Wakan Tipi | St. Paul, MN | $50,467
The Family Place | St. Paul, MN | $66,675
Face to Face Health and Counseling Services, Inc. | St. Paul, MN | $109,127
Amherst H. Wilder Foundation | St. Paul, MN | $86,000
Women's Advocates, Inc. | St. Paul, MN | $90,262
Metropolitan Council | St. Paul, MN | $174,360
Metropolitan Council | St. Paul, MN | $578,616
Southern Minnesota Regional Legal Services | St. Paul, MN | $98,960
Metropolitan Council | St. Paul, MN | $137,544
Mental Health Resources, Inc. | St. Paul, MN | $350,709
Amherst H. Wilder Foundation | St.. Paul, MN | $49,999
Violence Intervention Project, Inc. | Thief River Falls, MN | $11,667
Arrowhead Economic Opportunity Agency, Inc. | Virginia, MN | $25,856
Range Mental Health Center | Virginia, MN | $37,935
Housing and Redevelopment Authority of Virginia, Minnesota | Virginia, MN | $17,688
Dakota County | West St. Paul, MN | $395,767
Dakota County | West St. Paul, MN | $77,208
Guild Incorporated | West St. Paul, MN | $199,200
Dakota County | West St. Paul, MN | $45,780
Three Rivers Community Action, Inc. | Zumbrota, MN | $146,699
North East Community Action Corporation | Bowling Green, MO | $442,780
Church Army, Inc. | Branson, MO | $227,500
Saint Louis County Government | Clayton, MO | $1,051,373
Saint Louis County Government | Clayton, MO | $431,146
Saint Louis County Government | Clayton, MO | $500,186
Phoenix Programs, Inc. | Columbia, MO | $71,122
Housing Authority of the City of Columbia, Missouri | Columbia, MO | $254,244
Phoenix Programs, Inc. | Columbia, MO | $222,340
Missouri Department of Mental Health | Jefferson City, MO | $1,391,088
Missouri Department of Mental Health | Jefferson City, MO | $757,260
Missouri Department of Mental Health | Jefferson City, MO | $325,680
Missouri Department of Mental Health | Jefferson, MO | $657,168
Missouri Department of Mental Health | Jefferson, MO | $1,380,216
The Salvation Army | Joplin, MO | $80,000
Economic Security Corporation of Southwest Area | Joplin, MO | $37,426
Economic Security Corporation of Southwest Area | Joplin, MO | $68,603
Family Self—Help Center, Inc. | Joplin, MO | $63,000
Ozark Center, Inc. | Joplin, MO | $249,373
City of Kansas City Missouri | Kansas City, MO | $48,300
Community LINC | Kansas City, MO | $110,058
Benilde Hall | Kansas City, MO | $100,380
Rose Brooks Center, Inc. | Kansas City, MO | $40,420
Mid America Assistance Coalition | Kansas City, MO | $43,358
Sheffield Place | Kansas City, MO | $163,079
City of Kansas City Missouri | Kansas City, MO | $197,815
City of Kansas City Missouri | Kansas City, MO | $32,935
City of Kansas City Missouri | Kansas City, MO | $978,360
Truman Medical Center, Incorporated | Kansas City, MO | $513,246
Restart, Inc. | Kansas City, MO | $642,482
City of Kansas City Missouri | Kansas City, MO | $125,891
City of Kansas City Missouri | Kansas City, MO | $108,395
City of Kansas City Missouri | Kansas City, MO | $74,569
Catholic Charities Kansas City-St. Joseph, Inc. | Kansas City, MO | $112,068
Mid America Assistance Coalition | Kansas City, MO | $56,000
Family Counseling Center | Kennett, MO | $674,566
Missouri Valley Community Action Agency Housing Partnership | Marshall, MO | $554,488
Pettis County Community Partnership, Inc. | Sedalia, MO | $344,276
Alternative Opportunities, Inc. | Springfield, MO | $300,000
The Salvation Army | Springfield, MO | $148,882
Ozarks Area Community Action Corporation | Springfield, MO | $26,655
The Kitchen Inc. | Springfield, MO | $393,750
Housing Authority of the City of Springfield | Springfield, MO | $59,928
Housing Authority of the City of Springfield | Springfield, MO | $41,808
Catholic Charities Kansas City - St. Joseph, Inc. | St. Joseph, MO | $804,762
City of St. Louis | St. Louis, MO | $329,895
City of St. Louis | St. Louis, MO | $200,587
City of St. Louis | St. Louis, MO | $151,634
City of St. Louis | St. Louis, MO | $647,083
City of St. Louis | St. Louis, MO | $239,054
City of St. Louis | St. Louis, MO | $80,302
City of St. Louis | St. Louis, MO | $261,643
City of St. Louis | St. Louis, MO | $109,673
City of St. Louis | St. Louis, MO | $304,723
Praise Keepers | Tipton, MO | $318,049
Johnson County HELP | Warrensburg, MO | $321,879
Back Bay Mission | Biloxi, MS | $195,189
So MS AIDS Task Force | Biloxi, MS | $135,227
Gulf Coast Women's Center for Nonviolence, Inc. | Biloxi, MS | $111,888
Back Bay Mission | Biloxi, MS | $90,560
Gulf Coast Women's Center for Nonviolence, Inc. | Biloxi, MS | $50,260
AIDS Services Coalition | Hattiesburg, MS | $398,375
Pine Grove Behavioral Health | Hattiesburg, MS | $787,500
New Dimensions Development Foundation | Jackson, MS | $159,238
Hinds County Human Resource Agency | Jackson, MS | $63,755
Stewpot Community Services, Inc. | Jackson, MS | $49,392
Country Oaks Recovery Center, Inc. | Jackson, MS | $760,066
Hinds County Human Resource Agency | Jackson, MS | $118,650
Catholic Charities, Inc. | Jackson, MS | $169,048
Mississippi United to End Homeless CoC | Meridian, MS | $490,558
Pearl River Information & Drug Infor. | Picayune, MS | $71,820
Lift, Incorporated | Tupelo, MS | $1,092,263
District 7 Human Resources Development Council (HRDC) | Billings, MT | $63,000
District IV Human Resources Development Council | Harve, MT | $16,800
Helena Housing Authority | Helena, MT | $74,424
Helena Housing Authority | Helena, MT | $74,424
Florence Crittenton Home and Services | Helena, MT | $373,639
The Samaritan House, Inc. | Kalispell, MT | $63,000
Missoula Housing Authority | Missoula, MT | $304,200
Missoula County | Missoula, MT | $393,330
Missoula Housing Authority | Missoula, MT | $126,360
Missoula County | Missoula, MT | $65,761
Missoula County | Missoula, MT | $35,240
Missoula Housing Authority | Missoula, MT | $847,440
Sanders County For Families | Thompson Falls, MT | $56,964
Christians United Outreach Center | Asheboro, NC | $126,129
Housing Authority of the City of Asheville | Asheville, NC | $368,160
Affordable Housing Coalition | Asheville, NC | $263,137
Hospitality House of Asheville, Inc. | Asheville, NC | $182,886
Western Highlands A Local Management Entity | Asheville, NC | $216,744
New River Behavioral Healthcare | Boone, NC | $82,779
Opposing Abuse with Services, Information & Shelter, Inc. (Oasis, Inc.) | Boone, NC | $208,554
Watauga Crisis Assistance Network * * * A Faith Based Ministries/WeCan | Boone, NC | $87,536
Alamance-Caswell Area MH/DD/SA | Burlington, NC | $321,720
Residential Treatment Services Alamance, Inc. | Burlington, NC | $150,000
Sandhills Community Action Program, Inc | Carthage, NC | $240,792
OPC Mental Health, Developmental Disabilities & Substance Abuse Authority | Chapel Hill, NC | $109,152
Mecklenburg Area Mental Health Authority | Charlotte, NC | $316,764
Mecklenburg Area Mental Health Authority | Charlotte, NC | $785,040
Mecklenburg Area Mental Health Authority | Charlotte, NC | $44,363
Hope Haven, Inc. | Charlotte, NC | $53,980
Hope Haven, Inc. | Charlotte, NC | $63,000
Mecklenburg County Health Department Homeless Support Services | Charlotte, NC | $145,136
Community Link Programs of Traveler's Aid | Charlotte, NC | $224,682
Community Link Programs of Traveler's Aid | Charlotte, NC | $234,984
Hope Haven, Inc. | Charlotte, NC | $52,867
The Salvation Army A Georgia Corporation | Charlotte, NC | $87,500
Mecklenburg Area Mental Health Authority | Charlotte, NC | $405,396
Mecklenburg Area Mental Health Authority | Charlotte, NC | $307,560
The Salvation Army A Georgia Corporation | Charlotte, NC | $226,646
Hope Haven, Inc. | Charlotte, NC | $383,500
Genesis Home | Durham, NC | $525,000
AIDS Community Residence Association, Inc. | Durham, NC | $135,005
Genesis Home | Durham, NC | $60,138
New Directors For Downtown, Inc. | Durham, NC | $366,775
Humans United Giving Greater Services | Fayetteville, NC | $247,019
Pathways Services, Inc. | Gastonia, NC | $77,640
Pathways Services, Inc. | Gastonia, NC | $335,580
As One Ministries, Inc. | Gastonia, NC | $191,520
Gaston County Interfaith Hospitality Network, Inc. | Gastonia, NC | $38,850
Greensboro Urban Ministry | Greensboro, NC | $36,750
Greensboro Urban Ministry | Greensboro, NC | $42,000
The Sevant Center, Inc. | Greensboro, NC | $59,481
Mary's House, Inc. | Greensboro, NC | $135,982
The Christian Counseling and Wellness Group, Inc. | Greensboro, NC | $88,007
Youth Focus, Inc. | Greensboro, NC | $155,100
Greensboro Housing Authority | Greensboro, NC | $754,860
The Salvation Army A Georgia Corporation | High Point, NC | $29,454
Alcohol and Drugs Services of Guilford | High Point, NC | $46,048
Open Doors Ministries of High Point, Inc. | High Point, NC | $54,062
Family Service of the Piedmont, Inc. | Jamestown, NC | $102,829
Family Service of the Piedmont, Inc. | Jamestown, NC | $47,293
Ashe County Department of Social Services | Jefferson, NC | $25,000
Next Step Ministries, Inc. | Kernersville, NC | $37,800
Neuse Center for MH/DD/SAS Authority | New Bern, NC | $127,860
Community Alternatives For Supportive Abodes | Raleigh, NC | $188,248
Wake County Human Services | Raleigh, NC | $109,872
Wake County Human Services | Raleigh, NC | $305,664
Wake County Human Services | Raleigh, NC | $209,676
Community Alternatives For Supportive Abodes | Raleigh, NC | $100,353
Wake County Human Services | Raleigh, NC | $165,114
Wake County Human Services | Raleigh, NC | $47,808
Wake County Human Services | Raleigh, NC | $217,572
Wake County Human Services | Raleigh, NC | $757,080
Pan Lutheran Ministries of Wake County, Inc. | Raleigh, NC | $31,070
Haven House, Inc. | Raleigh, NC | $32,704
North Carolina Housing Coalition, Inc. | Raleigh, NC | $52,583
Pan Lutheran Ministries of Wake County, Inc. | Raleigh, NC | $51,265
Community Alternatives For Supportive Abodes | Raleigh, NC | $173,208
Mental Health Association in North Carolina, Inc. | Raleigh, NC | $124,399
North Carolina Housing Coalition, Inc. | Raleigh, NC | $25,187
Passage Home, Inc. | Raleigh, NC | $190,890
Passage Home, Inc. | Raleigh, NC | $110,308
North Carolina Housing Coalition, Inc. | Raleigh, NC | $26,880
The New Reidsville Housing Authority | Reidsville, NC | $133,020
United Community Ministries | Rocky Mount, NC | $88,200
United Community Ministries | Rocky Mount, NC | $262,710
Cleveland County Abuse Prevention Council | Shelby, NC | $111,473
Good Shepherd Ministries | Wilmington, NC | $53,536
Housing Authority of the City of Wilmington | Wilmington, NC | $111,936
Volunteers of America of the Carolinas, Inc. | Wilmington, NC | $82,854
Cape Fear Housing for Independent | Wilmington, NC | $286,142
First Fruit Ministries | Wilmington, NC | $114,968
Coastal Horizons Center, Inc. | Wilmington, NC | $82,455
City of Winston-Salem | Winston-Salem, NC | $752,400
City of Winston-Salem | Winston-Salem, NC | $14,663
City of Winston-Salem | Winston-Salem, NC | $98,123
City of Winston-Salem | Winston-Salem, NC | $49,614
City of Winston-Salem | Winston-Salem, NC | $57,750
City of Winston-Salem | Winston-Salem, NC | $46,475
City of Winston-Salem | Winston-Salem, NC | $51,811
City of Winston-Salem | Winston-Salem, NC | $47,545
City of Winston-Salem | Winston-Salem, NC | $31,500
City of Winston-Salem | Winston-Salem, NC | $90,511
City of Winston-Salem | Winston-Salem, NC | $47,250
City of Winston-Salem | Winston-Salem, NC | $70,206
City of Winston-Salem | Winston-Salem, NC | $56,829
City of Winston-Salem | Winston-Salem, NC | $121,212
Center Point Human Services | Winston-Salem, NC | $214,944
Share House, Inc. | Fargo, ND | $150,000
Fargo Housing & Redevelopment Authority | Fargo, ND | $160,656
Prairie Harvest Human Services Foundation | Grand Forks, ND | $170,000
Red River Valley Community Action | Grand Forks, ND | $464,782
Rehab Services, Inc. | Minot, ND | $317,477
North Dakota Association For Disabled | Williston, ND | $101,259
Panhandle Partnership for Health and Human Services | Chadron, NE | $94,399
Panhandle Partnership for Health and Human Services | Chadron, NE | $64,155
Heartland Family Service | Council Bluffs, NE | $71,523
Heartland Family Service | Council Bluffs, NE | $266,954
Heartland Family Service | Council Bluffs, NE | $84,214
Blue Valley Community Action, Inc. | Fairbury, NE | $479,261
Community Action Partnership of Mid-Nebraska, Inc. | Kearney, NE | $90,718
CenterPointe | Lincoln, NE | $187,612
CenterPointe | Lincoln, NE | $443,273
CenterPointe | Lincoln, NE | $556,775
Lincoln Action Program | Lincoln, NE | $449,539
CEDARS Youth Services | Lincoln, NE | $130,707
St. Monica's | Lincoln, NE | $140,456
Catholic Social Services | Lincoln, NE | $93,683
Central Nebraska Community Services | Loup City, NE | $193,864
The Salvation Army | Omaha, NE | $138,897
Young Women's Christian Association | Omaha, NE | $38,037
Visiting Nurse Association | Omaha, NE | $81,314
Youth Emergency Services, Inc. | Omaha, NE | $75,881
Catholic Charities of the Archdiocese of Omaha, Inc. | Omaha, NE | $213,234
Community Alliance Rehabilitation Services | Omaha, NE | $62,691
The Salvation Army | Omaha, NE | $58,020
Charles Drew Health Center, Inc. | Omaha, NE | $313,339
City of Omaha | Omaha, NE | $76,823
The Salvation Army | Omaha, NE | $146,695
Tri-County Action Program, Inc. | Berlin, NH | $188,568
State of New Hampshire | Concord, NH | $217,772
State of New Hampshire | Concord, NH | $251,249
State of New Hampshire | Concord, NH | $90,047
State of New Hampshire | Concord, NH | $14,154
State of New Hampshire | Concord, NH | $99,632
State of New Hampshire | Concord, NH | $195,285
State of New Hampshire | Concord, NH | $236,866
State of New Hampshire | Concord, NH | $47,504
State of New Hampshire | Concord, NH | $42,098
State of New Hampshire | Concord, NH | $394,855
State of New Hampshire | Concord, NH | $714,780
State of New Hampshire | Concord, NH | $112,953
State of New Hampshire | Concord, NH | $12,779
State of New Hampshire | Concord, NH | $116,524
State of New Hampshire | Concord, NH | $88,497
My Friend's Place | Dover, NH | $54,240
Behavioral Health & Development Services of Strafford County, Inc. | Dover, NH | $143,815
West Central Services, Inc. | Lebanon, NH | $66,038
Northern New Hampshire Mental Health and Developmental Services | Littleton, NH | $132,011
Southern New Hampshire Services | Manchester, NH | $32,273
Helping Hands Outreach Ministries, Inc. | Manchester, NH | $624,824
Families in Transition | Manchester, NH | $333,900
Marguerite's Placekick | Nashua, NH | $58,481
Harbor Homes, Inc. | Nashua, NH | $862,121
Harbor Homes, Inc. | Nashua, NH | $100,929
Nasha Housing Authority | Nashua, NH | $150,120
Harbor Homes, Inc. | Nashua, NH | $166,667
Greater Nashua Council on Alcoholism, Inc. | Nashua, NH | $60,083
Harbor Homes, Inc. | Nashua, NH | $59,546
Friends of Jean Webster, Inc. | Atlantic City, NJ | $834,202
Ocean Mental Health Services, Inc. | Bayville, NJ | $397,579
So. NJ Housing Corp. (ACSNJ) | Belimawr, NJ | $33,596
Counseling and Referral Services of Ocean, Inc. | Brick, NJ | $472,830
Burlington County Community Action Program | Burington, NJ | $14,172
RESPOND, INC. | Camden, NJ | $32,230
Camden County Council on Economic Opportunity, Inc. | Camden, NJ | $305,116
Camden County Council on Economic Opportunity, Inc. | Camden, NJ | $249,128
Center for Family Services | Camden, NJ | $97,800
AIDS Coalition of Southern NJ | Camden, NJ | $23,734
Dooley House, Inc. | Camden, NJ | $250,000
Lourdes Health Foundation | Camden, NJ | $256,069
South Jersey Behavioral Health Resources | Cherry Hill, NJ | $99,178
Interfaith Homeless Outreach Council (IHOC) | Cherry Hill, NJ | $27,148
Volunteers of America Delaware Valley, Inc. | Collingswood, NJ | $310,238
Volunteers of America Delaware Valley, Inc. | Collingswood, NJ | $90,252
Volunteers of America Delaware Valley, Inc. | Collingswood, NJ | $195,538
Volunteers of America Delaware Valley, Inc. | Collingswood, NJ | $310,533
Easter Seals Society of NJ, Inc. | East Brunswick, NJ | $63,473
EASTER SEALS SOCIETY OF NJ, INC | East Brunswick, NJ | $36,368
City of East Orange | East Orange, NJ | $1,627,020
Catholic Community Services | East Orange, NJ | $160,000
The City of East Orange, New Jersey | East Orange, NJ | $99,432
Urban Youth Development Corporation | East Orange, NJ | $117,588
Isaiah House, Inc. | East Orange, NJ | $712,845
East Orange General Hospital | East Orange, NJ | $816,689
County of Union | Elizabeth, NJ | $116,298
County of Union | Elizabeth, NJ | $60,663
County of Union | Elizabeth, NJ | $244,800
County of Union | Elizabeth, NJ | $801,900
County of Union | Elizabeth, NJ | $535,428
County of Union | Elizabeth, NJ | $385,876
County of Union | Elizabeth, NJ | $178,395
County of Union | Elizabeth, NJ | $285,012
County of Union | Elizabeth, NJ | $410,328
County of Union | Elizabeth, NJ | $522,496
County of Union | Elizabeth, NJ | $173,705
County of Union | Elizabeth, NJ | $77,510
Housing Authority of Bergen County | Englewood, NJ | $415,800
Englewood Housing Authority | Englewood, NJ | $204,000
Vetgroup, Inc. | Forked River, NJ | $55,999
County of Monmouth | Freehold, NJ | $207,408
County of Monmouth | Freehold, NJ | $914,100
County of Monmouth | Freehold, NJ | $399,720
County of Bergen | Hackensack, NJ | $257,700
Bergen County Community Action Program, Inc. | Hackensack, NJ | $330,750
Advance Housing, Inc. | Hackensack, NJ | $550,094
The Lester A. Drenk Behavioral Health Center | Hainesport, NJ | $208,188
180, Turning Lives Around, Inc. | Hazlet, NJ | $599,168
Essex Business Training Institute | Irvington, NJ | $400,000
Irvington Housing Authority | Irvington, NJ | $661,500
WomenRising, Inc. | Jersey City, NJ | $644,268
Saint Joseph's Home | Jersey City, NJ | $558,534
Comprehensive Behavioral Healthcare, Inc. | Lyndhurst, NJ | $390,000
Homeless Solutions, Inc. | Morristown, NJ | $396,965
Jersey Battered Women's Service, Inc. | Morristown, NJ | $198,137
Homeless Solutions, Inc. | Morristown, NJ | $64,300
Homeless Solutions, Inc. | Morristown, NJ | $219,398
Mental Health Association of Morris County, Inc. | Mountain Lakes, NJ | $60,060
Family Service of Burlington County | Mt. Holly, NJ | $41,895
Transitional Housing Services, Inc. | Mt. Holly, NJ | $34,067
Transitional Housing Services, Inc. | Mt. Holly, NJ | $32,116
Middlesex Interfaith Partners with the Homeless | New Brunswick, NJ | $174,110
Project Live, Inc. | Newark, NJ | $125,575
YMCA of Newark & Vicinity | Newark, NJ | $1,037,557
The Apostles' House | Newark, NJ | $186,000
Positive Health Care, Incorporated | Newark, NJ | $840,000
Urban Renewal Corp | Newark, NJ | $211,697
Newark Emergency Services for Families, Inc. | Newark, NJ | $401,517
CHOICES, Inc. | Newark, NJ | $261,648
Paterson Coalition For Housing, Inc. | Paterson, NJ | $334,014
Hispanic Multi Purpose Service Center | Paterson, NJ | $108,530
Housing Authority of the City of Paterson | Paterson, NJ | $408,000
NJ Home, Inc. | Paterson, NJ | $1,185,713
Housing Authority of the City of Paterson | Paterson, NJ | $509,280
Catholic Charities, Diocese of Metuchen | Perth Amboy, NJ | $247,662
Catholic Charities, Diocese of Metuchen | Perth Amboy, NJ | $964,440
Alternatives, Inc. | Raritan, NJ | $212,304
Alternatives, Inc. | Raritan, NJ | $101,279
Alternatives, Inc. | Raritan, NJ | $99,529
Salem County Inter-Agency Council of Human Services | Salem, NJ | $137,550
Ocean's Harbor House | Tom River, NJ | $52,500
New Jersey Department of Community Affairs | Trenton, NJ | $112,344
New Jersey Housing and Mortgage Finance Agency | Trenton, NJ | $50,000
Catholic Charities, Diocese of Trenton | Trenton, NJ | $24,507
Catholic Charities, Diocese of Trenton | Trenton, NJ | $38,990
Catholic Charities Diocese of Trenton | Trenton, NJ | $69,218
City of Trenton | Trenton, NJ | $342,500
New Jersey Housing and Mortgage Finance Agency | Trenton, NJ | $50,000
City of Trenton | Trenton, NJ | $205,000
New Jersey Department of Community Affairs | Trenton, NJ | $68,420
City of Trenton | Trenton, NJ | $39,940
New Jersey Department of Military and Veterans Affairs (Veterans Haven) | Trenton, NJ | $354,313
New Jersey Housing and Mortgage Finance Agency | Trenton, NJ | $69,000
New Jersey Department of Community Affairs | Trenton, NJ | $267,300
New Jersey Department of Community Affairs | Trenton, NJ | $119,088
New Jersey Department of Community Affairs | Trenton, NJ | $76,896
New Jersey Department of Community Affairs | Trenton, NJ | $418,800
New Jersey Department of Community Affairs | Trenton, NJ | $160,560
City of Trenton | Trenton, NJ | $99,200
City of Trenton | Trenton, NJ | $127,200
City of Trenton | Trenton, NJ | $47,875
City of Trenton | Trenton, NJ | $150,000
City of Trenton | Trenton, NJ | $192,488
Catholic Charities, Diocese of Trenton | Trenton, NJ | $67,374
City of Trenton | Trenton, NJ | $667,560
New Jersey Department of Community Affairs | Trenton, NJ | $738,360
New Jersey Housing and Mortgage Finance Agency | Trenton, NJ | $2,457
City of Trenton | Trenton, NJ | $139,920
New Jersey Department of Community Affairs | Trenton, NJ | $67,521
New Jersey Department of Community Affairs | Trenton, NJ | $140,172
New Jersey Association on Correction | Trenton, NJ | $230,038
New Jersey Housing and Mortgage Finance Agency | Trenton, NJ | $33,374
New Jersey Department of Community Affairs | Trenton, NJ | $694,980
LADACIN Network, Inc. | Wanamassa, NJ | $28,348
AAH of Bergen County, Inc. | Washington Township, NJ | $536,812
North Hudson Community Action Corporation | West New York, NJ | $424,888
City of Albuquerque | Albuquerque, NM | $223,710
Catholic Charities | Albuquerque, NM | $51,371
City of Albuquerque | Albuquerque, NM | $239,268
Barrett Foundation, Inc. | Albuquerque, NM | $97,447
City of Albuquerque | Albuquerque, NM | $811,272
Barrett Foundation, Inc. | Albuquerque, NM | $23,780
Catholic Charities | Albuquerque, NM | $241,154
Catholic Charities | Albuquerque, NM | $197,868
Albuquerque Health Care for the Homeless, Inc. | Albuquerque, NM | $135,267
City of Albuquerque | Albuquerque, NM | $863,881
St. Martin's Hospitality Center | Albuquerque, NM | $115,500
Transitional Living Services, Inc. | Albuquerque, NM | $276,300
Women's Community Association | Albuquerque, NM | $42,097
Human Rights Advocacy, Inc. | Albuquerque, NM | $186,900
Transitional Living Services, Inc. | Albuquerque, NM | $105,000
Albuquerque Mental Health Housing Coalition | Albuquerque, NM | $749,490
Valencia Shelter for Victims Domestic Violence | Belen, NM | $320,000
San Juan County Partnership | Farmington, NM | $210,672
Community Action Agency of Southern New Mexico | Las Cruces, NM | $97,000
Hacienda del Sol | Las Cruces, NM | $197,764
Samaritan House, Inc. | Las Vegas, NM | $193,420
Village of Los Lunas | Los Lunas, NM | $781,920
Haven House, Inc. | Rio Rancho, NM | $150,000
Esperanza Shelter For Battered Families, Inc. | Santa Fe, NM | $283,500
Youth Shelter and Family Services | Santa Fe, NM | $420,000
City of Santa Fe | Santa Fe, NM | $115,164
City of Santa Fe | Santa Fe, NM | $186,336
St. Elizabeth Shelter Corporation | Santa Fe, NM | $218,141
Rural Clinics Community Mental Health Centers | Carson City, NV | $222,132
Vitality Center | Elko, NV | $555,250
Henderson Allied Community Advocates | Henderson, NV | $471,554
Clark County Social Service | Las Vegas, NV | $219,300
HELP Las Vegas Housing Corporation | Las Vegas, NV | $390,461
Nevada H.A.N.D., Inc. | Las Vegas, NV | $750,000
The Salvation Army, A California Corporation | Las Vegas, NV | $429,950
The Salvation Army, A California Corporation | Las Vegas, NV | $666,502
Women's Development Center | Las Vegas, NV | $164,895
Women's Development Center | Las Vegas, NV | $238,571
Temporary Assistance for Domestic Crisis, Inc. | Las Vegas, NV | $227,702
St. Vincent HELP Inc. | Las Vegas, NV | $360,209
Women's Development Center | Las Vegas, NV | $130,876
State of Nevada | Las Vegas, NV | $705,336
Northern Nevada Adult Mental Health Services (NNAMHS) | Nevada, NV | $346,200
Northern Nevada Adult Mental Health Services (NNAMHS) | Nevada, NV | $430,836
The Shade Tree | North Las Vegas, NV | $605,828
ReStart, Inc. | Reno, NV | $89,115
ReStart, Inc. | Reno, NV | $21,177
ReStart, Inc. | Reno, NV | $162,200
ReStart, Inc. | Reno, NV | $932,237
Northern Nevada Community Housing Resource Board | Reno, NV | $51,955
ReStart, Inc. | Reno, NV | $69,400
Homeless Action Committee, Inc. | Albany, NY | $209,922
NYS Office of Mental Health | Albany, NY | $55,224
NYS Office of Mental Health | Albany, NY | $133,752
State of New York | Albany, NY | $208,404
NYS Office of Mental Health | Albany, NY | $268,668
NYS Office of Mental Health | Albany, NY | $700,020
NYS Office of Mental Health | Albany, NY | $186,660
State of New York | Albany, NY | $154,920
NYS Office of Mental Health | Albany, NY | $149,328
NYS Office of Mental Health | Albany, NY | $83,100
NYS Office of Mental Health | Albany, NY | $228,504
NYS Office of Mental Health | Albany, NY | $1,419,420
State of New York | Albany, NY | $66,444
NYS Office of Mental Health | Albany, NY | $91,368
NYS Office of Mental Health | Albany, NY | $130,104
NYS Office of Mental Health | Albany, NY | $287,748
NYS Office of Mental Health | Albany, NY | $370,152
NYS Office of Mental Health | Albany, NY | $427,512
NYS Office of Mental Health | Albany, NY | $203,040
NYS Office of Mental Health | Albany, NY | $266,700
State of New York | Albany, NY | $81,180
NYS Office of Mental Health | Albany, NY | $432,576
NYS Office of Mental Health | Albany, NY | $217,944
State of New York | Albany, NY | $197,040
NYS Office of Mental Health | Albany, NY | $77,760
State of New York | Albany, NY | $350,556
State of New York | Albany, NY | $184,248
State of New York, OASAS | Albany, NY | $550,944
State of New York, OASAS | Albany, NY | $241,560
State of New York, OASAS | Albany, NY | $97,728
State of New York, OASAS | Albany, NY | $88,320
NYS OASAS | Albany, NY | $418,368
State of New York | Albany, NY | $191,376
State of New York, OASAS | Albany, NY | $124,488
NYS Office of Mental Health | Albany, NY | $159,972
State of New York, OASAS | Albany, NY | $175,680
State of New York, OASAS | Albany, NY | $159,480
State of New York, OASAS | Albany, NY | $266,352
State of New York, OASAS | Albany, NY | $94,020
Albany Housing Authority | Albany, NY | $33,540
State of New York, OASAS | Albany, NY | $157,008
State of New York | Albany, NY | $77,976
State of New York | Albany, NY | $185,712
NYS Office of Mental Health | Albany, NY | $67,320
NYS Office of Mental Health | Albany, NY | $71,988
State of New York, OASAS | Albany, NY | $105,000
Equinox, Inc. | Albany, NY | $163,281
State of New York, OASAS | Albany, NY | $171,960
State of New York, OASAS | Albany, NY | $137,772
Albany Housing Authority | Albany, NY | $178,116
NYS Office of Mental Health | Albany, NY | $249,684
Albany Housing Coalition, Inc. | Albany, NY | $190,000
Albany Housing Authority | Albany, NY | $944,760
State of New York, OASAS | Albany, NY | $66,024
Albany Housing Coalition, Inc. | Albany, NY | $63,000
State of New York, OASAS | Albany, NY | $45,720
State of New York, OASAS | Albany, NY | $163,608
State of New York, OASAS | Albany, NY | $328,284
Community Living Associates Program, Inc. | Albany, NY | $95,705
State of New York, OASAS | Albany, NY | $175,680
State of New York, OASAS | Albany, NY | $137,280
State of New York | Albany, NY | $244,200
State of New York, OASAS | Albany, NY | $175,680
NYS OASAS | Albany, NY | $152,844
State of New York, OASAS | Albany, NY | $109,800
State of New York, OASAS | Albany, NY | $145,212
Cayuga/Seneca Community Action Agency, Inc. | Auburn, NY | $179,613
Options for Independence, Inc. | Auburn, NY | $46,380
Options for Independence, Inc. | Auburn, NY | $221,924
Unity House of Cayuga County, Inc. | Auburn, NY | $357,252
Unity House of Cayuga County, Inc. | Auburn, NY | $67,500
South Shore Association for Independent Living, Inc. | Baldwin, NY | $278,770
South Shore Association for Independent Living, Inc. | Baldwin, NY | $440,580
South Shore Association for Independent Living, Inc. | Baldwin, NY | $289,750
Steuben County | Bath, NY | $246,000
United Veterans Beacon House, Inc. | Bayshore, NY | $267,575
Broome County Department of Mental Health | Binghamton, NY | $784,800
Fairview Recovery Services, Inc. | Binghamton, NY | $246,000
Phoenix Houses of Long Island | Brentwood, NY | $76,020
Transitional Services of NY for LI, Inc.—Summit Program | Brentwood, NY | $172,368
Samaritan Village, Inc. | Briarwood, NY | $183,750
Samaritan Village, Inc. | Briarwood, NY | $342,709
Argus Community, Inc. | Bronx, NY | $430,101
Banana Kelly Community Improvement Association, Inc. | Bronx, NY | $753,512
Argus Community, Inc. | Bronx, NY | $370,285
Vocational Instruction Project Community Services, Inc. | Bronx, NY | $278,855
Vocational Instruction Project Community Services, Inc. | Bronx, NY | $180,033
Vocational Instruction Project Community Services, Inc. | Bronx, NY | $455,334
University Consultation and Treatment Center for Mental Hygiene, Inc. | Bronx, NY | $489,999
Community Action For Human Services Inc. | Bronx, NY | $258,416
Community Action For Human Services Inc. | Bronx, NY | $872,482
Citizens Advice Bureau | Bronx, NY | $210,000
Citizens Advice Bureau | Bronx, NY | $2,400,000
H.O.M.E.E. Clinic, Inc. | Bronx, NY | $263,874
Argus Community, Inc. | Bronx, NY | $371,322
Helping Hands Unlimited, Inc. | Brooklyn, NY | $160,454
Church Avenue Merchants Block Association, Inc. (CAMBA) | Brooklyn, NY | $166,666
Anchor House, Inc. | Brooklyn, NY | $240,647
East New York Urban Youth Corps | Brooklyn, NY | $193,513
Community Counseling and Mediation Services | Brooklyn, NY | $477,904
Multi-Talents, Inc. | Brooklyn, NY | $463,631
Bridge Back Recovery Homes, Inc. | Brooklyn, NY | $1,333,747
Brooklyn Community Housing & Services | Brooklyn, NY | $783,835
El Regreso Foundation | Brooklyn, NY | $253,855
Brooklyn Bureau of Community Service | Brooklyn, NY | $474,924
Brooklyn Bureau of Community Service | Brooklyn, NY | $249,674
Damon House New York, Inc. | Brooklyn, NY | $262,479
Crisis Services (Suicide Prevention and Crisis Service) | Buffalo, NY | $59,097
County of Erie | Buffalo, NY | $142,152
WNY Veterans Housing Coalition, Inc. | Buffalo, NY | $262,224
County of Erie | Buffalo, NY | $111,085
County of Erie | Buffalo, NY | $109,728
County of Erie | Buffalo, NY | $37,608
County of Erie | Buffalo, NY | $74,088
County of Erie | Buffalo, NY | $173,724
County of Erie | Buffalo, NY | $264,144
County of Erie | Buffalo, NY | $179,904
County of Erie | Buffalo, NY | $115,656
County of Erie | Buffalo, NY | $137,064
County of Erie | Buffalo, NY | $56,796
Homespace Corporation | Buffalo, NY | $133,313
County of Erie | Buffalo, NY | $215,973
Gerard Place Housing Development Fund Company | Buffalo, NY | $94,452
Restoration Society, Inc. | Buffalo, NY | $220,281
City of Dunkirk Housing Authority | Dunkirk, NY | $438,780
Chautauqua Opportunities, Inc. | Dunkirk, NY | $65,000
Catholic Charities of Chemung County (Southern Tier) | Elmira, NY | $94,642
Catholic Charities of Chemung County (Southern Tier) | Elmira, NY | $456,683
Nassau Suffolk Coalition for the Homeless, Inc. | Garden City, NY | $63,000
Housing Options Made Easy, Inc. | Gowanda, NY | $183,365
Housing Options Made Easy, Inc. | Gowanda, NY | $133,270
Rehabilitation Support Services, Inc. | Guilderland, NY | $103,168
Rehabilitation Support Services, Inc. | Guilderland, NY | $251,357
Suffolk County Department of Social Services | Hauppauge, NY | $710,940
Nassau County Coalition Against Domestic Violence, Inc. | Hempstead, NY | $294,994
Nassau County Coalition Against Domestic Violence, Inc. | Hempstead, NY | $119,016
Nassau/Suffolk Law Services Committee, Inc. | Hempstead, NY | $139,232
Nassau/Suffolk Law Services Committee, Inc. | Hempstead, NY | $208,848
Columbia Opportunities, Inc. | Hudson, NY | $10,080
Tompkins Community Action | Ithaca, NY | $60,126
Ulster County Department of Social Services | Kingston, NY | $286,080
Mental Health Association in Ulster County, Inc. | Kingston, NY | $173,832
Gateway Community Industries, Inc. | Kingston, NY | $120,601
Circulo de la Hispanidad, Inc. | Long Beach, NY | $266,849
Wayne County Action Program, Inc. | Lyons, NY | $152,479
Franklin County Community Housing Council, Inc. | Malone, NY | $175,942
Community Action Agency of Franklin County, NY, Inc. | Malone, NY | $30,000
Concern for Independent Living, Inc. | Medford, NY | $432,841
Crystal Run Village, Inc. | Middletown, NY | $133,350
Crystal Run Village, Inc. | Middletown, NY | $68,116
Crystal Run Village, Inc. | Middletown, NY | $157,500
Crystal Run Village, Inc. | Middletown, NY | $102,234
Crystal Run Village, Inc. | Middletown, NY | $244,472
Crystal Run Village, Inc. | Middletown, NY | $186,615
Regional Economic Community Action Program, Inc. | Middletown, NY | $390,600
Family and Children's Association | Mineola, NY | $357,254
Council on Alcoholism & Drug Abuse of Sullivan County, Inc. | Monticello, NY | $110,040
City of Mount Vernon (NY) | Mount Vernon, NY | $37,319
City of Mount Vernon (NY) | Mount Vernon, NY | $45,000
City of Mount Vernon (NY) | Mount Vernon, NY | $29,123
City of Mount Vernon (NY) | Mount Vernon, NY | $30,450
City of Mount Vernon (NY) | Mount Vernon, NY | $108,960
City of Mount Vernon (NY) | Mount Vernon, NY | $49,749
City of Mount Vernon (NY) | Mount Vernon, NY | $33,273
City of Mount Vernon (NY) | Mount Vernon, NY | $204,300
City of Mount Vernon (NY) | Mount Vernon, NY | $43,260
City of Mount Vernon (NY) | Mount Vernon, NY | $171,675
City of Mount Vernon (NY) | Mount Vernon, NY | $33,282
City of Mount Vernon (NY) | Mount Vernon, NY | $33,273
HELP—Equity Homes, Inc. | New York, NY | $127,897
West Side Federation for Senior and Supportive Housing, Inc. | New York, NY | $220,412
Urban Justice Center | New York, NY | $108,466
Community Development Partners, Inc. | New York, NY | $257,143
Community Development Partners, Inc. | New York, NY | $310,230
Urban Justice Center | New York, NY | $109,686
Minority Task Force On AIDS | New York, NY | $267,828
The Center for Urban Community Services, Inc. | New York, NY | $709,678
Community Development Partners, Inc. | New York, NY | $36,303
West Side Federation for Senior and Supportive Housing, Inc. | New York, NY | $724,395
The Fortune Society | New York, NY | $896,314
Community Development Partners, Inc. | New York, NY | $69,934
HELP—Development Corporation | New York, NY | $439,457
The Center for Urban Community Services, Inc. | New York, NY | $592,861
Urban Justice Center | New York, NY | $34,246
Phase: Piggy Back, Inc. | New York, NY | $137,118
HELP—Equity Homes, Inc. | New York, NY | $165,915
Minority Task Force On AIDS | New York, NY | $148,972
HELP-Equity Homes, Inc. | New York, NY | $398,160
Services for the Underserved-Mental Health Programs, Inc. | New York, NY | $404,204
Services for the Underserved-Mental Health Programs, Inc. | New York, NY | $149,625
Services for the Underserved-Mental Health Programs, Inc. | New York, NY | $283,034
Harlem United Community AIDS Center, Inc. | New York, NY | $709,231
Ali Forney Center | New York, NY | $1,311,931
Neighborhood Coalition for Shelter, Inc. | New York, NY | $240,287
Urban Pathways, Inc. | New York, NY | $174,675
Urban Pathways, Inc. | New York, NY | $296,220
Urban Pathways, Inc. | New York, NY | $714,905
Services for the Underserved-Mental Health Programs, Inc. | New York, NY | $345,362
The Center for Urban Community Services, Inc. | New York, NY | $453,600
Metropolitan Council on Jewish Poverty | New York, NY | $99,942
Violence Intervention Program, Inc. | New York, NY | $974,762
United Bronx Parents, Inc. | New York, NY | $419,529
United Bronx Parents, Inc. | New York, NY | $248,975
The Doe Fund, Inc. | New York, NY | $678,605
The Doe Fund, Inc. | New York, NY | $710,814
The Doe Fund, Inc. | New York, NY | $451,538
Phase: Piggy Back, Inc. | New York, NY | $305,947
Fountain House, Inc. | New York, NY | $1,278,593
Fountain House, Inc. | New York, NY | $144,712
Weston United Community Renewal, Inc. | New York, NY | $224,900
HELP Social Service Corporation | New York, NY | $330,330
HELP Social Service Corporation | New York, NY | $1,008,349
Association to Benefit Children | New York, NY | $231,414
The Doe Fund, Inc. | New York, NY | $821,370
Bronx Addiction Services Integrated Concepts Systems Inc. | New York, NY | $353,208
The Doe Fund, Inc. | New York, NY | $1,045,343
The Doe Fund, Inc. | New York, NY | $351,456
The Educational Alliance, Inc. | New York, NY | $448,421
The Educational Alliance, Inc. | New York, NY | $480,638
Pibly Residential Programs, Inc. | New York, NY | $463,234
Common Ground Community IV HDFC, Inc. | New York, NY | $141,382
The Project for Psychiatric Outreach to the Homeless, Inc. | New York, NY | $238,140
The Project for Psychiatric Outreach to the Homeless, Inc. | New York, NY | $200,000
NYC Department of Housing Preservation and Development | New York City, NY | $2,538,000
NYC Department of Housing Preservation and Development | New York City, NY | $2,030,400
NYC Department of Housing Preservation and Development | New York City, NY | $1,297,440
NYC Department of Housing Preservation and Development | New York City, NY | $1,157,700
NYC Department of Housing Preservation and Development | New York City, NY | $406,080
NYC Department of Housing Preservation and Development | New York City, NY | $1,269,000
NYC Department of Housing Preservation and Development | New York City, NY | $1,371,600
NYC Department of Housing Preservation and Development | New York City, NY | $244,320
HELP Development Corporation | New York City, NY | $1,300,324
Palladia, Inc. | New York, NY | $823,775
Heritage Health and Housing, Inc. | New York, NY | $108,333
The Doe Fund, Inc. | New York, NY | $492,713
The Doe Fund, Inc. | New York, NY | $414,057
The Doe Fund, Inc. | New York, NY | $332,500
Palladia, Inc. | New York, NY | $317,914
Women In Need, Inc. | New York, NY | $773,675
Goddard Riverside Community Center | New York, NY | $339,288
Goddard Riverside Community Center | New York, NY | $153,697
Goddard Riverside Community Center | New York, NY | $188,466
The Jericho Project | New York, NY | $99,342
Palladia, Inc. | New York, NY | $458,242
Housing Works. Inc. | New York, NY | $939,072
Bowery Residents Committee, Inc. | New York, NY | $368,496
Heritage Health and Housing, Inc. | New York, NY | $159,340
Heritage Health and Housing, Inc. | New York, NY | $328,214
Heritage Health and Housing, Inc. | New York, NY | $249,495
Housing Works. Inc. | New York, NY | $667,269
Palladia, Inc. | New York, NY | $530,120
Palladia, Inc. | New York, NY | $556,583
Palladia, Inc. | New York, NY | $565,580
Bowery Residents Committee, Inc. | New York, NY | $360,107
Bowery Residents Committee, Inc. | New York, NY | $497,954
Palladia, Inc. | New York, NY | $985,660
Bowery Residents Committee, Inc. | New York, NY | $511,358
Health Industry Resources Enterprises, Inc. | New York, NY | $1,326,429
Institute For Community Living, Inc. | New York, NY | $141,627
Project Renewal, Inc. | New York, NY | $407,839
Lenox Hill Neighborhood House | New York, NY | $283,845
Institute For Community Living, Inc. | New York, NY | $109,318
Institute For Community Living, Inc. | New York, NY | $315,787
Project Renewal, Inc. | New York, NY | $1,341,540
Safe Space NYC, Inc. | New York, NY | $225,565
Coalition For the Homeless | New York, NY | $367,554
John Heuss Corporation | New York, NY | $154,060
Columba Kavanagh House, Inc. | New York, NY | $776,326
Mental Health Association of NYC, Inc. | New York, NY | $581,091
Mental Health Association of NYC, Inc. | New York, NY | $288,063
Veritas Therapeutic Community, Inc. | New York, NY | $273,348
Under 21, Inc./Covenant House New York | New York, NY | $419,149
Health Industry Resources Enterprises, Inc. | New York, NY | $1,271,258
Federation Employment and Guidance Service, Inc. | New York, NY | $676,767
Under 21, Inc./Covenant House New York | New York, NY | $149,556
WestHELP, Inc. | New York, NY | $240,000
Under 21, Inc./Covenant House New York | New York, NY | $166,948
Under 21, Inc./Covenant House New York | New York, NY | $177,978
Under 21, Inc./Covenant House New York | New York, NY | $358,823
The Bridge Inc. | New York, NY | $101,909
Federation Employment and Guidance Service, Inc. | New York, NY | $714,961
Federation Employment and Guidance Service, Inc. | New York, NY | $582,961
The YMCA of Greater New York | New York, NY | $570,505
Under 21, Inc./Covenant House New York | New York, NY | $504,647
Under 21, Inc./Covenant House New York | New York, NY | $376,444
Under 21, Inc./Covenant House New York | New York, NY | $594,542
Family Residences and Essentials Enterprises, Inc. | Old Bethpage, NY | $208,040
Suffolk County United Veterans | Patchogue, NY | $209,727
Behavioral Health Services North, Inc. | Plattsburgh, NY | $66,214
Plattsburgh Housing Authority | Plattsburgh, NY | $263,520
Dutchess County | Poughkeepsie, NY | $109,974
Dutchess County | Poughkeepsie, NY | $106,680
Dutchess County | Poughkeepsie, NY | $33,629
Dutchess County | Poughkeepsie, NY | $162,749
Dutchess County | Poughkeepsie, NY | $142,020
Dutchess County | Poughkeepsie, NY | $212,640
Rural Opportunities, Inc | Rochester, NY | $125,593
Rochester Housing Authority | Rochester, NY | $628,560
Veterans Outreach Center, Inc. | Rochester, NY | $228,383
Rochester Housing Authority | Rochester, NY | $879,300
Rochester Housing Authority | Rochester, NY | $445,980
Sojourner Hall for Women, Inc. | Rochester, NY | $267,825
Rochester Monroe County Youth Bureau | Rochester, NY | $336,965
Spiritus Christi Prison Outreach, Inc.—Jennifer House | Rochester, NY | $255,000
Rochester Housing Authority | Rochester, NY | $373,536
Rochester Housing Authority | Rochester, NY | $496,620
Rochester Housing Authority | Rochester, NY | $377,856
Rochester Housing Authority | Rochester, NY | $510,096
The Salvation Army | Rochester, NY | $1,037,810
Sojourner Hall for Women, Inc. | Rochester, NY | $406,931
Cattaraugus Community Action, Inc. | Salamanca, NY | $94,315
Schenectady Community Action Program, Inc. | Schenectady, NY | $479,682
Bethesda House of Schenectady, Inc. | Schenectady, NY | $750,000
Bethesda House of Schenectady, Inc. | Schenectady, NY | $458,216
City of Schenectady | Schenectady, NY | $97,440
City of Schenectady | Schenectady, NY | $48,720
SAFE, Inc. of Schenectady | Schenectady, NY | $48,267
Options for Community Living, Inc. | Smithtown, NY | $149,415
Project Hospitality, Inc. | Staten Island, NY | $370,558
Federation Employment and Guidance Service, Inc. | Syosset, NY | $214,840
Federation Employment and Guidance Service, Inc. | Syosset, NY | $499,983
Catholic Charities of the Roman Catholic Diocese of Syracuse | Syracuse, NY | $918,083
Central New York Services, Inc. | Syracuse, NY | $262,500
Chadwick Residence, Inc. | Syracuse, NY | $95,871
Syracuse Brick House, Inc. | Syracuse, NY | $247,645
The Salvation Army | Syracuse, NY | $251,111
Onondaga Case Management Services, Inc. | Syracuse, NY | $703,446
Chadwick Residence, Inc. | Syracuse, NY | $557,230
Syracuse Brick House, Inc. | Syracuse, NY | $647,652
Syracuse Housing Authority | Syracuse, NY | $599,052
Syracuse Housing Authority | Syracuse, NY | $1,472,760
Joseph's House and Shelter, Inc. | Troy, NY | $750,000
YWCA of Troy-Cohoes | Troy, NY | $210,000
City of Troy, New York | Troy, NY | $199,704
YWCA of Troy-Cohoes | Troy, NY | $75,000
Troy Housing Authority | Troy, NY | $48,276
Troy Housing Authority | Troy, NY | $321,840
Unity House of Troy, Inc. | Troy, NY | $308,188
Support Ministries, Inc. | Waterford, NY | $270,000
Federation of Organizations for the NY State Mentally Disabled, Inc. | West Babylon, NY | $206,492
Community Housing Innovations, Inc. | White Plains, NY | $133,662
Community Housing Innovations, Inc. | White Plains, NY | $189,373
Community Housing Innovations, Inc. | White Plains, NY | $500,060
Westchester County, Department of Comm. Mental Health | White Plains, NY | $252,828
Westchester County, Department of Comm. Mental Health | White Plains, NY | $277,512
Westchester County, Department of Comm. Mental Health | White Plains, NY | $743,400
Westchester County, Department of Comm. Mental Health | White Plains, NY | $519,840
Westchester County, Department of Comm. Mental Health | White Plains, NY | $202,440
Westchester County, Department of Comm. Mental Health | White Plains, NY | $324,900
Westchester County, Department of Comm. Mental Health | White Plains, NY | $204,552
Westchester County, Department of Comm. Mental Health | White Plains, NY | $194,940
Westchester County, Department of Comm. Mental Health | White Plains, NY | $71,316
Westchester County, Department of Comm. Mental Health | White Plains, NY | $100,000
Westchester County, Department of Comm. Mental Health | White Plains, NY | $179,868
Westchester County, Department of Comm. Mental Health | White Plains, NY | $290,160
Westchester County, Department of Comm. Mental Health | White Plains, NY | $116,964
Westchester County, Department of Comm. Mental Health | White Plains, NY | $260,988
Westchester County, Department of Comm. Mental Health | White Plains, NY | $324,900
Westchester County, Department of Comm. Mental Health | White Plains, NY | $192,852
Westchester County, Department of Comm. Mental Health | White Plains, NY | $278,568
Westchester County, Department of Comm. Mental Health | White Plains, NY | $216,744
Westchester County, Department of Comm. Mental Health | White Plains, NY | $259,920
Westchester County, Department of Comm. Mental Health | White Plains, NY | $363,828
Westchester County, Department of Comm. Mental Health | White Plains, NY | $184,056
Westchester County, Department of Comm. Mental Health | White Plains, NY | $129,636
Westchester County, Department of Comm. Mental Health | White Plains, NY | $301,032
Westchester County, Department of Comm. Mental Health | White Plains, NY | $197,064
Westchester County, Department of Comm. Mental Health | White Plains, NY | $242,856
Legal Services of the Hudson Valley | White Plains, NY | $58,614
Westchester County, Social Services | White Plains, NY | $30,000
Westchester County, Social Services | White Plains, NY | $205,485
Westchester County, Social Services | White Plains, NY | $140,000
Westchester County, Social Services | White Plains, NY | $175,637
Greyston Health Services | Yonkers, NY | $251,112
The Municipal Housing Authority for the City of Yonkers | Yonkers, NY | $107,132
The Municipal Housing Authority for the City of Yonkers | Yonkers, NY | $29,975
The Municipal Housing Authority for the City of Yonkers | Yonkers, NY | $314,239
The Municipal Housing Authority for the City of Yonkers | Yonkers, NY | $49,910
The Municipal Housing Authority for the City of Yonkers | Yonkers, NY | $35,925
The Municipal Housing Authority for the City of Yonkers | Yonkers, NY | $33,415
The Municipal Housing Authority for the City of Yonkers | Yonkers, NY | $69,275
The Municipal Housing Authority for the City of Yonkers | Yonkers, NY | $81,166
The Municipal Housing Authority for the City of Yonkers | Yonkers, NY | $17,115
The Municipal Housing Authority for the City of Yonkers | Yonkers, NY | $18,102
The Municipal Housing Authority for the City of Yonkers | Yonkers, NY | $44,091
The Municipal Housing Authority for the City of Yonkers | Yonkers, NY | $187,088
The Municipal Housing Authority for the City of Yonkers | Yonkers, NY | $61,124
The Municipal Housing Authority for the City of Yonkers | Yonkers, NY | $49,444
Oriana Services, Inc. | Akron, OH | $142,287
Community Drug Board | Akron, OH | $219,586
Legacy III, Inc. | Akron, OH | $227,849
Akron Metropolitan Housing Authority | Akron, OH | $244,992
Community Drug Board | Akron, OH | $186,900
Akron Metropolitan Housing Authority | Akron, OH | $1,121,040
Summit County Children Services | Akron, OH | $346,933
Oriana House, Inc. | Akron, OH | $238,276
Community Legal Aid Services, Inc. | Akron, OH | $55,441
Appleseed Community Mental Health Center, Inc. | Ashland, OH | $198,922
Community Services of Stark County, Inc. | Canton, OH | $383,876
Stark Metropolitan Housing Authority | Canton, OH | $173,400
ICAN, Inc. | Canton, OH | $173,384
ICAN, Inc. | Canton, OH | $140,928
Young Women's Christian Association, Inc. | Canton, OH | $143,872
Young Women's Christian Association, Inc. | Canton, OH | $41,570
Young Women's Christian Association, Inc. | Canton, OH | $181,690
YMCA Of Central Stark County | Canton, OH | $652,050
ICAN, Inc. | Canton, OH | $93,713
Geauga Community Board of Mental Health, Drug and Alcohol Services | Chardon, OH | $86,232
Shelterhouse Volunteer Group, Inc | Cincinnati, OH | $279,000
City of Cincinnati, Ohio | Cincinnati, OH | $1,614,000
City of Cincinnati, Ohio | Cincinnati, OH | $570,588
City of Cincinnati, Ohio | Cincinnati, OH | $558,120
City of Cincinnati, Ohio | Cincinnati, OH | $774,660
Young Women's Christian Association, Inc | Cincinnati, OH | $438,204
Hamilton County Alcohol and Drug Addiction Services Board | Cincinnati, OH | $1,190,000
Interfaith Hospitality Network of Greater Cincinnati | Cincinnati, OH | $330,114
House of Hope, Inc. | Cincinnati, OH | $458,000
Joseph House, Inc | Cincinnati, OH | $231,147
Center for Independent Living Options | Cincinnati, OH | $882,921
The Salvation Army | Cincinnati, OH | $88,933
Freestore Foodbank, Inc | Cincinnati, OH | $511,347
City of Cincinnati, Ohio | Cincinnati, OH | $888,600
Ohio Valley Goodwill Industries, Inc | Cincinnati, OH | $567,972
Health Resource Center of Cincinnati, Inc | Cincinnati, OH | $398,998
Tom Geiger Guest House, Inc | Cincinnati, OH | $420,000
Mental Health Services for Homeless Persons, Inc. (MHS) | Cleveland, OH | $262,851
Mental Health Services for Homeless Persons, Inc. (MHS) | Cleveland, OH | $276,577
Volunteers of America of Northeast and North Central Ohio | Cleveland, OH | $787,500
Cuyahoga County | Cleveland, OH | $194,365
Cuyahoga County | Cleveland, OH | $317,109
Cuyahoga County | Cleveland, OH | $229,897
Cuyahoga County | Cleveland, OH | $270,705
Cuyahoga County | Cleveland, OH | $174,731
Cuyahoga County | Cleveland, OH | $386,373
Cuyahoga County | Cleveland, OH | $187,351
Cuyahoga County | Cleveland, OH | $2,340,516
Cuyahoga County | Cleveland, OH | $1,631,220
Cuyahoga County | Cleveland, OH | $2,043,060
Cuyahoga County | Cleveland, OH | $484,740
Cuyahoga County | Cleveland, OH | $446,546
Cuyahoga County | Cleveland, OH | $2,196,600
Cuyahoga County | Cleveland, OH | $467,714
Cuyahoga County | Cleveland, OH | $252,298
Cuyahoga County | Cleveland, OH | $241,802
Cuyahoga County | Cleveland, OH | $537,741
Cuyahoga County | Cleveland, OH | $275,403
Cogswell Hall, Inc | Cleveland, OH | $293,207
Volunteers of America of Northeast and North Central Ohio, Inc | Cleveland, OH | $246,967
AIDS Taskforce of Greater Cleveland | Cleveland, OH | $222,660
Continue Life, Inc | Cleveland, OH | $212,973
Volunteers of America of Northeast and North Central Ohio, Inc | Cleveland, OH | $79,155
Emerald Development & Economic Network (EDEN) | Cleveland, OH | $1,410,000
East Side Catholic Center and Shelter | Cleveland, OH | $187,749
YMCA of Greater Cleveland | Cleveland, OH | $342,158
Transitional Housing, Inc | Cleveland, OH | $245,057
Cleveland Housing Network, Inc. | Cleveland, OH | $304,500
Emerald Development & Economic Network (EDEN) | Cleveland, OH | $911,198
Joseph's Home, Inc | Cleveland, OH | $273,056
Cleveland Housing Network, Inc. | Cleveland, OH | $239,253
Cuyahoga Metropolitan Housing Authority | Cleveland, OH | $563,045
Jireh Services, Inc. | Columbus, OH | $708,325
Maryhaven | Columbus, OH | $249,045
Community Shelter Board | Columbus, OH | $370,927
Lutheran Social Services of Central Ohio | Columbus, OH | $162,573
Lutheran Social Services of Central Ohio | Columbus, OH | $81,177
Community Housing Network, Inc. | Columbus, OH | $411,949
Volunteers of America of Central Ohio, Inc. | Columbus, OH | $1,060,297
YWCA of Columbus | Columbus, OH | $487,677
Columbus Metropolitan Housing Authority | Columbus, OH | $578,760
Columbus Metropolitan Housing Authority | Columbus, OH | $509,592
Columbus Metropolitan Housing Authority | Columbus, OH | $65,880
Columbus Metropolitan Housing Authority | Columbus, OH | $397,884
Columbus Metropolitan Housing Authority | Columbus, OH | $265,332
Columbus Metropolitan Housing Authority | Columbus, OH | $220,380
Columbus Metropolitan Housing Authority | Columbus, OH | $83,088
Columbus Metropolitan Housing Authority | Columbus, OH | $165,540
Columbus Metropolitan Housing Authority | Columbus, OH | $171,288
Columbus Metropolitan Housing Authority | Columbus, OH | $202,020
Columbus Metropolitan Housing Authority | Columbus, OH | $28,032
Columbus Metropolitan Housing Authority | Columbus, OH | $65,880
Columbus Metropolitan Housing Authority | Columbus, OH | $397,452
State of Ohio | Columbus, OH | $181,404
Columbus Metropolitan Housing Authority | Columbus, OH | $115,728
Columbus Metropolitan Housing Authority | Columbus, OH | $128,892
St. Vincent Hotel, Inc. | Dayton, OH | $180,000
Miami Valley Housing Opportunities, Inc. | Dayton, OH | $351,051
Miami Valley Housing Opportunities, Inc. | Dayton, OH | $34,815
Miami Valley Housing Opportunities, Inc. | Dayton, OH | $15,549
The City of Dayton | Dayton, OH | $1,222,788
YWCA of Dayton | Dayton, OH | $682,685
Daybreak, Inc. | Dayton, OH | $1,232,604
The City of Dayton | Dayton, OH | $371,448
The City of Dayton | Dayton, OH | $783,720
Good Samaritan Hospital | Dayton, OH | $446,250
Transitional Living, Inc. | Hamilton, OH | $99,719
Transitional Living, Inc. | Hamilton, OH | $255,417
YWCA of Hamilton | Hamilton, OH | $357,960
Family & Community Services of Portage County, Inc. | Kent, OH | $137,800
Coleman Professional Services | Kent, OH | $210,000
Warren Metropolitan Housing Authority | Lebanon, OH | $539,326
Warren Metropolitan Housing Authority | Lebanon, OH | $1,140,069
Community Action Agency for Columbiana County, Inc. | Lisbon, OH | $284,540
Family Recovery Center | Lisbon, OH | $211,827
Lorain Metropolitan Housing Authority | Lorain, OH | $488,100
The Center for Individual & Family Services, Inc. | Mansfield, OH | $164,230
Western Stark Medical Clinic, Inc. | Massillon, OH | $249,903
Medina County Alcohol, Drug Addiction and Mental Health Board | Medina, OH | $1,017,625
Licking County Coalition for Housing | Newark, OH | $1,164,897
Lake County Alcohol, Drug Addition and Mental Health Services Board | Painesville, OH | $867,000
Volunteers of America Northwest Ohio, Inc. | Sandusky, OH | $859,983
Project Woman | Springfield, OH | $121,863
City of Springfield | Springfield, OH | $97,992
Harbor House/300 Beds, Inc. | Toledo, OH | $352,654
Neighborhood Properties, Inc. | Toledo, OH | $233,027
Neighborhood Properties, Inc. | Toledo, OH | $334,766
Catholic Charities Diocese of Toledo | Toledo, OH | $384,325
Family Outreach Community United Services, Inc. | Toledo, OH | $1,214,941
Family Outreach Community United Services, Inc. | Toledo, OH | $350,268
St. Paul's Community Center | Toledo, OH | $564,967
Tri-County Board of Recovery & Mental Health Services | Troy, OH | $122,280
Community Action Commission of Fayette County | Washington Court House, OH | $178,379
Beatitude House | Youngstown, OH | $424,000
Beatitude House | Youngstown, OH | $398,767
Catholic Charities Regional Agency | Youngstown, OH | $56,298
Potential Development Program, Inc. | Youngstown, OH | $53,941
Mahoning-Youngstown Community Action Partnership | Youngstown, OH | $45,824
Meridian Services, Inc. | Youngstown, OH | $273,572
Meridian Services, Inc. | Youngstown, OH | $113,302
Meridian Services, Inc. | Youngstown, OH | $249,281
The Greater Youngstown Point, Inc. | Youngstown, OH | $160,299
Youngstown State University | Youngstown, OH | $150,924
Youngstown City Health District | Youngstown, OH | $160,000
Catholic Charities Regional Agency | Youngstown, OH | $155,663
Northeast Oklahoma Community Action Agency, Inc. | Jay, OK | $226,227
Great Plains Improvement Foundation, Inc. | Lawton, OK | $77,386
Community Crisis Center INC. | Miami, OK | $171,327
East Main Place, Inc. (formerly LEAP) | Norman, OK | $73,468
City of Oklahoma City | Oklahoma City, OK | $209,225
City of Oklahoma City | Oklahoma City, OK | $142,800
City of Oklahoma City | Oklahoma City, OK | $133,386
City of Oklahoma City | Oklahoma City, OK | $195,000
City of Oklahoma City | Oklahoma City, OK | $265,721
State of Oklahoma | Oklahoma City, OK | $149,376
City of Oklahoma City | Oklahoma City, OK | $199,271
City of Oklahoma City | Oklahoma City, OK | $83,018
City of Oklahoma City | Oklahoma City, OK | $13,944
City of Oklahoma City | Oklahoma City, OK | $146,002
City of Oklahoma City | Oklahoma City, OK | $120,000
City of Oklahoma City | Oklahoma City, OK | $57,120
City of Oklahoma City | Oklahoma City, OK | $599,999
Legal Aid Services of Oklahoma, Inc. | Oklahoma City, OK | $111,920
United Community Action Program, Inc. | Pawnee, OK | $41,275
United Way of Ponca City, Inc. | Ponca City, OK | $27,417
Domestic Violence Program of North Central Oklahoma | Ponca City, OK | $29,946
The Salvation Army of Ponca City | Ponca City, OK | $71,400
Community Service Council of Greater Tulsa | Tulsa, OK | $129,113
Mental Health Association in Tulsa, Inc. | Tulsa, OK | $549,070
Domestic Violence Intervention Services, Inc. | Tulsa, OK | $298,739
12 &12, Inc. | Tulsa, OK | $244,916
The Salvation Army, A Georgia Corporation | Tulsa, OK | $673,358
Waynoka MHS | WAYNOKA, OK | $224,440
Senior and Disability Services of Rogue Valley Council of Governments | Central Point, OR | $133,665
Southwestern Oregon Community Action Committee, Inc. | Coos Bay, OR | $25,523
Community Services Consortium | Corvallis, OR | $152,243
Lane County, Oregon | Eugene, OR | $143,307
Lane County, Oregon | Eugene, OR | $378,850
Housing Authority and Community Services Agency | Eugene, OR | $130,320
St Vincent de Paul Society of Lane County | Eugene, OR | $388,223
Lane County, Oregon | Eugene, OR | $100,000
Lane County, Oregon | Eugene, OR | $134,737
St Vincent de Paul Society of Lane County | Eugene, OR | $222,220
St Vincent de Paul Society of Lane County | Eugene, OR | $249,736
Lane County, Oregon | Eugene, OR | $58,567
Lane County, Oregon | Eugene, OR | $82,208
Lane County, Oregon | Eugene, OR | $108,973
Washington County, Oregon | Hillsboro, OR | $400,904
Washington County, Oregon | Hillsboro, OR | $315,972
Washington County, Oregon | Hillsboro, OR | $1,050,034
On-Track, Inc. | Medford, OR | $210,903
The Salvation Army a California Company | Medford, OR | $84,658
Women's Safety & Resource Center | North Bend, OR | $11,620
Clackamas County Social Services | Oregon City, OR | $539,728
Multnomah County | Portland, OR | $263,242
City of Portland | Portland, OR | $243,041
City of Portland | Portland, OR | $112,033
Portland Impact, Inc | Portland, OR | $115,737
The Inn-Home for Boys | Portland, OR | $377,236
Multnomah County | Portland, OR | $45,801
Central City Concern | Portland, OR | $236,968
The Inn-Home for Boys | Portland, OR | $70,911
City of Portland | Portland, OR | $29,711
Multnomah County | Portland, OR | $770,466
City of Portland | Portland, OR | $125,582
Multnomah County | Portland, OR | $139,485
Cascadia Behavioral Heathcare, Inc | Portland, OR | $698,365
Bradley Angle House | Portland, OR | $71,273
Raphael House of Portland | Portland, OR | $48,416
Neighborhood House Inc. | Portland, OR | $276,771
Central City Concern | Portland, OR | $160,603
Central City Concern | Portland, OR | $223,014
Multnomah County | Portland, OR | $24,343
Human Solutions, Inc. | Portland, OR | $100,000
Multnomah County | Portland, OR | $338,746
Housing Authority of Portland | Portland, OR | $737,880
Housing Authority of Portland | Portland, OR | $405,816
Central Oregon Community Action Agency Network | Redmond, OR | $296,759
Umpqua Community Action Network | Roseburg, OR | $81,094
Oregon Housing and Community Services | Salem, OR | $43,311
Oregon Housing and Community Services | Salem, OR | $29,783
Oregon Housing and Community Services | Salem, OR | $19,517
Oregon Housing and Community Services | Salem, OR | $101,548
Oregon Housing and Community Services | Salem, OR | $11,336
Oregon Housing and Community Services | Salem, OR | $40,941
Oregon Housing and Community Services | Salem, OR | $50,122
Oregon Housing and Community Services | Salem, OR | $33,565
Oregon Housing and Community Services | Salem, OR | $44,730
Oregon Housing and Community Services | Salem, OR | $32,482
Oregon Housing and Community Services | Salem, OR | $9,565
Oregon Housing and Community Services | Salem, OR | $99,132
Oregon Housing and Community Services | Salem, OR | $52,500
Oregon Housing and Community Services | Salem, OR | $46,958
Oregon Housing and Community Services | Salem, OR | $82,694
Oregon Housing and Community Services | Salem, OR | $103,843
Oregon Housing and Community Services | Salem, OR | $56,618
Oregon Housing and Community Services | Salem, OR | $245,024
Chemeketa Non-Profit Housing, Inc. | Salem, OR | $449,999
Mid-Williamette Valley Community Action Agency, Inc. | Salem, OR | $300,812
Northwest Human Services | Salem, OR | $235,026
Valley Youth House Committee, Inc. | Allentown, PA | $1,491,966
The PROGRAM for Women and Families, Inc. | Allentown, PA | $220,817
Blair County Community Action Program | Altoona, PA | $313,889
Blair County Community Action Program | Altoona, PA | $531,458
Lebanon County Commissioners | Annville, PA | $78,704
Supportive Services, Inc. | Beaver Falls, PA | $1,169,732
Harbor Point Housing | Beaver Falls, PA | $239,400
The Salvation Army | Beaver Falls, PA | $543,209
Housing Authority of Centre County | Bellefonte, PA | $55,200
Episcopal Ministries of the Diocese of Bethlehem | Bethlehem, PA | $237,276
YWCA of Bradford | Bradford, PA | $189,352
Clearfield-Jefferson Mental Health/Mental Retardation Program | Brockway, PA | $266,086
Housing Authority of the County of Butler | Butler, PA | $493,686
The Salvation Army | Carlisle, PA | $258,357
Maranatha (Formally Financial Counseling Services) | Chambersburg, PA | $315,417
The Salvation Army, a New York Corporation | Chester, PA | $107,318
Catholic Social Services of Delaware County | Chester, PA | $92,402
Catholic Social Services of Delaware County | Chester, PA | $107,608
Horizon House, Inc. | Chester, PA | $233,220
W.C. Atkinson Memorial Community Service Center, Inc. | Coatesville, PA | $47,775
Mechling Shakley Veterans Center | Cowansville, PA | $85,680
Transitional Housing and Care Center of Columbia and Montour Counties | Danville, PA | $195,926
Bucks County | Doylestown, PA | $203,028
Bucks County | Doylestown, PA | $110,158
DuBois Housing Authority | DuBois, PA | $58,752
DuBois Housing Authority | DuBois, PA | $78,048
Family Services of Montgomery County | Eagleville, PA | $181,692
Valley Housing Development Corporation | Emmaus, PA | $361,878
County of Erie DHS MH/MR | Erie, PA | $336,594
County of Erie DHS MH/MR | Erie, PA | $221,680
County of Erie DHS MH/MR | Erie, PA | $297,150
County of Erie DHS MH/MR | Erie, PA | $525,960
County of Erie DHS MH/MR | Erie, PA | $492,318
Victim Outreach Intervention Center | Evans City, PA | $878,694
Westmoreland Human Opportunities, Inc. | Greensburg, PA | $259,728
Westmoreland Human Opportunities, Inc. | Greensburg, PA | $458,000
Christian Churches United of the Tri-County Area | Harrisburg, PA | $933,843
Shalom House, Inc. | Harrisburg, PA | $229,819
YWCA of Greater Harrisburg | Harrisburg, PA | $327,453
Huntingdon House Inc. | Huntingdon, PA | $240,406
Luzerne Intermediate Unit #18 | Kingston, PA | $189,630
Armstrong County Community Action Agency | Kittanning, PA | $121,083
Armstrong County Community Action Agency | Kittanning, PA | $134,412
County of Lancaster | Lancaster, PA | $106,932
Tabor Community Services, Inc. | Lancaster, PA | $255,348
MidPenn Legal Services | Lancaster, PA | $209,790
Community Action Program of Lancaster County | Lancaster, PA | $242,717
Tabor Community Services, Inc. | Lancaster, PA | $347,917
Community Housing Services | Lansdale, PA | $131,408
Housing Authority County of Lebanon | Lebanon, PA | $352,412
Easy Does It, Inc. | Leesport, PA | $1,485,553
American Red Cross, Lower Bucks County Chapter | Levittown, PA | $80,905
Crawford County Mental Health Awareness Program, Inc. (CHAPS) | Meadville, PA | $183,567
United Community Independence Programs | Meadville, PA | $74,505
Family and Community Service of Delaware County, Inc. | Media, PA | $112,445
Community Action Agency of Delaware County, Inc. | Media, PA | $451,654
Community Action Agency of Delaware County, Inc. | Media, PA | $365,546
Domestic Abuse Project of Delaware County | Media, PA | $146,907
Connect, Inc. | Monessen, PA | $119,669
Lawrence County Social Services, Inc. | New Castle, PA | $229,950
Lawrence County Social Services, Inc. | New Castle, PA | $380,809
Crisis Shelter of Lawrence County | New Castle, PA | $83,121
Montgomery County Community Action Development Commission | Norristown, PA | $59,216
Hedwig House, Inc. | Norristown, PA | $181,201
Northern Cambria Community Development Corporation | Northern Cambria, PA | $549,868
United Christian Ministries, Inc | Osceola, PA | $180,807
Penndel Mental Health Center, Inc. | Penndel, PA | $71,671
Penndel Mental Health Center, Inc. | Penndel, PA | $163,918
Mental Health Association of Southeastern Pennsylvania | Philadelphia, PA | $590,372
Mental Health Association of Southeastern Pennsylvania | Philadelphia, PA | $91,728
The Salvation Army, a New York Corporation | Philadelphia, PA | $372,331
Friends Rehabilitation Program, Inc. | Philadelphia, PA | $31,500
Episcopal Community Services of the Diocese of Pennsylvania | Philadelphia, PA | $178,777
Philadelphia Health Management Corporation | Philadelphia, PA | $170,107
Greater Philadelphia Urban Affairs Coalition | Philadelphia, PA | $296,586
Asociacion De Puertorriquenose en Marcha, Inc. (APM) | Philadelphia, PA | $199,616
The Philadelphia Veterans Multi-Service & Education Center, Inc. | Philadelphia, PA | $315,000
Greater Philadelphia Urban Affairs Coalition | Philadelphia, PA | $316,966
Drueding Center/Project Rainbow | Philadelphia, PA | $128,123
People's Emergency Center | Philadelphia, PA | $42,147
People's Emergency Center | Philadelphia, PA | $493,080
People's Emergency Center | Philadelphia, PA | $312,148
Mental Health Association of Southeastern Pennsylvania | Philadelphia, PA | $187,474
Mental Health Association of Southeastern Pennsylvania | Philadelphia, PA | $136,579
Bethesda Project | Philadelphia, PA | $321,802
Project H.O.M.E. | Philadelphia, PA | $1,572,758
City of Philadelphia | Philadelphia, PA | $936,629
AchieveAbility (formerly Philadelphians Concerned About Housing) | Philadelphia, PA | $149,864
Travelers Aid Society of Philadelphia | Philadelphia, PA | $384,074
AchieveAbility (formerly Philadelphians Concerned About Housing) | Philadelphia, PA | $470,400
Committee for Dignity and Families for the Homeless Housing Dev., Inc. | Philadelphia, PA | $534,725
City of Philadelphia | Philadelphia, PA | $866,892
Overington House, Inc. | Philadelphia, PA | $254,142
City of Philadelphia | Philadelphia, PA | $655,200
City of Philadelphia | Philadelphia, PA | $147,924
City of Philadelphia | Philadelphia, PA | $865,134
City of Philadelphia | Philadelphia, PA | $92,842
City of Philadelphia | Philadelphia, PA | $1,365,286
1260 Housing Development Corporation | Philadelphia, PA | $173,498
1260 Housing Development Corporation | Philadelphia, PA | $438,683
1260 Housing Development Corporation | Philadelphia, PA | $1,155,000
Horizon House, Inc. | Philadelphia, PA | $739,014
Asociacion De Puertorriquenose en Marcha, Inc. (APM) | Philadelphia, PA | $173,039
Philadelphia Housing Authority | Philadelphia, PA | $52,800
Philadelphia Housing Authority | Philadelphia, PA | $31,536
City of Philadelphia | Philadelphia, PA | $2,745,960
City of Philadelphia | Philadelphia, PA | $961,200
City of Philadelphia | Philadelphia, PA | $282,180
City of Philadelphia | Philadelphia, PA | $629,580
City of Philadelphia | Philadelphia, PA | $249,960
City of Philadelphia | Philadelphia, PA | $116,508
City of Philadelphia | Philadelphia, PA | $209,400
City of Philadelphia | Philadelphia, PA | $261,420
Philadelphia Housing Authority | Philadelphia, PA | $180,576
City of Philadelphia | Philadelphia, PA | $125,640
City of Philadelphia | Philadelphia, PA | $27,672
AchieveAbility (formerly Philadelphians Concerned About Housing) | Philadelphia, PA | $239,400
City of Philadelphia | Philadelphia, PA | $625,716
Allegheny County | Pittsburgh, PA | $1,052,611
Allegheny County | Pittsburgh, PA | $601,537
Allegheny County | Pittsburgh, PA | $205,566
Allegheny County | Pittsburgh, PA | $277,011
Allegheny County | Pittsburgh, PA | $929,161
Allegheny County | Pittsburgh, PA | $479,147
Allegheny County | Pittsburgh, PA | $291,228
Allegheny County | Pittsburgh, PA | $857,392
Allegheny County | Pittsburgh, PA | $284,957
Allegheny County | Pittsburgh, PA | $924,630
Allegheny County | Pittsburgh, PA | $542,086
Allegheny County | Pittsburgh, PA | $316,132
Allegheny County | Pittsburgh, PA | $526,361
Allegheny County | Pittsburgh, PA | $791,328
Allegheny County | Pittsburgh, PA | $477,989
Allegheny County | Pittsburgh, PA | $887,448
Allegheny County | Pittsburgh, PA | $753,858
Allegheny County | Pittsburgh, PA | $489,670
Allegheny County | Pittsburgh, PA | $298,134
Allegheny County | Pittsburgh, PA | $947,512
Allegheny County | Pittsburgh, PA | $318,949
The Salvation Army, a New York Corporation | Pottstown, PA | $545,825
The Salvation Army, a New York Corporation | Pottstown, PA | $206,216
Schuylkill Women in Crisis | Pottsville, PA | $578,432
Community Action, Inc. | Punxsutawney, PA | $133,790
Berks Counseling Center | Reading, PA | $235,246
Berks Counseling Center | Reading, PA | $211,714
Scranton Primary Health Care Center, Inc. | Scranton, PA | $199,500
Catholic Social Services, Inc. | Scranton, PA | $376,206
St. Joseph's Center | Scranton, PA | $321,225
Catholic Social Services, Inc. | Scranton, PA | $119,614
United Neighborhood Centers | Scranton, PA | $210,763
United Neighborhood Centers | Scranton, PA | $59,556
Penn Foundation, Inc. | Sellersville, PA | $72,888
Tableland Services, Inc. | Somerset, PA | $410,474
Indian Valley Housing Corporation | Souderton, PA | $44,989
Carbon-Monroe-Pike Mental Health/Mental Retardation Program | Stroudsburg, PA | $392,422
Fitzmaurice Community Services, Inc | Stroudsburg, PA | $849,003
Northwestern Human Services of PA | Sunbury, PA | $202,629
Northwestern Human Services of PA | Sunbury, PA | $353,430
Futures Community Support Services, Inc. | Towanda, PA | $239,545
Fayette County Community Action Agency, Inc. | Uniontown, PA | $65,695
City Mission-Living Stones, Inc. | Uniontown, PA | $108,582
Washington County | Washington, PA | $143,027
Washington County | Washington, PA | $222,356
Washington County | Washington, PA | $92,021
Washington County | Washington, PA | $164,510
Washington County | Washington, PA | $197,919
Washington County | Washington, PA | $140,606
Washington County | Washington, PA | $64,755
Washington County | Washington, PA | $85,478
Community Action Southwest | Washington, PA | $36,228
County of Chester | West Chester, PA | $811,440
County of Chester | West Chester, PA | $315,000
The Salvation Army | West Chester, PA | $210,072
County of Chester | West Chester, PA | $94,320
Wyoming Valley Catholic Youth Center | Wilkes-Barre, PA | $664,037
Catholic Social Services | Wilkes-Barre, PA | $264,600
Commission on Economics Opportunity | Wilkes-Barre, PA | $782,456
Commission on Economics Opportunity | Wilkes-Barre, PA | $603,100
Housing Development Corporation of NEPA | Wilkes-Barre, PA | $293,569
Housing Development Corp of NEPA | Wilkes-Barre, PA | $408,261
Delaware County Housing Authority | Woodlyn, PA | $141,492
Delaware County Housing Authority | Woodlyn, PA | $792,900
Delaware County Housing Authority | Woodlyn, PA | $136,134
Delaware County Housing Authority | Woodlyn, PA | $133,923
Delaware County Housing Authority | Woodlyn, PA | $468,015
Bell Socialization Services, Inc | York, PA | $34,824
County of York | York, PA | $122,064
Casa del Peregrino Aguadilla, Inc. | Aguadilla, PR | $72,821
La Tierra Prometida, Inc. | Aguadilla, PR | $187,125
La Tierra Prometida, Inc. | Aguadilla, PR | $267,579
Fundacion de Desarrollo Comunal De P.R., Inc. | Caguas, PR | $135,616
Fundacion de Desarrollo Comunal De P.R., Inc. | Caguas, PR | $154,796
Corporacion Milagros del Amor | Caguas, PR | $37,800
ESTANCIA CORAZON, INC. | MAYAGUEZ, PR | $286,739
Hogar del Buen Pastor, Inc. | San Juan, PR | $237,609
Corporacion La Fondita de Jesus, Inc. | San Juan, PR | $281,667
Albergue El Paraiso, Inc. | San Juan, PR | $1,133,391
Fundacion Chana Goldstein y Samuel Levis, Inc. | San Juan, PR | $246,439
LUCHA CONTRA EL SIDA, INC. | SAN JUAN, PR | $361,927
Corporacion La Fondita de Jesus, Inc. | San Juan, PR | $362,666
MUNICIPALITY OF SAN JUAN | San Juan, PR | $330,768
MUNICIPALITY OF SAN JUAN | San Juan, PR | $298,031
CASA PROTEGIDA JULIA DE BURGOS | SAN JUAN, PR | $810,921
Department of the Family of Puerto Rico | San Juan, PR | $656,567
Rhode Island Housing Mortgage and Finance Corporation | Providence, RI | $787,392
Rhode Island Housing Mortgage and Finance Corporation | Providence, RI | $103,187
Rhode Island Housing Mortgage and Finance Corporation | Providence, RI | $324,515
Rhode Island Housing Mortgage and Finance Corporation | Providence, RI | $350,000
Rhode Island Housing Mortgage and Finance Corporation | Providence, RI | $101,869
Rhode Island Housing Mortgage and Finance Corporation | Providence, RI | $680,269
Rhode Island Housing Mortgage and Finance Corporation | Providence, RI | $173,250
Rhode Island Housing Mortgage and Finance Corporation | Providence, RI | $94,968
Rhode Island Housing Mortgage and Finance Corporation | Providence, RI | $333,216
Rhode Island Housing Mortgage and Finance Corporation | Providence, RI | $451,901
Rhode Island Housing Mortgage and Finance Corporation | Providence, RI | $399,994
Rhode Island Housing Mortgage and Finance Corporation | Providence, RI | $200,000
Rhode Island Housing Mortgage and Finance Corporation | Providence, RI | $34,440
Rhode Island Housing Mortgage and Finance Corporation | Providence, RI | $245,700
Rhode Island Housing Mortgage and Finance Corporation | Providence, RI | $24,785
Rhode Island Housing Mortgage and Finance Corporation | Providence, RI | $46,516
Rhode Island Housing Mortgage and Finance Corporation | Providence, RI | $410,288
Rhode Island Housing Mortgage and Finance Corporation | Providence, RI | $55,440
Rhode Island Housing Mortgage and Finance Corporation | Providence, RI | $117,075
Rhode Island Housing Mortgage and Finance Corporation | Providence, RI | $98,928
Growing Homes Southeast | Cayce, SC | $236,250
Crisis Ministries | Charleston, SC | $306,387
Charleston County Department of Alcohol and Other Drug Abuse Services | Charleston, SC | $395,160
Crisis Ministries | Charleston, SC | $189,168
Humanities Foundation, Inc. | Charleston, SC | $26,846
Humanities Foundation, Inc. | Charleston, SC | $21,939
Humanities Foundation, Inc. | Charleston, SC | $750,000
Humanities Foundation, Inc. | Charleston, SC | $36,000
The Housing Authority- City of Charleston | Charleston, SC | $125,502
SC Department of Mental Health | Columbia, SC | $237,852
The Salvation Army, A Georgia Corporation | Columbia, SC | $108,943
Sistercare, Inc. | Columbia, SC | $232,995
The South Carolina Centers for Equal Justice | Columbia, SC | $138,102
SC Department of Mental Health | Columbia, SC | $109,152
Healing Properties, Inc. | Elgin, SC | $834,344
Healing Properties, Inc. | Elgin, SC | $110,250
Pee Dee Community Action Partnership | Florence, SC | $49,002
Pee Dee Community Action Partnership | Florence, SC | $179,098
Sunbelt Human Advancement Resources, Inc. (SHARE) | Greenville, SC | $98,675
Upstate Homeless Coalition of S.C. | Greenville, SC. | $642,151
Sunbelt Human Advancement Resources, Inc. (SHARE) | Greenville, SC | $545,315
Rosewood House of Recovery, Inc. | Greenville, SC | $57,086
Rosewood House of Recovery, Inc. | Greenville, SC | $33,075
Sunbelt Human Advancement Resources, Inc. (SHARE) | Greenville, SC | $429,173
Upstate Homeless Coalition of S.C. | Greenville, SC | $184,305
Upstate Homeless Coalition of S.C. | Greenville, SC | $750,000
MEG's House | Greenwood, SC | $218,645
Myrtle Beach Housing Authority | Myrtle Beach, SC | $177,588
Any Length Recovery, Inc. | Sumter, SC | $19,068
Inter-Lakes Community Action, Inc. | Madison, SD | $254,498
South Dakota Housing Development Authority | Pierre, SD | $146,330
Pennington County Housing and Redevelopment Commission | Rapid City, SD | $739,260
Development for the Disabled, Inc. | Rapid City, SD | $380,934
American Indian Services, Inc. | Sioux Falls, SD | $113,784
Sioux Falls Housing and Redevelopment Commission | Sioux Falls, SD | $108,300
QUINCO Community Mental Health Center, Inc. | Bolivar, TN | $98,595
QUINCO Community Mental Health Center, Inc. | Bolivar, TN | $196,056
City of Chattanooga | Chattanooga, TN | $159,972
Council for Alcohol and Drug Abuse Services, Inc. | Chattanooga, TN | $41,638
Chattanooga Church Ministries, Inc. | Chattanooga, TN | $90,873
Fortwood Center, Inc. | Chattanooga, TN | $138,649
Council for Alcohol and Drug Abuse Services, Inc. | Chattanooga, TN | $211,255
Chattanooga Church Ministries, Inc. | Chattanooga, TN | $94,828
Chattanooga Homeless Coalition, Inc. | Chattanooga, TN | $107,856
Chattanooga Homeless Coalition, Inc. | Chattanooga, TN | $318,099
Partnership for Families, Children and Adults | Chattanooga, TN | $932,520
City of Clarksville | Clarksville, TN | $425,700
Hope House, Inc. | Columbia, TN | $73,333
Professional Counseling Services, Inc. | Covington, TN | $18,959
Buffalo Valley, Inc. | Hohenwald, TN | $442,708
Buffalo Valley, Inc. | Hohenwald, TN | $71,376
Buffalo Valley, Inc. | Hohenwald, TN | $72,392
Buffalo Valley, Inc. | Hohenwald, TN | $228,444
Buffalo Valley, Inc. | Hohenwald, TN | $131,539
Buffalo Valley, Inc. | Hohenwald, TN | $24,850
Buffalo Valley, Inc. | Hohenwald, TN | $73,047
Buffalo Valley, Inc. | Hohenwald, TN | $49,575
Buffalo Valley, Inc. | Hohenwald, TN | $445,650
Jackson Area Council on Alcoholism and Drug Dependency | Jackson, TN | $443,708
Women's Resource & Rape Assistance Program | Jackson, TN | $86,073
Appalachian Regional Coalition on Homelessness (ARCH) | Johnson City, TN | $205,905
One Way Missionary Baptist Church | Johnson City, TN | $50,000
The Salvation Army, a Georgia Corporation | Johnson City, TN | $214,027
Kingsport Housing & Redevelopment Authority | Kingsport, TN | $511,440
Catholic Charities of East Tennessee, Inc. | Knoxville, TN | $342,294
Volunteer Ministry Center | Knoxville, TN | $400,000
Knoxville-Knox County Community Action Committee | Knoxville, TN | $270,289
Child and Family Tennessee | Knoxville, TN | $359,598
AGAPE Child and Family Services, Inc. | Memphis, TN | $48,960
Whitehaven Southwest Mental Health Center, Inc. | Memphis, TN | $107,174
The University of Tennessee Health Science Center | Memphis, TN | $105,738
Cocaine & Alcohol Awareness Program Inc. | Memphis, TN | $168,749
Memphis Family Shelter, Inc. | Memphis, TN | $74,025
Memphis Family Shelter, Inc. | Memphis, TN | $123,861
J.W. Williams Community Centers dba Women's Oasis of Memphis | Memphis, TN | $239,117
Metropolitan Inter Faith Association, Inc. | Memphis, TN | $153,615
Metropolitan Inter Faith Association, Inc. | Memphis, TN | $122,439
Metropolitan Inter Faith Association, Inc. | Memphis, TN | $134,303
Metropolitan Inter Faith Association, Inc. | Memphis, TN | $107,065
Better Life, Inc. | Memphis, TN | $750,000
Metropolitan Inter Faith Association, Inc. | Memphis, TN | $133,867
Alpha Omega Veterans Services, Inc. | Memphis, TN | $190,050
Partners For The Homeless | Memphis, TN | $37,572
Alpha Omega Veterans Services, Inc. | Memphis, TN | $93,425
Synergy Treatment Center | Memphis, TN | $44,722
Behavioral Health Initiatives, Inc. | Memphis, TN | $78,750
AGAPE Child and Family Services, Inc. | Memphis, TN | $144,080
Whitehaven Southwest Mental Health Center, Inc. | Memphis, TN | $13,538
Catholic Charities, Inc. | Memphis, TN | $296,565
Catholic Charities, Inc. | Memphis, TN | $625,350
Catholic Charities, Inc. | Memphis, TN | $455,356
Shelby County Government | Memphis, TN | $285,818
The Salvation Army, a Georgia Corporation | Memphis, TN | $385,192
Urban Housing Solutions | Nashville, TN | $29,500
Urban Housing Solutions | Nashville, TN | $50,000
Metropolitan Development and Housing Agency | Nashville, TN | $38,808
Metropolitan Development and Housing Agency | Nashville, TN | $359,412
Metropolitan Development and Housing Agency | Nashville, TN | $928,296
Metropolitan Development and Housing Agency | Nashville, TN | $440,354
Centerstone Community Mental Health Centers, Inc. | Nashville, TN | $290,850
Carey Counseling Center, Inc. | Paris, TN | $98,595
Damascus Road, Inc. | Paris, TN | $49,258
Day Nursery of Abilene, Inc | Abilene, TX | $68,145
United Way of Abilene | Abilene, TX | $47,376
Legal Aid of Northwest Texas | Amarillo, TX | $180,000
City of Amarillo | Amarillo, TX | $149,964
City of Amarillo | Amarillo, TX | $554,400
City of Arlington | Arlington, TX | $108,755
City of Arlington | Arlington, TX | $157,106
City of Arlington | Arlington, TX | $29,370
The Housing Authority of the City of Austin | Austin, TX | $841,800
The Housing Authority of the City of Austin | Austin, TX | $337,296
The Housing Authority of Travis County | Austin, TX | $426,156
Travis County Domestic Violence and Sexual Assault Survival Center d/b/a SafePlace | Austin, TX | $826,440
Caritas of Austin | Austin, TX | $313,926
Youth and Family Alliance, Inc. DBA LifeWorks | Austin, TX | $215,320
Youth and Family Alliance, Inc. DBA LifeWorks | Austin, TX | $148,508
The Salvation Army, a Georgia Corporation | Austin, TX | $776,928
ATC MHMR | Austin, TX | $348,007
ATC MHMR | Austin, TX | $78,533
City of Beaumont | Beaumont, TX | $88,212
Some Other Place, Inc. | Beaumont, TX | $117,482
South East Texas Regional Planning Commission | Beaumont, TX | $23,008
Family Services of Southeast Texas, Inc. | Beaumont, TX | $150,977
Twin City Mission, Inc. | Bryan, TX | $64,431
Twin City Mission, Inc. | Bryan, TX | $38,411
Montgomery County Homeless Coalition | Conroe, TX | $269,128
Montgomery County Homeless Coalition | Conroe, TX | $296,630
Goodwill Industries of South Texas | Corpus Christi, TX | $176,099
Coastal Bend Alcohol & Drug Rehabilitation Center dba Charlie's Place | Corpus Christi, TX | $142,569
Nueces County MHMR Community Center | Corpus Christi, TX | $142,871
Corpus Christi Metro Ministries, Inc. | Corpus Christi, TX | $160,255
Wesley Community Center | Corpus Christi, TX | $134,971
Dental Health Programs, Inc. dba Community Dental Care | Dallas, TX | $146,633
Dallas Jewish Coalition, dba Vogel Alcove Childcare Center for Homeless | Dallas, TX | $166,441
Housing Crisis Center | Dallas, TX | $1,555,202
Housing Crisis Center | Dallas, TX | $103,194
Housing Crisis Center | Dallas, TX | $188,007
Housing Crisis Center | Dallas, TX | $182,252
Central Dallas Food Pantry dba Central Dallas Ministries | Dallas, TX | $547,639
PWA Coalition of Dallas, Inc. d/b/a AIDS Services of Dallas | Dallas, TX | $574,390
LifeNet Community Behavioral Healthcare | Dallas, TX | $124,999
LifeNet Community Behavioral Healthcare | Dallas, TX | $364,129
The Family Place | Dallas, TX | $976,567
ABC Behavioral Health, L.L.C. | Dallas, TX | $30,634
City of Dallas | Dallas, TX | $85,560
City of Dallas | Dallas, TX | $149,913
City of Dallas | Dallas, TX | $455,400
City of Dallas | Dallas, TX | $874,200
LifeNet Community Behavioral Healthcare | Dallas, TX | $390,895
ABC Behavioral Health, L.L.C. | Dallas, TX | $26,250
Community Council of Greater Dallas | Dallas, TX | $63,611
Dallas MetroCare Services | Dallas, TX | $1,218,185
Rainbow Days, Inc. | Dallas, TX | $257,237
LifeNet Community Behavioral Healthcare | Dallas, TX | $23,095
Family Gateway, Inc. | Dallas, TX | $150,701
Family Gateway, Inc. | Dallas, TX | $42,440
City of Dallas | Dallas, TX | $250,598
Legal Aid of NorthWest Texas | Dallas, TX | $22,932
Promise House, Inc. | Dallas, TX | $219,538
AIDS Services of North Texas, Inc. | Denton, TX | $237,734
El Paso Center for Children, Inc. | El Paso, TX | $126,248
Centro San Vicente | El Paso, TX | $325,655
YWCA El Paso Del Norte Region | El Paso, TX | $689,190
Opportunity Center for the Homeless | El Paso, TX | $236,162
Opportunity Center for the Homeless | El Paso, TX | $515,767
El Paso Center for Children, Inc. | El Paso, TX | $436,734
Housing Authority of the City of El Paso | El Paso, TX | $1,214,400
Opportunity Center for the Homeless | El Paso, TX | $50,400
Centro San Vicente | El Paso, TX | $420,000
Tarrant County | Fort Worth, TX | $31,090
Volunteers of America Texas | Fort Worth, TX | $124,342
Tarrant County | Fort Worth, TX | $102,951
Tarrant County | Fort Worth, TX | $316,182
Tarrant County | Fort Worth, TX | $1,068,244
Tarrant County | Fort Worth, TX | $69,329
Tarrant County | Fort Worth, TX | $134,726
MHMR of Tarrant County | Fort Worth, TX | $858,875
Housing Authority—City of Fort Worth | Fort Worth, TX | $1,002,960
Tarrant County | Fort Worth, TX | $24,237
Housing Authority—City of Fort Worth | Fort Worth, TX | $1,647,048
Tarrant County | Fort Worth, TX | $322,293
Tarrant County | Fort Worth, TX | $93,536
Tarrant County ACCESS for the Homeless | Fort Worth, TX | $166,451
Tarrant County | Fort Worth, TX | $216,249
Tarrant County | Fort Worth, TX | $27,136
Tarrant County | Fort Worth, TX | $136,800
The Salvation Army a Georgia Corporation | Galveston, TX | $321,495
The Gulf Coast Center | Galveston, TX | $649,507
Houston SRO Housing Corporation | Houston, TX | $1,047,874
Women Opting For More Affordable Housing Now, Inc. | Houston, TX | $312,505
SEARCH | Houston, TX | $96,520
Harris County | Houston, TX | $160,656
SEARCH | Houston, TX | $94,908
Harris County | Houston, TX | $162,168
ALTE' Community Care Services, Inc. | Houston, TX | $393,982
United States Veterans Initiative | Houston, TX | $149,951
Volunteers of America Texas, Inc. | Houston, TX | $212,069
Harris County | Houston, TX | $137,376
Harris County | Houston, TX | $160,380
Harris County | Houston, TX | $402,840
Harris County | Houston, TX | $70,956
SEARCH | Houston, TX | $446,640
Harris County | Houston, TX | $115,236
Harris County | Houston, TX | $409,568
SEARCH | Houston, TX | $217,944
Families Under Urban and Social Attack, Inc. | Houston, TX | $120,750
SEARCH | Houston, TX | $38,749
Star of Hope Mission | Houston, TX | $307,406
Star of Hope Mission | Houston, TX | $734,400
Star of Hope Mission | Houston, TX | $238,580
Star of Hope Mission | Houston, TX | $207,408
Harris County | Houston, TX | $473,040
Harris County | Houston, TX | $86,448
Harris County | Houston, TX | $428,760
SEARCH | Houston, TX | $404,233
Harris County | Houston, TX | $282,588
Harris County | Houston, TX | $473,040
Covenant House Texas | Houston, TX | $199,328
Society of St. Vincent de Paul | Houston, TX | $61,233
Harmony House, Inc. | Houston, TX | $133,907
Houston Area Women's Center | Houston, TX | $76,656
Houston Area Women's Center | Houston, TX | $550,245
Houston Area Women's Center | Houston, TX | $60,613
Houston Area Women's Center | Houston, TX | $881,365
Northwest Assistance Ministries | Houston, TX | $491,562
Covenant House Texas | Houston, TX | $196,604
SEARCH | Houston, TX | $390,430
Catholic Charities of the Diocese of Galveston—Houston | Houston, TX | $56,466
DePelchin Children's Center | Houston, TX | $509,589
Mental Health Mental Retardation Authority of Harris County | Houston, TX | $592,418
AIDS Foundation Houston, Inc. (AFH) | Houston, TX | $1,150,125
AIDS Foundation Houston, Inc. (AFH) | Houston, TX | $1,800,000
Wellspring, Inc. | Houston, TX | $453,661
Wellspring, Inc. | Houston, TX | $180,974
The Women's Home | Houston, TX | $126,717
Harris County | Houston, TX | $106,080
Sabine Valley Center | Longview, TX | $370,440
Sabine Valley Center | Longview, TX | $28,865
City of Longview | Longview, TX | $224,868
The Bridge Over Troubled Waters, Inc. | Pasadena, TX | $383,462
The Bridge Over Troubled Waters, Inc. | Pasadena, TX | $88,727
The Bridge Over Troubled Waters, Inc. | Pasadena, TX | $448,211
Port Cities Rescue Mission Ministries | Port Arthur, TX | $175,037
Fort Bend County Women's Center | Roseberg, TX | $651,092
City of San Antonio | San Antonio, TX | $19,872
City of San Antonio | San Antonio, TX | $57,583
City of San Antonio | San Antonio, TX | $364,298
City of San Antonio | San Antonio, TX | $15,059
City of San Antonio | San Antonio, TX | $147,895
City of San Antonio | San Antonio, TX | $284,040
City of San Antonio | San Antonio, TX | $137,777
City of San Antonio | San Antonio, TX | $235,824
City of San Antonio | San Antonio, TX | $352,562
City of San Antonio | San Antonio, TX | $104,597
City of San Antonio | San Antonio, TX | $194,864
City of San Antonio | San Antonio, TX | $105,531
City of San Antonio | San Antonio, TX | $304,115
City of San Antonio | San Antonio, TX | $255,906
City of San Antonio | San Antonio, TX | $423,457
City of San Antonio | San Antonio, TX | $287,510
City of San Antonio | San Antonio, TX | $91,976
City of San Antonio | San Antonio, TX | $216,048
City of San Antonio | San Antonio, TX | $89,460
City of San Antonio | San Antonio, TX | $61,448
City of Texarkana, Texas | Texarkana, TX | $18,769
Mid-Coast Family Services, Inc. | Victoria, TX | $483,274
Perpetual Help Home, Inc. | Victoria, TX | $40,732
Cross Culture Experiences, Inc. | Waco, TX | $654,922
Compassion Ministries of Waco, Inc | Waco, TX | $161,276
Provision Center of Parker County Texas, Inc. dba Center for Hope | Weatherford, TX | $267,750
Bay Area Turning Point, Inc. | Webster, TX | $107,210
Bay Area Turning Point, Inc. | Webster, TX | $161,095
Texas RioGrande Legal Aid | Weslaco, TX | $109,999
Iron County Care and Share | Cedar, UT | $78,775
Cedar City Housing Authority | Cedar, UT | $41,737
Davis Family Support Center, Inc., dba Family Connection Center | Clearfield, UT | $269,000
Bear River Association of Governments | Logan, UT | $48,282
Your Community Connection of Ogden/Northern Utah | Ogden, UT | $274,846
Mountainlands Community Housing Trust | Park City, UT | $72,000
Housing Authority of Utah County | Provo, UT | $495,060
Food & Care Coalition of Utah Valley | Provo, UT | $55,125
Community Action Services | Provo, UT | $228,653
Provo City Housing Authority | Provo, UT | $116,856
Center for Women and Children in Crisis, Inc. | Provo, UT | $16,252
Utah Department of Community & Economic Development | Salt City Utah, UT | $20,000
Housing Authority of Salt Lake City | Salt Lake City, UT | $143,076
Utah Nonprofit Housing Corporation | Salt Lake City, UT | $104,599
Housing Authority of Salt Lake City | Salt Lake City, UT | $30,735
Utah Department of Community and Economic Development | Salt Lake City, UT | $131,845
Housing Authority of the County of Salt Lake | Salt Lake City, UT | $755,412
Valley Mental Health, Inc. | Salt Lake City, UT | $114,118
Utah Nonprofit Housing Corporation | Salt Lake City, UT | $104,742
Housing Authority of Salt Lake City | Salt Lake City, UT | $68,317
Young Women's Christian Association (YWCA) of Salt Lake City | Salt Lake City, UT | $311,978
Volunteers of America, Utah | Salt Lake City, UT | $213,506
Volunteers of America, Utah | Salt Lake City, UT | $299,250
Volunteers of America, Utah | Salt Lake City, UT | $311,564
Housing Authority of Salt Lake City | Salt Lake City, UT | $192,912
The Road Home | Salt Lake City, UT | $76,486
Salt Lake Community Action Program | Salt Lake, UT | $118,709
Utah Department of Community and Economic Development | Salt Lake, UT | $35,856
Utah Department of Community and Economic Development | Salt Lake, UT | $47,600
Southwest Behavioral Health Center | St. George, UT | $396,547
Dixie Care and Share | St. George, UT | $225,750
West Valley City Housing Authority | West Valley City, UT | $798,840
Region Ten Community Services Board | Albemarle, VA | $143,946
Alexandria Community Services Board | Alexandria, VA | $131,643
Alexandria Community Services Board | Alexandria, VA | $29,814
Alexandria Community Services Board | Alexandria, VA | $163,824
Alexandria Community Services Board | Alexandria, VA | $98,150
United Community Ministries, Inc. | Alexandria, VA | $134,732
Christian Relief Services Charities, Inc. (CRSC, Inc.) | Alexandria, VA | $24,885
Christian Relief Services Charities, Inc. (CRSC, Inc.) | Alexandria, VA | $24,885
Christian Relief Services Charities, Inc. (CRSC, Inc.) | Alexandria, VA | $120,676
Christian Relief Services Charities, Inc. (CRSC, Inc.) | Alexandria, VA | $76,220
Fairfax County Department of Housing and Community Development | Alexandria, VA | $698,220
Sheltered Homes of Alexandria, Inc. | Alexandria, VA | $89,288
Christian Relief Services of Virginia, Inc. | Alexandria, VA | $291,789
Fairfax County Department of Housing and Community Development | Alexandria, VA | $127,104
Fairfax County Department of Housing and Community Development | Alexandria, VA | $127,104
Sheltered Homes of Alexandria, Inc. | Alexandria, VA | $77,748
Fairfax County Department of Housing and Community Development | Alexandria, VA | $75,240
Fairfax County Department of Housing and Community Development | Alexandria, VA | $128,808
New Hope Housing, Inc. | Alexandria, VA | $219,044
Christian Relief Services of Virginia, Inc. | Alexandria, VA | $216,781
Fairfax County Department of Housing and Community Development | Alexandria, VA | $168,132
Christian Relief Services Charities, Inc. (CRSC, Inc.) | Alexandria, VA | $30,944
Community Residences | Arlington, VA | $244,468
Arlington Street People's Assistance Network, Inc. | Arlington, VA | $194,986
Arlington County | Arlington, VA | $100,112
Arlington County | Arlington, VA | $217,245
Arlington County | Arlington, VA | $414,240
Arlington-Alexandria Coalition for the Homeless, Inc. | Arlington, VA | $139,440
Vanguard Services Unlimited | Arlington, VA | $175,460
Thomas Jefferson Planning District Commission | Charlottesville, VA | $71,070
AIDS/HIV Services Group | Charlottesville, VA | $181,742
Danville Redevelopment and Housing Authority | Danville, VA | $109,699
Fairfax County Department of Family Services | Fairfax, VA | $424,715
Fairfax Falls Church Community Services Board | Fairfax, VA | $253,332
Fairfax County Department of Family Services | Fairfax, VA | $243,702
Fairfax County Department of Family Services | Fairfax, VA | $440,271
Kurdish Human Rights Watch, Inc. | Fairfax, VA | $426,357
Lutheran Social Services of the National Capitol Area—NOVACO | Fairfax, VA | $111,492
Homestretch, Inc. | Falls Church, VA | $146,700
PRS, Inc. | Falls Church, VA | $168,450
Rappahannock Refuge, Inc. | Fredericksburg, VA | $52,296
Northwestern Community Services | Front Royal, VA | $94,620
Northwestern Community Services | Front Royal, VA | $117,613
Harrisonburg Redevelopment and Housing Authority | Harrisonburg, VA | $42,000
County of Loudoun | Leesburg, VA | $106,429
County of Loudoun | Leesburg, VA | $117,518
Miriam's House, Inc. | Lynchburg, VA | $261,456
Prince William Department of Social Services | Manassas, VA | $162,619
Prince William Department of Social Services | Manassas, VA | $235,356
Prince William Department of Social Services | Manassas, VA | $210,449
Prince William Department of Social Services | Manassas, VA | $36,230
Prince William Department of Social Services | Manassas, VA | $14,190
Hampton-Newport News Community Services Board | Newport News, VA | $143,322
LINK of Hampton Roads, Inc. | Newport News, VA | $749,968
CANDII, Inc. | Norfolk, VA | $265,640
Forkids, Inc | Norfolk, VA | $149,166
The Planning Council | Norfolk, VA | $50,533
The Salvation Army | Norfolk, VA | $847,812
YWCA of South Hampton Roads | Norfolk, VA | $39,281
The Salvation Army | Norfolk, VA | $208,250
St. Columba Ecumenical Ministries | Norfolk, VA | $136,500
Barrett Haven, Inc | Norfolk, VA | $182,593
City of Portsmouth | Portsmouth, VA | $69,013
Portsmouth Area Resources Coalition, Inc. | Portsmouth, VA | $120,421
Portsmouth Area Resources Coalition, Inc. | Portsmouth, VA | $53,550
Portsmouth Area Resources Coalition, Inc. | Portsmouth, VA | $102,312
Oasis Commission of Social Ministry of Portsmouth and Chesapeake | Portsmouth, VA | $250,069
Portsmouth Volunteers for the Homeless, Inc. | Portsmouth, VA | $55,650
Daily Planet, Inc. | Richmond, VA | $189,105
Virginia Supportive Housing | Richmond, VA | $846,720
Hilliard House | Richmond, VA | $262,917
St. Joseph's Villa | Richmond, VA | $157,750
Emergency Shelter Incorporated | Richmond, VA | $99,960
Emergency Shelter Incorporated | Richmond, VA | $346,500
Homeward | Richmond, VA | $26,745
Virginia Supportive Housing | Richmond, VA | $846,720
Daily Planet, Inc. | Richmond, VA | $270,000
Daily Planet, Inc. | Richmond, VA | $192,257
Emergency Shelter Incorporated | Richmond, VA | $146,011
St. Joseph's Villa | Richmond, VA | $274,390
City of Richmond | Richmond, VA | $886,560
City of Richmond | Richmond, VA | $60,480
Urban League of Greater Richmond | Richmond, VA | $70,350
Virginia Supportive Housing | Richmond, VA | $423,360
Daily Planet, Inc. | Richmond, VA | $227,687
Total Action Against Poverty | Roanoke, VA | $530,522
Total Action Against Poverty | Roanoke, VA | $284,025
Community Alternatives Management | Virginia Beach, VA | $111,014
Virginia Beach Community Development Corporation | Virginia Beach, VA | $249,704
Community Alternatives Management | Virginia Beach, VA | $20,288
Community Alternatives Management | Virginia Beach, VA | $346,667
Virginia Beach Community Development Corporation | Virginia Beach, VA | $90,747
Methodist Training & Outreach Center, Inc. | St. Thomas, VI | $124,740
Champlain Valley Office of Economic Opportunity, Inc. | Burlington, VT | $222,440
Burlington Housing Authority | Burlington, VT | $257,820
The Howard Center for Human Services | Burlington, VT | $181,146
The Howard Center for Human Services | Burlington, VT | $200,073
Burlington Housing Authority | Burlington, VT | $78,120
Addison County Community Action Group | Middlebury, VT | $145,046
Vermont State Housing Authority | Montpelier, VT | $34,020
Vermont State Housing Authority | Montpelier, VT | $179,580
Vermont State Housing Authority | Montpelier, VT | $90,455
Vermont State Housing Authority | Montpelier, VT | $34,020
Vermont State Housing Authority | Montpelier, VT | $148,815
State of Vermont | Waterbury, VT | $62,733
State of Vermont | Waterbury, VT | $71,643
State of Vermont | Waterbury, VT | $55,524
State of Vermont | Waterbury, VT | $69,905
State of Vermont | Waterbury, VT | $37,248
State of Vermont | Waterbury, VT | $38,535
Vermont Department of Health—Division of Mental Health | Waterbury, VT | $30,000
Auburn Youth Resources (Severson House) | Auburn, WA | $123,287
Bellingham Whatcom County | Bellingham, WA | $60,060
Bellingham Whatcom County | Bellingham, WA | $705,312
Bellingham Whatcom County | Bellingham, WA | $121,368
City of Bermerton | Bermerton, WA | $35,352
City of Bermerton | Bermerton, WA | $41,580
City of Bermerton | Bermerton, WA | $91,824
Bremerton Housing Authority | Bermerton, WA | $132,562
Kittitas County Action Council | Ellensburg, WA | $45,400
Snohomish County | Everett, WA | $35,338
Compass Health | Everett, WA | $62,280
Snohomish County | Everett, WA | $484,904
Compass Health | Everett, WA | $189,598
Snohomish County | Everett, WA | $75,795
Snohomish County | Everett, WA | $109,270
Snohomish County | Everett, WA | $164,820
Snohomish County | Everett, WA | $73,780
Snohomish County | Everett, WA | $81,523
Snohomish County | Everett, WA | $89,399
Snohomish County | Everett, WA | $39,364
Housing Authority of Snohomish County | Everett, WA | $837,528
Housing Authority of Snohomish County | Everett, WA | $186,348
Housing Authority of Snohomish County | Everett, WA | $659,688
Housing Hope | Everett, WA | $80,315
Housing Hope | Everett, WA | $57,259
Housing Authority of Snohomish County | Everett, WA | $288,828
Multi-Service Center | Federal Way, WA | $26,725
The Salvation Army—River Valley Corps. | Grandview, WA | $72,805
Kent Youth and Family Services | Kent, WA | $38,135
Seattle Vietnam Veterans Leadership Program | Lake Forest Park, WA | $23,580
Pierce County | Lakewood, WA | $88,537
Pierce County | Lakewood, WA | $1,022,960
Pierce County | Lakewood, WA | $334,679
Pierce County | Lakewood, WA | $153,709
Pierce County | Lakewood, WA | $605,654
Pierce County | Lakewood, WA | $135,024
Pierce County | Lakewood, WA | $179,054
Pierce County | Lakewood, WA | $259,033
Pierce County | Lakewood, WA | $136,799
Pierce County | Lakewood, WA | $83,295
Tellurian UCAN, Inc. | Madison, WA | $739,683
Tellurian UCAN, Inc. | Madison, WA | $31,999
Tellurian UCAN, Inc. | Madison, WA | $67,327
Tellurian UCAN, Inc. | Madison, WA | $249,165
The Salvation Army | Madison, WA | $38,193
Porchlight, Inc. | Madison, WA | $162,743
Porchlight, Inc. | Madison, WA | $343,028
WA State Department of Community, Trade and Economic Development | Olympia, WA | $133,921
WA State Department of Community, Trade and Economic Development | Olympia, WA | $35,966
WA State Department of Community, Trade and Economic Development | Olympia, WA | $84,130
WA State Department of Community, Trade and Economic Development | Olympia, WA | $123,122
WA State Department of Community, Trade and Economic Development | Olympia, WA | $39,028
WA State Department of Community, Trade and Economic Development | Olympia, WA | $136,993
WA State Department of Community, Trade and Economic Development | Olympia, WA | $750,000
WA State Department of Community, Trade and Economic Development | Olympia, WA | $140,868
WA State Department of Community, Trade and Economic Development | Olympia, WA | $50,054
WA State Department of Community, Trade and Economic Development | Olympia, WA | $139,322
WA State Department of Community, Trade and Economic Development | Olympia, WA | $135,599
WA State Department of Community, Trade and Economic Development | Olympia, WA | $237,196
WA State Department of Community, Trade and Economic Development | Olympia, WA | $106,775
WA State Department of Community, Trade and Economic Development | Olympia, WA | $149,625
WA State Department of Community, Trade and Economic Development | Olympia, WA | $108,095
WA State Department of Community, Trade and Economic Development | Olympia, WA | $19,152
WA State Department of Community, Trade and Economic Development | Olympia, WA | $31,500
WA State Department of Community, Trade and Economic Development | Olympia, WA | $36,316
WA State Department of Community, Trade and Economic Development | Olympia, WA | $101,409
WA State Department of Community, Trade and Economic Development | Olympia, WA | $56,104
WA State Department of Community, Trade and Economic Development | Olympia, WA | $143,082
WA State Department of Community, Trade and Economic Development | Olympia, WA | $99,992
WA State Department of Community, Trade and Economic Development | Olympia, WA | $43,821
Serenity House of Clallam County | Port Angeles, WA | $142,951
Serenity House of Clallam County | Port Angeles, WA | $138,769
YWCA of Seattle-King County, Snohomish County | Redmond, WA | $167,868
Friends of Youth | Redmond, WA | $123,062
YWCA of Seattle-King County, Snohomish County | Redmond, WA | $85,615
YWCA of Seattle-King County, Snohomish County | Redmond, WA | $78,878
YWCA of Seattle-King County, Snohomish County | Redmond, WA | $42,541
YWCA of Seattle-King County, Snohomish County | Redmond, WA | $57,320
YWCA of Seattle-King County-Snohomish County | Seattle, WA | $72,245
YWCA of Seattle-King County-Snohomish County | Seattle, WA | $100,099
King County | Seattle, WA | $105,000
King County | Seattle, WA | $665,856
King County | Seattle, WA | $121,940
King County | Seattle, WA | $99,750
Housing Authority of the City of Seattle | Seattle, WA | $9,896
King County | Seattle, WA | $1,592,208
The Archdiocesan Housing Authority | Seattle, WA | $105,422
Child Care Resources | Seattle, WA | $529,095
Low Income Housing Institute | Seattle, WA | $36,141
Community Psychiatric Clinic | Seattle, WA | $348,157
Community Psychiatric Clinic | Seattle, WA | $75,172
AIDS Housing of Washington | Seattle, WA | $387,192
The Archdiocesan Housing Authority | Seattle, WA | $197,739
The Archdiocesan Housing Authority | Seattle, WA | $201,577
Aridell Mitchell Home | Seattle, WA | $28,597
El Centro de la Raza | Seattle, WA | $17,603
Catholic Community Services of Western Washington | Seattle, WA | $140,086
King County | Seattle, WA | $624,566
Low Income Housing Institute | Seattle, WA | $398,284
Children's Home Society of Washington | Seattle, WA | $56,642
King County | Seattle, WA | $827,964
City of Seattle | Seattle, WA | $838,689
City of Seattle | Seattle, WA | $84,906
City of Seattle | Seattle, WA | $168,153
King County | Seattle, WA | $63,258
The Compass Center | Seattle, WA | $13,119
The Compass Center | Seattle, WA | $13,166
Seattle Emergency Housing Service | Seattle, WA | $29,684
City of Seattle | Seattle, WA | $116,397
The Salvation Army | Seattle, WA | $77,839
City of Seattle | Seattle, WA | $1,149,355
YouthCare | Seattle, WA | $151,856
YouthCare | Seattle, WA | $105,603
The Church Council of Greater Seattle | Seattle, WA | $57,278
King County | Seattle, WA | $74,613
King County | Seattle, WA | $999,168
King County | Seattle, WA | $294,795
King County | Seattle, WA | $198,975
King County | Seattle, WA | $232,848
The Salvation Army | Seattle, WA | $253,989
City of Seattle | Seattle, WA | $25,423
City of Seattle | Seattle, WA | $181,307
United Indians of All Tribes Foundation | Seattle, WA | $343,565
City of Seattle | Seattle, WA | $507,351
Fremont Public Association | Seattle, WA | $158,620
City of Seattle | Seattle, WA | $443,472
City of Seattle | Seattle, WA | $326,054
City of Seattle | Seattle, WA | $114,450
City of Seattle | Seattle, WA | $328,382
City of Seattle | Seattle, WA | $105,000
City of Seattle | Seattle, WA | $548,599
City of Seattle | Seattle, WA | $545,050
City of Seattle | Seattle, WA | $492,049
City of Seattle | Seattle, WA | $121,546
City of Seattle | Seattle, WA | $80,012
City of Seattle | Seattle, WA | $80,681
City of Seattle | Seattle, WA | $696,733
City of Seattle | Seattle, WA | $1,500,000
Spokane Neighborhood Action Program | Spokane, WA | $131,517
Spokane Neighborhood Action Program | Spokane, WA | $133,279
Spokane County | Spokane, WA | $185,520
City of Spokane | Spokane, WA | $279,010
City of Spokane | Spokane, WA | $67,162
City of Spokane | Spokane, WA | $77,175
City of Spokane | Spokane, WA | $43,419
City of Spokane | Spokane, WA | $88,698
City of Spokane | Spokane, WA | $62,396
City of Spokane | Spokane, WA | $106,004
City of Spokane | Spokane, WA | $311,079
City of Spokane | Spokane, WA | $27,536
City of Spokane | Spokane, WA | $15,492
City of Spokane | Spokane, WA | $51,424
City of Spokane | Spokane, WA | $76,526
City of Spokane | Spokane, WA | $93,161
City of Spokane | Spokane, WA | $83,333
City of Spokane | Spokane, WA | $53,352
City of Spokane | Spokane, WA | $56,251
City of Spokane | Spokane, WA | $117,195
City of Spokane | Spokane, WA | $165,064
City of Spokane | Spokane, WA | $42,622
City of Spokane | Spokane, WA | $27,799
City of Spokane | Spokane, WA | $38,802
City of Spokane | Spokane, WA | $271,836
City of Spokane | Spokane, WA | $27,740
City of Spokane | Spokane, WA | $9,472
City of Spokane | Spokane, WA | $730,440
City of Spokane | Spokane, WA | $14,917
YW Housing | Vancouver, WA | $166,102
Housing Authority of the City of Vancouver | Vancouver, WA | $83,038
Housing Authority of the City of Vancouver | Vancouver, WA | $33,249
Columbia River Mental Health Services | Vancouver, WA | $97,633
Mental Health Northwest | Vancouver, WA | $89,396
Council for the Homeless | Vancouver, WA | $24,938
Council for the Homeless | Vancouver, WA | $47,880
YW Housing | Vancouver, WA | $428,757
Share | Vancouver, WA | $61,267
YW Housing | Vancouver, WA | $92,365
Triumph Treatment Services | Yakima, WA | $167,085
City of Appleton | Appleton, WI | $511,591
Starting Points, Inc. | Chippewa Falls, WI | $499,864
Starting Points, Inc. | Chippewa Falls, WI | $348,022
ADVOCAP, Inc. | Fond du Lac, WI | $197,658
ADVOCAP, Inc. | Fond du Lac, WI | $158,584
West Central Wisconsin Community Action Agency, Inc. | Glenwood City, WI | $427,009
Western Dairyland Economic Opportunity Council, Inc. | Independence, WI | $264,926
Community Action, Inc. of Rock and Walworth Counties | Janesville, WI | $557,180
Kenosha Human Development Services, Inc. | Kenosha, WI | $123,879
Dane County Human Services | Madison, WI | $283,944
Dane County Human Services | Madison, WI | $790,800
City of Madison | Madison, WI | $111,374
Community Action Coalition for South Central WI, Inc. | Madison, WI | $484,867
Forward Service Corporation | Madison, WI | $393,741
Lakeshore CAP, Inc. | Manitowoc, WI | $117,663
Milwaukee County Behavioral Health Division | Milwaukee, WI | $224,436
Health Care For The Homeless of Milwaukee, Inc. (HCHM, Inc.) | Milwaukee, WI | $248,505
Community Relations—Social Development Commission | Milwaukee, WI | $1,324,024
Meta House, Inc. | Milwaukee, WI | $201,150
Milwaukee County Behavioral Health Division | Milwaukee, WI | $2,036,448
Milwaukee County Behavioral Health Division | Milwaukee, WI | $1,248,101
The Open Gate | Milwaukee, WI | $452,221
Meta House, Inc. | Milwaukee, WI | $984,095
Legal Action of Wisconsin | Milwaukee, WI | $48,000
Center for Veterans Issues, Ltd. | Milwaukee, WI | $115,667
Meta House, Inc. | Milwaukee, WI | $363,277
Walker's Point Youth and Family Center | Milwaukee, WI | $526,525
YWCA of Greater Milwaukee | Milwaukee, WI | $100,739
Homeward Bound of Racine County, Inc. | Racine, WI | $135,593
Transitional Living Services, Inc. | Racine, WI | $336,703
SafeStart, Inc. | Racine, WI | $54,951
Racine Emergency Shelter TaskForce, Inc. | Racine, WI | $171,382
Legal Action of Wisconsin, Inc. | Racine, WI | $80,536
Family Service of Racine | Racine, WI | $84,671
CAP Services, Inc. | Stevens Point, WI | $105,025
Northwest Wisconsin Community Services Agency, Inc. | Superior, WI | $333,369
City of Waukesha Housing Authority | Waukesha, WI | $112,555
City of Waukesha Housing Authority | Waukesha, WI | $434,524
Couleecap, Inc. | Westby, WI | $359,805
United Way of Central West Virginia | Charleston, WV | $42,000
Roark-Sullivan Lifeway Center, Inc | Charleston, WV | $558,342
City of Charleston | Charleston, WV | $189,266
State of West Virginia Office of Economic Opportunity | Charleston, WV | $65,000
Charleston Housing | Charleston, WV | $511,200
North Central WV Community Action | Fairmont, WV | $329,420
North Central WV Community Action | Fairmont, WV | $234,920
The Huntington West Virginia Housing Authority | Huntington, WV | $19,392
Cabell-Huntington Coalition for the Homeless | Huntington, WV | $423,622
Cabell-Huntington Coalition for the Homeless | Huntington, WV | $392,540
The Huntington West Virginia Housing Authority | Huntington, WV | $37,495
The Huntington West Virginia Housing Authority | Huntington, WV | $531,120
Telamon Corporation | Martinsburg, WV | $78,993
Parkersburg Housing Authority | Parkersburg, WV | $571,260
Stop Abusive Family Environments, Inc. SAFE | Welch, WV | $407,399
Greater Wheeling Capitation for the Homeless, Inc. | West Virginia, WV | $744,937
Greater Wheeling Capitation for the Homeless, Inc. | West Virginia, WV | $33,600
Housing Authority-City of Casper | Casper, WY | $224,910
Self-Help Center, Inc. | Casper, WY | $292,990
Council of Community Services | Gillette, WY | $399,000

[FR Doc. E7-25427 Filed 1-2-08; 8:45 am]

BILLING CODE 4210-67-P